OFFICE OF PERSONNEL MANAGEMENT

Senior Executive Service Positions That Were Career Reserved During Calendar Year 2022

AGENCY: Office of Personnel Management (OPM).

ACTION: Notice.

SUMMARY: This notice publishes a consolidated list of all positions in the Senior Executive Service (SES) that were career reserved during calendar year 2022.

FOR FURTHER INFORMATION CONTACT: Julia Alford, Agency Operations and Services, Executive Services Workforce Development, Workforce Policy and Innovation, 202-936-3085.

SUPPLEMENTARY INFORMATION: Below is a list of titles of SES positions that were career reserved at any time during calendar year 2022, regardless of whether those positions were still career reserved as of December 31, 2022. Section 3132(b)(4) of title 5, United States Code, requires that the head of each agency publish such lists the following year. OPM is publishing a consolidated list for all agencies.

Office of Personnel Management.
Kayyonne Marston,
Federal Register Liaison.

Agency name | Organization name | Position title
ADMINISTRATIVE CONFERENCE OF THE UNITED STATES | ADMINISTRATIVE CONFERENCE OF THE UNITED STATES | DIRECTOR OF FINANCE AND OPERATIONS
|  | GENERAL COUNSEL
|  | EXECUTIVE DIRECTOR
ADVISORY COUNCIL ON HISTORIC PRESERVATION | ADVISORY COUNCIL ON HISTORIC PRESERVATION | EXECUTIVE DIRECTOR
DEPARTMENT OF AGRICULTURE
AGRICULTURAL RESEARCH SERVICE | MIDWEST AREA OFFICE | ASSOCIATE DIRECTOR, MIDWEST AREA
|  | ASSOCIATE DIRECTOR MIDWEST AREA
|  | DIRECTOR, MIDWEST AREA
|  | DIRECTOR, NATIONAL CENTER FOR AGRICULTURE UTILIZATION
| NORTHEAST AREA OFFICE | DIRECTOR, BELTSVILLE AGRICULTURAL RESEARCH CENTER
|  | DIRECTOR NORTHEAST AREA OFFICE
|  | ASSOCIATE DIRECTOR, NORTHEAST AREA
|  | DIRECTOR, EASTERN REGIONAL RESEARCH CENTER
|  | ASSOCIATE DIRECTOR, NORTHEAST AREA
| OFFICE OF NATIONAL PROGRAMS | ASSOCIATE ADMINISTRATOR, NATIONAL PROGRAMS
|  | DEPUTY ADMINISTRATOR FOR NATURAL RESOURCES AND SUSTAINABLE ARGICULTURE SYSTEMS
|  | DEPUTY ADMINISTRATOR, CROP PRODUCTION AND PROTECTION
|  | DEPUTY ADMINISTRATOR, ANIMAL PRODUCTION AND PROTECTION
|  | DEPUTY ADMINISTRATOR, NUTRITION, FOOD SAFETY AND QUALITY
| PACIFIC WEST AREA OFFICE | ASSOCIATE DIRECTOR, PACIFIC WEST AREA
|  | DIRECTOR, WESTERN HUMAN NUTRITION RESEARCH CENTER
|  | DIRECTOR, WESTERN REGIONAL RESEARCH CENTER
|  | ASSOCIATE DIRECTOR, PACIFIC WEST AREA OFFICE
|  | DIRECTOR, PACIFIC WEST AREA OFFICE
| PLAINS AREA OFFICE | DIRECTOR, PLAINS AREA
|  | ASSOCIATE DIRECTOR, PLAINS AREA OFFICE(2)
|  | DIRECTOR, UNITED STATES MEAT ANIMAL RESEARCH CENTER
| SOUTHEAST AREA OFFICE | DIRECTOR, SOUTH EAST AREA
|  | DIRECTOR, SOUTHERN REGIONAL RESEARCH CENTER
|  | ASSOCIATE DIRECTOR, SOUTHEAST AREA (2)
ANIMAL AND PLANT HEALTH INSPECTION SERVICE | PLANT PROTECTION AND QUARANTINE SERVICE | EXECUTIVE DIRECTOR, POLICY MANAGEMENT
|  | EXECUTIVE DIRECTOR, WESTERN REGION, PLANT PROTECTION AND QUARANTINE
|  | EXECUTIVE DIRECTOR, EASTERN REGION, PLANT PROTECTION AND QUARANTINE
|  | EXECUTIVE DIRECTOR, FIELD OPERATIONS
| VETERINARY SERVICES | EXECUTIVE DIRECTOR (DOMESTIC PROGRAMS)
|  | DIRECTOR, WESTERN REGION, VETERINARY SERVICES
|  | EXECUTIVE DIRECTOR (STRATEGY AND POLICY)
|  | ASSOCIATE DEPUTY ADMINISTRATOR, NATIONAL ANIMAL HEALTH POLICY PROGRAMS
|  | EXECUTIVE DIRECTOR, SCIENCE, TECHNOLOGY AND ANALYSIS SERVICE
DEPARTMENTAL ADMINISTRATION | OFFICE OF ADVOCACY AND OUTREACH | DIRECTOR, OFFICE OF ADVOCACY AND OUTREACH
| OFFICE OF HOMELAND SECURITY AND EMERGENCY COORDINATION | DEPUTY DIRECTOR OF HOMELAND SECURITY AND EMERGENCY COORDINATION
| OFFICE OF HUMAN RESOURCES MANAGEMENT | EXECUTIVE DIRECTOR, EXECUTIVE RESOURCES MANAGEMENT DIVISION
| OFFICE OF OPERATIONS | DEPUTY DIRECTOR OF OPERATIONS DIRECTOR OFFICE OF OPERATIONS
| PROCUREMENT AND PROPERTY MANAGEMENT | DIRECTOR, CONTRACTING AND PROCUREMENT DEPUTY DIRECTOR, OFFICE OF PROCUREMENT AND PROPERTY MANAGEMENT
FOREST SERVICE | FIELD UNITS | NORTHEAST AREA DIRECTOR, STATE AND PRIVATE FORESTRY
|  | DIRECTOR, NORTHERN RESEARCH STATION
|  | DIRECTOR, PACIFIC NORTHWEST RESEARCH STATION
|  | DIRECTOR, PACIFIC SOUTHWEST FOREST AND RANGE EXPERIMENT STATION (VALLEJO)
|  | DIRECTOR, ROCKY MOUNTAIN FOREST AND RANGE EXPERIMINT STATION (FORT COLLINS)
|  | DIRECTOR, SOUTHERN RESEARCH STATION (ASHEVILLE)
|  | DIRECTOR, FOREST PRODUCTS LABORATORY (MADISON)
| INTERNATIONAL FOREST SYSTEM | DIRECTOR INTERNATIONAL INSTITUE OF TROPICAL FOREST (RIO PIEDRAS)
| NATIONAL FOREST SYSTEM | DIRECTOR, RANGELAND MANAGEMENT
|  | DIRECTOR, FOREST MANAGEMENT STAFF
|  | DIRECTOR, ENGINEERING
|  | DIRECTOR, LANDS MANAGEMENT STAFF
|  | DIRECTOR, ECOSYSTEM MANAGEMENT COORINATION
|  | DIRECTOR, WATER, FISH, WASTELAND, AIR AND RARE PLANTS
|  | DIRECTOR, MINERALS AND GEOLOGY MANAGEMENT STAFF
| RESEARCH | DIRECTOR, INVENTORY, MONITORING AND ASSESSMENT
|  | DIRECTOR, SUSTAINABLE FOREST MANAGEMENT
|  | DIRECTOR, RESOURCE USE SCIENCES
|  | DIRECTOR, ENVIRONMENTAL SCIENCES
| STATE AND PRIVATE FORESTRY | DIRECTOR COOPERATIVE FORESTRY
|  | DIRECTOR, FOREST HEALTH PROTECTION
|  | SENIOR ADVISOR TO THE DEPUTY CHIEF, STATE AND PRIVATE FORESTRY
NATIONAL INSTITUE OF FOOD AND AGRICULTURE | ECONOMIC RESEARCH SERVICE | DIRECTOR, INFORMATION SERVICES DIVISION
|  | DIRECTOR, FOOD ECONOMICS DIVISION
|  | ASSOCIATE ADMINISTRATOR, ECONOMIC RECEARCH SERVICE
| NATIONAL AGRICULTURAL STATISTICS SERVICE | ADMINISTRATOR, NATIONAL AGRICULTURAL STATISTICS SERVICE
|  | DIRECTOR, WESTERN FIELD OPERATIONS
|  | ASSOCIATE ADMINISTRATOR
|  | DIRECTOR EASTERN FIELD OPERATIONS
|  | DIRECTOR, INFORMATION TECHNOLOGY DIVISION
|  | DIRECTOR, CENSUS AND SURVEY DIVISION
|  | DIRECTOR, STATISTICS DIVISION
|  | DIRECTOR, NATIONAL OPERATIONS CENTER
|  | DIRECTOR, METHODOLOGY DIVISION
OFFICE OF THE ASSISTANT SECRETARY FOR ADMINISTRATION | DEPARTMENTAL ADMINISTRATION | DIRECTOR, OFFICE OF SAFETY, SECURITY AND PROTECTION
OFFICE OF THE SECRETARY | NATIONAL FINANCE CENTER | DIRECTOR, INFORMATION TECHNOLOGY MANAGEMENT DIVISION
|  | DIRECTOR, FINANCIAL SERVICES DIVISION
|  | DEPUTY DIRECTOR, NATIONAL FINANCE CENTER
| NATIONAL INSTITUE OF FOOD AND AGRICULTURE | DEPUTY DIRECTOR, OFFICE OF GRANTS AND FINANCIAL MANAGEMENT
|  | DEPUTY DIRECTOR, INSTITUTE OF BIOENERGY, CLIMATE, AND ENVIRONMENT
|  | DEPUTY DIRECTOR, OFFICE OF INFORMATION TECHNOLOGY
|  | DEPUTY DIRECTOR, INSTITUTE OF FOOD SAFETY AND NUTRITION
| OFFICE OF COMMUNICATIONS | DEPUTY DIRECTOR, CREATIVE DEVELOPMENT
| OFFICE OF THE ASSISTANT SECRETARY FOR CIVIL RIGHTS | DIRECTOR, OFFICE OF ADJUDICATION
| OFFICE OF THE CHIEF ECONOMIST | PEST MANAGEMENT OFFICER
|  | DIRECTOR GLOBAL CHANGE PROGRAM OFFICE
|  | CHAIRPERSON
|  | DIRECTOR, OFFICE OF RISK ASSESSMENT AND COST-BENEFIT ANALYSIS
|  | DIRECTOR, OFFICE OF ENERGY POLICY AND NEW USES
|  | DEPUTY CHIEF ECONOMIST
| OFFICE OF THE CHIEF FINANCIAL OFFICER | ASSOCIATE CHIEF FINANCIAL OFFICER FOR FINANCIAL POLICY AND PLANNING
|  | ASSOCIATE CHIEF FINANCIAL OFFICER, FINANCIAL SYSTEMS PLANNING AND MANAGEMENT
|  | DEPUTY CHIEF FINANCIAL OFFICER
| OFFICE OF THE CHIEF INFORMATION OFFICER | ASSOCIATE CHIEF INFORMATION OFFICER, INTERNATIONAL TECHNOLOGY SERVICES
|  | DEPUTY CHIEF INFORMATION OFFICER FOR OPERATIONS AND INFRASTRUCTURE
| OFFICE OF THE GENERAL COUNSEL | ASSOCIATE GENERAL COUNSEL, GENERAL LAW AND RESEARCH DIVISION
|  | DIRECTOR, OFFICE OF INFORMATION AFFAIRS
|  | ASSISTANT GENERAL COUNSEL, NATURAL RESOURCES AND ENVIRONMENT DIVISION
| OFFICE OF THE UNDER SECRETARY FOR FARM PRODUCTION AND CONSERVATION | DIRECTOR, OFFICE OF GRANTS AND AGREEMENTS
|  | DEPUTY ASSISTANT CHIEF INFORMATION OFFICER
| OFFICE OF THE UNDER SECRETARY FOR FOOD SAFETY | DEPUTY UNDER SECRETARY FOR FOOD SAFETY
| OFFICE OF THE UNDER SECRETARY FOR RESEARCH, EDUCATION, AND ECONOMICS | DIRECTOR OFFICE OF THE USDA CHIEF SCIENTIST
OFFICE OF THE UNDER SECRETARY FOR FARM PRODUCTION AND CONSERVATION | FARM PRODUCTION AND CONSERVATION—BUSINESS CENTER | DIRECTOR, CIVIL RIGHTS
|  | PROGRAM INTEGRITY OFFICER
|  | CHIEF CUSTOMER NEEDS MANAGEMENT
OFFICE OF THE UNDER SECRETARY FOR FOOD SAFETY | FOOD SAFETY AND INSPECTION SERVICE | DEPUTY ASSISTANT ADMINISTRATOR, OFFICE OF INVESTIGATION
|  | INTERNATIONAL AFFAIRS LIAISON OFFICER
|  | ASSISTANT ADMINISTRATOR, OFFICE OF DATA INTEGRATION AND FOOD PROTECTION
|  | DEPUTY ASSISTANT ADMINISTRATOR, OFFICE OF DATA INTEGRATION AND FOOD PROGRAM
|  | ASSISTANT ADMINISTRATOR, OFFICE OF MANAGEMENT
|  | EXECUTIVE ASSOCIATE FOR REGULATORY OPERATIONS, OFFICE OF FIELD OPERATIONS
|  | DEPUTY ASSISTANT ADMINISTRATOR, OIEA
|  | ASSISTANT ADMINISTRATOR, OFFICE OF PUBLIC AFFAIRS AND CONSUMER EDUCATION
|  | ASSISTANT CHIEF INFORMATION OFFICER
|  | CHIEF FINANCIAL OFFICER
|  | DEPUTY ADMINISTRATOR
|  | ASSISTANT ADMINISTRATOR, OFFICE OF FIELD OPERATIONS
|  | DEPUTY ASSISTANT ADMINISTRATOR, OFFICE OF POLICY AND PROGRAM DEVELOPMENT
|  | ASSISTANT ADMINISTRATOR, OFFICE OF POLICY AND PROGRAM DEVELOPMENT
|  | CHIEF OPERATING OFFICER
|  | DEPUTY ASSISTANT ADMINISTRATOR, OFFICE OF PUBLIC HEALTH SCIENCE
|  | DEPUTY ASSISTANT ADMINISTRATOR, OFFICE OF FIELD OPERATIONS
|  | EXECUTIVE ASSOCIATE FOR REGULATORY OPERATIONS, OFFICE OF FIELD OPERATIONS
|  | ASSISTANT ADMINISTRATOR, OOEET
|  | UNITED STATES MANAGER FOR CODEX
|  | DEPUTY ASSISTANT ADMINISTRATOR, OFFICE OF MANAGEMENT
|  | EXECUTIVE ASSOCIATE FOR REGULATORY OPERATIONS, OFFICE OF FIELD OPERATIONS (2)
|  | EXECUTIVE ASSOCIATE FOR EMPLOYEE EXPERIENCE
|  | EXECUTIVE ASSOCIATE FOR LABORATORY SERVICES, OFFICE OF PUBLIC HEALTH SCIENCE
|  | ASSISTANT ADMINISTRATOR, OFFICE OF INVESTIGATION, ENFORCEMENT AND AUDITING
OFFICE OF THE UNDER SECRETARY FOR FOOD, NUTRITION AND CONSUMER SERVICES | FOOD AND NUTRITION SERVICE | PROGRAM MANAGER (DEPUTY ADMINISTRATOR FOR MANAGEMENT)
|  | FINANCIAL MANAGER
|  | CHIEF OPERATING OFFICER
|  | PROGRAM MANAGER (ASSOCIATE ADMINISTRATOR FOR REGIONAL OPERATIONS AND SUPPORT)
OFFICE OF THE UNDER SECRETARY FOR MARKETING AND REGULATORY PROGRAMS | AGRICULTURAL MARKETING SERVICE | DEPUTY ADMINISTRATOR FOR NATIONAL ORGANIC PROGRAMS
|  | DEPUTY ADMINISTRATOR, SPECIALTY CROPS
|  | DEPUTY ADMINISTRATOR, DAIRY PROGRAMS
|  | DEPUTY ADMINISTARTOR, LIVESTOCK AND SEED PROGRAMS
|  | DEPUTY ADMINISTRATOR, COMPLIANCE AND ANALYSIS
|  | DEPUTY ADMINISTRATOR, SCIENCE AND TECHNOLOGY PROGRAMS
|  | DEPUTY ADMINISTRATOR, TRANSPORTATION AND MARKETING PROGRAMS
|  | DEPUTY ADMINISTRATOR, INFORMATION TECHNOLOGY SERVICES (2)
|  | DEPUTY ADMINISTRATOR, COTTON AND TOBACCO PROGRAMS
|  | DEPUTY ADMINISTRATOR, FAIR TRADE PRACTICES PROGRAM
|  | ASSOCIATE ADMINISTRATOR
| ANIMAL AND PLANT HEALTH INSPECTION SERVICE | ASSOCIATE DEPUTY ADMINISTRATOR, NATIONAL IMPORT EXPORT SERVICES
|  | CHIEF ADVISOR (GOVERNMENT, ACADEMIA AND INDUSTRY PARTNERSHIP)
|  | CHIEF FINANCIAL OFFICER
|  | ASSOCIATE DEPUTY ADMINISTRATOR, SPRS
|  | ASSOCIATE DEPUTY ADMINISTRATOR, VS
|  | EXECUTIVE DIRECTOR, DIAGNOSTICS AND BIOLOGICS
|  | ASSISTANT DEPUTY ADMINISTRATOR, PLANT PROTECTION AND QUARANTINE
|  | EXECUTIVE DIRECTOR, CENTER FOR PLANT HEALTH SCIENCE AND TECHNOLOGY
|  | DIRECTOR, NATIONAL WILDLIFE RESEARCH CENTER
|  | ASSOCIATE DEPUTY ADMINISTRATOR FOR ANIMAL CARE
|  | HUMAN RESOURCES OFFICER
|  | DIRECTOR, INVESTIGATIVE AND ENFORCEMENT SERVICES
|  | ASSISTANT CHIEF INFORMATION OFFICER
|  | ASSOCIATE DEPUTY ADMINISTRATOR, WILDLIFE SERVICES
|  | EXECUTIVE DIRECTOR, WESTERN REGION, WILDLIFE SERVICES
|  | ASSOCIATE DEPUTY ADMINISTRATOR, VETERINARY SERVICES
|  | DIRECTOR, EASTERN REGION, WILDLIFE SERVICES
|  | DEPUTY ADMINISTRATOR, BIOTECHNOLOGY REGULATORY PROGRAMS
|  | DEPUTY ADMINISTRATOR, LEGISLATIVE AND PUBLIC AFFAIRS
|  | DEPUTY ADMINISTRATOR FOR INTERNATIONAL SERVICES
|  | ASSOCIATE DEPUTY ADMINISTRATOR, EMERGING AND INTERNATIONAL PROGRAMS
|  | DIRECTOR, NATIONAL IMPORT EXPORT SERVICE
|  | DEPUTY ADMINISTRATOR, WILDLIFE SERVICES
|  | DEPUTY ADMINISTRATOR FOR MARKETING AND REGULATORY PROGRAMS-BUSINESS SERVICES
|  | ASSOCIATE DEPUTY ADMINISTRATOR FOR MARKETING AND REGULATORY PROGRAMS—BUSNINESS SERVICES
|  | DEPUTY ADMINISTRATOR, ANIMAL CARE
| GRAIN INSPECTION, PACKERS AND STOCKYARDS ADMINISTRATION | DIRECTOR FIELD MANAGEMENT DIVISION
OFFICE OF THE UNDER SECRETARY FOR RESEARCH, EDUCATION, AND ECONOMICS | AGRICULTURAL RESEARCH SERVICE | ASSOCIATE DEPUTY ADMINISTRATOR FOR ADMINISTRATIVE AND FINANCIAL MANAGEMENT
|  | ASSISTANT ADMINISTRATOR FOR TECHNOLOGY TRANSFER
|  | DEPUTY ADMINISTRATOR FOR ADMINISTRATIVE AND FINANCIAL MANAGEMENT
|  | ASSOCIATE ADMINISTRATOR, RESEARCH OPERATIONS AND MANAGEMENT
|  | ASSISTANT CHIEF INFORMATION OFFICER
|  | CHIEF FINANCIAL OFFICER
OFFICE OF THE UNDER SECRETARY FOR RURAL DEVELOPMENT | RURAL BUSINESS SERVICE | DEPUTY ADMINISTRATOR, BUSINESS PROGRAMS
|  | DEPUTY ADMINISTRATOR, ENERGY PROGRAMS
| RURAL DEVELOPMENT | DEPUTY ADMINISTRATOR, MULTI FAMILY HOUSING
| RURAL HOUSING SERVICE | DIRECTOR, BUDGET DIVISION
|  | DIRECTOR, HUMAN RESOURCES
|  | DEPUTY ADMINISTRATOR, CENTRALIZED SERVICING CENTER
|  | DEPUTY ADMINISTRATOR FOR OPERATIONS AND MANAGEMENT
|  | DEPUTY ADMINISTRATOR, MULTI-FAMILY HOUSING
|  | DIRECTOR, RURAL HOUSING SERVICE
|  | CHIEF FINANCIAL OFFICER
OFFICE OF THE UNDER SECRETARY FOR TRADE AND FOREIGN AGRICULTURAL AFFAIRS | FARM SERVICE AGENCY | DEPUTY DIRECTOR, OFFICE OF BUDGET AND FINANCE (2)
|  | DIRECTOR, HUMAN RESOURCES DIVISION
|  | DEPUTY ADMINISTRATOR FOR FARM LOAN PROGRAMS
|  | ASSISTANT DEPUTY ADMINISTRATOR FARM PROGRAMS
|  | DIRECTOR, BUSINESS AND PROGRAM INTEGRATION
|  | DIRECTOR, OFFICE OF BUDGET AND FINANCE
| FOREIGN AGRICULTURAL SERVICE | DEPUTY ADMINISTRATOR, OFFICE OF GLOBAL ANALYSIS
|  | CHIEF OPERATING OFFICER
| RISK MANAGEMENT AGENCY | DEPUTY ADMINISTRATOR FOR INSURANCE SERVICES DIVISION
|  | DEPUTY ADMINISTRATOR FOR PRODUCT MANAGEMENT
OFFICE OF UNDER SECRETARY FOR NATURAL RESOURCES AND ENVIRONMENT | FOREST SERVICE | CHIEF FINANCIAL OFFICER
|  | DIRECTOR, FIRE AND AVIATION MANAGEMENT
|  | DIRECTOR, ACQUISITION MANAGEMENT
|  | DIRECTOR, LAW ENFORCEMENT AND INVESTIGATIONS
|  | DEPUTY CHIEF, BUSINESS OPERATIONS
|  | ASSOCIATE DEPUTY CHIEF, RESEARCH AND DEVELOPMENT
|  | ASSOCIATE DEPUTY CHIEF, BUSINESS OPERATIONS (3)
| NATURAL RESOURCES CONSERVATION SERVICE | DIRECTOR
|  | DIRECTOR, RESOURCE ECONOMICS, ANALYSIS AND POLICY DIVISION
|  | SPECIAL ASSISTANT TO CHIEF
|  | HUMAN RESOURCES OFFICER
|  | DEPUTY CHIEF FOR PROGRAMS
|  | DIRECTOR, FINANCIAL ASSISTANCE PROGRAMS DIVISION
|  | REGIONAL CONSERVATIONIST (NORTHEAST)
|  | DEPUTY CHIEF FOR STRATEGIC PLANNING AND ACCOUNTABILITY
|  | CHIEF FINANCIAL OFFICER
|  | CHIEF PROCUREMENT AND PROPERTY OFFICER
|  | DIRECTOR, CONSERVATION ENGINEERING DIVISION
|  | DIRECTOR ECOLOGICAL SCIENCES DIVISION
|  | DIRECTOR, SOIL SCIENCE DIVISION
|  | DIRECTOR, EASEMENT PROGRAMS DIVISION
|  | ASSOCIATE CHIEF FOR OPERATIONS/CHIEF OPERATING OFFICER
DEPARTMENT OF AGRICULTURE OFFICE OF THE INSPECTOR GENERAL | DEPARTMENT OF AGRICULTURE OFFICE OF THE INSPECTOR GENERAL | DEPUTY INSPECTOR GENERAL
|  | COUNSEL TO THE INSPECTOR GENERAL
OFFICE OF INSPECTOR GENERAL | ASSISTANT INSPECTOR GENERAL FOR AUDIT | ASSISTANT INSPECTOR GENERAL FOR AUDIT
|  | DEPUTY ASSISTANT INSPECTOR GENERAL FOR AUDIT (2)
|  | ASSISTANT INSPECTOR GENERAL FOR OFFICE OF DATA SCIENCES
| ASSISTANT INSPECTOR GENERAL FOR INVESTIGATIONS | ASSISTANT INSPECTOR GENERAL FOR INVESTIGATIONS
|  | DEPUTY ASSISTANT INSPECTOR GENERAL FOR INVESTIGATIONS
| ASSISTANT INSPECTOR GENERAL FOR MANAGEMENT | ASSISTANT INSPECTOR GENERAL FOR MANAGEMENT
AMERICAN BATTLE MONUMENTS COMMISSION | DIRECTOR, OVERSEAS OPERATIONS | CHIEF OPERATING OFFICER
| EXECUTIVE DIRECTOR | DEPUTY SECRETARY
COMMITTEE FOR PURCHASE FROM PEOPLE WHO ARE BLIND OR SEVERELY DISABLED OFFICE OF INSPECTOR GENERAL | COMMITTEE FOR PURCHASE FROM PEOPLE WHO ARE BLIND OR SEVERELY DISABLED OFFICE OF INSPECTOR GENERAL | INSPECTOR GENERAL
ARCHITECTURAL AND TRANSPORTATION BARRIERS COMPLIANCE BOARD (UNITED STATES ACCESS BOARD) | ARCHITECTURAL AND TRANSPORTATION BARRIERS COMPLIANCE BOARD (UNITED STATES ACCESS BOARD) | DIRECTOR OFFICE OF TECHNICAL AND INFORMATION SERVICES
|  | EXECUTIVE DIRECTOR
UNITED STATES AGENCY FOR GLOBAL MEDIA | UNITED STATES AGENCY FOR GLOBAL MEDIA | DIRECTOR OF MANAGEMENT SERVICES
|  | CHIEF FINANCIAL OFFICER
|  | EXECUTIVE DIRECTOR
|  | CHIEF INFORMATION OFFICER/DIRECTOR OF INFORMATION TECHNOLOGY OPERATIONS
|  | CHIEF MANAGMENT OFFICER
DEPARTMENT OF COMMERCE
ALASKA REGION | CLIMATE PREDICTION CENTER | DIRECTOR, CLIMATE PREDICTION CENTER
| NATIONAL CENTERS FOR ENVIRONMENTAL PREDICTION CENTRAL OPERATIONS | DIRECTOR, CENTRAL OPERATIONS
| STORM PREDICTION CENTER | DIRECTOR, STORM PREDICTION CENTER
| TROPICAL PREDICTION CENTER | DIRECTOR, NATIONAL HURRICANE CENTER
ASSISTANT SECRETARY FOR ENFORCEMENT AND COMPLIANCE | DEPUTY ASSISTANT SECRETARY FOR AD/CVD OPERATIONS | SENIOR DIRECTOR
|  | ASSOCIATE DEPUTY ASSISTANT SECRETARY FOR AD/CVD OPERATIONS
|  | SENIOR DIRECTOR, AD/CVD ENFORCEMENT OFFICE VII
BUREAU OF ECONOMIC ANALYSIS | ASSOCIATE DIRECTOR FOR INDUSTRY ACCOUNTS | ASSOCIATE DIRECTOR FOR INDUSTRY ACCOUNTS
| ASSOCIATE DIRECTOR FOR INTERNATIONAL ECONOMICS | ASSOCIATE DIRECTOR FOR INTERNATIONAL ECONOMICS
|  | CHIEF, BALANCE OF PAYMENTS DIVISION
|  | CHIEF DIRECT INVESTMENT DIVISION
| ASSOCIATE DIRECTOR FOR REGIONAL ECONOMICS | ASSOCIATE DIRECTOR FOR REGIONAL ECONOMICS
| BUREAU OF ECONOMIC ANALYSIS | CHIEF NATIONAL INCOME AND WEALTH DIVISION
|  | ASSOCIATE DIRECTOR FOR NATIONAL ECONOMIC ACCOUNTS
|  | CHIEF INFORMATION OFFICER
| OFFICE OF THE DIRECTOR | CHIEF FINANCIAL OFFICER AND CHIEF OF ADMINISTRATIVE SERVICES
|  | CHIEF ADMINISTRATIVE OFFICER
|  | CHIEF INNOVATION OFFICER
|  | DIRECTOR, BUREAU OF ECONOMIC ANALYSIS
|  | DEPUTY DIRECTOR, BUREAU OF ECONOMIC ANALYSIS
|  | CHIEF ECONOMIST
BUREAU OF INDUSTRY AND SECURITY | OFFICE OF THE ASSISTANT SECRETARY FOR EXPORT ADMINISTRATION | DIRECTOR, OFFICE OF STRATEGIC INDUSTRIES AND ECONOMIC SECURITY
| OFFICE OF THE ASSISTANT SECRETARY FOR EXPORT ENFORCEMENT | DIRECTOR OFFICE OF EXPORT ENFORCEMENT
|  | DIRECTOR, OFFICEOF ENFORCEMENT ANALYSIS
|  | DEPUTY ASSISTANT SECRETARY FOR EXPORT ENFORCEMENT
|  | DEPUTY DIRECTOR, OFFICE OF EXPORT ENFORCEMENT
BUREAU OF THE CENSUS | ASSOCIATE DIRECTOR FOR ADMINISTRATION AND CHIEF FINANCIAL OFFICER | CHIEF, HUMAN RESOURCES DIVISION
|  | CHIEF, ACQUISITION DIVISION
|  | CHIEF FINANCIAL OFFICER
|  | CHIEF, BUDGET DIVISION
|  | CHIEF ADMINISTRATIVE OFFICER
|  | DEPUTY CHIEF FINANCIAL OFFICER
| ASSOCIATE DIRECTOR FOR ECONOMIC PROGRAMS | CHIEF, ECONOMIC APPLICATIONS DIVISION
|  | CHIEF, ECONOMIC STATISTICAL METHODS AND RESEARCH DIVISION
|  | ASSOCIATE DIRECTOR FOR ECONOMIC PROGRAMS
|  | ASSISTANT DIRECTOR FOR ECONOMIC PROGRAMS
|  | CHIEF, ECONOMY-WIDE STATISTICS DIVISION
|  | CHIEF, ECONOMIC MANAGEMENT DIVISION
|  | CHIEF, ECONOMIC REIMBURSABLE SURVEYS DIVISION
|  | CHIEF, ECONOMIC INDICATORS DIVISION
| ASSOCIATE DIRECTOR FOR FIELD OPERATIONS | CHIEF, OFFICE OF SURVEY AND CENSUS ANALYTICS
|  | ASSISTANT DIRECTOR FOR FIELD OPERATIONS
|  | ASSOCIATE DIRECTOR FOR FIELD OPERATIONS
|  | CHIEF NATIONAL PROCESSING CENTER
|  | CHIEF, FIELD DIVISION
| ASSOCIATE DIRECTOR FOR INFORMATION TECHNOLOGY AND CHIEF INFORMATION OFFICER | CHIEF TECHNOLOGY OFFICER
|  | CHIEF INFORMATION OFFICER
|  | CHIEF INFORMATION SECURITY OFFICER
|  | CHIEF, APPLICATION DEVELOPMENT AND SERVICES DIVISION
|  | DEPUTY CHIEF INFORMATION OFFICER (DCIO)
| OFFICE OF THE DIRECTOR | CHIEF, OFFICE OF PROGRAM, PERFORMANCE, AND STAKEHOLDER INTEGRATION
|  | DEPUTY CHIEF, OFFICE OF PROGRAM, PERFORMANCE, AND STAKEHOLDER INTEGRATION
DEPARTMENT OF COMMERCE | BUREAU OF INDUSTRY AND SECURITY | CHIEF FINANCIAL OFFICER AND DIRECTOR OF ADMINISTRATION
|  | CHIEF INFORMATION OFFICER
| INTERNATIONAL TRADE ADMINISTRATION | DIRECTOR OF HUMAN CAPITAL
| MINORITY BUSINESS DEVELOPMENT AGENCY | ASSOCIATE DIRECTOR FOR MANAGEMENT
|  | CHIEF OPERATING OFFICER
| NATIONAL INSTITUTE OF STANDARDS AND TECHNOLOGY | DIRECTOR FOR ACQUISITIONS AND AGREEMENTS PROGRAM MANAGEMENT
| NATIONAL OCEANIC AND ATMOSPHERIC ADMINISTRATION | DIRECTOR, PACIFIC REGION
| NATIONAL TECHNICAL INFORMATION SERVICE | DEPUTY DIRECTOR, NATIONAL TECHNICAL INFORMATION SERVICE
| OFFICE OF THE INSPECTOR GENERAL | DEPUTY ASSISTANT INSPECTOR GENERAL FOR ECONOMIC AND STATISTICAL PROGRAM ASSESSMENT
| OFFICE OF THE SECRETARY | DIRECTOR OFFICE OF SMALL AND DISADVANTAGED BUSINESS UTILIZATION
| PATENT AND TRADEMARK OFFICE | DEPUTY COMMISSIONER FOR PATENT
|  | PATENT TRIAL AND APPEAL BOARD EXECUTIVE
|  | GROUP DIRECTOR (27)
|  | DIRECTOR, OFFICE OF PATENT QUALITY ASSURANCE
|  | DIRECTOR, OFFICE OF FINANCE
|  | DEPUTY CHIEF INFORMATION OFFICER
|  | VICE CHIEF ADMINISTRATIVE PATENT JUDGE FOR STRATEGY
|  | DEPUTY COMMISSIONER FOR PATENT
|  | ASSISTANT COMMISSIONER
|  | CHIEF TRADEMARK TRIAL AND APPEAL BOARD
|  | DIRECTOR OF ORGANIZATIONAL POLICY AND GOVERANCE
|  | DEPUTY GENERAL COUNSEL FOR INTELLECTUAL PROPERTY AND SOLICITOR
|  | DEPUTY GENERAL COUNSEL FOR GENERAL LAW
|  | GROUP DIRECTOR, TRADEMARK LAW OFFICES (2)
|  | DEPUTY COMMISSIONER FOR TRADEMARK EXAMINATION POLICY
|  | DIRECTOR, BUSINESS PRODUCT DELIVERY OFFICE
|  | REGIONAL DIRECTOR—SAN JOSE
|  | REGIONAL DIRECTOR (20)
|  | VICE CHIEF ADMINISTRATIVE PATENT JUDGE
|  | DEPUTY CHIEF ADMINISTRATIVE PATENT JUDGE
|  | CHIEF PATENT ACADEMIC OFFICER
|  | SENIOR ADVISOR
|  | GROUP DIRECTOR—3700
|  | DIRECTOR, INFORMATION TECHNOLOGY TRANSFORMATION OFFICE
|  | DEPUTY CHIEF FINANCIAL OFFICER
|  | DEPUTY COMMISSIONER FOR PATENTS
|  | CHIEF FINANCIAL OFFICER
|  | DIRECTOR, HUMAN CAPITAL MANAGEMENT
|  | DEPUTY COMMISSIONER FOR TRADEMARK OPERATIONS
|  | DEPUTY SOLICITOR AND ASSISTANT GENERAL COUNSEL FOR INTELLECTUAL PROPERY LAW
|  | DIRECTOR, OFFICE OF EQUAL EMPLOYMENT OPPORTUNITY AND DIVERSITY
|  | DEPUTY GENERAL COUNSEL FOR ENROLLMENT AND DISCIPLINE
|  | DIRECTOR, OFFICE OF PROCUREMENT
|  | DIRECTOR, ENTERPRISE INFRASTRUCTURE DELIVERY OFFICE (EIDO)
|  | DIRECTOR, END USER SERVICE OFFICE (EUSO)
|  | DIRECTOR, RESOURCE PROGRAM MANAGEMENT OFFICE (RMO)
|  | DIRECTOR, OFFICE OF PLANNING AND BUDGET
|  | DIRECTOR, GOVERNMENTAL AFFAIRS
|  | CHIEF ADMINISTRATIVE PATENT JUDGE
|  | DEPUTY DIRECTOR, PATENT TRAINING ACADEMY
|  | DEPUTY COMMISSIONER FOR TRADEMARK ADMINISTRATION
|  | VICE CHIEF ADMINISTRATIVE PATENT JUDGE
|  | DIRECTOR PATENTS STAKEHOLDER ENGAGEMENT
|  | DEPUTY CHIEF POLICY OFFICER
|  | DEPUTY CHIEF ADMINISTRATIVE TRADEMARK JUDGE
|  | DIRECTOR, OFFICE OF PATENT LEGAL ADMINISTRATION
|  | DEPUTY CHIEF ADMINISTRATIVE OFFICER
|  | DIRECTOR, OFFICE OF CENTRAL REEXAMINATION UNIT
|  | DEPUTY COMMISSIONER FOR PATENT
|  | ASSISTANT COMMISSIONER (7)
|  | DEPUTY COMMISSIONER FOR PATENTS
|  | DEPUTY CHIEF POLICY OFFICER FOR OPERATIONS
|  | DIRECTOR, OFFICE OF ADMINISTRATIVE SERVICES
|  | VICE CHIEF ADMINISTRATIVE PATENT JUDGE (2)
|  | GROUP DIRECTOR, TRADEMARK LAW OFFICES (2)
|  | GROUP DIRECTOR FOR INFORMATION TECHNOLOGY
|  | DIRECTOR OF THE OFFICE OF PETITIONS
|  | DIRECTOR, FINANCIAL MANAGEMENT SYSTEMS
|  | GROUP DIRECTOR FOR TRADEMARK COMMUNICATIONS, OUTREACH AND MARKETING
|  | CHIEF INFORMATION SECURITY OFFICER
|  | DIRECTOR, OFFICE OF INFO TECHNOLOGY FOR PATENTS
|  | DIRECTOR, OFFICE OF APPLICATION PROCESSING FOR PATENTS
|  | DIRECTOR, INTERNATIONAL PATENT LEGAL ADMINISTRATION
|  | ARTIFICIAL INTELLIGENCE AND INFORMATION TECHNOLOGY ADVISOR
|  | ASSISTANT COMISSIONER
|  | CHIEF PATENT CLASSIFICATION OFFICIAL (CPCO)
|  | CHIEF CORPORATE COMMUNICATIONS OFFICER
ECONOMIC DEVELOPMENT ADMINISTRATION | OFFICE OF THE DEPUTY ASSISTANT SECRETARY | DEPUTY CHIEF OPERATING OFFICER
|  | CHIEF FINANCIAL OFFICER AND CHIEF ADMINISTRATIVE OFFICER
ECONOMICS AND STATISTICS ADMINISTRATION | ASSOCIATE DIRECTOR FOR DECENNIAL CENSUS | ASSISTANT DIRECTOR FOR DECENNIAL CENSUS PROGRAMS (OPERATIONS AND SCHEDULE MANAGEMENT)
|  | CHIEF, AMERICAN COMMUNITY SURVEY OFFICE
|  | CHIEF DECENNIAL MANAGEMENT DIVISION
|  | ASSOCIATE DIRECTOR FOR DECENNIAL CENSUS
|  | CHIEF, DECENNIAL STATISTICAL STUDIES DIVISION
|  | CHIEF, GEOGRAPHY DIVISION
|  | SENIOR ADVOCATE FOR RESPONSE SECURITY AND DATA INTEGRITY
|  | CHIEF, DECENNIAL CONTRACTS EXECUTION OFFICE
|  | CHIEF, DECENNIAL COMMUNICATIONS AND STAKEHOLDER RELATIONSHIPS
|  | CHIEF, DECENNIAL INFORMATION TECHNOLOGY DIVISION
| ASSOCIATE DIRECTOR FOR DEMOGRAPHIC PROGRAMS | CHIEF, POPULATION DIVISION
|  | ASSOCIATE DIRECTOR FOR DEMOGRAPHIC PROGRAMS
|  | CHIEF, DEMOGRAPHIC STATISTICAL METHODS DIVISION
|  | CHIEF DEMOGRAPHIC SURVEYS DIVISION
|  | CHIEF, SOCIAL, ECONOMIC, AND HOUSING STATISTICS DIVISION
|  | ASSISTANT DIRECTOR FOR DEMOGRAPHIC PROGRAMS
| ASSOCIATE DIRECTOR FOR RESEARCH AND METHODOLOGY | CHIEF, CENTER FOR ENTERPRISE DISSEMINATION
|  | CHIEF, CENTER FOR ECONOMIC STUDIES AND CHIEF ECONOMIST
|  | CHIEF, CENTER FOR STATISTICAL RESEARCH AND METHODOLOGY
|  | CHIEF, CENTER FOR BEHAVIORAL SCIENCE METHODS
|  | ASSISTANT DIRECTOR FOR RESEARCH AND METHODOLOGY
| BUREAU OF THE CENSUS | ASSOCIATE DIRECTOR FOR RESEARCH AND METHODOLOGY
|  | CHIEF, CENTER FOR OPTIMIZATION AND DATA SCIENCE
|  | CHIEF, SYSTEMS, DATA ANALYSIS, AND BUSINESS SOLUTIONS DIVISION
ENVIRONMENTAL RESEARCH LABORATORIES | ATLANTIC OCEAN AND METEOROLOGY LABORATORY | DIRECTOR, ATLANTIC OCEANOGRAPHIC AND METEOROLOGICAL
| GEOPHYSICAL FLUID DYNAMICS LABORATORY | DIRECTOR, OFFICE OF GEOPHYSICAL FLUID DYNAMICS LABORATORY
| GREAT LAKE ENVIRONMENTAL RESEARCH LABORATORY | DIRECTOR, OFFICE OF GREAT LAKES ENVIRONMENTAL RESEARCH LABORATORY
| PACIFIC MARINE ENVIRONMENTAL RESEARCH LABORATORY | DIRECTOR, OFFICE OF PACIFIC MARINE ENVIRONMENTAL LABORATORY
NATIONAL INSTITUTE OF STANDARDS AND TECHNOLOGY | ENGINEERING LABORATORY | DIRECTOR, ENGINEERING LABORATORY
|  | DEPUTY DIRECTOR ENGINEERING LABORATORY
| HOLLINGS MANUFACTURING EXTENSION PARTNER SHIP PROGRAM | DIRECTOR, MANUFACTURING EXTENSION PARTNERSHIP PROGRAMS
|  | DEPUTY DIRECTOR, MANUFACTURING EXTENSION PARTNERSHIP PROGRAM
| INFORMATION TECHNOLOGY LABORATORY | DEPUTY DIRECTOR, INFORMATION TECHNOLOGY LABORATORY
|  | DIRECTOR, INFORMATION TECHNOLOGY LABORATORY
| MATERIAL MEASUREMENT LABORATORY | DIRECTOR, MATERIAL MEASUREMENT LABORATORY
| NATIONAL INSTITUTE OF STANDARD TECHNOLOGY CENTER FOR NEUTRON RESEARCH | DEPUTY DIRECTOR, NATIONAL INSTITUTE OF STANDARDS AND TECHNOLOGY CENTER FOR NEUTRON RESEARCH
|  | DIRECTOR, NATIONAL INSTITUTE OF STANDARDS AND TECHNOLOGY CENTER FOR NEUTRON RESEARCH
| OFFICE OF FACILITIES AND PROPERTY MANAGEMENT | CHIEF FACILITIES MANAGEMENT OFFICER
| OFFICE OF FINANCIAL RESOURCE MANAGEMENT | CHIEF FINANCIAL OFFICER FOR NIST AND NTIS
| OFFICE OF INFORMATION SYSTEMS MANAGEMENT | CHIEF INFORMATION OFFICER FOR NATIONAL INSTITUTE OF STANDARDS AND TECHNOLOGY
| OFFICE OF SAFETY, HEALTH AND ENVIRONMENT | CHIEF SAFETY OFFICER
| OFFICE OF THE UNDER SECRETARY OF COMMERCE FOR STANDARDS AND TECHNOLOGY | ASSOCIATE DIRECTOR FOR INNOVATION AND INDUSTRY SERVICES
|  | ASSOCIATE DIRECTOR FOR MANAGEMENT RESOURCES
|  | ASSOCIATE DIRECTOR FOR LABORATORY PROGRAMS
|  | CHIEF OF STAFF FOR NATIONAL INSTITUTE FOR STANDARDS AND TECHNOLOGY
|  | DEPUTY ASSOCIATE DIRECTOR FOR LABORATORY PROGRAMS
|  | SENIOR ADVISOR FOR PROGRAM INTEGRATION
|  | DEPUTY ASSOCIATE DIRECTOR FOR MANAGEMENT RESOURCES
|  | SENIOR ADVISOR ON SEMICONDUCTOR ENGAGEMENT
|  | DIRECTOR, COMMUNICATIONS TECHNOLOGY LABORATORY
|  | SENIOR ADVISOR FOR CONNECTED SYSTEMS
|  | DIRECTOR, ADVANCED MANUFACTURING PROGRAM OFFICE
|  | CHIEF SCIENTIST
| PHYSICAL MEASUREMENT LABORATORY | DIRECTOR, PHYSICAL MEASUREMENT LABORATORY
|  | DEPUTY DIRECTOR, PHYSICAL MEASUREMENT LABORATORY
| SPECIAL PROGRAMS OFFICE | DIRECTOR, SPECIAL PROGRAMS OFFICE
| STANDARDS COORDINATION OFFICE | DIRECTOR, STANDARDS COORDINATION OFFICE
NATIONAL MARINE FISHERIES SERVICE | OFFICE OF SCIENCE AND TECHNOLOGY | DIRECTOR OFFICE OF SCIENCE AND TECHNOLOGY
| REGIONAL OFFICES | SCIENCE AND RESEARCH DIRECTOR, ALASKA REGION
|  | SCIENCE AND RESEARCH DIRECTOR SOUTHWEST REGION
|  | SCIENCE AND RESEARCH DIRECTOR NORTHEAST REGION
|  | SCIENCE AND RESEARCH DIRECTOR, SOUTHEAST REGION
|  | SCIENCE AND RESEARCH DIRECTOR, NORTHWEST REGION
|  | SCIENCE AND RESEARCH DIRECTOR, PACIFIC ISLAND REGION
NATIONAL OCEAN SERVICE | CENTER FOR OPERATIONAL OCEANOGRAPHIC PRODUCTS AND SERVICES | DIRECTOR, CENTER FOR OPERATIONAL OCEANOGRAPHIC PRODUCTS AND SERVICES
| NATIONAL OCEANIC AND ATMOSPHERIC ADMINISTRATION COASTAL SERVICES CENTER | DIRECTOR, NATIONAL CENTERS FOR COASTAL OCEAN SCIENCE
| OFFICE OF NATIONAL GEODETIC SURVEY | DIRECTOR, OFFICE OF NATIONAL GEODTIC SURVEY
| OFFICE OF RESPONSE AND RESTORATION | DIRECTOR, OFFICE OF RESPONSE AND RESTORATON
NATIONAL OCEANIC AND ATMOSPHERIC ADMINISTRATION | NATIONAL CENTERS FOR ENVIRONMENTAL PREDICTION | DIRECTOR, AVIATION WEATHER CENTER
|  | DIRECTOR, SPACE WEATHER PREDICTION CENTER
|  | DIRECTOR, WEATHER PREDICTION CENTER
|  | DIRECTOR, NATIONAL CENTERS FOR ENVIRONMENTAL PREDICTION
|  | DIRECTOR, OCEAN PREDICTION CENTER
|  | DIRECTOR, ENVIRONMENTAL MODELING CENTER
| OFFICE OF ASSISTANT ADMINISTRATOR SATELLITE, DATA INFORMATION SERVICE | DIRECTOR SATELLITE GROUND SERVICES
|  | CHIEF FINANCIAL OFFICER/CHIEF ADMINISTRATIVE OFFICER
|  | SYSTEM PROGRAM DIRECTOR FOR GOES-R PROGRAM
|  | DEPUTY ASSISTANT ADMINISTRATOR FOR SYSTEMS
|  | ASSISTANT CHIEF INFORMATION OFFICER FOR NESDIS
|  | DIRECTOR, OFFICE OF SYSTEMS ARCHITECTURE AND ADVANCED PLANNING
|  | DIRECTOR, JOINT POLAR SATELLITE SYSTEMS
|  | DEPUTY DIRECTOR, NATIONAL CENTER FOR ENVIRONMENTAL INFORMATION
|  | DIRECTOR, OFFICE OF PROJECTS, PARTNERSHIPS AND ANALYSIS
|  | DIRECTOR, NATIONAL CENTER FOR ENVIRONMENTAL INFORMATION
| OFFICE OF ASSISTANT ADMINISTRATOR, OCEAN AND ATMOSPHERIC RESEARCH | DEPUTY ASSISTANT ADMINISTRATOR FOR SCIENCE
|  | DIRECTOR, OFFICE OF WEATHER PROGRAMS
|  | CHIEF FINANCIAL OFFICER/CHIEF ADMINISTRATIVE OFFICER
| OFFICE OF EDUCATION AND SUSTAINABLE DEVELOPMENT | DIRECTOR, OFFICE OF EDUCATION
| OFFICE OF HABITAT CONSERVATION | DIRECTOR FOR HABITAT CONSERVATION
| OFFICE OF HIGH PERFORMANCE COMPUTING AND COMMUNICATIONS | DEPUTY CHIEF INFORMATION OFFICER
|  | CHIEF INFORMATION OFFICER AND DIRECTOR FOR HIGH PERFORMANCE COMPUTING AND COMMUNICATIONS
|  | CHIEF DATA OFFICER
| OFFICE OF MARINE AND AVIATION OPERATIONS | DEPUTY ASSISTANT ADMINISTRATOR FOR PROGRAMS AND ADMINISTRATION
| OFFICE OF OCEANIC EXPLORATION AND RESEARCH | DIRECTOR, OFFICE OF OCEAN EXPLORATION AND RESEARCH
| OFFICE OF RESEARCH AND APPLICATIONS | DIRECTOR, CENTER FOR SATELLITE APPLICATIONS AND RESEARCH
| OFFICE OF SATELLITE AND PRODUCT OPERATIONS | DEPUTY DIRECTOR, OFFICE OF SATELLITE AND PRODUCT OPERATIONS
| OFFICE OF THE ASSISTANT ADMINISTRATOR FOR WEATHER SERVICES | CHIEF FINANCIAL OFFICER/CHIEF ADMINISTRATOR OFFICER
|  | DEPUTY DIRECTOR, OFFICE OF WATER PREDICTION
|  | OFFICE OF ORGANIZATIONAL EXCELLENCE
|  | DIRECTOR, OFFICE OF DISSEMINATION
|  | DIRECTOR, OFFICE OF WATER PREDICTION
|  | DIRECTOR, ANALYZE, FORECAST AND SUPPORT OFFICE
|  | DIRECTOR, OFFICE OF CENTRAL PROCESSING
|  | CHIEF ENGINEER
|  | CHIEF OPERATING OFFICER
|  | DIRECTOR, OFFICE OF OBSERVATIONS
|  | DIRECTOR, OFFICE OF SCIENCE AND TECHNOLOGY INTEGRATION
|  | DIRECTOR, OFFICE OF FACILITIES
|  | DIRECTOR, OFFICE OF PLANNING AND PROGRAMMING FOR SERVICE DELIVERY
|  | DIRECTOR, OFFICE OF ORGANIZATIONAL EXCELLENCE
| OFFICE OF UNDER SECRETARY | DIRECTOR, PROGRAM INTEGRATION OFFICE
|  | DIRECTOR, PROGRAM EVALUATION, PLANNING AND RISK MANAGEMENT OFFICE
|  | CHIEF FINANCIAL OFFICER
|  | DEPUTY DIRECTOR, ACQUISITION AND GRANTS OFFICE
|  | DIRECTOR, BUDGET OFFICE
|  | DIRECTOR, ACQUISITION AND GRANTS OFFICE
|  | DEPUTY DIRECTOR, OFFICE OF HUMAN CAPITAL SERVICES
|  | CHIEF ADMINISTRATIVE OFFICER
|  | DIRECTOR, FINANCE OFFICE/COMPTROLLER
|  | DIRECTOR FOR WORKFORCE MANAGEMENT
NATIONAL TELECOMMUNICATIONS AND INFORMATION ADMINISTRATION | FIRST RESPONDER NETWORK AUTHORITY | CHIEF PROCUREMENT OFFICER
|  | CHIEF FINANCIAL AND ADMINISTRATIVE OFFICER, FIRST RESPONDER NETWORK AUTHORITY
|  | CHIEF NETWORK AND TECHNOLOGY OFFICER, FIRST RESPONDER NETWORK AUTHORITY
|  | CHIEF INFORMATION OFFICER, FIRST RESPONDER NETWORK AUTHORITY
|  | CHEIF MARKET ENGAGEMENT OFFICER
| INSTITUTE FOR TELECOMMUNICATION SCIENCES | ASSOCIATE ADMINISTRATOR FOR TELECOMMUNICATION SCIENCES AND DIRECTOR, INSTITUTE FOR TELECOMMUNICATION SCIENCES
| OFFICE OF THE ASSISTANT SECRETARY FOR COMMUNICATIONS AND INFORMATION | CHIEF INFORMATION OFFICER AND DIRECTOR OF ADMINISTRATION
|  | CHIEF FINANCIAL OFFICER
|  | CHIEF FINANCIAL OFFICER AND DIRECTOR OF ADMINISTRATION
OFFICE—FEDERAL COORDINATOR—METEOROLOGY | ALASKA REGION | DIRECTOR, ALASKA REGION
| CENTERAL REGION | DIRECTOR, CENTRAL REGION
| EASTERN REGION | DIRECTOR, EASTERN REGION
| SOUTHERN REGION | DIRECTOR, SOUTHERN REGION
| WESTERN REGION | DIRECTOR, WESTERN REGION
OFFICE OF ASSISTANT ADMINISTRATOR FOR FISHERIES | NATIONAL MARINE FISHERIES SERVICE | DEPUTY ASSISTANT ADMINISTRATOR FOR OPERATIONS
|  | DIRECTOR, SCIENTIFIC PROGRAMS AND CHIEF SCIENCE ADVISOR
|  | DIRECTOR OFFICE OF SUSTAINABLE FISHERIES
|  | CHIEF FINANCIAL OFFICER/CHIEF ADMINISTRATIVE OFFICER
|  | DIRECTOR, OFFICE OF ENFORCEMENT
|  | ASSISTANT CHIEF INFORMATION OFFICER
OFFICE OF ASSISTANT ADMINISTRATOR OCEAN SERVICES AND COASTAL ZONE MANAGEMENT | NATIONAL OCEAN SERVICE | DEPUTY ASSISTANT ADMINISTRATOR FOR NAVIGATION, OBSERVATION AND POSITIONING
|  | DIRECTOR, OFFICE OF COASTAL MANAGEMENT
|  | DIRECTOR, INTEGRATED OCEAN OBSERVING SYSTEM
|  | CHIEF FINANCIAL OFFICER/CHIEF ADMINISTRATIVE OFFICER
|  | DEPUTY ASSISTANT ADMINISTRATOR FOR OCEAN SERVICE AND COASTAL ZONE MANAGEMENT
OFFICE OF ASSISTANT ADMINISTRATOR, OCEAN AND ATMOSPHERIC RESEARCH | EARTH SYSTEM RESEARCH LABORATORY | DIRECTOR, GLOBAL MONITORING LABORATORY
|  | DIRECTOR, GLOBAL SYSTEMS LABORATORY
|  | DIRECTOR, CHEMICAL SCIENCES LABORATORY
|  | DIRECTOR, PHYSICAL SCIENCES LABORATORY
| OFFICE OF NATIONAL SEVERE STORMS LABORATORY | DIRECTOR NATIONAL SEVERE STORMS LABORATORY
OFFICE OF OCEANIC AND ATMOSPHERIC RESEARCH | CLIMATE PROGRAM OFFICE | DIRECTOR, CLIMATE PROGRAM OFFICE
OFFICE OF OCEANIC EXPLORATION AND RESEARCH | NATIONAL SEA GRANT COLLEGE PROGRAM | DIRECTOR, NATIONAL SEA GRANT COLLEGE PROGRAM
OFFICE OF OPERATIONAL SYSTEMS | NATIONAL DATA BUOY CENTER | DIRECTOR, NATIONAL DATA BUOY CENTER
| RADAR OPERATIONS CENTER | DIRECTOR, RADAR OPERATIONS CENTER
OFFICE OF REGIONAL AFFAIRS | ATLANTA REGIONAL OFFICE | ATLANTA REGIONAL DIRECTOR
| AUSTIN REGIONAL OFFICE | AUSTIN REGIONAL DIRECTOR
| CHICAGO REGIONAL OFFICE | CHICAGO REGIONAL DIRECTOR
| DENVER REGIONAL OFFICE | DENVER REGIONAL DIRECTOR
| PHILADELPHIA REGIONAL OFFICE | PHILADELPHIA REGIONAL DIRECTOR
| SEATTLE REGIONAL OFFICE | REGIONAL DIRECTOR
OFFICE OF SCIENCE AND TECHNOLOGY | METEOROLOGICAL DEVELOPMENT LABORATORY | DIRECTOR, METEOROLOGICAL DEVELOPMENT LABORATORY
OFFICE OF THE ASSISTANT ADMINISTRATOR FOR WEATHER SERVICES | OFFICE OF THE CHIEF INFORMATION OFFICER | ASSISTANT CHIEF INFORMATION OFFICER FOR WEATHER SERVICE
OFFICE OF THE CHIEF FINANICAL OFFICER AND ASSISTANT SECRETARY FOR ADMINISTRATION | OFFICE OF THE DEPUTY CHIEF FINANCIAL OFFICER FOR FINANCIAL MANAGEMENT | DIRECTOR, OS FINANCIAL MANAGEMENT
|  | DEPUTY DIRECTOR, OFFICE OF FINANCIAL MANAGEMENT SYSTEMS
|  | DIRECTOR FOR FINANCIAL MANAGEMENT AND DEPUTY CHIEF FINANCIAL OFFICER
|  | DIRECTOR, FINANCIAL REPORTING AND INTERNAL CONTROLS
OFFICE OF THE DEPUTY ASSISTANT SECRETARY FOR ADMINISTRATION | OFFICE OF ACQUISITION MANAGEMENT | DEPUTY FOR ACQUISITION PROGRAM MANAGEMENT
|  | SENIOR PROCUREMENT EXECUTIVE AND DIRECTOR FOR ACQUISITION MANAGEMENT
|  | DEPUTY SENIOR PROCUREMENT EXECUTIVE AND DEPUTY FOR PROCUREMENT MANAGEMENT
| OFFICE OF FACILITIES AND ENVIRONMENTAL QUALITY | SENIOR ADVISOR TO THE DIRECTOR FOR FACILITIES AND ENVIRONMENTAL QUALITY
|  | DIRECTOR FOR FACILITIES AND ENVIRONMENTAL QUALITY
|  | DEPUTY DIRECTOR FOR FACILITIES AND ENVIRONMENTAL QUALITY
| OFFICE OF HUMAN RESOURCES MANAGEMENT | DIRECTOR, HUMAN CAPITAL CLIENT SERVICES
|  | DEPUTY DIRECTOR FOR OPERATIONS
|  | DEPUTY DIRECTOR FOR STRATEGY
|  | DIRECTOR FOR HUMAN RESOURCES MANAGEMENT AND CHIEF HUMAN CAPITAL OFFICER
|  | DEPUTY DIRECTOR FOR HUMAN RESOURCES MANAGEMENT AND DEPUTY CHIEF HUMAN CAPITAL OFFICER
| OFFICE OF SECURITY | DIRECTOR FOR CLIENT SECURITY SERVICES
|  | DEPUTY DIRECTOR, OFFICE OF SECURITY
|  | DIRECTOR, OFFICE OF SECURITY
OFFICE OF THE DEPUTY ASSISTANT SECRETARY FOR RESOURCE MANAGEMENT | OFFICE OF BUDGET | DIRECTOR OF THE OFFICE OF BUDGET
OFFICE OF THE DEPUTY SECRETARY | OFFICE OF THE CHIEF INFORMATION OFFICER | DEPUTY CHIEF INFORMATION OFFICER FOR POLICY AND BUSINESS MANAGEMENT
|  | DEPUTY CHIEF INFORMATION OFFICER FOR CYBERSECURITY AND INFORMATION TECHNOLOGY RISK MANAGEMENT/CHIEF INFORMATION SECURITY OFFICER
|  | DEPUTY CHIEF INFORMATION OFFICER FOR SOLUTIONS AND SERVICE DELIVERY
OFFICE OF THE INSPECTOR GENERAL | OFFICE OF COUNSEL TO THE INSPECTOR GENERAL | COUNSEL TO THE INSPECTOR GENERAL
| OFFICE OF INSPECTIONS AND PROGRAM EVALUATION | ASSISTANT INSPECTOR GENERAL FOR INSPECTIONS AND PROGRAM EVALUATION
| OFFICE OF INSPECTOR GENERAL | ASSISTANT INSPECTOR GENERAL FOR ADMINISTRATION
|  | ASSISTANT INSPECTOR GENERAL FOR SYSTEMS EVALUATION
| OFFICE OF INVESTIGATIONS | ASSISTANT INSPECTOR GENERAL FOR INVESTIGATIONS
OFFICE OF THE SECRETARY | OFFICE OF THE CHIEF FINANICAL OFFICER AND ASSISTANT SECRETARY FOR ADMINISTRATION | DEPUTY DIRECTOR, OFFICE OF BUDGET
|  | DIRECTOR FOR OFFICE OF INTELLIGENCE
|  | CHIEF DIVERSITY, EQUITY, AND INCLUSION OFFICER
| OFFICE OF THE DEPUTY SECRETARY | DIRECTOR OF ACQUISITION SERVICES
|  | DEPUTY DIRECTOR FOR PLANNING, IMPLEMENTATION, AND STAKEHOLDER RELATIONS
|  | DIRECTOR, HUMAN RESOURCES SERVICES, ENTERPRISE SERVICES
|  | CHIEF FINANCIAL OFFICER AND DIRECTOR OF ADMINISTRATION
| OFFICE OF THE GENERAL COUNSEL | CHIEF, CONTRACT LAW DIVISION
|  | CHIEF ADMINISTRATIVE OFFICER
|  | DEPUTY GENERAL COUNSEL FOR ADMINISTRATION
|  | CHIEF, ETHICS LAW AND PROGRAMS DIVISION
OFFICE OF THE UNDER SECRETARY | OFFICE OF THE DEPUTY UNDER SECRETARY | CHIEF FINANCIAL AND ADMINISTRATIVE OFFICER
|  | DEPUTY CHIEF INFORMATION OFFICER
|  | DEPUTY CHIEF FINANCIAL AND ADMINISTRATIVE OFFICER
OFFICE OF THE UNDER SECRETARY OF COMMERCE FOR STANDARDS AND TECHNOLOGY | BALDRIDGE PERFORMANCE EXCELLENCE PROGRAM | DIRECTOR, BALDRIGE PERFORMANCE EXCELLENCE PROGRAM
PATENT AND TRADEMARK OFFICE | OFFICE OF THE CHIEF ADMINISTRATIVE OFFICER | DEPUTY CHIEF ADMINISTRATIVE OFFICER
| OFFICE OF THE COMMISSIONER FOR PATENTS | ASSISTANT COMMISSIONER
DEPARTMENT OF COMMERCE OFFICE OF THE INSPECTOR GENERAL | OFFICE OF INSPECTOR GENERAL | DEPUTY ASSISTANT INSPECTOR GENERAL FOR SYSTEMS ACQUISITIONS, INFORMATION TECHNOLOGY SECURITY, AND PROCUREMENT
|  | DEPUTY INSPECTOR GENERAL
OFFICE OF INSPECTOR GENERAL | IMMEDIATE OFFICE | CHIEF OF STAFF
| OFFICE OF AUDIT AND EVALUATION | ASSISTANT INSPECTOR GENERAL FOR ACQUISITION AND SPECIAL PROGRAM AUDITS
|  | PRINCIPAL ASSISTANT INSPECTOR GENERAL FOR AUDIT AND EVALUATION
|  | ASSISTANT INSPECTOR GENERAL FOR AUDITS
|  | ASSISTANT INSPECTOR GENERAL FOR AUDIT AND EVALUATION
| OFFICE OF COUNSEL | COUNSEL TO THE INSPECTOR GENERAL
| OFFICE OF INVESTIGATIONS | ASSISTANT INSPECTOR GENERAL FOR INVESTIGATIONS
COMMITTEE FOR PURCHASE FROM PEOPLE WHO ARE BLIND OR SEVERELY DISABLED | COMMITTEE FOR PURCHASE FROM PEOPLE WHO ARE BLIND OR SEVERELY DISABLED | EXECUTIVE DIRECTOR
CONSUMER PRODUCT SAFETY COMMISSION | OFFICE OF EXECUTIVE DIRECTOR | DEPUTY EXECUTIVE DIRECTOR FOR OPERATIONS SUPPORT
|  | ASSISTANT EXECUTIVE DIRECTOR FOR COMPLIANCE AND FIELD OPERATIONS
|  | ASSISTANT EXECUTIVE DIRECTOR FOR INFORMATION AND TECHNICAL SERVICES
OFFICE OF EXECUTIVE DIRECTOR | OFFICE OF HAZARD IDENTIFICATION AND REDUCTION | ASSISTANT EXECUTIVE DIRECTOR FOR HAZARD IDENTIFICATION AND REDUCTION
|  | ASSOCIATE EXECUTIVE DIRECTOR FOR ECONOMIC ANALYSIS
|  | ASSOCIATE EXECUTIVE DIRECTOR FOR ENGINEERING SCIENCES
|  | DEPUTY ASSISTANT EXECUTIVE DIRECTOR FOR HAZARD IDENTIFICATION AND REDUCTION
|  | ASSOCIATE EXECUTIVE DIRECTOR FOR EPIDEMIOLOGY
|  | DEPUTY ASSISTANT EXECUTIVE DIRECTOR FOR HAZARD IDENTIFICATION AND REDUCTION
|  | ASSOCIATE EXECUTIVE DIRECTOR FOR ENGINEERING SCIENCES
| OFFICE OF IMPORT SURVEILLANCE | DIRECTOR, OFFICE OF IMPORT SURVEILLANCE (2)
COURT SERVICES AND OFFENDER SUPERVISION AGENCY FOR THE DISTRICT OF COLUMBIA | COURT SERVICES AND OFFENDER SUPERVISION AGENCY FOR THE DISTRICT OF COLUMBIA | MANAGEMENT AND PROGRAM ANALYSIS OFFICER CHIEF OF STAFF
|  | CHIEF FINANCIAL OFFICER
|  | ASSOCIATE DIRECTOR, LEGISLATIVE, INTERGOVERNMENTAL AND PUBLIC AFFAIRS
|  | DEPUTY DIRECTOR
|  | ASSOCIATE DIRECTOR FOR HUMAN RESOURCES
|  | ASSOCIATE DIRECTOR FOR ADMINISTRATION
|  | CHIEF INFORMATION OFFICER
|  | ASSOCIATE DIRECTOR FOR COMMUNITY SUPERVISION
|  | ASSOCIATE DIRECTOR FOR COMMUNITY JUSTICE PROGRAMS
|  | CHIEF TECHNOLOGY OFFICER
|  | ASSOCIATE DIRECTOR FOR RESEARCH AND EVALUATION
COURT SERVICES AND OFFENDER SUPERVISION AGENCY FOR THE DISTRICT OF COLUMBIA | PRETRIAL SERVICES AGENCY | DIRECTOR
|  | ASSISTANT DIRECTOR FOR DEFENDANT ENGAGEMENT AND SYSTEMS SUPPORT
|  | ASSISTANT DIRECTOR FOR MANAGEMENT AND ADMINISTRATION
OFFICE OF THE SECRETARY DEFENSE
OFFICE OF THE DEPARTMENT OF DEFENSE CHIEF INFORMATION OFFICER | DEFENSE INFORMATION SYSTEMS AGENCY | PROCUREMENT SERVICES EXECUTIVE AND HEAD OF CONTRACTING ACTIVITY
|  | DIRECTOR, DEFENSE SPECTRUM ORGANIZATION
|  | DIRECTOR, CENTER FOR OPERATIONS
|  | EXECUTIVE DEPUTY DIRECTOR
|  | DEPUTY CHIEF FINANCIAL OFFICER/DEPUTY COMPTROLLER
|  | RISK MANAGEMENT AND AUTHORIZING OFFICIAL EXECUTIVE
|  | WORKFORCE MANAGEMENT EXECUTIVE
|  | VICE PROCUREMENT SERVICES EXECUTIVE/DEPUTY CHIEF, DEFENSE IT CONTRACTING ORG
|  | ENDPOINT AND CUSTOMER SERVICE EXECUTIVE
|  | CYBER SECURITY AND ANALYTICS DIRECTOR
|  | TRANSPORT SERVICES EXECUTIVE
|  | DIRECTOR, DIGITAL CAPABILITIES AND SECURITY CENTER—COMPONENT ACQUISITION EXECUTIVE
|  | HOSTING AND COMPUTE CENTER EXECUTIVE
|  | DIRECTOR, ENTERPRISE INTEGRATION AND INNOVATION CENTER/CHIEF INFORMATION OFFICER
|  | DIRECTOR, JOINT SERVICE PROVIDER
|  | CHIEF FINANCIAL OFFICER/COMPTROLLER
|  | JFHQ-DODIN EXECUTIVE
|  | JOINT ENTERPRISE SERVICES DIRECTOR
|  | OPERATIONS EXECUTIVE
OFFICE OF THE DIRECTOR OF ADMINISTRATION AND MANAGEMENT | PENTAGON FORCE PROTECTION AGENCY | DIRECTOR, LAW ENFORCEMENT
|  | DEPUTY DIRECTOR, PENTAGON FORCE PROTECTION AGENCY
|  | DIRECTOR, PENTAGON FORCE PROTECTION AGENCY
|  | EXECUTIVE DIRECTOR, SECURITY INTEGRATION AND TECHNOLOGY
| WASHINGTON HEADQUARTERS SERVICES | DIRECTOR, POLICY, PLANS AND REQUIREMENTS
|  | DIRECTOR, FACILITIES SERVICES DIRECTORATE
|  | DIRECTOR, ACQUISITION DIRECTORATE
|  | DEPUTY DIRECTOR FACILITIES SERVICES DIRECTORATE
|  | CHIEF HUMAN RESOURCES OFFICER
|  | EXECUTIVE DIRECTOR, ACQUISITION/HCA NGB
|  | INSPECTOR GENERAL NGB
|  | DEPUTY CHIEF HUMAN RESOURCES OFFICER
|  | PRINCIPAL DEPUTY INSPECTOR GENERAL
|  | ASSISTANT INSPECTOR GENERAL FOR DEFENSE FINANCIAL AUDITING SERVICE
|  | DEPUTY DIRECTOR, DEFENSE CRIMINAL INVESTIGATIVE SERVICE
| OFFICE OF THE SECRETARY OF DEFENSE
|  | DIRECTOR, DEFENSE CRIMINAL INVESTIGATIVE SERVICE—ASSISTANT INSPECTOR GENERAL FOR INVESTIGATIONS
|  | ASSISTANT INSPECTOR GENERAL FOR READINESS AND OPERATIONS SUPPORT
OFFICE OF INSPECTOR GENERAL | OFFICE OF THE ASSISTANT TO THE SECRETARY OF DEFENSE FOR PRIVACY, CIVIL LIBERTIES AND TRANSPARENCY | DIRECTOR, OVERSIGHT AND COMPLIANCE
|  | DEPARTMENT OF DEFENSE SENIOR INTELLIGENCE OVERSIGHT OFFICIAL AND DEPUTY DIRECTOR OVERSIGHT AND COMPLIANCE
|  | PRINCIPAL DEPUTY TO THE ASSISTANT TO THE SECRETARY OF DEFENSE FOR PRIVACY, CIVIL LIBERTIES AND TRANSPARENCY AND SENIOR INTELLIGENCE OVERSIGHT OFFICIAL
| OFFICE OF THE CHIEF DIGITAL AND ARTIFICIAL INTELLIGENCE OFFICER | DIRECTOR FOR ACQUISITIONS
| OFFICE OF THE DIRECTOR OF ADMINISTRATION AND MANAGEMENT | DIRECTOR OF ADMINISTRATION AND ORGANIZATIONAL POLICY
|  | DIRECTOR, PLANNING, PERFORMANCE AND ASSESSMENT DIRECTORATE
|  | DIRECTOR POLICY AND DECISION SUPPORT DIVISION
|  | DIRECTOR, ORGANIZATIONAL AND MANAGEMENT POLICY
| OFFICE OF THE DIRECTOR, OPERATIONAL TEST AND EVALUATION | DEPUTY DIRECTOR FOR LIVE FIRE TEST AND EVALUATION
|  | DEPUTY DIRECTOR FOR NAVAL WARFARE
| OFFICE OF THE GENERAL COUNSEL | DIRECTOR DEFENSE OFFICE OF HEARINGS AND APPEALS
|  | DIRECTOR, OFFICE OF LITIGATION
| OFFICE OF THE JOINT CHIEFS OF STAFF | VICE DIRECTOR C4 CYBER
|  | VICE DIRECTOR, MANPOWER AND PERSONNEL
|  | EXECUTIVE DIRECTOR
|  | VICE DEPUTY DIRECTOR REGIONAL OPERATIONS AND FORCE MANAGEMENT
|  | VICE DIRECTOR JOINT FORCE DEVELOPMENT AND DESIGN INTEGRATION
| OFFICE OF THE UNDER SECRETARY OF DEFENSE (ACQUISITION AND SUSTAINMENT) | CHIEF INFORMATION SECURITY OFFICER (ACQUISTION AND SUSTAINMENT)
|  | DIRECTOR, SUPPLY CHAIN RISK MANAGEMENT
| OFFICE OF THE UNDER SECRETARY OF DEFENSE (COMPTROLLER) | DIRECTOR FOR FINANCIAL MANAGEMENT OPERATIONS AND ANALYSIS
|  | DIRECTOR FOR DIGITAL TRANSFORMATION
|  | DEPUTY COMPTROLLER FOR ENTERPRISE DATA AND BUSINESS PERFORMANCE
|  | DEPUTY CHIEF FINANCIAL OFFICER
| OFFICE OF THE UNDER SECRETARY OF DEFENSE (RESEARCH AND ENGINEERING) | DIRECTOR, DEFENSE MICROELECTRONICS ACTIVITY
|  | DIRECTOR, SCIENCE AND TECHNOLOGY
|  | DIRECTOR, C5 INTELLIGENCE, SURVEILLANCE, RECONNAISSANCE, AND ELECTRONIC WARFARE
OFFICE OF THE UNDER SECRETARY OF DEFENSE (ACQUISITION AND SUSTAINMENT) | DEFENSE CONTRACT MANAGEMENT AGENCY | DEPUTY GENERAL COUNSEL
|  | EXECUTIVE DIRECTOR, TECHNICAL DIRECTORATE
|  | EXECUTIVE DIRECTOR TOTAL FORCE DIRECTORATE
|  | EXECUTIVE DIRECTOR, PORTFOLIO MANAGEMENT AND BUSINESS INTEGRATION
|  | EXECUTIVE DIRECTOR, INFORMATION TECHNOLOGY AND CHIEF INFORMATION OFFICER
|  | EXECUTIVE DIRECTOR, COST AND PRICING REGIONAL COMMAND
|  | DEPUTY DIRECTOR, DCMA
|  | EXECUTIVE DIRECTOR, CONTRACTS
|  | EXECUTIVE DIRECTOR, QUALITY ASSURANCE
|  | EXECUTIVE DIRECTOR, FINANCIAL AND BUSINESS OPERATIONS AND COMPTROLLER
|  | GENERAL COUNSEL
| DEFENSE LOGISTICS AGENCY (DLA) | DIRECTOR, HUMAN RESOURCES
|  | DEPUTY COMMANDER, DLA TROOP SUPPORT
|  | EXECUTIVE DIRECTOR, AVIATION CONTRACTING AND ACQUISITION MANAGEMENT
|  | DIRECTOR, DLA INFORMATION OPERATION
|  | DEPUTY DIRECTOR J8 AND DIRECTOR, FIAR
|  | DEPUTY GENERAL COUNSEL, DLA
|  | DEPUTY COMMANDER, DLA DISTRIBUTION
|  | DEPUTY COMMANDER, DLA LAND AND MARITIME
|  | DEPUTY COMMANDER, DLA AVIATION
|  | GENERAL COUNSEL
|  | EXECUTIVE DIRECTOR, LOGISTICS POLICY AND PROGRAMS
|  | DIRECTOR, DLA FINANCE
|  | DIRECTOR, DLA DISPOSITION SERVICES
|  | EXECUTIVE DIRECTOR, TROOP SUPPORT CONTRACTING AND ACQUISITION MANAGEMENT
|  | EXECUTIVE DIRECTOR, CONTRACTING AND ACQUISITION MANAGEMENT
|  | DEPUTY COMMANDER, DLA ENERGY
|  | DEPUTY DIRECTOR, DLA ACQUISITION
|  | DIRECTOR, DLA ACQUISITION (J-7)
|  | DEPUTY DIRECTOR, DLA INFORMATION OPERATIONS
|  | VICE DIRECTOR, DEFENSE LOGISTICS AGENCY
|  | CHIEF OF STAFF
|  | PROGRAM EXECUTIVE OFFICER, DLA INFORMATION OPERATIONS
|  | EXECUTIVE DIRECTOR, MISSION SUPPORT DIRECTORATE
|  | DEPUTY DIRECTOR DLA LOGISTICS OPERATIONS
|  | EXECUTIVE DIRECTOR, STRATEGIC PROGRAMS AND INTEGRATION DIRECTORATE
|  | EXECUTIVE DIRECTOR OPERATIONS AND SUSTAINMENT
| DEFENSE THREAT REDUCTION AGENCY | DIRECTOR, COOPERATIVE THREAT REDUCTION DEPARTMENT
|  | DIRECTOR, COMBATANT COMMAND SUPPORT
|  | DIRECTOR, OPERATIONS AND INTEGRATION DIRECTORATE
|  | DIRECTOR, PLANS AND TRAINING, JIDO
|  | DIRECTOR, ACQUISITION, CONTRACTS AND LOGISTICS
|  | DIRECTOR, CHEMICAL AND BIOLOGICAL TECHNOLOGIES DEPARTMENT
|  | GENERAL COUNSEL
|  | DIRECTOR, INFORMATION INTEGRATION AND TECHNOLOGY SERVICES/CHIEF INFORMATION OFFICER
|  | DIRECTOR, TREATIES AND PARTNERSHIPS DEPARTMENT
|  | DIRECTOR, NUCLEAR TECHNOLOGIES DEPARTMENT
|  | DIRECTOR, RESEARCH AND DEVELOPMENT DIRECTORATE
|  | DIRECTOR, INTELLIGENCE, PLANS AND RESOURCE INTEGRATION DIRECTORATE
|  | DIRECTOR, COUNTER WEAPONS OF MASS DESTRUCTION TECHNOLOGIES DEPARTMENT
|  | DIRECTOR, BASIC AND APPLIED SCIENCES DEPARTMENT
| OFFICE OF THE ASSISTANT SECRETARY OF DEFENSE (ACQUISITION) | DIRECTOR, CONTRACT POLICY
|  | DEPUTY DIRECTOR, DEFENSE ACQUISITION REGULATIONS SYSTEM
|  | PRINCIPAL DEPUTY, ACQUISITION RESOURCES AND ANALYSIS
|  | DIRECTOR, AIR PLATFORMS AND WEAPONS
|  | DIRECTOR, NUCLEAR COMMAND, CONTROL, AND COMMUNICATIONS
|  | PRINCIPAL DEPUTY DIRECTOR, ENTERPRISE INFORMATION
|  | DIRECTOR, COMMAND, CONTROL, COMMUNICATIONS, COMPUTERS/ISR
|  | DIRECTOR FOR CONTRACTING EBUSINESS
|  | PRINCIPAL DIRECTOR, DEFENSE PRICING AND CONTRACTING
|  | DASD (PLATFORM AND WEAPON PORTFOLIO MANAGEMENT)
|  | DIRECTOR, PRICING AND CONTRACTING INITIATIVES
|  | DIRECTOR, SPACE AND MISSILE DEFENSE
|  | DIRECTOR, STRATEGIC DETERRENCE AND CAPABILITY
| OFFICE OF THE ASSISTANT SECRETARY OF DEFENSE (NUCLEAR, CHEMICAL AND BIOLOGICAL DEFENSE PROGRAMS) | DEPUTY ASSISTANT SECRETARY OF DEFENSE (NUCLEAR MATTERS)
OFFICE OF THE UNDER SECRETARY OF DEFENSE (COMPTROLLER) | DEFENSE CONTRACT AUDIT AGENCY | DIRECTOR, DEFENSE CONTRACT AUDIT AGENCY
|  | DEPUTY REGIONAL DIRECTOR, CENTRAL
|  | DEPUTY REGIONAL DIRECTOR, WESTERN
|  | ASSISTANT DIRECTOR, OPERATIONS
|  | GENERAL COUNSEL
|  | REGIONAL DIRECTOR, EASTERN
|  | REGIONAL DIRECTOR, CENTRAL
|  | REGIONAL DIRECTOR, WESTERN
|  | DEPUTY DIRECTOR, DCAA
|  | CORPORATE AUDIT DIRECTOR (A)
|  | CORPORATE AUDIT DIRECTOR (B)
|  | DEPUTY REGIONAL DIRECTOR, EASTERN
|  | ASSISTANT DIRECTOR, POLICY AND QUALITY
|  | DIRECTOR, FIELD DETACHMENT
|  | CORPORATE AUDIT DIRECTOR (D)
|  | CORPORATE AUDIT DIRECTOR (C)
|  | ASSISTANT DIRECTOR, HUMAN CAPITAL AND RESOURCE MANAGEMENT
OFFICE OF THE UNDER SECRETARY OF DEFENSE (PERSONNEL AND READINESS) | DEFENSE HEALTH AGENCY | GENERAL COUNSEL FOR DEFENSE HEALTH AGENCY
OFFICE OF THE UNDER SECRETARY OF DEFENSE (RESEARCH AND ENGINEERING) | DEFENSE ADVANCED RESEARCH PROJECTS AGENCY | DIRECTOR, CONTRACTS MANAGEMENT OFFICE
|  | GENERAL COUNSEL
|  | DIRECTOR, MISSION SERVICES OFFICE
|  | DIRECTOR, STRATEGIC RESOURCES
| MISSILE DEFENSE AGENCY | DIRECTOR, CONTRACTING
|  | DIRECTOR FOR SYSTEMS ENGINEERING AND INTEGRATION
|  | DIRECTOR FOR INTERNATIONAL AFFAIRS
|  | PROGRAM DIRECTOR, TARGETS AND COUNTERMEASURES
|  | EXECUTIVE DIRECTOR
|  | CHIEF ENGINEER
|  | DIRECTOR FOR ADVANCED TECHNOLOGY
|  | DIRECTOR FOR OPERATIONS
|  | DIRECTOR FOR ENGINEERING
|  | DEPUTY PROGRAM EXECUTIVE FOR SBWS
|  | PROGRAM DIRECTOR, BC
|  | PROGRAM DIRECTOR, MISSILE DEFENSE SYSTEM GROUND SENSORS
|  | DEPUTY DIRECTOR FOR TEST
|  | PROGRAM EXECUTIVE, C4ISR
|  | PROGRAM DIRECTOR, GROUND-BASED MIDCOURSE DEFENSE
|  | DEPUTY PROGRAM EXECUTIVE FOR GROUND BASED WEAPONS SYSTEMS
|  | COMPTROLLER/CHIEF FINANCIAL OFFICER
|  | DIRECTOR FOR ACQUISITION
DEPARTMENT OF THE AIR FORCE | DEPARTMENT OF THE AIR FORCE | DEPUTY DIRECTOR LEGISLATIVE LIAISON
|  | DIRECTOR OF COMMUNICATIONS
|  | DIRECTOR, INSTALLATION, LOGISTICS AND MISSION SUPPORT
|  | DEPUTY DIRECTOR, STRATEGY, CONCEPTS AND ASSESSMENTS
|  | DIRECTOR, DIVERSITY AND INCLUSION
|  | EXECUTIVE DIRECTOR, AIR NATIONAL GUARD
|  | EXECUTIVE DIRECTOR
|  | DIRECTOR, HEADQUARTERS AIR FORCE INFORMATION MANAGEMENT
|  | CHIEF INFORMATION OFFICER AND DEPUTY DIRECTOR, PLANS AND INTEGRATION
|  | DEPUTY ASSISTANT SECRETARY (LOGISTICS)
|  | DEPUTY DIRECTOR OF LOGISTICS
|  | ASSOCIATE DEPUTY ASSISTANT SECRETARY FOR PROGRAMS
|  | DIRECTOR OF POLICY, PROGRAMS AND STRATEGY, INTERNATIONAL AFFAIRS
|  | DEPUTY DIRECTOR OF POLICY, PROGRAMS AND STRATEGY, INTERNATIONAL AFFAIRS
|  | DIRECTOR, LOGISTICS, ENGINEERING AND FORCE PROTECTION
|  | DEPUTY DIRECTOR OF OPERATIONS
|  | DEPUTY DIRECTOR, STRATEGIC PLANNING
|  | DEPUTY DIRECTOR, SECURITY, SPECIAL PROGRAM OVERSIGHT, AND INFORMATION PROTECTION
|  | DIRECTOR, SPACE SECURITY AND DEFENSE PROGRAM
|  | DIRECTOR, CYBER CAPABILITIES AND COMPLIANCE
|  | DIRECTOR, CIVILIAN FORCE MANAGEMENT
|  | AIR FORCE PROGRAM EXECUTIVE OFFICER FOR COMBAT AND MISSION SUPPORT
|  | DEPUTY DIRECTOR OF LOGISTICS
|  | DEPUTY DIRECTOR, INFORMATION DOMINANCE
|  | DEPUTY DIRECTOR, SPACE WARFIGHTING ANALYSIS CENTER
|  | DEPUTY DIRECTOR, CIVILIAN FORCE MANAGEMENT, HR SPECIALIST
|  | DEPUTY DIRECTOR, SECURITY FORCES
|  | DIRECTOR, DIVERSITY AND INCLUSION
|  | CHIEF INFORMATION SECURITY OFFICER (CISO)
AIR FORCE MATERIEL COMMAND | AERONAUTICAL SYSTEMS CENTER | EXECUTIVE DIRECTOR, AIR FORCE LIFE CYCLE MANAGEMENT CENTER
|  | PROGRAM EXECUTIVE OFFICER, MOBILITY AIRCRAFT
|  | PROGRAM EXECUTIVE OFFICER FOR AGILE COMBAT SUPPORT
| AIR FORCE FLIGHT TEST CENTER | EXECUTIVE DIRECTOR, AIR FORCE TEST CENTER
| AIR FORCE MATERIEL COMMAND LAW OFFICE | COMMAND COUNSEL
|  | DIRECTOR, AIR FORCE MATERIEL COMMAND LAW OFFICE
| AIR FORCE OFFICE OF SCIENTIFIC RESEARCH | DIRECTOR AIR FORCE OFFICE OF SCIENTIFIC RESEARCH
| AIR FORCE RESEARCH LABORATORY | DIRECTOR, MATERIALS AND MANUFACTURING
|  | DIRECTOR, AEROSPACE SYSTEMS
|  | DIRECTOR, PLANS AND PROGRAMS
|  | DIRECTOR, STRATEGIC DEVELOPMENT AND PLANNING
|  | EXECUTIVE DIRECTOR, AIR FORCE RESEARCH LABORATORY
| AIR LOGISTICS CENTER, OGDEN | DIRECTOR OF CONTRACTING
|  | DIRECTOR, ENGINEERING AND TECHNICAL MANAGEMENT
| AIR LOGISTICS CENTER, OKLAHOMA CITY | DIRECTOR OF ENGINEERING AND TECHNICAL MANAGEMENT
|  | DIRECTOR OF CONTRACTING
|  | DIRECTOR, 448TH SUPPLY CHAIN MANAGEMENT WING
|  | DIRECTOR OF LOGISTICS, AIR FORCE SUSTAINMENT CENTER
| AIR LOGISTICS CENTER, WARNER ROBINS | DIRECTOR OF CONTRACTING
| CONTRACTING | DIRECTOR, MILSATCOM DIRECTORATE
| ELECTRONIC SYSTEMS CENTER | DIRECTOR, ENGINEERING AND TECHNICAL MANAGEMENT
|  | PROGRAM EXECUTIVE OFFICER, BATTLE MANAGEMENT
| ENGINEERING AND TECHNICAL MANAGEMENT | DIRECTOR, ENGINEERING AND TECHNICAL MANAGEMENT
| FINANCIAL MANAGEMENT AND COMPTROLLER | DEPUTY DIRECTOR, FINANCIAL MANAGEMENT
| LOGISTICS | DEPUTY DIRECTOR, LOGISTICS, INSTALLATIONS AND MISSION SUPPORT
AIR FORCE RESEARCH LABORATORY | DIRECTED ENERGY DIRECTORATE | DIRECTOR, DIRECTED ENERGY
| HUMAN EFFECTIVENESS DIRECTORATE | DIRECTOR, HUMAN EFFECTIVENESS DIRECTORATE
| SENSORS DIRECTORATE | DIRECTOR SENSORS
AIR FORCE SPACE COMMAND | SPACE AND MISSLE SYSTEMS CENTER | DIRECTOR, MILITARY SATELLITE COMMUNICATIONS DIRECTORATE
|  | DIRECTOR, RAPID CAPABILITY OFFICE
|  | DIRECTOR OF CONTRACTING, SPACE AND MISSILE SYSTEMS CENTER (SMC)
AUDITOR GENERAL | AIR FORCE AUDIT AGENCY (FIELD OPERATING AGENCY) | ASSISTANT AUDITOR GENERAL, OPERATIONS AND SUPPORT AUDITS
|  | ASSISTANT AUDITOR GENERAL, ACQUISTION, LOGISTICS AND FINANCIAL AUDITS
DEPARTMENT OF THE AIR FORCE | AIR COMBAT COMMAND | DEPUTY DIRECTOR OF LOGISTICS, ENGINEERING, AND FORCE PROTECTION
|  | DIRECTOR, ACQUISITION MANAGEMENT AND INTEGRATION CENTER
|  | DEPUTY DIRECTOR, REQUIREMENTS
| AIR EDUCATION AND TRAINING COMMAND | DIRECTOR, LOGISTICS, INSTALLATIONS AND MISSION SUPPORT
|  | DIRECTOR, INTERNATIONAL TRAINING AND EDUCATION
| AIR FORCE MATERIEL COMMAND | DIRECTOR, NATIONAL MUSEUM OF THE UNITED STATES AIR FORCE
|  | DIRECTOR, MANPOWER, PERSONNEL AND SERVICES
|  | EXECUTIVE DIRECTOR, AIR FORCE NUCLEAR WEAPONS CENTER
|  | DIRECTOR OF CONTRACTING
|  | DIRECTOR, INSTALLATION SUPPORT
|  | DIRECTOR, FINANCIAL MANAGEMENT
|  | PROGRAM EXECUTIVE OFFICER FOR BUSINESS ENTERPRISE SYSTEMS
|  | DIRECTOR, ENGINEERING AND TECHNICAL MANAGEMENT
|  | DIRECTOR INSTALLATIONS
|  | DEPUTY DIRECTOR, STRATEGIC PLANS, PROGRAMS, REQUIREMENTS AND ANALYSES
|  | DIRECTOR OF ENGINEERING AND TECHNICAL MANAGEMENT, F-35 LIGHTNING II JOINT PROGRAM OFFICE
|  | DIRECTOR FINANCIAL MANAGEMENT AND COMPTROLLER
|  | DIRECTOR, AIR FORCE CIVIL ENGINEER CENTER
|  | DIRECTOR, ENGINEERING AND TECHNICAL MANAGEMENT
|  | DIRECTOR OF LOGISTICS AND LOGISTICS SERVICES
|  | EXECUTIVE DIRECTOR, AIR FORCE INSTALLATION AND MISSION SUPPORT CENTER
|  | EXECUTIVE DIRECTOR, AIR FORCE SUSTAINMENT CENTER
|  | DIRECTOR OF CONTRACTING
|  | DIRECTOR, RESOURCES
|  | DIRECTOR OF PROPULSION
|  | DIRECTOR, ENGINEERING AND TECHNICAL MANAGEMENT
|  | EXECUTIVE DIRECTOR, AIR FORCE MATERIEL COMMAND
|  | DIRECTOR OF CONTRACTING
|  | DEPUTY DIRECTOR, AIR, SPACE AND CYBERSPACE OPERATIONS
|  | EXECUTIVE DIRECTOR
|  | DIRECTOR, ENGINEERING AND TECHNICAL MANAGEMENT
|  | DIRECTOR, HYBIRD PRODUCT SUPPORT INTEGRATOR
|  | PROGRAM EXECUTIVE OFFICER, NC3 SYSTEMS AND DIRECTOR
|  | DIRECTOR OF CONTRACTING
|  | DIRECTOR, 448TH SUPPLY CHAIN MANAGEMENT WING
| AIR FORCE RESERVE COMMAND | DIRECTOR OF STAFF
| AIR FORCE SPACE COMMAND | EXECUTIVE DIRECTOR, AIR FORCE SPACE COMMAND
|  | DIRECTOR, COMMAND, CONTROL, COMMUNICATIONS, AND COMPUTER (C4) SYSTEMS
|  | DEPUTY DIRECTOR, RESOURCE AND INTEGRATION DIRECTORATE
| AIR FORCE SPECIAL OPERATIONS COMMAND | DEPUTY CHIEF FINANCIAL OFFICER
|  | EXECUTIVE DIRECTOR AIR FORCE SPECIAL OPERATIONS COMMAND
| AIR MOBILITY COMMAND | DEPUTY DIRECTOR OR LOGISTICS
| DEPUTY CHIEF OF STAFF FOR INTELLIGENCE, SURVEILLANCE AND RECONNAISSANCE | DIRECTOR OF INTELLIGENCE, SURVEILLANCE, AND RECONNAISSANCE INNOVATIONS AND UNMANNED AERIAL SYSTEMS TASK FORCE
| JOINT STAFF | DIRECTOR, JOINT INFORMATION OPERATIONS WARFARE CENTER
| OFFICE OF ASSISTANT SECRETARY AIR FORCE FOR ACQUISITION | DEPUTY ASSISTANT SECRETARY (SCIENCE, TECHNOLOGY AND ENGINEERING)
|  | DEPUTY ASSISTANT SECRETARY (ACQUISITION INTEGRATION)
|  | DIRECTOR, INFORMATION DOMINANCE PROGRAMS
|  | ASSOCIATE DEPUTY ASSISTANT SECRETARY OF THE AIR FORCE FOR SCIENCE, TECHNOLOGY AND ENGINEERING
|  | ASSOCIATE DEPUTY ASSISTANT SECRETARY (ACQUISITION INTEGRATION)
|  | DIRECTOR OF CONTRACTING, AIR FORCE RAPID CAPABILITIES OFFICE
|  | DIRECTOR OF CONTRACTING (SPECIAL ACCESS PROGRAMS)
| OFFICE OF ASSISTANT SECRETARY AIR FORCE FOR FINANCIAL MANAGEMENT AND COMPTROLLER | ASSOCIATE DEPUTY ASSISTANT SECRETARY (COST AND ECONOMICS)
|  | CHIEF INFORMATION OFFICER
| OFFICE OF ASSISTANT SECRETARY OF THE AIR FORCE FOR MANPOWER AND RESERVE AFFAIRS | DEPUTY ASSISTANT SECRETARY FOR RESERVE AFFAIRS
| OFFICE OF THE CHIEF OF STAFF | DEPUTY DIRECTOR OF STAFF, HEADQUARTERS UNITED STATES AIR FORCE
| OFFICE OF THE INSPECTOR GENERAL | EXECUTIVE DIRECTOR, OFFICE OF SPECIAL INVESTIGATIONS
| OFFICE OF THE SECRETARY | DIRECTOR, AIR FORCE RAPID CAPABILITIES OFFICE
|  | DEPUTY CHIEF MANAGEMENT OFFICER
|  | DEPUTY DIRECTOR, AIR FORCE RAPID CAPABILITIES OFFICE
|  | DEPUTY DIRECTOR, AIR FORCE REVIEW BOARDS AGENCY
|  | DIRECTOR, OFFICE OF DIVERSITY AND INCLUSION (2)
| UNITED STATES CENTRAL COMMAND | DEPUTY DIRECTOR OF OPERATIONS INTERAGENCY ACTION GROUP
|  | DIRECTOR OF RESOURCES, REQUIREMENTS, BUDGET AND ASSESSMENT
|  | DEPUTY DIRECTOR OF LOGISTICS AND ENGINEERING
| UNITED STATES NORTHERN COMMAND | DIRECTOR, PROGRAMS AND RESOURCES
|  | NORTHCOM, DEPUTY DIRECTOR OF OPERATIONS FOR SPECIAL ACTIVITIES
|  | DIRECTOR OF INTERAGENCY
|  | DIRECTOR, JOINT EXERCISES AND TRAINING
|  | DEPUTY COMMANDER, JOINT FORCES HEADQUARTERS—NATIONAL CAPITAL REGION
| UNITED STATES SPECIAL OPERATIONS COMMAND | DEPUTY DIRECTOR, CENTER FOR SPECIAL OPERATIONS ACQUISITION AND LOGISTICS
|  | DIRECTOR FOR ACQUISITION
|  | PRESIDENT, JOINT SPECIAL OPERATIONS UNIVERSITY
|  | DIRECTOR, PLANS, POLICY AND STRATEGY
|  | DIRECTOR AND CHIEF INFOMATION OFFICER FOR SPECIAL OPERATIONS NETWORKS AND COMMUNICATIONS CENTER
|  | CHIEF FINANCIAL OFFICER
|  | DEPUTY CHIEF OF STAFF
|  | DIRECTOR COMMUNICATIONS SYSTEMS/CIO (J6)
|  | DIRECTOR, COMMAND SUPPORT
|  | DIRECTOR, PLANS, POLICY, STRATEGY AND CONCEPTS
| UNITED STATES STRATEGIC COMMAND | DIRECTOR, COMMAND, CONTROL, COMMUNICATIONS AND COMPUTER SYSTEMS
|  | TECHNICAL DIRECTOR, JOINT WARFARE ANALYSIS CENTER
|  | DEPUTY DIRECTOR, CAPABILITY AND RESOURCE INTEGRATION
|  | DEPUTY DIRECTOR, PLANS AND POLICY
|  | DIRECTOR, JOINT EXERCISES, TRAINING, AND ASSESSMENTS
|  | ASSOCIATE DIRECTOR, CAPABILITY AND RESOURCE INTEGRATION
|  | DEPUTY DIRECTOR, CAPABILITY DEVELOPMENTAL GROUP COMMAND ACQUISITION EXEC
|  | DIRECTOR, GLOBAL INNOVATION STRATEGY CENTER
|  | DIRECTOR, CAPABILITY AND RESOURCE INTEGRATION, USSTRATCOM C2 FACILITY MANAGEMENT PMO
|  | ASSOCIATE DIRECTOR CAPABILITY AND RESOURCE
|  | DEPUTY DIRECTOR, PLANS AND POLICY, USSTRATCOM
|  | DIRECTOR, JOINT EXCERCISES AND TRAINING
| UNITED STATES TRANSPORTATION COMMAND | DEPUTY DIRECTOR, ACQUISITION
|  | DIRECTOR, ACQUISTION
|  | DIRECTOR, PROGRAM ANALYSIS AND FINANCIAL MANAGEMENT
|  | DEPUTY DIRECTOR, STRATEGY, CAPABILITIES, POLICY AND LOGISTICS
|  | DIRECTOR, DEFENSE PERSONAL PROPERTY MANAGEMENT OFFICE
|  | EXECUTIVE DIRECTOR
|  | EXECUTIVE DIRECTOR AND DEPUTY CHIEF INFORMATION OFFICER
DEPUTY CHIEF OF STAFF, INSTALLATIONS AND LOGISTICS | CIVIL ENGINEER | DEPUTY DIRECTOR OF CIVIL ENGINEERS
| RESOURCES | DIRECTOR OF RESOURCE INTEGRATION
DEPUTY CHIEF OF STAFF, PERSONNEL | AIR FORCE PERSONNEL CENTER (FIELD OPERATING AGENCY) | EXECUTIVE DIRECTOR, AIR FORCE PERSONNEL CENTER
|  | DIRECTOR OF PERSONNEL OPERATIONS
OFFICE OF ASSISTANT SECRETARY AIR FORCE FOR ACQUISITION | DIRECTORATE OF SPACE AND NUCLEAR DETERRENCE | DEPUTY ASSISTANT CHIEF OF STAFF, STRATEGIC DETERRENCE AND NUCLEAR INTEGRATION
|  | ASSOCIATE ASSISTANT CHIEF OF STAFF STRATEGIC DETERRENCE AND NUCLEAR INTEGRATION
| OFFICE DEPUTY ASSISTANT SECRETARY CONTRACTING | ASSOCIATE DEPUTY ASSISTANT SECRETARY (CONTRACTING)
| OFFICE DEPUTY ASSISTANT SECRETARY SCIENCE, TECHNOLOGY AND ENGINEERING | SPECIAL ASSISTANT TO THE DEPUTY ASSISTANT SECRETARY SCIENCE, TECHNOLOGY AND ENGINEERING
OFFICE OF ASSISTANT SECRETARY AIR FORCE FOR FINANCIAL MANAGEMENT AND COMPTROLLER | OFFICE DEPUTY ASSISTANT SECRETARY BUDGET | ASSOCIATE DEPUTY ASSISTANT SECRETARY FOR BUDGET
|  | DIRECTOR, BUDGET INVESTMENT
| OFFICE DEPUTY ASSISTANT SECRETARY COST AND ECONOMICS | DEPUTY ASSISTANT SECRETARY (COST AND ECONOMICS)
|  | ASSOCIATE DEPUTY ASSISTANT SECRETARY (COST AND ECONOMICS)
| OFFICE DEPUTY ASSISTANT SECRETARY FINANCIAL OPERATIONS | ASSOCIATE DEPUTY ASSISTANT SECRETARY (FINANCIAL OPERATIONS)
|  | DEPUTY ASSISTANT SECRETARY (FINANCIAL OPERATIONS)
OFFICE OF ASSISTANT SECRETARY OF THE AIR FORCE FOR MANPOWER AND RESERVE AFFAIRS | AIR FORCE REVIEW BOARDS AGENCY (AIR FORCE REVIEW BOARDS AGENCY)—FIELD OPERATING AGENCY | DEPUTY FOR AIR FORCE REVIEW BOARDS
OFFICE OF THE CHIEF OF STAFF | AIR FORCE OFFICE OF SAFETY AND AIR FORCE SAFETY CENTER (FIELD OPERATING AGENCY) | DEPUTY CHIEF OF SAFETY
| AIR FORCE OPERATIONAL TEST AND EVALUATION CENTER (DIRECT REPORTING UNIT) | EXECUTIVE DIRECTOR, AIR FORCE OPERATIONAL TEST AND EVALUATION CENTER
| AIR FORCE STUDIES AND ANALYSES AGENCY (DIRECT REPORTING UNIT (DRU)) | PRINCIPLE DEPUTY DIRECTOR, STUDIES AND ANALYSES, ASSESSMENTS AND LESSONS LEARNED
|  | DIRECTOR, AIR FORCE STUDIES AND ANALYSES, ASSESSMENTS AND LESSONS LEARNED
| DEPUTY CHIEF OF STAFF, AIR AND SPACE OPERATIONS | ASSOCIATE DEPUTY CHIEF OF STAFF OPERATIONS, PLANS AND REQUIREMENTS
|  | DIRECTOR OF WEATHER
|  | DEPUTY DIRECTOR, OPERATIONS AND READINESS
|  | DEPUTY DIRECTOR OF OPERATIONAL REQUIREMENTS
| DEPUTY CHIEF OF STAFF, PERSONNEL | DIRECTOR, PLANS AND INTEGRATION
|  | DEPUTY DIRECTOR OF SERVICES
|  | ASSISTANT DEPUTY CHIEF OF STAFF MANPOWER AND PERSONNEL
|  | DIRECTOR FORCE DEVELOPMENT
|  | DEPUTY DIRECTOR, MILITARY FORCE MANAGEMENT
|  | DEPUTY DIRECTOR, MANPOWER, ORGANIZATION AND RESOURCES
| DEPUTY CHIEF OF STAFF, PLANS AND PROGRAMS | ASSOCIATE DEPUTY DIRECTOR FOR PROGRAMS
|  | DEPUTY DIRECTOR OF STRATEGIC PLANNING
|  | ASSISTANT DEPUTY CHIEF OF STAFF, STRATEGIC PLANS AND REQUIREMENTS
| JUDGE ADVOCATE GENERAL | DIRECTOR, ADMINISTRATIVE LAW
| TEST AND EVALUATION | DEPUTY DIRECTOR, TEST AND EVALUATION
|  | DIRECTOR, TEST AND EVALUATION
OFFICE OF THE INSPECTOR GENERAL | AIR FORCE OFFICE OF SPECIAL INVESTIGATIONS (FIELD OPERATING AGENCY) | EXECUTIVE DIRECTOR, DEFENSE CYBER CRIME CENTER
OFFICE OF THE SECRETARY | AUDITOR GENERAL | AUDITOR GENERAL OF THE AIR FORCE
|  | ASSISTANT AUDITOR GENERAL, FIELD OFFICES DIRECTORATE
| OFFICE OF ADMINISTRATIVE ASSISTANT TO THE SECRETARY | DIRECTOR, RESOURCES MANAGEMENT
|  | ADMINISTRATIVE ASSISTANT
|  | DEPUTY ADMINISTRATIVE ASSISTANT
|  | DIRECTOR SECURITY, SPECIAL PROGRAM OVERSIGHT AND INFORMATION PROTECTION
|  | DIRECTOR, HEADQUARTERS AIR FORCE INFORMATION MANAGEMENT
| OFFICE OF PUBLIC AFFAIRS | DEPUTY DIRECTOR, PUBLIC AFFAIRS
| OFFICE OF SMALL AND DISADVANTAGED BUSINESS UTILIZATION | DIRECTOR, OFFICE OF SMALL AND DISADVANTAGED BUSINESS UTILIZATION
| OFFICE OF THE UNDER SECRETARY | DEPUTY DIRECTOR FOR BUSINESS TRANSFORMATION
|  | ASSOCIATE DEPUTY UNDER SECRETARY OF THE AIR FORCE (SPACE) AND DEPUTY DIRECTOR PRINCIPAL DEPARTMENT OF DEFENSE SPACE ADVISOR STAFF
DEPARTMENT OF THE ARMY
AFC, COMBAT CAPABILITIES DEVELOPMENT CMD, ARMY RESEARCH LABORATORY | AFC, COMBAT CAPABILITIES DEVELOPMENT COMMAND, ARL, ARMY RESEARCH OFFICE | DIRECTOR, ARMY RESEARCH OFFICE
CHIEF INFORMATION OFFICER/G-6 | OFFICE, CHIEF OF PUBLIC AFFAIRS | PRINCIPAL DEPUTY CHIEF OF PUBLIC AFFAIRS
DEPARTMENT OF THE ARMY | ARMY AUDIT AGENCY | THE AUDITOR GENERAL
|  | PRINCIPAL DEPUTY AUDITOR GENERAL
|  | DEPUTY AUDITOR GENERAL, ACQUISITION AND LOGISTICS AUDITS
|  | DEPUTY AUDITOR GENERAL, MANPOWER AND TRAINING AUDITS
|  | DEPUTY AUDITOR GENERAL, FINANCIAL MANAGEMENT AUDITS
|  | DEPUTY AUDITOR GENERAL, INSTALLATION, ENERGY AND ENVIRONMENT AUDITS
| CHIEF INFORMATION OFFICER/G-6 | DIRECTOR OF ARCHITECTURE AND INFORMATION
|  | DIRECTOR, CYBERSECURITY INTEGRATION AND SYNCHRONIZATION (CIS)
|  | DEPUTY CHIEF INFORMATION OFFICER, ARMY CHIEF DATA AND ANALYTICS OFFICER
|  | PRINCIPAL DIRECTOR, POLICY, RESOURCES AND ANALYSIS/CHIEF FINANCIAL OFFICER, CIO
| HEADQUARTERS, UNITED STATES ARMY, EUROPE | DEPUTY CHIEF OF STAFF G-8
| HEADQUARTERS, UNITED STATES ARMY, PACIFIC | ASSISTANT CHIEF OF STAFF, G8
| JOINT SPECIAL OPERATIONS COMMAND | EXECUTIVE DIRECTOR FOR RESOURCES, SUPPORT, AND INTEGRATION
| NATIONAL GUARD BUREAU | CHIEF FINANCIAL OFFICER
| OFFICE ADMINSTRATIVE ASSISTANT TO THE SECRETARY OF ARMY | ADMINISTRATIVE ASSISTANT TO THE SECRETARY OF THE ARMY
|  | DEPUTY ADMINISTRATIVE ASSISTANT TO THE SECRETARY OF THE ARMY/DIRECTOR FOR SHARED SERVICES
| OFFICE ASSISTANT SECRETARY ARMY (ACQUISITION, LOGISTICS AND TECHNOLOGY) | DIRECTOR FOR RESEARCH AND TECHNOLOGY
|  | DEPUTY ASSISTANT SECRETARY OF THE ARMY (ACQUISITION POLICY AND LOGISTICS)
|  | DEPUTY DIRECTOR, HYPERSONIC, DIRECTED ENERGY, SPACE AND RAPID ACQUISITION OFFICE
|  | DEPUTY ASSISTANT SECRETARY OF THE ARMY (DASA-DES)
|  | DEPUTY ASSISTANT SECRETARY FOR RESEARCH AND TECHNOLOGY/CHIEF SCIENTIST
|  | DEPUTY ASSISTANT SECRETARY OF THE ARMY (POLICY AND PROCUREMENT)
|  | DEPUTY ASSISTANT SECRETARY OF THE ARMY FOR PLANS, PROGRAMS AND RESOURCES
|  | DEPUTY ASSISTANT SECRETARY OF THE ARMY FOR DEFENSE EXPORTS AND COOPERATION
| OFFICE ASSISTANT SECRETARY ARMY (CIVIL WORKS) | DEPUTY ASSISTANT SECRETARY OF THE ARMY (MANAGEMENT AND BUDGET)
| OFFICE ASSISTANT SECRETARY ARMY (FINANCIAL MANAGEMENT AND COMPTROLLER) | DIRECTOR, FINANCIAL OPERATIONS AND ACCOUNTING, ASA (FINANCIAL MANAGEMENT AND COMPTROLLER)
|  | DIRECTOR OF INVESTMENT
|  | DEPUTY ASSISTANT SECRETARY OF THE ARMY (COST AND ECONOMICS)
|  | DIRECTOR OF MANAGEMENT AND CONTROL
|  | DEPUTY DIRECTOR AND SENIOR ADVISOR FOR ARMY BUDGET (DDSA (BUDGET))
|  | DIRECTOR, FINANCIAL INFORMATION MANAGEMENT
| OFFICE ASSISTANT SECRETARY ARMY (INSTALLATIONS, ENERGY AND ENVIRONMENT) | DEPUTY ASSISTANT SECRETARY OF THE ARMY (ENERGY AND SUSTAINABILITY)
|  | DEPUTY ASSISTANT SECRETARY OF THE ARMY (ENVIRONMENT, SAFETY AND OCCUPATIONAL HEALTH)
|  | DEPUTY ASSISTANT SECRETARY OF THE ARMY (INSTALLATIONS AND HOUSING)
| OFFICE ASSISTANT SECRETARY ARMY (MANPOWER AND RESERVE AFFAIRS) | DEPUTY TO THE ASSISTANT SECRETARY OF THE ARMY (MANPOWER AND RESERVE AFFAIRS)
|  | DEPUTY ASSISTANT SECRETARY OF THE ARMY (MILITARY PERSONNEL)
|  | SENIOR ADVISOR FOR DIVERSITY AND INCLUSION/DASA (DIVERSITY, EQUITY AND INCLUSION)
|  | DEPUTY ASSISTANT SECRETARY OF THE ARMY (CIVILIAN PERSONNEL)
|  | DEPUTY ASSISTANT SECRETARY OF THE ARMY (ARMY REVIEW BOARDS AGENCY)
| OFFICE OF THE SURGEON GENERAL | DEPUTY CHIEF OF STAFF, RESOURCES, INFRASTRUCTURE AND STRATEGY (G8/9)
| OFFICE, DEPUTY CHIEF OF STAFF, G-4 | DIRECTOR FOR MAINTENANCE POLICY, PROGRAMS AND PROCESSES
|  | ASSISTANT DEPUTY CHIEF OF STAFF, G-4
|  | DIRECTOR FOR SUPPLY POLICY
|  | DIRECTOR, LOGISTICS INFORMATION MANAGEMENT
|  | DIRECTOR OF RESOURCE MANAGEMENT
| OFFICE, DEPUTY CHIEF OF STAFF, G-9 | DIRECTOR OF RESOURCE INTEGRATION
|  | DEPUTY ASSISTANT CHIEF OF STAFF FOR INSTALLATION MANAGEMENT
|  | DIRECTOR INSTALLATION SERVICES
| OFFICE, DEPUTY CHIEF OF STAFF, G-1 | ASSISTANT DEPUTY CHIEF OF STAFF, G-1
|  | DIRECTOR, PLANS AND RESOURCES
|  | DIRECTOR, TECHNOLOGY AND BUSINESS ARCHITECTURE INTEGRATION
|  | DIRECTOR, CIVILIAN HUMAN RESOURCE AGENCY
|  | DEPUTY DIRECTOR, CIVILIAN HUMAN RESOURCES AGENCY
|  | DIRECTOR, SHARP AND ARMY RESILIENCY DIRECTORATE
| OFFICE, DEPUTY CHIEF OF STAFF, G-3/5/7 | DEPUTY DIRECTOR OF TRAINING AND TTPEG CO-CHAIR
|  | DEPUTY DIRECTOR FOR STRATEGY PLANS AND POLICY
|  | DEPUTY DIRECTOR FOR STRATEGIC OPERATIONS, DCS G3/5/7
|  | DEPUTY DIRECTOR OF FORCE MANAGEMENT
|  | ASSISTANT DEPUTY CHIEF OF STAFF FOR OPERATIONS (G-3/5/7)
| OFFICE, DEPUTY CHIEF OF STAFF, G-8 | DEPUTY DIRECTOR, FORCE DEVELOPMENT
|  | ASSISTANT DEPUTY CHIEF OF STAFF, G-8
| UNITED STATES ARMY FUTURES COMMAND | CHIEF FINANACIAL OFFICER
|  | CHIEF, HUMAN CAPITAL OFFICER
|  | DEPUTY CHIEF EXECUTIVE OFFICER
| UNITED STATES ARMY SPECIAL OPERATIONS COMMAND | DEPUTY TO THE COMMANDING GENERAL
| UNITED STATES ARMY TRAINING AND DOCTRINE COMMAND (TRADOC) | DEPUTY CHIEF OF STAFF, G-3/5/7, TRADOC
|  | DEPUTY TO THE COMMANDING GENERAL, COMBINED ARMS SUPPORT COMMAND
|  | DIRECTOR, UNITED STATES ARMY CENTER OF MILITARY HISTORY/CHIEF OF MILITARY HISTORY
|  | DEPUTY TO THE COMMANDING GENERAL, COMBINED ARMS CENTER
|  | DEPUTY TO THE COMMANDING GENERAL MANUEVER SUPPORT/DIRECTOR, CAPABILITIES DEVELOPMENT AND INTEGRATION
|  | DEPUTY CHIEF OF STAFF G8, TRADOC
|  | DEPUTY TO THE COMMANDING GENERAL FIRES/DIRECTOR, CAPABILITIES, DEVELOPMENT AND INTEGRATION
|  | DEPUTY CHIEF OF STAFF G-1/4 (PERSONNEL AND LOGISTICS)
|  | DEPUTY TO THE COMMANDING GENERAL
|  | DEPUTY TO THE COMMANDING GENERAL, CYBER CENTER OF EXCELLENCE (CYBERCOE)
|  | PRESIDENT, ARMY LOGISTICS UNIVERSITY
|  | DEPUTY CHIEF OF STAFF, G6 (TRADOC)
|  | DEPUTY TO THE CG ARMY AVIATION CENTER OF EXCELLENCE/DIRECTOR, CAPABILITIES DEVELOPMENT AND INTEGRATION
|  | EXECUTIVE DEPUTY TO THE COMMANDING GENERAL, TRADOC
| UNITED STATES AFRICA COMMAND | DIRECTOR OF RESOURCES (J8), USAFRICOM
|  | DEPUTY DIRECTOR OF PROGRAM, (J5), USAFRICOM
|  | FOREIGN POLICY ADVISOR FOR US AFRICA COMMAND
|  | DIRECTOR OF RESOURCES (J1/J8), AFRICOM
| UNITED STATES ARMY CORPS OF ENGINEERS | DIRECTOR OF RESOURCE MANAGEMENT
|  | DIRECTOR OF HUMAN RESOURCES
|  | DIRECTOR, INFORMATION TECHNOLOGY LABORATORY
|  | CHIEF MILITARY PROGRAMS INTEGRATION DIVISION
|  | DIRECTOR, RESEARCH AND DEVELOPMENT AND DIRECTOR, ENGINEERING RESEARCH AND DEVELOPMENT CENTER
|  | DIRECTOR CONTINGENCY OPERATIONS/CHIEF, HOMELAND SECURITY OFFICE
|  | DIRECTOR OF CONTRACTING
|  | DIRECTOR FOR CORPORATE INFORMATION
| UNITED STATES ARMY CYBER COMMAND/SECOND ARMY | DEPUTY TO COMMANDER, ARMY CYBER COMMAND/2ND ARMY
|  | DIRECTOR, TECHNICAL WARFARE CENTER, ARCYBER, ARCYBER
|  | DEPUTY TO COMMANDER/SENIOR TECHNICAL DIRECTOR/CHIEF ENGINEER
| UNITED STATES ARMY FORCES COMMAND | ASSISTANT DEPUTY CHIEF OF STAFF FOR LOGISTICS
|  | DEPUTY CHIEF OF STAFF FOR RESOURCE MANAGEMENT
|  | ASSISTANT DEPUTY CHIEF OF STAFF, G-6
|  | DEPUTY CHIEF OF STAFF, G-1
|  | ASSISTANT DEPUTY CHIEF OF STAFF FOR OPERATIONS, G-3/5/7
| UNITED STATES ARMY MATERIEL COMMAND | DIRECTOR, OPERATION AND READINESS DIRECTORATE, G-3
|  | ADCS, SUPPLY CHAIN MANAGEMENT, G3
|  | ASSISTANT DEPUTY CHIEF OF STAFF, G-3/4 FOR LOGISTICS INTEGRATION
|  | DEPUTY CHIEF OF STAFF FOR CORPORATE INFORMATION/CHIEF INFORMATION OFFICER
| UNITED STATES ARMY NORTH | DEPUTY TO THE COMMANDING GENERAL, ARNORTH
| UNITED STATES ARMY SPACE AND MISSILE DEFENSE COMMAND | DEPUTY TO THE COMMANDER, US ARMY SPACE AND MISSILE DEFENSE COMMAND/ARMY FORCES STRATCOM
|  | DIRECTOR, FUTURE WARFARE CENTER
|  | DIRECTOR , SPACE AND MISSILE DEFENSE TECHNICAL CENTER
| UNITED STATES EUROPEAN COMMAND | DIRECTOR, INTERAGENCY PARTNERING, (J9)
| UNITED STATES FORCES KOREA | DIRECTOR FOR FORCES, RESOURCES AND ASSESSMENTS (J8)
|  | DEPUTY DIRECTOR FOR TRANSFORMATION AND RESTATIONING
| UNITED STATES SOUTHERN COMMAND | DIRECTOR, J8 (RESOURCES AND ASSESSMENTS DIRECTORATE)
|  | DEPUTY DIRECTOR OF OPERATIONS, J3
|  | DIRECTOR, EXERCISES AND COALITION AFFAIRS
|  | DEPUTY DIRECTOR STRATEGY AND POLICY
OFFICE ASSISTANT SECRETARY ARMY (ACQUISITION, LOGISTICS AND TECHNOLOGY) | ARMY ACQUISITION EXECUTIVE | PROGRAM EXECUTIVE OFFICER ENTERPRISE INFORMATION SYSTEMS
|  | DEPUTY PROGRAM EXECUTIVE OFFICER, COMMAND CONTROL AND COMMUNICATIONS TACTICAL
|  | DEPUTY PROGRAM EXECUTIVE OFFICER FOR AVIATION
|  | DEPUTY PROGRAM EXECUTIVE OFFICER, MISSILES AND SPACE
|  | DEPUTY JOINT PROGRAM EXECUTIVE OFFICER FOR CHEMICAL AND BIOLOGICAL DEFENSE
|  | DEPUTY PROGRAM EXECTUIVE OFFICER GROUND COMBAT SYSTEMS
|  | DEPUTY PROGRAM EXECUTIVE OFFICER (SIMULATION, TRAINING AND INSTRUMENTATION)
|  | DEPUTY PROGRAM EXECUTIVE OFFICER, ENTERPRISE INFORMATION SYSTEMS
|  | DEPUTY PROGRAM EXECUTIVE OFFICER, INTELLIGENCE, ELECTRONIC WARFARE AND SENSORS
|  | DEPUTY PROGRAM EXECUTIVE OFFICER, COMBAT SUPPORT AND COMBAT SERVICE SUPPORT
|  | PROGRAM EXECUTIVE OFFICER SIMULATION, TRAINING AND INSTRUMENTATION
|  | DEPUTY PROGRAM EXECUTIVE OFFICER FOR SOLDIER
|  | DEPUTY JOINT PROGRAM EXECUTIVE OFFICER (ARMAMENT AND AMMUNITION)
|  | JOINT PEO FOR CHEMICAL AND BIOLOGICAL DEFENSE
|  | PROGRAM EXECUTIVE OFFICER ASSEMBLED CHEMICAL WEAPONS ALTERNATIVE
|  | PROGRAM EXECUTIVE OFFICER, INTELLIGENCE, ELECTRONIC WARFARE AND SENSORS
OFFICE ASSISTANT SECRETARY ARMY (MANPOWER AND RESERVE AFFAIRS) | ARMY ENTERPRISE MARKETING OFFICE (FIELD OPERATING AGENCY) | DEPUTY CHEIF MARKETING OFFICER, ARMY ENTERPRISE MARKETING OFFICE
OFFICE OF THE SECRETARY | OFFICE OF THE INSPECTOR GENERAL | PRINCIPAL DIRECTOR TO THE INSPECTOR GENERAL (INSPECTIONS)
| UNITED STATES ARMY NATIONAL MILITARY CEMETERIES | EXECUTIVE DIRECTOR OF THE ARMY NATIONAL CENETERIES PROGRAM
|  | SUPERINTENDENT, ARLINGTON NATIONAL CEMETERY
OFFICE OF THE UNDER SECRETARY | OFFICE DEPUTY UNDER SECRETARY OF ARMY (DUSA) | DIRECTOR CIVILIAN SENIOR LEADER MANAGEMENT OFFICE
|  | ASSISTANT TO THE DUSA/DIRECTOR OF TEST AND EVALUATION
|  | DEPUTY DIRECTOR, CIVILIAN SENIOR LEADER MANAGEMENT OFFICE
| OFFICE OF BUSINESS TRANSFORMATION | DIRECTOR, OFFICE OF BUSINESS TRANSFORMATION
|  | DEPUTY DIRECTOR, OFFICE OF BUSINESS TRANSFORMATION, OFFICE OF THE UNDER SECRETARY OF THE ARMY
OFFICE, CHIEF OF STAFF | CRIMINAL INVESTIGATION DIVISION | DIRECTOR, ARMY CRIMINAL INVESTIGATIONS DIVISION
| OFFICE, CHIEF ARMY RESERVE | DIRECTOR OF RESOURCE MANAGEMENT AND MATERIAL
|  | ASSISTANT CHIEF OF THE ARMY RESERVE
| UNITED STATES ARMY TEST AND EVALUATION COMMAND | DIRECTOR, ARMY EVALUATION CENTER
|  | EXECUTIVE DIRECTOR, OPERATIONAL TEST COMMAND
OFFICE, DEPUTY CHIEF OF STAFF, G-1 | ARMY RESEARCH INSTITUTE (DEPUTY CHIEF OF STAFF FOR PERSONNEL, FIELD OPERATING AGENCY) | DIRECTOR, UNITED STATES ARMY RESEARCH INSTITUTE AND CHIEF PSYCHOLOGIST
UNITED STATES ARMY FUTURES COMMAND | AFC, CROSS FUNCTIONAL TEAMS | DIRECTOR, ASSURED PNT CROSS-FUNCTIONAL TEAM, SA
| AFC, COMBAT CAPABILITIES DEVELOPMENT CMD—US ARMY AVIATION AND MISSILE CENTER | DIRECTOR FOR SYSTEMS READINESS
|  | DIRECTOR FOR SOFTWARE, SIMULATIONS, SYSTEMS ENGINEERING AND INTEGRATION
|  | DIRECTOR FOR TECHNOLOGY DEVELOPMENT, CCDC
|  | DIRECTOR FOR AVIATION AND MISSILE RESEARCH, DEVELOPMENT AND ENGINEERING CENTER
| AFC, COMBAT CAPABILITIES DEVELOPMENT CMD, ARMAMENTS CENTER | EXECUTIVE DIRECTOR, ENTERPRISE AND SYSTEMS INTEGRATION CENTER
|  | DIRECTOR, MUNITIONS ENGINEERING TECHNOLOGY CENTER, CCDC
|  | DIRECTOR FOR ARMAMENT RESEARCH, DEVELOPMENT AND ENGINEERING
|  | EXECUTIVE DIRECTOR, WEAPONS AND SOFTWARE ENGINEER CENTER
| AFC, COMBAT CAPABILITIES DEVELOPMENT CMD, ARMY RESEARCH LABORATORY | DIRECTOR WEAPONS AND MATERIALS RESEARCH DIRECTORATE
|  | DIRECTOR, CCDC ARMY RESEARCH LABORATORY, CCDC
|  | DIR, HUMAN RESEARCH ENGINEERING DIRECTORATE, CCDC
|  | DIRECTOR, COMPUTATIONAL AND INFORMATION SCIENCE DIRECTORATE, ARL
| AFC, COMBAT CAPABILITIES DEVELOPMENT CMD, C5ISR CENTER | DIRECTOR, RESEARCH AND TECHNOLOGY INTEGRATION DIRECTORATE
|  | DIRECTOR, ENGINEERING AND SYSTEMS INTEGRATION DIRECTORATE
|  | DIRECTOR, COMMUNICATIONS-ELECTRONICS RESEARCH, DEVELOPMENT AND ENGINEERING CENTER
| AFC, COMBAT CAPABILITIES DEVELOPMENT CMD, CHEMICAL AND BIOLOGICAL CENTER | DIRECTOR, CHEMICAL AND BIOLOGICAL CENTER, CCDC
|  | DIRECTOR, ENGINEERING DIRECTORATE, CBC, CCDC
|  | DIRECTOR, RESEARCH AND TECHNOLOGY DIRECTORATE, CBC, CCDC
|  | DIRECTOR OPERATIONAL APPLICATIONS DIRECTORATE
| AFC, COMBAT CAPABILITIES DEVELOPMENT CMD, DATA ANALYSIS CENTER | DIRECTOR, CCDC DATA AND ANALYSIS CENTER, CCDC
| AFC, COMBAT CAPABILITIES DEVELOPMENT CMD, GROUND VEHICLE SYSTEMS CENTER | DIRECTOR, RESEARCH, TECHNOLOGY DEVELOPMENT AND INTEGRATION
|  | DIRECTOR, CCDC GROUND VEHICLE SYSTEMS CENTER
|  | DIRECTOR FOR SYSTEMS INTEGRATION AND ENGINEERING
| AFC, COMBAT CAPABILITIES DEVELOPMENT CMD, SOLDIERS CENTER | DIRECTOR, RESEARCH AND TECHNOLOGY INTERGRATION, CCDC
|  | DIRECTOR, CCDC SOLDIER CENTER
| AFC, COMBAT CAPABILITIES DEVELOPMENT COMMAND | DIRECTOR, SCIENCE AND TECHNOLOGY INTEGRATION
|  | DEPUTY TO COMMANDING GENERAL, CCDC
| AFC, FUTURES AND CONCEPTS CENTER, THE RESEARCH AND ANALYSIS CENTER | DIRECTOR OF OPERATIONS, TRAC, WSMR
|  | DIRECTOR OF OPERATIONS, TRAC ANALYSIS CENTER FORT LEAVENWORTH
|  | DIRECTOR, THE TRAINING AND ANALYSIS CENTER, AFC
|  | DIRECTOR OF FUTURES INTEGRATION, FCC
| AFC, UNITED STATES ARMY MEDICAL RESEARCH AND MATERIEL COMMAND | DEPUTY TO THE COMMANDING GENERAL, MRDC
|  | PRINCIPAL ASSISTANT FOR ACQUISITION
UNITED STATES ARMY CORPS OF ENGINEERS | COLD REGIONS RESEARCH AND ENGINEERING LABORATORY HANOVER, NEW HAMSHIRE | DIRECTOR, COLD REGIONS RESEARCH AND ENGINEERING LABORATORY
| DIRECTORATE OF CIVIL WORKS | CHIEF, PROGRAMS INTEGRATION DIVISION
|  | DIRECTOR OF CIVIL WORKS
|  | CHIEF, OPERATIONS DIVISION AND REGULATORY COMMUNITY OF PRACTICE
|  | CHIEF, ENGINEERING AND CONSTRUCTION DIVISION
|  | CHIEF, PLANNING AND POLICY DIVISION/COMMUNITY OF PRACTICE
| DIRECTORATE OF MILITARY PROGRAMS | CHIEF, INTERAGENCY AND INTERNATIONAL SERVICES DIVISION
|  | CHIEF INSTALLATION READINESS DIVISION
|  | CHIEF, ENVIRONMENTAL COMMUNITY OF PRACTICE
|  | DIRECTOR OF MILITARY PROGRAMS
| DIRECTORS OF ENGINEERING AND TECHNICAL SERVICES | REGIONAL BUSINESS DIRECTOR (SOUTH ATLANTIC DIVISION)
|  | REGIONAL BUSINESS DIRECTOR (NORTHWESTERN DIVISION)
|  | REGIONAL BUSINESS DIRECTOR (NORTH ATLANTIC DIVISION)
|  | REGIONAL BUSINESS DIRECTOR (PACIFIC OCEAN DIVISION)
|  | REGIONAL BUSINESS DIRECTOR (SOUTHWESTERN DIVISION)
|  | REGIONAL BUSINESS DIRECTOR (SOUTH PACIFIC DIVISION)
|  | REGIONAL BUSINESS DIRECTOR (GREAT LAKES, OHIO RIVER DIVISION)
|  | REGIONAL BUSINESS DIRECTOR, (MISSISSIPPI VALLEY DIVISION)
| DIRECTORS OF PROGRAMS MANAGEMENT | DIVISION PROGRAMS DIRECTOR, TRANSATLANTIC DIVISION
|  | DIVISION PROGRAMS DIRECTOR (SOUTH PACIFIC DIVISION)
|  | DIVISION PROGRAMS DIRECTOR (NORTHWESTERN DIVISION)
|  | DIVISION PROGRAMS DIRECTOR (SOUTHWESTERN DIVISION)
|  | DIVISION PROGRAMS DIRECTOR (GREAT LAKE AND OHIO RIVER DIVISION)
|  | DIVISION PROGRAMS DIRECTOR (SOUTH ATLANTIC DIVISION)
|  | DIVISION PROGRAMS DIRECTOR (MISSISSIPPI VALLEY DIV)
|  | DIVISION PROGRAMS DIRECTOR (PACIFIC OCEAN DIVISION)
|  | DIVISION PROGRAMS DIRECTOR (NORTH ATLANTIC DIVISION)
| ENGINEER RESEARCH AND DEVELOPMENT CENTER | DIRECTOR GEOTECHNICAL AND STRUCTURES LABORATORY
|  | DIRECTOR, COASTAL AND HYDRAULICS LABORATORY
|  | DEPUTY DIRECTOR ENGINEER RESEARCH AND DEVELOPMENT CENTER
|  | DIRECTOR, ENVIRONMENTAL LABORATORY
| ENGINEER TOPOGRAPHIC LABORATORIES, CENTER OF ENGINEERS | DIRECTOR, ARMY GEOSPATIAL CENTER
UNITED STATES ARMY MATERIEL COMMAND | MILITARY SURFACE DEPLOYMENT DISTRIBUTION COMMAND | DIRECTOR, TRANSPORTATION ENGINEERING AGENCY/DIRECTOR JOINT DISTRIBUTION PROCESS ANALYSIS CENTER
|  | DEPUTY TO THE COMMANDER, SURFACE DEPLOYMENT AND DISTRIBUTION COMMAND
| OFFICE DEPUTY COMMANDING GENERAL | EXECUTIVE DEPUTY TO THE COMMANDING GENERAL
| OFFICE OF DEPUTY CHIEF OF STAFF FOR LOGISTICS AND OPERATIONS | DEPUTY CHIEF OF STAFF FOR LOGISTICS, FACILITIES, AND ENVIRONMENT
|  | PRINCIPAL DEPUTY CHIEF OF STAFF, G-3 FOR OPERATIONS
| OFFICE OF DEPUTY CHIEF OF STAFF FOR PERSONNEL | DEPUTY CHIEF OF STAFF FOR PERSONNEL
| OFFICE OF THE DEPUTY CHIEF OF STAFF FOR RESOURCE MANAGEMENT | ASSISTANT DEPUTY CHIEF OF STAFF FOR RESOURCE MANAGEMENT, G-8/EXECUTIVE DIRECTOR FOR BUSINESS
|  | DEPUTY CHIEF OF STAFF FOR RESOURCE MANAGEMENT
| TANK-AUTOMOTIVE AND ARMAMENTS COMMAND (TANK-AUTOMOTIVE AND ARMAMENTS COMMAND) | DEPUTY TO THE COMMANDER
|  | DIRECTOR INTEGRATED LOGISTICS SUPPORT CENTER
| UNITED STATES ARMY COMMUNICATIONS ELECTRONICS COMMAND | DIRECTOR, SOFTWARE ENGINEERING DIRECTORATE
|  | DEPUTY TO THE COMMANDING GENERAL, CECOM, LCMC
|  | DIR, COMMUNICATIONS-ELECTRONICS LIFE CYCLE MANAGEMENT CMD LOGISTICS AND READINESS CENTER
| UNITED STATES ARMY JOINT MUNITIONS COMMAND | DEPUTY TO THE COMMANDER (AMMUNITION MANAGEMENT)
| UNITED STATES ARMY AVIATION AND MISSILE COMMAND (ARMY MATERIEL COMMAND) | ARMY AVIATION AND MISSILE COMMAND DIRECTOR, SPECIAL PROGRAMS (AVIATION)
|  | DIRECTOR FOR TEST MEASUREMENT DIAGNOSTIC EQUIPMENT ACTIVITY
|  | DEPUTY TO THE COMMANDER
|  | EXECUTIVE DIRECTOR, AVIATION AND MISSILE COMMAND LOGISTICS CENTER
| UNITED STATES ARMY CONTRACTING COMMAND | EXECUTIVE DIRECTOR ARMY CONTRACTING COMMAND—REDSTONE, AL
|  | DEPUTY TO THE COMMANDER, MISSION INSTALLATION CONTRACTING COMMAND
|  | EXECUTIVE DIRECTOR, ACC-WARREN
|  | EXECUTIVE DIRECTOR ARMY CONTRACTING COMMAND—ROCK ISLAND
|  | DEPUTY TO THE COMMANDING GENERAL, ARMY CONTRACTING COMMAND
|  | EXECUTIVE DIRECTOR, ARMY CONTRACTING COMMAND—ABERDEEN
| UNITED STATES ARMY FINANCIAL MANAGEMENT COMMAND | DEPUTY TO THE COMMANDER FOR FINANCIAL MANAGEMENT OPERATIONS
| UNITED STATES ARMY SECURITY ASSISTANCE COMMAND | DEPUTY TO THE COMMANDING GENERAL
| UNITED STATES ARMY SUSTAINMENT COMMAND | DEPUTY TO THE COMMANDER
|  | EXECUTIVE DIRECTOR, SUPPORT OPERATIONS
| UNITED STATES ARMY INSTALLATION MANAGEMENT COMMAND | DIRECTOR, HUMAN RESOURCES (IMCOM)
|  | REGIONAL DIRECTOR (PACIFIC)
|  | REGIONAL DIRECTOR (EUROPE)
|  | DIRECTOR IMCOM SUPPORT (SUSTAINMENT)
|  | DIRECTOR IMCOM SUPPORT (TRAINING)
|  | DIRECTOR IMCOM SUPPORT (READINESS)
|  | DIRECTOR OF FACILITIES AND LOGISTICS
|  | EXECUTIVE DPUTY TO COMMANDING GENERAL, IMCOM
DEPARTMENT OF THE NAVY | DEPARTMENT OF THE NAVY | PROGRAM EXECUTIVE OFFICER INDUSTRIAL INFRASTRUCTURE
CHIEF OF NAVAL OPERATIONS | BUREAU OF MEDICINE AND SURGERY | DIRECTOR, BUSINESS OPERATIONS/COMPTROLLER
|  | EXECUTIVE DIRECTOR, BUREAU OF MEDICINE AND SURGERY
| COMMANDER, NAVY INSTALLATIONS COMMAND | DIRECTOR STRATEGY AND FUTURE REQUIREMENTS
|  | DIRECTOR OF OPERATIONS
|  | DIRECTOR, TOTAL FORCE MANPOWER
|  | COMPTROLLER
|  | COUNSEL, COMMANDER NAVY INSTALLATIONS COMMAND
|  | EXECUTIVE DIRECTOR, COMMANDER NAVY INSTALLATIONS COMMAND
| COMMANDER, SUBMARINE FORCES | EXECUTIVE DIRECTOR, SUBMARINE FORCES
| MILITARY SEALIFT COMMAND | DIRECTOR, MARITIME OPERATIONS
|  | DIRECTOR, SHIP MANAGEMENT
|  | EXECUTIVE DIRECTOR
|  | DIRECTOR, MILITARY SEALIFT COMMAND MANPOWER AND PERSONNEL
| NAVAL AIR SYSTEMS COMMAND HEADQUARTERS | DIRECTOR, PROCUREMENT FOR PEO(A)
|  | DEPUTY COUNSEL, OFFICE OF COUNSEL
|  | FLEET SUPPORT TEAM EXECUTIVE/CHIEF ENGINEER, FLEET READINESS CENTERS
|  | DIRECTOR, PROCUREMENT FOR PEO
|  | DEPUTY COMMANDER, NAVAL AIR SYSTEMS COMMAND
|  | ASSISTANT COMMANDER FOR CONTRACTS
|  | COMPTROLLER (2)
|  | DIRECTOR, PRODUCT SUPPORT MANAGEMENT INTEGRATION
|  | DIRECTOR, PROCUREMENT FOR PEO(T)
|  | DEPUTY ASSISTANT COMMANDER FOR RESEARCH AND ENGINEERING
|  | DIRECTOR, SUSTAINMENT GROUP
|  | DIRECTOR, ENGINEERING GROUP
|  | DIRECTOR COMMAND OPERATIONS GROUP
|  | COUNSEL, NAVAL AIR SYSTEMS COMMAND
|  | DIRECTOR, COST AND SCHEDULE ANALYSIS DEPARTMENT
|  | DIRECTOR OF CONTRACTS, F-35 JSF
|  | EXECUTIVE DIRECTOR, SYSTEMS ACQUISITION GROUP
|  | EXECUTIVE DIRECTOR, FLEET READINESS CENTERS
|  | EXECUTIVE DIRECTOR, AIR SYSTEMS GROUP
|  | F-35 PRODUCT SUPPORT MANAGER
| NAVAL METEOROLOGY AND OCEANOGRAPHY COMMUNICATIONS, STENNIS SPACE CENTER, MISSISSIPPI | TECHNICAL/DEPUTY DIRECTOR
| NAVY CYBER FORCES | DEPUTY COMMANDER
| OFFICE OF COMMANDER, UNITED STATES FLEET FORCES COMMAND | DIRECTOR FLEET PERSONNEL DEVELOPMENT AND ALLOCATION
|  | DIRECTOR, FLEET INSTALLATION AND ENVIRONMENT
|  | EXECUTIVE DIRECTOR/CHIEF OF STAFF
|  | DEPUTY DIRECTOR, MARITIME OPERATIONS
|  | EXECUTIVE DIRECTOR, NAVY WARFARE DEVELOPMENT COMMAND
|  | DIRECTOR, COMMAND, CONTROL, COMMUNICATIONS, COMPUTER COMBAT SYSTEMS, INTELLIGENCE, SURVEILLANCE AND RECONNAISSANCE
|  | DIRECTOR, NAVY WARFARE DEVELOPMENT CENTER
| OFFICE OF THE COMMANDER, UNITED STATES PACIFIC COMMAND | DIRECTOR, JOINT TRAINING AND EXERCISES
|  | CHIEF INFORMATION OFFICER
| OFFICE OF THE COMMANDER, UNITED STATES PACIFIC FLEET | DEPUTY DIRECTOR OF MARITIME OPERATIONS/DIRECTOR PLANS AND POLICY
|  | DEPUTY FOR NAVAL MINE AND ANTI-SUBMARINE WARFARE COMMAND
|  | EXECUTIVE DIRECTOR, NAVAL SURFACE FORCES
|  | EXECUTIVE DIRECTOR, TOTAL FORCE MANAGEMENT
|  | CHIEF OF STAFF
|  | EXECUTIVE DIRECTOR FOR COMMUNICATIONS AND INFORMATION SYSTEMS AND CHIEF INFORMATION OFFICER
|  | EXECUTIVE DIRECTOR, NAVAL AIR FORCES
| UNITES STATES FLEET CYBER COMMAND/UNITED STATES TENTH FLEET | EXECUTIVE DIRECTOR AND CHIEF INFORMATION OFFICER
DEPARTMENT OF THE NAVY | CHIEF OF NAVAL OPERATIONS | DIRECTOR NAVAL HISTORY AND HERITAGE COMMAND
|  | ASSISTANT DEPUTY CHIEF OF NAVAL OPERATIONS, FLEET READINESS AND LOGISTICS
|  | DIRECTOR, ENTERPRISE SUPPORT
|  | DEPUTY DIRECTOR, AIR WARFARE
|  | ASSISTANT DEPUTY CHIEF OF NAVAL OPERATIONS (MANPOWER, PERSONNEL, TRAINING AND EDUCATION)
|  | DEPUTY DIRECTOR, PROGRAM DIVISION (N80B)
|  | ASSISTANT DEPUTY CHIEF OF NAVAL OPERATIONS, WARFARE SYSTEMS
|  | DEPUTY DIRECTOR SURFACE WARFARE DIVISION
|  | DEPUTY DIRECTOR, EXPEDITIONARY WARFARE DIVISION
|  | DEPUTY DIRECTOR, UNDERSEA WARFARE DIVISION
|  | DIRECTOR, FLEET READINESS
|  | DEPUTY CHIEF OF NAVY RESERVE
|  | DIRECTOR, SPECIAL PROGRAMS DIVISION (N89)
|  | DIRECTOR NAVY STAFF
|  | SPECIAL ASSISTANT (KNOWLEDGE TRANSFER)
|  | DIRECTOR, PROBLEM SOLVING AND PROCESS IMPROVEMENT
|  | EXECUTIVE DIRECTOR, OPERATIONAL TEST AND EVALUATION FORCE (OPTEVFOR)(2)
|  | DEPUTY DIRECTOR, NAVY CYBERSECURITY
|  | DEPUTY COMMANDER
|  | DIRECTOR, DIGITAL WARFARE OFFICE
|  | DIRECTOR, STRATEGIC MOBILITY AND COMBAT LOGISTICS DIVISION
|  | DIRECTOR OF STRATEGY
|  | EXECUTIVE DIRECTOR, NAVAL SPECIAL WARFARE COMMAND
|  | HEAD, CAMPAIGN ANALYSIS BRANCH
|  | DIRECTOR ASSESSMENT DIVISION (N8 1B)
|  | ASSISTANT DCNO, INTEGRATION OF CAPABILITIES AND RESOURCES
|  | FINANCIAL MANAGER AND CHIEF RESOURCES OFFICER FOR MANPOWER, PERSONNEL, TRAINING AND EDUCATION
|  | DEPUTY DIRECTOR, WARFARE INTEGRATION
|  | ASSISTANT DEPUTY CHIEF OF NAVAL OPERATIONS FOR INFORMATION DOMINANCE (N2/N6)
|  | DIRECTOR, COMMUNICATIONS AND NETWORK DIVISION (N2/N6F1)
| MARINE CORPS SYSTEMS COMMAND | CHIEF ENGINEER, MARINE CORPS SYSTEMS COMMAND
|  | EXECUTIVE DIRECTOR
|  | ASSISTANT DEPUTY COMMANDANT FOR INFORMATION
|  | DEPUTY TO THE COMMANDER FOR RESOURCE MANAGEMENT
| NAVAL FACILITIES ENGINEERING COMMAND | DEPUTY COMMANDER, ACQUISITION
|  | EXECUTIVE DIRECTOR
|  | DIRECTOR, NAVY CRANE CENTER
|  | DIRECTOR OF PUBLIC WORKS
|  | COUNSEL, NAVAL FACILITIES ENGINEERING COMMAND
|  | ASSISTANT COMMANDER/CHIEF MANAGEMENT OFFICER
|  | COMPTROLLER
|  | PROGRAM EXECUTIVE OFFICER INDUSTRIAL INFRASTRUCTURE
|  | CHIEF ENGINEER
|  | DIRECTOR OF ASSEST MANAGEMENT
| NAVAL INFORMATION AND WARFARE SYSTEMS COMMAND | DIRECTOR, CONTRACTS
|  | DIRECTOR, READINESS/LOGISTICS DIRECTORATE
|  | DEPUTY CHIEF ENGINEER
|  | PEO MANPOWER, LOGISTICS AND BUSINESS SOLUTIONS
|  | DEPUTY DIRECTOR, PROJECT OVERMATCH
|  | EXECUTIVE DIRECTOR, FLEET READINESS DIRECTORATE
|  | DIRECTOR CORPORATE OPERATIONS
|  | ASSISTANT CHIEF ENGINEER FOR MISSION CAPABILITY
|  | ASSISTANT CHIEF ENGINEER FOR MISSION ARCHITECTURE
|  | EXECUTIVE DIRECTOR
| NAVAL SEA SYSTEMS COMMAND | DEPUTY DIRECTOR, REACTOR REFUELING DIVISION
|  | DIRECTOR FOR AIRCRAFT CARRIER DESIGN AND SYSTEMS ENGINEERING
|  | DIRECTOR, SURFACE SYSTEMS CONTRACTS DIVISION
|  | EXECUTIVE DIRECTOR, SHIP DESIGN, AND ENGINEERING DIRECTORATE
|  | HEAD, ADVANCED REACTOR BRANCH
|  | COUNSEL, NAVAL SEA SYSTEMS COMMAND
|  | DIRECTOR FOR CONTRACTS
|  | DIRECTOR, REACTOR MATERIALS DIVISION
|  | DIRECTOR FOR SURFACE SHIP DESIGN AND SYSTEMS ENGINEERING
|  | DIRECTOR, COST ENGINEERING AND INDUSTRIAL ANALYSIS
|  | DIRECTOR, SHIPBUILDING CONTRACTS DIVISION
|  | ASSISTANT DEPUTY COMMANDER FOR INDUSTRIAL OPERATIONS
|  | DEPUTY FOR WEAPONS SAFETY
|  | DEPUTY COMMANDER, CORPORATE OPERATIONS DIRECTORATE
|  | EXECUTIVE DIRECTOR FOR LOGISTICS MAINTENANCE AND INDUSTRIAL OPERATIONS DIRECTORATE
|  | EXECUTIVE DIRECTOR, IN-SERVICE SUBMARINES
|  | DIRECTOR, REACTOR PLANT COMPONENTS AND AUXILIARY EQUIPMENT DIVISION
|  | DIRECTOR, SURFACE SHIP SYSTEMS DIVISION
|  | DIRECTOR, REACTOR SAFETY AND ANALYSIS DIVISION
|  | DIRECTOR FOR SUBMARINE/SUBMERSIBLE DESIGN AND SYSTEMS ENGINEERING
|  | PROGRAM MANAGER FOR COMMISSIONED SUBMARINES
|  | DIRECTOR RESOURCES MANAGEMENT DIVISION
|  | DEPUTY COMMANDER/COMPTROLLER
|  | DIRECTOR, REACTOR REFUELING DIVISION
|  | EXECUTIVE DIRECTOR
|  | DIRECTOR, NUCLEAR COMPONENTS DIVISION
|  | DIRECTOR OF RADIOLOGICAL CONTROLS
|  | EXECUTIVE DIRECTOR, UNDERSEA INTEGRATION (PEO SUB C)
|  | DEPUTY DIRECTOR, ADVANCED AIRCRAFT CARRIER SYSTEM DIVISION
|  | DIRECTOR, FLEET READINESS DIVISION
|  | DIVISION TECHNICAL DIRECTOR, NSWC CORONA DIVISION
|  | EXECUTIVE DIRECTOR FOR COMMANDER, NAVY REGIONAL MAINTENANCE CENTERS (CNRMC)
|  | DIVISION TECHNICAL DIRECTOR, NAVAL SURFACE WARFARE CENTER, PHILADELPHIA DIVISION
|  | EXECUTIVE DIRECTOR NAVAL SURFACE AND UNDERSEA WARFARE CENTERS
|  | NUCLEAR ENGINEERING AND PLANNING MANAGER
|  | DIVISION TECHNICAL DIRECTOR, NAVAL SURFACE WARFARE CENTER PORT HUENEME DIVISION
|  | DIRECTOR, INTEGRATED WARFARE SYSTEMS ENGINEERING GROUP
|  | DIRECTOR FOR SHIP INTEGRITY AND PERFORMANCE ENGINEERING
|  | EXECUTIVE DIRECTOR, SURFACE SHIP MAINTENANCE AND MODERNIZATION DIRECTORATE
|  | DIRECTOR, FLEET SUPPORT CONTRACTS DIVISION
|  | ASSISTANT COMMANDER, SUPPLY CHAIN TECHNOLOGY AND SYSTEM INTEGRATION
|  | DIRECTOR FOR MARINE ENGINEERING
| NAVAL SUPPLY SYSTEMS COMMAND HEADQUARTERS | CHIEF LOGISTICIAN—AVIATION
|  | EXECUTIVE STRATEGIC INITIATIVES
|  | DIRECTOR, NAVY SYSTEMS MANAGEMENT ACTIVITY
|  | ASSISTANT COMMANDER FOR CONTRACTING MANAGEMENT
|  | ASSISTANT CDR FOR FINANCIAL MANAGEMENT/COMPTROLLER
|  | COUNSEL, NAVAL SUPPLY SYSTEMS COMMAND
|  | ASSISTANT COMMANDER FOR CORPORATE OPERATIONS
|  | VICE COMMANDER
| OFFICE OF NAVAL RESEARCH | DIRECTOR, ELECTRONICS, SENSORS, AND NETWORKS RESEARCH DIVISION
|  | DIRECTOR FOR AEROSPACE SCIENCE RESEARCH DIVISION
|  | DIRECTOR, OCEAN, ATMOSPHERE AND SPACE RESEARCH DIVISION
|  | NAVAL ACCELERATOR EXECUTIVE
|  | PATENT COUNSEL OF THE NAVY
|  | COUNSEL, OFFICE OF NAVAL RESEARCH
|  | HEAD, WARFIGHTER PERFORMANCE SCIENCE AND TECHNOLOGY DEPARTMENT
|  | HEAD, OCEAN, BATTLESPACE SENSING SCIENCE AND TECHNOLOGY DEPARTMENT
|  | HEAD MISSION CAPABLE PRSTNT AND SURVIVABLE NAVAL PLTFRM DEPARTMENT
|  | COMPTROLLER
|  | DIRECTOR, CONTRACTS, GRANTS AND ACQUISITIONS
|  | HEAD, COMMAND, CONTROL, COMMUNICATIONS, INTELLIGENCE, SURVEILLANCE, AND RECONNAISSANCE (C4ISR) SCIENCE AND TECHNOLOGY DEPARTMENT
|  | DIRECTOR, MATHEMATICS COMPUTER AND INFORMATION SCIENCES (MCIS) DIVISION
|  | HEAD, AIR WARFARE AND WEAPONS SCIENCE AND TECHNOLOGY DEPARTMENT
|  | DIRECTOR, MISSION SUPPORT
|  | DIRECTOR, HUMAN AND BIOENGINEERED SYSTEMS DIVISION
|  | EXECUTIVE DIRECTOR
| OFFICE OF THE SECRETARY OF THE NAVY | DEPUTY ASSISTANT FOR ADMINISTRATION
| UNITED STATES MARINE CORPS HEADQUARTERS OFFICE | ASSISTANT DEPUTY COMMANDANT, RESOURCES (PERSONNEL AND READINESS)
|  | DEPUTY DIRECTOR, MANPOWER PLANS AND POLICY DIVISION
|  | EXECUTIVE DEPUTY, MARINE CORPS LOGISTICS COMMAND
|  | ASSISTANT DEPUTY COMMANDANT FOR MANPOWER AND RESERVE AFFAIRS
|  | ASSISTANT DEPUTY COMMANDANT FOR PLANS POLICIES AND OPERATIONS (SECURITY)
|  | DIRECTOR PACIFIC DIVISION, PLANS, POLICIES AND OPERATIONS
|  | DEPUTY COUNSEL FOR THE COMMANDANT OF THE MARINE CORPS
|  | ASSISTANT DEPUTY COMMANDANT FOR EVALUATION
|  | DIRECTOR, COMMUNICATION DIRECTORATE
|  | ASSISTANT DEPUTY COMMANDANT FOR AVIATION (SUSTAINMENT)
|  | DEPUTY ASSISTANT DEPUTY COMMANDANT, INSTALLATIONS AND LOGISTICS (FACILITIES)
|  | ASSISTANT DEPUTY COMMANDANT, INSTALLATIONS AND LOGISTICS (E-BUSINESS AND CONTRACTS)
|  | COUNSEL FOR THE COMMANDANT
|  | ASSISTANT DEPUTY COMMANDANT, INSTALLATIONS AND LOGISTICS
|  | ASSISTANT DEPUTY COMMANDANT FOR PROGRAMS AND RESOURCES/FISCAL DIRECTOR OF THE MARINE CORPS
|  | EXECUTIVE DIRECTOR, MARINE FORCES COMMAND
MARINE CORPS SYSTEMS COMMAND | MARINE CORPS COMBAT DEVELOPMENT COMMAND; QUANTICO, VIRGINIA | EXECUTIVE DEPUTY TRAINING AND EDUCATION COMMAND
| MARINE FORCES RESERVE, NEW ORLEANS, LA | EXECUTIVE DIRECTOR, MARINE FORCES RESERVE
NAVAL AIR SYSTEMS COMMAND HEADQUARTERS | NAVAL AIR WARFARE CENTER AIRCRAFT DIVISION | EXECUTIVE DIRECTOR, NAWCAD MISSION SYSTEM AND DIGITAL ANALYTICS INFORMATION AND TECHNICAL ADVANCE
|  | DIRECTOR, FLIGHT TEST ENGINEERING
|  | DEPUTY ASSISTANT COMMANDER FOR TEST AND EVALUATION/EXECUTIVE DIRECTOR NAVAL AIR WARFARE CENTER AIRCRAFT DIVISION/DIRECTOR, TEST AND EVALUATION NAWCAD
|  | EXECUTIVE DIRECTOR, NAWCAD LAKEHURST
| NAVAL AIR WARFARE CENTER TRAINING SYSTEMS DIVISION | EXECUTIVE DIRECTOR, NAWCTSD
| NAVAL AIR WARFARE CENTER WEAPONS DIVISION, CHINA LAKE, CALIFORNIA | DIRECTOR, RANGE/TEST OPERATIONS AND INFRASTRUCTURE GROUP
|  | DIRECTOR, RESEARCH AND DEVELOPMENT GROUP
|  | PRODUCT DIRECTOR, TARGETING AND KINETIC EFFECTS
|  | EXECUTIVE DIRECTOR, NAVAL AIR WARFARE CENTER WEAPONS DIVISION/DIRECTOR, RESEARCH ENGINEERING
|  | PRODUCT DIRECTOR, AIR WING INTEGRATION AND INTEROPERABILITY/ELECTRONIC WARFARE EFFECTS
|  | DIRECTOR, LONG RANGE FIRES OFFICE
NAVAL INFORMATION AND WARFARE SYSTEMS COMMAND | NAVAL INFORMATION AND WARFARE SYSTEMS CENTER | COMPTROLLER/BUSINESS RESOURCE MANAGER
|  | COUNSEL, SPACE AND NAVAL WARFARE SYSTEMS COMMAND
|  | DIRECTOR, SCIENCE AND TECHNOLOGY
|  | EXECUTIVE DIRECTOR
| NAVAL INFORMATION AND WARFARE SYSTEMS CENTER, CHARLESTON | EXECUTIVE DIRECTOR
NAVAL SEA SYSTEMS COMMAND | NAVAL SHIPYARDS | NAVAL SHIPYARD NUCLEAR ENGINEERING AND PLANNING MANAGER, NORFOLK NAVAL SHIPYARD
|  | NUCLEAR ENGINEERING AND PLANNING MANAGER, PUGET SOUND NAVAL SHIPYARD
|  | NUCLEAR ENGINEERING AND PLANNING MANAGER; PORTSMOUTH NAVAL SHIPYARD
| NAVAL SURFACE WARFARE CENTER | DIVISION TECHNICAL DIRECTOR, NAVAL SURFACE WARFARE CENTER DAHLGREN DIVISION
| NAVAL SURFACE WARFARE CENTER, CARDEROCK DIVISION | DIVISION TECNICAL DIRECTOR, NAVAL SURFACE WARFARE CENTER, CARDEROCK DIVISION
| NAVAL SURFACE WARFARE CENTER, CRANE DIVISION | DIVISION TECHNICAL DIRECTOR, NSWC CRANE DIVISION
| NAVAL SURFACE WARFARE CENTER, DAHLGREN DIVISION | DIVISION TECHNICAL DIRECTOR NAVAL SURFACE WARFARE CENTER PANAMA CITY DIVISION
| NAVAL SURFACE WARFARE CENTER, INDIAN HEAD DIVISION | DIVISION TECHNICAL DIRECTOR, NAVAL SURFACE WARFARE CENTER INDIAN HEAD EXPLOSIVE ORDINANCE DISPOSAL TECHNOLOGY DIVISION
| NAVAL UNDERSEA WARFARE CENTER DIVISION, KEYPORT, WASHINGTON | DIVISION TECHNICAL DIRECTOR, NAVAL UNDERSEA WARFARE CENTER DIVISION KEYPORT
| NAVAL UNDERSEA WARFARE CENTER DIVISION, NEWPORT, RHODE ISLAND | DIVISION TECHNICAL DIRECTOR, NAVAL UNDERSEA WARFARE CENTER DIVISION NEWPORT
NAVAL SUPPLY SYSTEMS COMMAND HEADQUARTERS | NAVY SUPPLY INFORMATION SYSTEMS ACTIVITY | DIRECTOR OF FINANCE/COMPTROLLER
| WEAPON SYSTEMS SUPPORT | VICE COMMANDER, NAVSUP WEAPON SYSTEMS SUPPORT
OFFICE OF NAVAL RESEARCH | NAVAL RESEARCH LABORATORY | SUPERINTENDENT, SPACE SCIENCES DIVISION
|  | SUPERINTENDENT, PLASMA PHYSICS DIVISION
|  | SUPERINTENDENT, ELECTRONICS SCIENCE AND TECHNOLOGY DIVISION
|  | SUPERINTENDENT, REMOTE SENSING DIVISION
|  | SUPERINTENDENT, ACOUSTICS DIVISION
|  | DIRECTOR OF RESEARCH
|  | ASSOCIATE DIRECTOR OF RESEARCH FOR MATERIAL SCIENCE AND COMPONENT TECHNOLOGY
|  | SUPERINTENDENT, TACTICAL ELECTRONIC WARFARE DIVISION
|  | ASSOCIATE DIRECTOR OF RESEARCH FOR BUSINESS OPERATIONS
|  | ASSOCIATE DIRECTOR OF RESEARCH FOR OCEAN AND ATMOSPHERIC SCIENCE AND TECHNOLOGY
|  | ASSOCIATE DIRECTOR OF RESEARCH FOR SYSTEMS
|  | SUPERINTENDENT, SPACE SYSTEMS DEVELOPMENT DEPARTMENT
|  | SUPERINTENDENT, RADAR DIVISION
|  | SUPERINTENDENT, OCEAN SCIENCES DIVISION
|  | SUPERINTENDENT, MATERIAL SCIENCE AND TECHNOLOGY DIVISION
|  | SUPERINTENDANT, INFORMATION TECHNOLOGY DIVISION
|  | SUPERINTENDENT, MARINE METEROLOGY DIVISION
|  | DIRECTOR, NAVAL CENTER FOR SPACE TECHNOLOGY
|  | SUPERINTENDENT, OPTICAL SCIENCES DIVISION
|  | SUPERINTENDENT CHEMISTRY DIVISION
OFFICE OF THE ASSISTANT SECRETARY OF NAVY (MANPOWER AND RESERVE AFFAIRS) | OFFICE OF CIVILIAN HUMAN RESOURCES | DIRECTOR, OFFICE OF CIVILIAN HUMAN RESOURCES
|  | DIRECTOR, HUMAN RESOURCES POLICY AND PROGRAMS DEPARTMENT
|  | DIRECTOR, HUMAN RESOURCES OPERATIONS
OFFICE OF THE ASSISTANT SECRETARY OF THE NAVY (RESEARCH, DEVELOPMENT AND ACQUISITION) | PROGRAM EXECUTIVE OFFICERS | DIRECTOR, PRODUCTION DEPLOYMENT AND FLEET READINESS
|  | DEPUTY PROGRAM EXEUCTIVE OFFICER FOR UNMANNED AVIATION PROGRAMS
|  | DEPUTY PROGRAM EXECUTIVE OFFICERS AIR ASSAULT AND SPECIAL MISSION
|  | EXECUTIVE DIRECTOR, PROGRAM EXECUTIVE OFFICERS FOR INTEGRATED WARFARE SYSTEMS
|  | EXECUTIVE DIRECTOR, COMBATANTS, PROGRAM EXECUTIVE OFFICERS SHIPS
|  | EXECUTIVE DIRECTOR, PROGRAM EXECUTIVE OFFICERS FOR AIRCRAFT CARRIERS
|  | DEPUTY PROGRAM EXECUTIVE OFFICERS FOR STRIKE WEAPONS
|  | DEPUTY PROGRAM EXECUTIVE OFFICERS FOR TACTICAL AIR PROGRAMS
|  | EXECUTIVE DIRECTOR, AMPHIBIOUS, AUXILIARY AND SEALIFT SHIPS, PROGRAM EXECUTIVE OFFICERS SHIPS
|  | EXECUTIVE DIRECTOR, PROGRAM EXECUTIVE OFFICE SUBMARINES
|  | EXECUTIVE DIRECTOR FOR COMMAND, CONTROL, COMMUNICATIONS, COMPUTERS AND INTELLIGENCE (C4I)
|  | EXECUTIVE DIRECTOR, PROGRAM EXECUTIVE OFFICE, LITTORAL COMBAT SHIPS
|  | DIRECTOR, DEVELOPMENT AND INTEGRATION
|  | PROGRAM EXECUTIVE OFFICER DIGITAL AND ENTERPRISE SERVICES
|  | EXECUTIVE DIRECTOR, PROGRAM EXECUTIVE OFFICE, COLUMBIA
| STRATEGIC SYSTEMS PROGRAMS | TECHNICAL PLANS OFFICER
|  | DIRECTOR, INTEGRATED NUCLEAR WEAPONS SAFETY AND SECURITY
|  | BRANCH HEAD REENTRY SYSTEMS BRANCH
|  | ASSISTANT FOR MISSILE PRODUCTION, ASSEMBLY AND OPERATIONS
|  | DIRECTOR, PLANS AND PROGRAMS DIVISION
|  | CHIEF ENGINEER
|  | ASSISTANT FOR SHIPBOARD SYSTEMS
|  | HEAD, RESOURCES BRANCH (COMPTROLLER) AND DEPUTY DIRECTOR, PLANS AND PROGRAM DIVISION
|  | ASSISTANT FOR SYSTEMS INTEGRATION AND COMPATIBILITY
OFFICE OF THE SECRETARY OF THE NAVY | NAVAL CRIMINAL INVESTIGATIVE SERVICE | CRIMINAL INVESTIGATOR, EXECUTIVE ASSISTANT DIRECTOR FOR CRIMINAL OPERATIONS
|  | DIRECTOR, NAVAL CRIMINAL INVESTIGATIVE SERVICE
|  | CRIMINAL INVESTIGATOR, EXECUTIVE ASSISTANT DIRECTOR FOR ATLANTIC OPERATIONS
|  | CRIMINAL INVESTIGATOR, EXECUTIVE ASSISTANT DIRECTOR FOR PACIFIC OPERATIONS
|  | CRIMINAL INVESTIGATOR, DEPUTY DIRECTOR OPERATIONAL SUPPORT
|  | CRIMINAL INVESTIGATOR, DEPUTY DIRECTOR, NAVAL CRIMINIAL INVESTIGATIVE SERVICE
|  | CRIMINAL INVESTIGATOR, EXECUTIVE ASSISTANT DIRECTOR FOR GLOBAL OPERATIONS
| OFFICE OF THE ASSISTANT SECRETARY OF NAVY (ENERGY, INSTALLATIONS AND ENVIRONMENT) | DEPUTY ASSISTANT SECRETARY OF THE NAVY (INFRASTRUCTURE AND FACILITIES)
|  | DEPUTY ASSISTANT SECRETARY OF THE NAVY (ENVIRONMENT)
|  | EXECUTIVE DIRECTOR PUBLIC PRIVATE PARTNERSHIP REVIEWS
|  | PRINCIPAL DEPUTY ASSISTANT SECRETARY OF THE NAVY (ENERGY, INSTALLATIONS AND ENVIRONMENT)
|  | ASSISTANT GENERAL COUNSEL (ENERGY, INSTALLATIONS AND ENVIRONMENT)
| OFFICE OF THE ASSISTANT SECRETARY OF NAVY (FINANCIAL MANAGEMENT AND COMPTROLLER) | DEPUTY DASN FINANCIAL MANAGEMENT SYSTEMS (SYSTEMS TRANSFORMATION)
|  | ASSOCIATE DIRECTOR, OFFICE OF BUDGET/FISCAL MANAGEMENT DIVISION
|  | ASSISTANT GENERAL COUNSEL (FINANCIAL MANAGEMENT AND COMPTROLLER)
|  | DIRECTOR, INVESTMENT AND DEVELOPMENT DIVISION
|  | DEPUTY ASSISTANT SECRETARY OF THE NAVY FOR FINANCIAL OPERATIONS
|  | DASN FINANCIAL MANAGEMENT SYSTEMS
|  | DIRECTOR, DATA AND DIGITAL TRANSFORMATION
|  | DEPUTY DIRECTOR, FINANCIAL SYSTEMS
|  | PRINCIPAL DEPUTY ASSISTANT SECRETARY OF THE NAVY FINANCIAL MANGEMENT AND COMPTROLLER
|  | DIRECTOR, PROGRAM/BUDGET COORDINATION DIVISION
|  | DIRECTOR, POLICY AND PROCEDURES
| OFFICE OF THE ASSISTANT SECRETARY OF NAVY (MANPOWER AND RESERVE AFFAIRS) | PRINCIPAL DEPUTY MANPOWER AND RESERVE AFFAIRS
|  | ASSISTANT GENERAL COUNSEL (MANPOWER AND RESERVE AFFAIRS)
|  | DIRECTOR, MANPOWER, ANALYTICS AND HUMAN RESOURCE SYSTEM
|  | DIRECTOR, FORCE RESILIENCY
|  | DEPUTY ASSISTANT SECRETARY OF THE NAVY (MILITARY MANPOWER AND PERSONNEL)
|  | DEPUTY ASSISTANT SECRETARY OF THE NAVY (CIVILIAN PERSONNEL)
| OFFICE OF THE ASSISTANT SECRETARY OF THE NAVY (RESEARCH, DEVELOPMENT AND ACQUISITION) | DIRECTOR, TECHNOLOGY SECURITY AND COOPERATIVE PROGRAMS DIRECTORATE
|  | CHIEF SYSTEMS ENGINEER
|  | DIRECTOR, CONTRACTS
|  | ASSISTANT GENERAL COUNSEL (RESEARCH, DEVELOPMENT AND ACQUISITION)
|  | EXECUTIVE DIRECTOR, DEPUTY ASSISTANT SECRETARY OF THE NAVY (ACQUISITION AND PROCUREMENT)
|  | EXECUTIVE DIRECTOR, NAVY INTERNATIONAL PROGRAMS OFFICE
|  | DEPUTY ASSISTANT SECRETARY OF THE NAVY (SHIPS)
|  | DEPUTY ASSISTANT SECRETARY OF THE NAVY FOR INFORMATION WARFARE AND ENTERPRISE SERVICES
|  | PRINCIPAL CIVILIAN DEPUTY ASSISTANT SECRETARY OF THE NAVY (RESEARCH, DEVELOPMENT AND ACQUISITION)
|  | DEPUTY ASSISTANT SECRETARY OF THE NAVY FOR ACQUISITION PROGRAMS AND BUDGET
|  | DEPUTY ASSISTANT SECRETARY OF THE NAVY FOR AIR/GROUND PROGRAMS
|  | DEPUTY ASSISTANT SECRETARY OF THE NAVY FOR SUSTAINMENT
|  | DEPUTY ASSISTANT SECRETARY OF THE NAVY FOR PROCUREMENT
|  | DEPUTY ASSISTANT SECRETARY OF THE NAVY FOR RESEARCH, DEVELOPMENT, TEST AND ENGINEERING
|  | TEST AND EVALUATION EXECUTIVE
|  | PEO FOR AVIATION COMMON SYSTEMS AND COMMERCIAL SERVICES
|  | PROGRAM EXECUTIVE OFFICER, LAND SYSTEMS MARINE CORPS
|  | EXECUTIVE DIRECTOR, F-35, JOINT PROGRAM OFFICE
| OFFICE OF THE GENERAL COUNSEL | DEPUTY GENERAL COUNSEL
|  | COUNSEL, MILITARY SEALIFT COMMAND
|  | ASSISTANT GENERAL COUNSEL (ENERGY, INSTALLATIONS, AND ENVIRONMENT)
|  | DEPUTY COUNSEL NAVAL SEA SYSTEMS COMMAND
|  | ASSISTANT GENERAL COUNSEL (INTELLIGENCE)
|  | COUNSEL, STRATEGIC SYSTEMS PROGRAM
|  | PRINCIPAL DEPUTY GENERAL COUNSEL
|  | ASSOCIATIE GENERAL COUNSEL (LITIGATION)/DIRECTOR, NAVY LITIGATION OFFICE
|  | ASSISTANT GENERAL COUNSEL (ACQUISITION INTEGRITY)
|  | SPECIAL COUNSEL FOR LITIGATION
| OFFICE OF THE NAVAL INSPECTOR GENERAL | DEPUTY NAVAL INSPECTOR GENERAL
|  | DEPUTY INSPECTOR GENERAL OF THE MARINE CORPS
| OFFICE OF THE UNDER SECRETARY OF THE NAVY | SENIOR DIRECTOR, INTEGRATION SUPPORT DIRECTORATE
|  | SENIOR DIRECTOR FOR SECURITY AND INTELLIGENCE
|  | PRINCIPAL DIRECTOR DEPUTY UNDER SECRETARY OF THE NAVY (POLICY)
|  | DIRECTOR FOR BUSINESS REFORM AND DIRECTOR, OFFICE OF THE CHIEF MANAGEMENT OFFICE
OFFICE OF THE UNDER SECRETARY OF THE NAVY | OFFICE OF THE AUDITOR GENERAL | AUDITOR GENERAL OF THE NAVY
UNITED STATES MARINE CORPS HEADQUARTERS OFFICE | MARINE FORCES PACIFIC, HAWAII | EXECUTIVE DIRECTOR, MARINE FORCES PACIFIC
OFFICE OF THE SECRETARY OF DEFENSE OFFICE OF THE INSPECTOR GENERAL
DEPUTY INSPECTOR GENERAL FOR AUDITING | OFFICE OF THE PRINCIPAL DEPUTY INSPECTOR GENERAL FOR AUDITING | PRINCIPAL ASSISTANT INSPECTOR GENERAL FOR AUDITING
OFFICE OF THE INSPECTOR GENERAL | DIVERSITY AND INCLUSION AND EXTREMISM IN THE MILITARY (DIEM) | DEPUTY INSPECTOR GENERAL FOR DIVERSITY AND INCLUSION AND EXTREMISM IN THE MILITARY
OFFICE OF THE SECRETARY OF DEFENSE OFFICE OF THE INSPECTOR GENERAL | DEPUTY INSPECTOR GENERAL FOR ADMINISTRATIVE INVESTIGATIONS | PRINCIPAL ASSISTANT INSPECTOR GENERAL FOR ADMINISTRATIVE INVESTIGATIONS
| DEPUTY INSPECTOR GENERAL ADMINISTRATIVE INVESTIGATIONS
| DEPUTY INSPECTOR GENERAL FOR AUDITING | ASSISTANT INSPECTOR GENERAL FOR READINESS AND CYBER OPERATIONS
|  | ASSISTANT INSPECTOR GENERAL FOR ACQUISITION AND SUSTAINMENT MANAGEMENT
|  | ASSISTANT INSPECTOR GENERAL FOR FINANCIAL MANAGEMENT AND REPORTING
|  | DEPUTY INSPECTOR GENERAL FOR AUDIT (2)
|  | ASSISTANT INSPECTOR GENERAL FOR READINESS AND GLOBAL OPERATIONS
| DEPUTY INSPECTOR GENERAL FOR EVALUATIONS | ASSISTANT INSPECTOR GENERAL FOR INVESTIGATIONS, INTERNAL OPERATIONS
|  | DEPUTY INSPECTOR GENERAL FOR EVALUATIONS
|  | ASSISTANT INSPECTOR GENERAL FOR PROGRAM, COMBATANT COMMAND (COCOM), AND OVERSEAS CONTINGENCY OPERATIONS (OCO)
|  | ASSISTANT INSPECTOR GENERAL FOR SPACE, INTELLIGENCE, ENGINEERING, AND OVERSIGHT
| DEPUTY INSPECTOR GENERAL FOR INVESTIGATIONS | DEPUTY INSPECTOR GENERAL FOR INVESTIGATIONS
|  | ASSISTANT INSPECTOR GENERAL FOR INVESTIGATIONS/INVESTIGATIVE OPERATIONS
|  | DEPUTY DIRECTOR DEFENSE CRIMINAL INVESTIGATIVE SERVICE
| OFFICE OF THE GENERAL COUNSEL | GENERAL COUNSEL
|  | PRINCIPAL DEPUTY GENERAL COUNSEL
| OFFICE OF THE INSPECTOR GENERAL | CHIEF INFORMATION OFFICER
|  | ASSISTANT INSPECTOR GENERAL FOR LEGISLATIVE AFFAIRS AND COMMUNICATIONS
|  | ASSISTANT INSPECTOR GENERAL FOR STRATEGIC PLANNING AND PERFORMANCE
|  | ASSISTANT INSPECTOR GENERAL FOR DATA ANAYTICS
|  | DEPUTY INSPECTOR GENERAL FOR OVERSEAS CONTINGENCY OPERATIONS
|  | DEPUTY CHIEF OF STAFF
|  | PRINCIPAL DEPUTY INSPECTOR GENERAL
DEFENSE NUCLEAR FACILITIES SAFETY BOARD | DEFENSE NUCLEAR FACILITIES SAFETY BOARD | SPECIAL ASSISTANT TO THE CHAIRMAN
|  | ASSOCIATE TECHNICAL DIRECTOR FOR NUCLEAR PROGRAMS AND ANALYSIS
|  | ASSOCIATE TECHNICAL DIRECTOR FOR NUCLEAR WEAPON PROGRAMS
|  | ASSOCIATE TECHNICAL DIRECTOR FOR NUCLEAR MATERIALS PROCESSING AND STABILIZATION
|  | TECHNICAL DIRECTOR
|  | GENERAL MANAGER
|  | DEPUTY TECHNICAL DIRECTOR
|  | ASSOCIATE TECHNICAL DIRECTOR, NUCLEAR FACILITY INFRASTRUCTURE AND PROJECTS
|  | ASSOCIATE TECHNICAL DIRECTOR FOR FIELD OPERATIONS
DEPARTMENT OF EDUCATION
OFFICE OF THE SECRETARY | FEDERAL STUDENT AID | DIRECTOR, FINANCIAL MANAGEMENT SYSTEMS GROUP
|  | CHIEF FINANCIAL OFFICER
| INSTITUTE OF EDUCATION SCIENCES | ASSOCIATE COMMISSIONER, ASSESSMENTS DIVISION
| OFFICE FOR CIVIL RIGHTS | DEPUTY ASSISTANT SECRETARY FOR ENFORCEMENT
|  | ENFORCEMENT DIRECTOR (4)
|  | SENIOR LEGAL ADVISOR
| OFFICE OF FINANCIAL OPERATIONS | DEPUTY ASSISTANT SECRETARY FOR ACQUISITION AND GRANTS ADMINISTRATION
|  | DEPUTY ASSISTANT SECRETARY, SECURITY, FACILITIES AND LOGISTICAL SERVICES
|  | DEPUTY CHIEF HUMAN CAPITAL OFFICER
|  | DEPUTY ASSISTANT SECRETARY FOR HUMAN RESOURCES
|  | CHAIRPERSON, EDUCATION APPEAL BOARD
| OFFICE OF THE CHIEF FINANCIAL OFFICER | DIRECTOR, CONTRACTS AND ACQUISITIONS MANAGEMENT
|  | DEPUTY CHIEF FINANCIAL OFFICER, FINANCIAL MANAGEMENT
|  | DIRECTOR, FINANCIAL IMPROVEMENT AND POST AUDIT OPERATIONS
| OFFICE OF THE CHIEF INFORMATION OFFICER | DIRECTOR, INFORMATION ASSURANCE SERVICES AND CHIEF INFORMATION SECURITY OFFICER
|  | CHIEF INFORMATION OFFICER
| OFFICE OF THE GENERAL COUNSEL | ASSISTANT GENERAL COUNSEL, DIVISION OF POSTSECONDARY EDUCATION
|  | ASSISTANT GENERAL COUNSEL FOR BUSINESS AND ADMINISTRATION LAW
|  | ASSISTANT GENERAL COUNSEL FOR EDUCTIONAL EQUITY
DEPARTMENT OF EDUCATION OFFICE OF THE INSPECTOR GENERAL | OFFICE OF THE INSPECTOR GENERAL | DEPUTY ASSISTANT INSPECTOR GENERAL FOR TECHNOLOGY SERVICES
|  | DEPUTY ASSISTANT INSPECTOR GENERAL FOR AUDIT SERVICES
|  | DEPUTY ASSISTANT INSPECTOR GENERAL FOR INVESTIGATION SERVICES
|  | ASSISTANT INSPECTOR GENERAL FOR INVESTIGATION SERVICES
|  | ASSISTANT INSPECTOR GENERAL FOR TECHNOLOGY SERVICES
|  | ASSISTANT INSPECTOR GENERAL FOR MANAGEMENT SERVICES
|  | DEPUTY ASSISTANT INSPECTOR GENERAL FOR AUDIT SERVICES
|  | ASSISTANT INSPECTOR GENERAL FOR LEGAL SERVICES AND COUNSEL TO THE INSPECTOR GENERAL
|  | DEPUTY INSPECTOR GENERAL
|  | ASSISTANT INSPECTOR GENERAL FOR AUDIT SERVICES
DEPARTMENT OF ENERGY
ASSISTANT SECRETARY FOR ELECTRICITY | BONNEVILLE POWER ADMINISTRATION | VICE PRESIDENT, ENVIRONMENT, FISH AND WILDLIFE
|  | VICE PRESIDENT, NORTHWEST REQUIREMENTS MARKETING
|  | VICE PRESIDENT FOR TRANSMISSION FIELD SERVICES
|  | VICE PRESIDENT, PLANNING AND ASSET MANAGEMENT
|  | VICE PRESIDENT FOR ENGINEERING AND TECHNICAL SERVICES
|  | SENIOR VICE PRESIDENT FOR POWER SERVICES
|  | VICE PRESIDENT, TRANSMISSION MARKETING AND SALES
|  | CHIEF WORKFORCE AND STRATEGY OFFICER
|  | SENIOR VICE PRESIDENT TRANSMISSION SERVICES
|  | CHIEF OPERATING OFFICER
|  | VICE PRESIDENT, BULK MARKETING
|  | EXECUTIVE VICE PRESIDENT INFORMATION TECHNOLOGY AND CHIEF INFORMATION OFFICER
|  | EXECUTIVE VICE PRESIDENT AND CHIEF FINANCIAL OFFICER
|  | VICE PRESIDENT FOR GENERATION ASSET MANAGEMENT
|  | CHIEF ADMINISTRATIVE OFFICER
|  | EXECUTIVE VICE PRESIDENT, COMPLIANCE AND RISK MANAGEMENT
|  | VICE PRESIDENT TRANSMISSION SYSTEM OPERATIONS
|  | VICE PRESIDENT, ENERGY EFFICIENCY
|  | GENERAL COUNSEL/EXECUTIVE VICE PRESIDENT
| SOUTHWESTERN POWER ADMINISTRATION | DEPUTY ADMINISTRATOR, OFFICE OF POWER DELIVERY
| WESTERN AREA POWER ADMINISTRATION | TRANSMISSION INFRASTRUCTURE PROGRAM MANAGER
|  | DESERT SOUTHWEST REGIONAL MANAGER
|  | CHIEF INFORMATION OFFICER
|  | CHIEF ADMINISTRATIVE OFFICER
|  | CHIEF OPERATING OFFICER
|  | CHIEF FINANCIAL OFFICER
|  | GENERAL COUNSEL AND SENIOR VICE PRESIDENT
|  | REGIONAL MANAGER, UPPER GREAT PLAINS REGION
|  | REGIONAL MANAGER, ROCKY MOUNTAIN REGION
|  | REGIONAL MANAGER, SIERRA NEVADA REGION
ASSISTANT SECRETARY FOR ENVIRONMENTAL MANAGEMENT | ENVIRONMENTAL MANAGEMENT CONSOLIDATED BUSINESS CENTER | CHIEF COUNSEL
| SAVANNAH RIVER OPERATIONS OFFICE | DIRECTOR FOR SPECIAL PROJECTS
DEPARTMENT OF ENERGY | ADVANCED RESEARCH PROJECTS AGENCY—ENERGY | CHIEF COUNSEL
| ASSISTANT SECRETARY FOR ELECTRICITY | CHIEF OPERATING OFFICER
|  | DEPUTY ASSISTANT SECRETARY, ENERGY RESILIENCE
| ASSISTANT SECRETARY FOR ENERGY EFFICIENCY AND RENEWABLE ENERGY | SENIOR ADVISOR
|  | CHIEF COUNSEL, GOLDEN FIELD OFFICE
|  | DIRECTOR, OFFICE OF BUSINESS SERVICES MANAGEMENT
| ASSISTANT SECRETARY FOR ENVIRONMENTAL MANAGEMENT | MANAGER, IDAHO CLEANUP PROJECT
|  | SENIOR PROJECT MANAGEMENT ADVISOR FOR CORPORATE SERVICES
|  | SENIOR ADVISOR (2)
|  | DIRECTOR FOR REGULATORY, INTERGOVERNMENTAL AND STAKEHOLDER ENGAGEMENT
|  | SENIOR ADVISOR FOR ENVIRONMENTAL MANAGEMENT
|  | SITE MANAGER, OAK RIDGE OFFICE OF ENVIRONMENTAL MANAGEMENT
|  | DEPUTY MANAGER, IDAHO CLEANUP PROJECT
| ASSISTANT SECRETARY FOR FOSSIL ENERGY | DIRECTOR FOR ARTIFICIAL INTELLIGENCE AND SPECIAL PROJECTS
|  | ASSOCIATE LABORATORY DIRECTOR FOR RESEARCH AND INNOVATION
|  | DEPUTY DIRECTOR AND CHIEF TECHNOLOGY OFFICER
|  | CHIEF INFORMATION OFFICER AND CHIEF SECURITY OFFICER
|  | DIRECTOR, CARBON MANAGEMENT TECHNOLOGIES
|  | DEPUTY DIRECTOR AND CHIEF RESEARCH OFFICER
|  | CHIEF OPERATING OFFICER AND DIRECTOR FOR LABORATORY OPERATIONS
|  | EXECUTIVE DIRECTOR, FINANCE, ACQUISITION AND CHIEF FINANCIAL OFFICER
|  | PROJECT MANAGER, STRATEGIC PETROLEUM RESERVE
|  | CHIEF COUNSEL
| ASSISTANT SECRETARY FOR INTERNATIONAL AFFAIRS | DEPUTY ASSISTANT SECRETARY FOR ASIA AND THE AMERICAS
|  | DEPUTY ASSISTANT SECRETARY FOR EUROPE, EURASIA, AFRICA AND THE MIDDLE EAST
| ASSISTANT SECRETARY FOR NUCLEAR ENERGY | ASSOCIATE DEPUTY ASSISTANT SECRETARY FOR NUCLEAR INFRASTRUCTURE PROGRAMS
|  | ASSOCIATE DEPUTY ASSISTANT SECRETARY FOR REACTOR FLEET AND ADVANCED REACTOR DEPLOYMENT
|  | PROGRAM DIRECTOR, VERSATILE TEST REACTOR PROJECT
|  | DEPUTY ASSISTANT SECRETARY, SPENT FUEL AND WASTE DISPOSITION
|  | DEPUTY MANAGER FOR NUCLEAR ENERGY FACILITIES AND OPERATIONS
|  | CHIEF OPERATING OFFICER
|  | DIRECTOR OFFICE OF USED NUCLEAR FUEL DISPOSITION RESEARCH AND DEVELOPMENT
|  | ASSOCIATE DEPUTY ASSISTANT SECRETARY FOR NUCLEAR FUEL CYCLE AND SUPPLY
| ASSOCIATE UNDER SECRETARY FOR ENVIRONMENT, HEALTH, SAFETY AND SECURITY | DIRECTOR, OFFICE OF NUCLEAR SAFETY
|  | DIRECTOR, OFFICE OF ENVIRONMENTAL PROTECTION SUSTAINIABILITY
|  | DEPUTY DIRECTOR FOR SECURITY
| IDAHO OPERATIONS OFFICE | MANAGER, IDAHO OPERATIONS OFFICE
|  | DEPUTY MANAGER FOR NUCLEAR ENERGY PROGRAM SUPPORT AND EXECUTION
| LOAN PROGRAMS OFFICE | DIRECTOR, LOAN ORIGINATION DIVISION
|  | SENIOR ADVISOR
|  | DIRECTOR, RISK MANAGEMENT
|  | CHIEF COUNSEL
|  | DIRECTOR,PORTFOLIO MANAGEMENT DIVISION
| NATIONAL NUCLEAR SECURITY ADMINISTRATION | DEPUTY DIRECTOR, INSTRUMENTATION AND CONTROL DIVISION
|  | MANAGER, LIVERMORE FIELD OFFICE
|  | MANAGER, SANDIA FIELD OFFICE
|  | FEDERAL PROJECT DIRECTOR, CHEMISTRY AND METALLURGY RESEARCH REPLACEMENT FACILITY
|  | DEPUTY ASSOCIATE ADMINISTRATOR FOR ENTERPRISE STEWARDSHIP
|  | DIRECTOR, OFFICE OF NUCLEAR INCIDENT RESPONSE
|  | DEPUTY ASSOCIATE ADMINISTRATOR FOR SAFETY
|  | ASSOCIATE DEPUTY ADMINISTRATOR FOR SECURE TRANSPORTATION
|  | ASSOCIATE PRINCIPAL DEPUTY ADMINISTRATOR
|  | DIRECTOR, OFFICE OF COST ESTIMATING AND PROGRAM EVALUATION
|  | ASSISTANT DEPUTY ADMINISTRATOR, FOR GLOBAL MATERIAL SECURITY
|  | ASSOCIATE ASSISTANT DEPUTY ADMINISTRATOR, FOR GLOBAL MATERIAL SECURITY
|  | ASSOCIATE ADMINISTRATOR FOR SAFETY INFRASTRUCTURE AND OPERATIONS
|  | PRINCIPAL DEPUTY ASSOCIATE ADMINISTRATOR FOR SAFETY INFRASTRUCTURE AND OPERATIONS
|  | ASSOCIATE ADMINISTRATOR FOR INFORMATION MANAGEMENT AND CHIEF INFORMATION OFFICER
|  | ASSISTANT DEPUTY ADMINISTRATOR FOR STRATEGIC PARTNERSHIP PROGRAMS
|  | DEPUTY MANAGER, Y-12
|  | ADA (OFFICE OF MATERIAL MANAGEMENT AND MINIMIZATION)
|  | DIRECTOR, MANAGEMENT AND ADMINISTRATION
|  | DIRECTOR, REGULATORY AFFAIRS
|  | ASSOCIATE ASSISTANT DEPUTY ADMNISTRATOR FOR MATERIAL MANAGEMENT AND MINIMIZATION
|  | DIRECTOR, OFFICE OF EXPERIMENTAL SCIENCES
|  | DADA FOR PRODUCTION MODERNIZATION
|  | PRINCIPAL ASSISTANT DEPUTY ADMINISTRATOR FOR ENTERPRISE CAPABILITIES
|  | DEPUTY ASSISTANT DEPUTY ADMINISTRATOR FOR STOCKPILE MANAGEMENT
|  | DADA FOR RESEARCH, TEST AND EVALUATION
|  | ADA FOR NONPROLIFERATION AND ARMS CONTROL
|  | SENIOR ADVISOR
|  | DIRECTOR, AUKUS TECHNICAL EXCHANGE PROGRAMS DIVISION
| OAK RIDGE OFFICE | SITE MANAGER, THOMAS JEFFERSON NATIONAL ACCELERATOR FACILITY
|  | SITE MANAGER, ORNL SITE OFFICE
| OFFICE OF CYBERSECURITY, ENERGY SECURITY AND EMERGENCY RESPONSE | DIRECTOR, OFFICE OF CYBERSECURITY, ENERGY SECURITY AND EMERGENCY RESPONSE
|  | DEPUTY DIRECTOR FOR RESPONSE AND RESTORATION
|  | DEPUTY DIRECTOR PREPAREDNESS, POLICY, AND RISK ANALYSIS
| OFFICE OF ENTERPRISE ASSESSMENTS | DIRECTOR, OFFICE OF ENVIRONMENT, SAFETY AND HEALTH ASSESSMENTS
|  | DEPUTY DIRECTOR, OFFICE OF ENTERPRISE ASSESSMENTS
| OFFICE OF GENERAL COUNSEL | ASSISTANT GENERAL COUNSEL FOR PROCUREMENT AND FINANCIAL ASSISTANCE
|  | ASSISTANT GENERAL COUNSEL FOR TECHNOLOGY TRANSFER AND INTELLECTUAL PROPERTY
|  | DEPUTY GENERAL COUNSEL FOR TRANSACTIONS, TECHNOLOGY, AND CONTRACTOR HUMAN RESOURCES
|  | ASSISTANT GENERAL COUNSEL FOR ENFORCEMENT
|  | ASSISTANT GENERAL COUNSEL FOR CLEAN ENERGY DEMONSTRATIONS
|  | ASSISTANT GENERAL COUNSEL FOR ETHICS AND PERSONNEL LAW
|  | ASSOCIATE GENERAL COUNSEL
| OFFICE OF HEARINGS AND APPEALS | DIRECTOR, HEARINGS AND APPEALS (CHIEF ADMINISTRATIVE JUDGE)
|  | DEPUTY DIRECTOR, HEARINGS AND APPEALS (DEPUTY CHIEF ADMINISTRATIVE JUDGE)
| OFFICE OF INTELLIGENCE AND COUNTERINTELLIGENCE | DEPUTY DIRECTOR FOR CYBER INTELLIGENCE
|  | DIRECTOR OFFICE OF INTELLIGENCE AND COUNTER-INTELLIGENCE
|  | DEPUTY DIRECTOR FOR COUNTER-INTELLIGENCE
|  | PRINCIPAL DEPUTY DIRECTOR, OFFICE OF INTELLIGENCE AND COUNTER-INTELLIGENCE
|  | DEPUTY DIRECTOR FOR INTELLIGENCE ANALYSIS
| OFFICE OF MANAGEMENT | DIRECTOR, OFFICE OF ADMINISTRATION
|  | DIRECTOR, OFFICE OF ACQUISITION MANAGEMENT
|  | DIRECTOR, OFFICE OF THE OMBUDSMAN
|  | DIRECTOR, OFFICE OF HEADQUARTERS PROCUREMENT SERVICES
|  | DIRECTOR,OFFICE OF POLICY
| OFFICE OF POLICY | PRINCIPAL DEPUTY DIRECTOR
| OFFICE OF PROJECT MANAGEMENT OVERSIGHT AND ASSESSMENTS | DEPUTY DIRECTOR, OFFICE OF PROJECT MANAGEMENT OVERSIGHT AND ASSESSMENTS
| OFFICE OF SCIENCE | SITE OFFICE MANAGER, BROOKHAVEN
|  | DIRECTOR OFFICE OF SCIENTIFIC AND TECHNICAL INFORMATION
|  | SITE OFFICE MANAGER, FERMI
|  | SITE OFFICE MANAGER, ARGONNE
|  | SITE OFFICE MANAGER, PRINCETON
|  | MANAGER
|  | ASSISTANT MANAGER, GRANTS AND COOPERATIVE AGREEMENTS
|  | ASSISTANT MANAGER FOR RESERVATION MANAGEMENT
|  | SENIOR TECHNICAL ADVISOR
|  | SENIOR ADVISOR
|  | DIRECTOR OFFICE OF INFORMATION MANAGEMENT
|  | OAK RIDGE NATIONAL LABORATORY DEPUTY SITE OFFICE MANAGER
|  | BERKELEY SITE OFFICE MANAGER
|  | SLAC SITE OFFICE MANAGER
|  | CHIEF COUNSEL
| OFFICE OF THE CHIEF HUMAN CAPITAL OFFICER | DEPUTY DIRECTOR, OFFICE OF HUMAN RESOURCES OPERATIONS AND COMPENSATION
|  | DIRECTOR, OFFICE OF POLICY, LABOR AND EMPLOYEE RELATIONS
|  | DEPUTY CHIEF HUMAN CAPITAL OFFICER
|  | DIRECTOR, OFFICE OF CORPORATE EXECUTIVE MANAGEMENT
|  | DIRECTOR, OFFICE OF RECRUITMENT AND ADVISORY SERVICES
|  | PROGRAM DIRECTOR FOR HUMAN CAPITAL AND ENERGY HIRING INITIATIVES
|  | DEPUTY DIRECTOR FOR TALENT MANAGEMENT
|  | DIRECTOR, OFFICE OF HUMAN RESOURCES OPERATIONS AND COMPENSATION
|  | SENIOR ADVISOR
|  | DIRECTOR, HUMAN RESOURCES SERVICE CENTER
|  | DIRECTOR, OAK RIDGE HUMAN RESOURCES SHARED SERVICE CENTER
|  | DIRECTOR, OFFICE OF TALENT MANAGEMENT
|  | DIRECTOR, OFFICE OF BUSINESS OPERATIONS
| OFFICE OF THE DEPUTY SECRETARY | SENIOR ADVISOR
| UNITED STATES ENERGY INFORMATION ADMINISTRATION | DEPUTY ADMINISTRATOR ENERGY INFORMATION ADMINISTRATION
|  | DIRECTOR, OFFICE OF ENERGY CONSUMPTION AND EFFICIENCY STATISTICS
|  | ASSISTANT ADMINISTRATOR FOR ENERGY STATISTICS
|  | ASSISTANT ADMINISTRATOR FOR RESOURCES AND TECHNOLOGY MANAGEMENT
|  | SENIOR ADVISOR FOR CONSUMPTION ANALYSIS
|  | DIRECTOR, OFFICE OF ENERGY PRODUCTION, CONVERSION AND DELIVERY
|  | DIRECTOR OFFICE OF INTEGRATED AND INTERNATIONAL ENERGY ANALYSIS
|  | ASSISTANT ADMINISTRATOR FOR ENERGY ANALYSIS
|  | DIRECTOR, OFFICE OF SURVEY OPERATIONS
|  | DIRECTOR, OFFICE OF STATISTICAL METHODS AND RESEARCH
|  | DIRECTOR, OFFICE OF LONG-TERM ENERGY MODELING
|  | DIRECTOR, OFFICE OF ENERGY PRODUCTION AND MARKETS ANALYSIS
|  | DIRECTOR, OFFICE OF INFORMATION TECHNOLOGY (CIO)
NATIONAL NUCLEAR SECURITY ADMINISTRATION | ASSOCIATE ADMINISTRATOR FOR DEFENSE NUCLEAR SECURITY | DEPUTY ASSOCIATE ADMINISTRATOR FOR DEFENSE NUCLEAR SECURITY
|  | ASSOCIATE ADMINISTRATOR FOR DEFENSE NUCLEAR SECURITY AND CHIEF OF DEFENSE NUCLEAR SECURITY
| ASSOCIATE ADMINISTRATOR FOR EMERGENCY OPERATIONS | ASSOCIATE ADMINISTRATOR FOR EMERGENCY OPERATIONS
| ASSOCIATE ADMINISTRATOR FOR ENVIRONMENT, SAFETY AND HEALTH | ASSOCIATE ADMINISTRATOR, ENVIRONMENT, SAFETY AND HEALTH
| ASSOCIATE ADMINISTRATOR FOR INFRASTRUCTURE | DIRECTOR, OFFICE OF ENTERPRISE PROJECT MANAGEMENT
|  | ASSOCIATE ADMINISTRATOR FOR ACQUISITION AND PROJECT MANAGEMENT
|  | DEPUTY ASSOCIATE ADMINISTRATOR FOR ACQUISITION AND PROJECT MANAGEMENT
|  | FEDERAL PROJECT DIRECTOR (URANIUM PROCESSING FACILITY)
|  | FEDERAL PROJECT DIRECTOR (MOX)
|  | DIRECTOR, ACQUISITION MANAGEMENT
| DEPUTY ADMINISTRATOR FOR DEFENSE NUCLEAR NON-PROLIFERATION | ASSOCIATE ASSISTANT DEPUTY ADMINISTRATOR, OFFICE OF NONPROLIFERATION AND ARMS CONTROL
|  | AADA ADMINISTRATOR FOR DEFENSE NUCLEAR NONPROLIFERATION RESEARCH AND DEVELOPMENT
|  | ASSISTANT DEPUTY ADMINISTRATOR FOR NONPROLIFERATION RESEARCH AND DEVELOPMENT
|  | PRINCIPAL ASSISTANT DEPUTY ADMINISTRATOR
| DEPUTY ADMINISTRATOR FOR DEFENSE PROGRAMS | MANAGER, KANSAS CITY FIELD OFFICE
|  | PRINCIPAL DEPUTY ASSISTANT DEPUTY ADMINSTRATOR FOR SECURE TRANSPORTATION
|  | MANAGER, NEVADA FIELD OFFICE
|  | PRINCIPAL ASSISTANT DEPUTY ADMINISTATOR FOR STOCKPILE SUSTAINMENT
|  | ASSISTANT DEPUTY ADMINISTRATOR FOR STOCKPILE MANAGEMENT
|  | ADA FOR RESEARCH, DEVELOPMENT, TEST AND EVALUATION
|  | ADA FOR PRODUCTION MODERNIZATION PROGRAMS
|  | ASSISTANT DEPUTY ADMINISTRATOR FOR SYSTEMS ENGINEERING AND INTEGRATION
|  | DIRECTOR, OFFICE OF STOCKPILE MODERNIZATION
| DEPUTY ADMINISTRATOR FOR NAVAL REACTORS | PROGRAM MANAGER, VA CLASS SUBS AND US/UK TECHNOLOGY EXCHANGE
|  | DIRECTOR, GOVERNMENTAL AFFAIRS
|  | DIRECTOR, ACQUISITION DIVISION
|  | SENIOR NAVAL REACTOS REPRESENTATIVE (PUGET SOUND NAVAL SHIP)
|  | PROGRAM MANAGER, ADVANCED TECHNOLOGY DEVELOPMENT
|  | PROGRAM MANAGER, NEW SHIP DESIGN
|  | ASSISTANT MANAGER FOR OPERATIONS
|  | DEPUTY DIRECTOR, NUCLEAR TECHNOLOGY DIVISION
|  | SENIOR NAVAL REACTORS REPRESENTATIVE (NEWPORT NEWS, VA)
|  | DIRECTOR, INFORMATION TECHNOLOGY MANAGEMENT
|  | PROGRAM MANAGER FOR SURFACE SHIP NUCLEAR PROPULSION
|  | MANAGER, NAVAL REACTORS LABORATORY FIELD OFFICE
|  | DIRECTOR, REACTOR ENGINEERING DIVISION
|  | DIRECTOR NUCLEAR TECHNOLOGY DIVISION
|  | DIRECTOR, INSTRUMENTATION AND CONTROL DIVISION
|  | DIRECTOR, COMMISSIONED SUBMARINE SYSTEMS DIVISION
|  | ASSISTANT MANAGER FOR OPERATIONS
|  | DEPUTY DIRECTOR, ADVANCED SUBMARINE SYSTEMS DIVISION
|  | PROGRAM MANAGER, PROTOTYPE AND MOORED TRAINING SHIP OPERATIONS AND INACTIVATION PROGRAM
|  | DEPUTY DIRECTOR FOR NAVAL REACTORS
|  | DIRECTOR ADVANCED SUBMARINE SYSTEMS DIVISION
| DEPUTY UNDER SECRETARY FOR COUNTER-TERRORISM AND COUNTER-PROLIFERATION | ASSOCIATE ADMINISTRATOR/DEPUTY UNDER SECRETARY FOR COUNTERTERRORISM AND COUNTER-PROLIFERATION
|  | DEPUTY ASSOCIATE ADMINISTRATOR FOR COUNTERTERRORISM AND COUNTER-PROLIFERATION
| NATIONAL NUCLEAR SECURITY ADMINISTRATION FIELD SITE OFFICES | DEPUTY MANAGER SANDIA FIELD OFFICE
|  | DEPUTY MANAGER, NNSA PRODUCTION OFFICE-PANTEX
|  | MANAGER, SAVANNAH RIVER FIELD OFFICE
|  | DEPUTY MANAGER SAVANNAH RIVER FIELD OFFICE
|  | DEPUTY MANAGER FOR BUSINESS, SECURITY AND MISSIONS
|  | DEPUTY ASSISTANT DEPUTY ADMINISTRATOR FOR PRODUCTION MODERNIZATION
|  | MANAGER NNSA PRODUCTION OFFICE
|  | MANAGER, LOS ALAMOS FIELD OFFICE
|  | DEPUTY MANAGER, LIVERMORE FIELD OFFICE
|  | DEPUTY MANAGER, NEVADA FIELD OFFICE
| OFFICE OF MANAGEMENT AND BUDGET | ASSOCIATE ADMINISTRATOR FOR MANAGEMENT AND BUDGET
|  | DEPUTY ASSOCIATE ADMINISTRATOR FOR FINANCIAL MANAGEMENT
|  | DEPUTY ASSOCIATE ADMINISTRATOR MANAGEMENT
|  | DIRECTOR, OFFICE OF HUMAN RESOURCES
|  | DIRECTOR, FINANCIAL INTEGRATION AND BUDGET DEPUTY
| OFFICE OF THE GENERAL COUNSEL | DEPUTY GENERAL COUNSEL FOR PROCUREMENT, IP AND TECHNICAL TRANSFER
|  | GENERAL COUNSEL
OFFICE OF THE DEPUTY SECRETARY | OFFICE OF THE CHIEF FINANCIAL OFFICER | DIRECTOR, OFFICE OF BUDGET
|  | DEPUTY DIRECTOR, BUDGET OPERATIONS
|  | DEPUTY DIRECTOR, FINANCIAL REPORTING AND BUSINESS ANALYSIS
|  | DIRECTOR, OFFICE OF FINANCE AND ACCOUNTING
|  | DEPUTY DIRECTOR, FINANCIAL OPERATIONS
|  | DEPUTY DIRECTOR, BUDGET FORMULATION
|  | DEPUTY CHIEF FINANCIAL OFFICER
|  | DIRECTOR OF CORPORATE BUSINESS SYSTEMS
|  | DEPUTY FOR CORPORATE BUSINESS SYSTEMS
OFFICE OF THE SECRETARY | UNDER SECRETARY FOR SCIENCE | SENIOR ADVISOR FOR ENVIRONMENTAL MANAGEMENT TO THE UNDER SECRETARY FOR SCIENCE
UNDER SECRETARY OF ENERGY | FEDERAL ENERGY MANAGEMENT PROGRAM | DIRECTOR, FEDERAL EMERGENCY MANAGEMENT PROGRAM
| GRID DEPLOYMENT OFFICE | DEPUTY DIRECTOR, GRID MODERNIZATION
|  | PRINCIPAL DEPUTY DIRECTOR, GRID DEPLOYMENT OFFICE
| OFFICE OF CLEAN ENERGY DEMONSTRATIONS | DEPUTY DIRECTOR OF PROJECT MANAGEMENT
|  | DEPUTY DIRECTOR FOR TECHNICAL AND ENGINEERING SUPPORT
|  | DEPUTY DIRECTOR OF CONTRACTS AND AWARDS
|  | DEPUTY DIRECTOR FOR OPERATIONS AND MANAGEMENT
|  | PRINCIPAL DEPUTY DIRECTOR, OFFICE OF CLEAN ENERGY DEMONSTRATIONS
|  | CHIEF OPERATING OFFICER
|  | DEPUTY DIRECTOR OF PORTFOLIO STRATEGY
|  | ASSOCIATE DIRECTOR OF PROJECT MANAGEMENT (HYDROGEN)
|  | ASSOCIATE DIRECTOR OF PROJECT MANAGEMENT (NUCLEAR TECHNOLOGIES)
|  | ASSOCIATE DIRECTOR OF PROJECT MANAGEMENT (RENEWABLES)
|  | ASSOCIATE DIRECTOR OF PROJECT MANAGEMENT (CARBON CAPTURE AND REMOVAL)
| OFFICE OF MANUFACTURING AND ENERGY SUPPLY CHAINS | PRINCIPAL DEPUTY DIRECTOR, OFFICE OF MANUFACTURING AND ENERGY SUPPLY CHAINS
| STATE AND COMMUNITY ENERGY PROGRAMS | ASSOCIATE DIRECTOR OF STATE AND COMMUNITY ENERGY PROGRAMS (SCEP)
DEPARTMENT OF ENERGY OFFICE OF THE INSPECTOR GENERAL | DEPARTMENT OF ENERGY OFFICE OF THE INSPECTOR GENERAL | SPECIAL COUNSEL FOR ADMINISTRATIVE REMEDIES
|  | DEPUTY INSPECTOR GENERAL
|  | DEPUTY ASSISTANT INSPECTOR GENERAL FOR INVESTIGATIONS
|  | CHIEF COUNSEL TO THE INSPECTOR GENERAL
|  | ASSISTANT INSPECTOR GENERAL FOR INVESTIGATIONS
|  | SENIOR COUNSEL, FOIA AND PRIVACY ACT OFFICER
|  | DEPUTY INSPECTOR GENERAL FOR MANAGEMENT AND ADMINISTRATION
|  | ASSISTANT INSPECTOR GENERAL FOR INSPECTIONS, INTELLIGENCE OVERSIGHT, AND SPECIAL PROJECTS
|  | DEPUTY ASSISTANT INSPECTOR GENERAL FOR AUDITS (WESTERN REGION)
|  | ASSISTANT INSPECTOR GENERAL FOR CYBER ASSESSMENTS AND DATA ANALYTICS
|  | ASSISTANT INSPECTOR GENERAL FOR AUDITS
|  | DEPUTY ASSISTANT INSPECTOR GENERAL FOR AUDITS (EASTERN REGION)
ENVIRONMENTAL PROTECTION AGENCY | OFFICE OF THE ASSISTANT ADMINISTRATOR FOR AIR AND RADIATION | DIRECTOR, INDOOR ENVIRONMENTS DIVISION
|  | DIRECTOR, TRANSPORTATION AND CLIMATE DIVISION
|  | DIRECTOR, TESTING AND ADVANCED TECHNOLOGY DIVISION
|  | DIRECTOR, CLEAN AIR MARKETS DIVISION
|  | DIRECTOR, OUTREACH AND INFORMATION DIVISION
|  | DIRECTOR, AIR QUALITY ASSESSMENT DIVISION
|  | DIRECTOR, CLIMATE CHANGE DIVISION
|  | DIRECTOR, RADIATION PROTECTION DIVISION
|  | DIRECTOR, ASSESSMENT AND STANDARDS DIVISION
|  | DIRECTOR, CLIMATE PROTECTION PARTNERSHIP DIVISION
|  | DIRECTOR, COMPLIANCE DIVISION
|  | DIRECTOR, AIR QUALITY POLICY DIVISION
|  | DIRECTOR, HEALTH AND ENVIRONMENTAL IMPACTS DIVISION
|  | DIRECTOR, SECTOR POLICIES AND PROGRAMS DIVISION
|  | DIRECTOR, STRATOSPHERIC PROTECTION DIVISION
| OFFICE OF THE ASSISTANT ADMINISTRATOR FOR CHEMICAL SAFETY AND POLLUTION PREVENTION | DIRECTOR, MISSION SUPPORT DIVISION
|  | DIRECTOR, EXISTING CHEMICAL RISK MANAGEMENT DIVISION
|  | DIRECTOR, PROJECT MANAGEMENT AND OPERATIONS DIVISION
|  | DIRECTOR, OFFICE OF PROGRAM SUPPORT
|  | DIRECTOR, DATA GATHERING AND ANALYSIS DIVISION
|  | DEPUTY DIRECTOR, OFFICE OF PROGRAM SUPPORT
|  | DIRECTOR, NEW CHEMICALS DIVISION
|  | DIRECTOR, EXISTING CHEMICALS RISK ASSESSMENT DIVISION
|  | DIRECTOR, BIOPESTICIDES AND POLLUTION PREVENTION DIVISION
|  | DIRECTOR, ANTIMICROBIALS DIVISION
|  | DIRECTOR, INFORMATION TECHNOLOGY AND RESOURCES MANAGEMENT DIVISION
|  | DIRECTOR, HEALTH EFFECTS DIVISION
|  | DIRECTOR, BIOLOGICAL AND ECONOMIC ANALYSIS DIVISION
|  | DIRECTOR, REGISTRATION DIVISION
|  | DIRECTOR, ENVIRONMENTAL FATE AND EFFECTS DIVISION
|  | DIRECTOR, PESTICIDE RE-EVALUATION DIVISION
| OFFICE OF THE ASSISTANT ADMINISTRATOR FOR ENFORCEMENT AND COMPLIANCE ASSURANCE | DIRECTOR, AIR ENFORCEMENT DIVISION
|  | DIRECTOR, MONITORING ASSISTANCE AND MEDIA PROGRAMS DIVISION
|  | DIRECTOR, OFFICE OF SITE REMEDIATION ENFORCEMENT
|  | DIRECTOR, OFFICE OF CIVIL ENFORCEMENT
|  | DEPUTY DIRECTOR, OFFICE OF CIVIL ENFORCEMENT
|  | DIRECTOR, OFFICE OF COMPLIANCE
|  | DIRECTOR, ENFORCEMENT TARGETING AND DATA DIVISION
|  | DEPUTY DIRECTOR, OFFICE OF COMPLIANCE
|  | DIRECTOR, OFFICE OF CRIMINAL ENFORCEMENT, FORENSICS AND TRAINING
|  | DEPUTY DIRECTOR, OFFICE OF SITE REMEDIATION ENFORCEMENT
|  | DIRECTOR, CRIMINAL INVESTIGATION DIVISION
|  | DEPUTY DIRECTOR, OFFICE OF CRIMINAL ENFORCEMENT, FORENSICS AND TRAINING
|  | DIRECTOR, NATIONAL ENFORCEMENT INVESTIGATIONS CENTER
|  | DIRECTOR, WATER ENFORCEMENT DIVISION
| OFFICE OF THE ASSISTANT ADMINISTRATOR FOR LAND AND EMERGENCY MANAGEMENT | DIRECTOR, MATERIALS RECOVERY AND WASTE MANAGEMENT DIVISION
|  | DIRECTOR, TECHNOLOGY INNOVATION AND FIELD SERVICES DIVISION
|  | DIRECTOR, PROGRAM IMPLEMENTATION AND INFORMATION DIVISION
|  | DIRECTOR, RESOURCES MANAGEMENT DIVISION
|  | DIRECTOR, ASSESSMENT AND REMEDIATION DIVISION
|  | DIRECTOR, RESOURCE CONSERVATION AND SUSTAINABILITY DIVISION
| OFFICE OF THE ASSISTANT ADMINISTRATOR FOR MISSION SUPPORT | DIRECTOR, OFFICE OF ACQUISITION SOLUTIONS
|  | DIRECTOR, OFFICE OF DIGITAL SERVICES AND TECHNICAL ARCHITECTURE
|  | ENVIRONMENTAL APPEALS JUDGE
|  | DIRECTOR, OFFICE OF RESOURCES AND BUSINESS OPERATIONS
|  | ENVIRONMENTAL APPEALS JUDGE
|  | DIRECTOR, OFFICE OF ADMINISTRATION AND RESOURCES MANAGEMENT (2)
|  | ENVIRONMENTAL APPEALS JUDGE (3)
|  | DEPUTY DIRECTOR, OFFICE OF ACQUISITION SOLUTIONS
|  | DIRECTOR, OFFICE OF GRANTS AND DEBARMENT
|  | DIRECTOR, OFFICE OF HUMAN RESOURCES
|  | DEPUTY DIRECTOR, OFFICE OF HUMAN RESOURCES
|  | DEPUTY DIRECTOR, OFFICE OF GRANTS AND DEBARMENT
|  | DEPUTY DIRECTOR, OFFICE OF ADMINISTRATION
|  | DIRECTOR, OFFICE OF ADMINISTRATION
| OFFICE OF THE ASSISTANT ADMINISTRATOR FOR RESEARCH AND DEVELOPMENT | DEPUTY DIRECTOR FOR MANAGEMENT
|  | DIRECTOR, PACIFIC ECOLOGICAL SYSTEMS DIVISION
|  | DIRECTOR, GULF ECOSYSTEM MEASUREMENT AND MODELING DIVISION
|  | DIRECTOR, CENTER FOR ENVIRONMENTAL MEASUREMENT AND MODELING
|  | DEPUTY DIRECTOR FOR MANAGEMENT
|  | DIRECTOR, OFFICE OF SCIENCE INFORMATION MANAGEMENT
|  | DIRECTOR, GREAT LAKES TOXICOLOGY AND ECOLOGY DIVISION
|  | DIRECTOR, OFFICE OF SCIENCE ADVISOR, POLICY AND ENGAGEMENT
|  | DIRECTOR, OFFICE OF RESOURCE MANAGEMENT
|  | DEPUTY DIRECTOR FOR MANAGEMENT (2)
|  | DIRECTOR, CENTER FOR ENVIRONMENTAL SOLUTIONS AND EMERGENCY RESPONSE
|  | DIRECTOR, ATLANTIC COASTAL ENVIRONMENTAL SCIENCES DIVISION
|  | DEPUTY DIRECTOR, OFFICE OF RESOURCE MANAGEMENT
|  | DIRECTOR, GROUNDWATER CHARACTER AND REMEDIATION DIVISION
|  | SENIOR ADVISOR
| OFFICE OF THE ASSISTANT ADMINISTRATOR FOR WATER | DIRECTOR, WATER INFRASTRUCTURE DIVISION
|  | DIRECTOR, OCEANS, WETLANDS AND COMMUNITIES' DIVISION
|  | DIRECTOR, WATERSHED RESTORATION, ASSESSMENT AND PROTECTION DIVISION
|  | DIRECTOR, DRINKING WATER CAPACITY AND COMPLIANCE ASSISTANCE DIVISION
|  | DIRECTOR, WATER INFRASTRUCTURE FINANCE AND INNOVATION ACT MANAGEMENT DIVISION
|  | DIRECTOR, ENGINEERING AND ANALYSIS DIVISION
|  | DIRECTOR, WATER PERMITS DIVISION
|  | DIRECTOR, DRINKING WATER PROTECTION DIVISION
|  | DIRECTOR, STANDARDS AND HEALTH PROTECTION DIVISION
|  | DIRECTOR, HEALTH AND ECOLOGICAL CRITERIA DIVISION
|  | DIRECTOR, STANDARDS AND RISK MANAGEMENT DIVISION
|  | ASSOCIATE CHIEF FINANCIAL OFFICER
|  | DIRECTOR, OFFICE OF TECHNOLOGY SOLUTIONS
|  | DEPUTY CHIEF FINANCIAL OFFICER
| OFFICE OF THE CHIEF FINANCIAL OFFICER | DIRECTOR, OFFICE OF PLANNING, ANALYSIS AND ACCOUNTABILITY
|  | DIRECTOR, OFFICE OF BUDGET
|  | CONTROLLER
|  | DEPUTY CONTROLLER
| OFFICE OF THE GENERAL COUNSEL | DIRECTOR, RESOURCES MANAGEMENT OFFICE
| REGION 1- BOSTON, MASSACHUSETTS | DIRECTOR, MISSION SUPPORT DIVISION
|  | REGIONAL COUNSEL
|  | DIRECTOR, WATER DIVISION
|  | DIRECTOR, SUPERFUND AND EMERGENCY MANAGEMENT DIVISION
|  | DIRECTOR, ENFORCEMENT AND COMPLIANCE ASSURANCE DIVISION
|  | DIRECTOR, AIR AND RADIATION DIVISION
|  | DIRECTOR, LAND, CHEMICALS AND REDEVELOPMENT DIVISION
| REGION 10—SEATTLE, WASHINGTON | DIRECTOR, LAND, CHEMICALS AND REDEVELOPMENT DIVISION
|  | REGIONAL COUNSEL
|  | DIRECTOR, MISSION SUPPORT DIVISION
|  | DIRECTOR, SUPERFUND AND EMERGENCY MANAGEMENT DIVISION
|  | DIRECTOR, WATER DIVISION
|  | DIRECTOR, ENFORCEMENT AND COMPLIANCE ASSURANCE DIVISION
|  | DIRECTOR, AIR AND RADIATION DIVISION
| REGION 2—NEW YORK, NEW YORK | DIRECTOR, ENFORCEMENT AND COMPLIANCE ASSISTANCE DIVISION
|  | DIRECTOR, CARIBBEAN ENVIRONMENTAL PROTECTION DIVISION
|  | DIRECTOR, LABORATORY SERVICES AND APPLIED SCIENCE DIVISION
|  | REGIONAL COUNSEL
|  | DIRECTOR, MISSION SUPPORT DIVISION
|  | DIRECTOR, SUPERFUND AND EMERGENCY MANAGEMENT DIVISION
|  | DIRECTOR, LAND, CHEMICALS AND REDEVELOPMENT DIVISION
|  | DIRECTOR, AIR AND RADIATION DIVISION
|  | DIRECTOR, WATER DIVISION
| REGION 3—PHILADELPHIA, PENNSYLVANIA | DIRECTOR, ENFORCEMENT AND COMPLIANCE ASSURANCE DIVISION
|  | DIRECTOR, SUPERFUND AND EMERGENCY MANAGEMENT DIVISION
|  | DIRECTOR, WATER DIVISION
|  | DIRECTOR, CHESAPEAKE BAY PROGRAM OFFICE
|  | REGIONAL COUNSEL
|  | DIRECTOR, MISSION SUPPORT DIVISION
|  | DIRECTOR, AIR AND RADIATION DIVISION
|  | DIRECTOR, LAND, CHEMICALS AND REDEVELOPMENT DIVISION
| REGION 4—ATLANTA, GEORGIA | DIRECTOR, LAND, CHEMICALS AND REDEVELOPMENT DIVISION
|  | DIRECTOR, LABORATORY SERVICES AND APPLIED SCIENCE DIVISION
|  | DIRECTOR, SUPERFUND AND EMERGENCY MANAGEMENT DIVISION
|  | DIRECTOR, MISSION SUPPORT DIVISION
|  | REGIONAL COUNSEL
|  | DIRECTOR, GULF OF MEXICO PROGRAM
|  | DIRECTOR, WATER DIVISION
|  | DIRECTOR, AIR AND RADIATION DIVISION
|  | DIRECTOR, ENFORCEMENT AND COMPLIANCE ASSURANCE DIVISION
| REGION 5—CHICAGO, ILLINOIS | DIRECTOR, ENFORCEMENT AND COMPLIANCE ASSURANCE DIVISION
|  | DIRECTOR, WATER DIVISION
|  | DIRECTOR, AIR AND RADIATION DIVISION
|  | DIRECTOR, GREAT LAKES NATIONAL PROGRAM OFFICE
|  | DIRECTOR, SUPERFUND AND EMERGENCY MANAGEMENT DIVISION
|  | REGIONAL COUNSEL
|  | DIRECTOR, LAND, CHEMICALS AND REDEVELOPMENT DIVISION
|  | DIRECTOR, MISSION SUPPORT DIVISION
| REGION 6—DALLAS, TEXAS | REGIONAL COUNSEL
|  | DIRECTOR, ENFORCEMENT AND COMPLIANCE ASSURANCE DIVISION
|  | DIRECTOR, SUPERFUND AND EMERGENCY MANAGEMENT DIVISION
|  | DIRECTOR, WATER DIVISION
|  | DIRECTOR, MISSION SUPPORT DIVISION
|  | DIRECTOR, LAND, CHEMICAL AND REDEVELOPMENT DIVISION
|  | DIRECTOR, AIR AND RADIATION DIVISION
| REGION 7—LENEXA, KANSAS | DIRECTOR, AIR AND RADIATION DIVISION
|  | DIRECTOR, ENFORCEMENT AND COMPLIANCE ASSURANCE DIVISION
|  | DIRECTOR, LAND, CHEMICAL AND REDEVELOPMENT DIVISION
|  | DIRECTOR, SUPERFUND AND EMERGENCY MANAGEMENT DIVISION
|  | DIRECTOR, WATER DIVISION
|  | REGIONAL COUNSEL
|  | DIRECTOR, MISSION SUPPORT DIVISION
|  | DIRECTOR, LABORATORY SERVICES AND APPLIED SCIENCE DIVISION
| REGION 8—DENVER, COLORADO | REGIONAL COUNSEL
|  | DIRECTOR, SUPERFUND AND EMERGENCY MANAGEMENT DIVISION
|  | DIRECTOR, MISSION SUPPORT DIVISION
|  | DIRECTOR, ENFORCEMENT AND COMPLIANCE ASSURANCE DIVISION
|  | DIRECTOR, AIR AND RADIATION DIVISION
|  | DIRECTOR, LAND, CHEMICALS AND REDEVELOPMENT DIVISION
|  | DIRECTOR, WATER DIVISION
| REGION 9—SAN FRANCISCO, CALIFORNIA | DIRECTOR, LAND, CHEMICALS AND REDEVELOPMENT DIVISION
|  | DIRECTOR, ENFORCEMENT AND COMPLIANCE ASSURANCE DIVISION
|  | DIRECTOR, TRIBAL, INTERGOVERNMENTAL AND POLICY DIVISION
|  | DIRECTOR, SUPERFUND AND EMERGENCY MANAGEMENT DIVISION
|  | DIRECTOR, AIR AND RADIATION DIVISION
|  | DIRECTOR, WATER DIVISION
|  | REGIONAL COUNSEL
|  | DIRECTOR, MISSION SUPPORT DIVISION
OFFICE OF THE ADMINISTRATOR | OFFICE OF ADMINISTRATIVE AND EXECUTIVE SERVICES | DIRECTOR, OFFICE OF EXECUTIVE SERVICES
| OFFICE OF ENVIRONMENTAL JUSTICE | DIRECTOR, OFFICE OF ENVIRONMENTAL JUSTICE
ENVIRONMENTAL PROTECTION AGENCY OFFICE OF THE INSPECTOR GENERAL | ENVIRONMENTAL PROTECTION AGENCY OFFICE OF THE INSPECTOR GENERAL | DEPUTY INSPECTOR GENERAL
|  | ASSISTANT INSPECTOR GENERAL FOR CONGRESSIONAL AND PUBLIC AFFAIRS
|  | COUNSEL TO THE INSPECTOR GENERAL
|  | ASSISTANT INSPECTOR GENERAL FOR AUDIT
|  | ASSISTANT INSPECTOR GENERAL FOR INVESTIGATIONS
|  | ASSOCIATE DEPUTY INSPECTOR GENERAL
|  | CHIEF TECHNOLOGY OFFICER
|  | ASSISTANT INSPECTOR GENERAL FOR OFFICE OF SPECIAL REVIEW AND EVALUATION
|  | CHIEF OF STAFF TO THE INSPECTOR GENERAL
|  | PRINCIPAL DEPUTY AIG FOR AUDITS
EQUAL EMPLOYMENT OPPORTUNITY COMMISSION | OFFICE OF INFORMATION TECHNOLOGY | DEPUTY CHIEF INFORMATION OFFICER
| OFFICE OF COMMUNICATIONS AND LEGISLATIVE AFFAIRS | ASSOCIATE DIRECTOR, OCLA
| OFFICE OF ENTERPRISE DATA AND ANALYTICS | DEPUTY CHIEF DATA OFFICER
| OFFICE OF FIELD PROGRAMS | DISTRICT DIRECTOR-(PHILADELPHIA)
|  | DISTRICT DIRECTOR-(NEW YORK)
|  | DISTRICT DIRECTOR-(ATLANTA)
|  | DISTRICT DIRECTOR-(HOUSTON)
|  | DISTRICT DIRECTOR (SAN FRANCISCO)
|  | DISTRICT DIRECTOR (DALLAS)
|  | DISTRICT DIRECTOR-(CHICAGO)
|  | DISTRICT DIRECTOR-(ST LOUIS)
|  | DISTRICT DIRECTOR (MIAMI)
|  | DISTRICT DIRECTOR-(INDIANAPOLIS)
|  | DISTRICT DIRECTOR (MEMPHIS)
|  | DISTRICT DIRECTOR (LOS ANGELES)
|  | DISTRICT DIRECTOR-(PHOENIX)
|  | DISTRICT DIRECTOR-(CHARLOTTE)
|  | DIRECTOR, INFORMATION INTAKE GROUP
|  | DISTRICT DIRECTOR (BIRMINGHAM)
| OFFICE OF THE CHAIR | DEPUTY CHIEF HUMAN CAPITAL OFFICER
|  | PROGRAM MANAGER
|  | DEPUTY CHIEF OPERATING OFFICER
| OFFICE OF THE CHIEF FINANCIAL OFFICER | DEPUTY CHIEF FINANCIAL OFFICER
| OFFICE OF THE CHIEF HUMAN CAPITAL OFFICER | CHIEF HUMAN CAPITAL OFFICER
| OFFICE OF THE INSPECTOR GENERAL | INSPECTOR GENERAL
OFFICE OF FIELD PROGRAMS | FIELD COORDINATION PROGRAMS | DIRECTOR, FIELD COORDINATION PROGRAMS
| FIELD MANAGEMENT PROGRAMS | DIRECTOR FIELD MANAGEMENT PROGRAMS
FEDERAL COMMUNICATIONS COMMISSION | MEDIA BUREAU | CHIEF, VIDEO DIVISION
| OFFICE OF INSPECTOR GENERAL | INSPECTOR GENERAL
FEDERAL ENERGY REGULATORY COMMISSION
OFFICE OF THE CHAIRMAN | OFFICE OF ADMINISTRATIVE LITIGATION | DIRECTOR, TECHNICAL DIVISION
|  | DIRECTOR, LEGAL DIVISION
| OFFICE OF ENERGY PROJECTS | DIRECTOR OF DAM SAFETY AND INSPECTION
| OFFICE OF ENFORCEMENT | CHIEF ACCOUNTANT AND DIRECTOR, DIVISION OF AUDITS AND ACCOUNTING
FEDERAL LABOR RELATIONS AUTHORITY | FEDERAL SERVICE IMPASSES PANEL | EXECUTIVE DIRECTOR, FEDERAL SERVICE IMPASSES PANEL
| OFFICE OF MEMBER | CHIEF COUNSEL (2)
| OFFICE OF THE CHAIRMAN | CHIEF COUNSEL
|  | SENIOR ADVISOR
|  | SOLICITOR
|  | DIRECTOR, POLICY AND PERFORMANCE MANAGEMENT
| OFFICE OF THE EXECUTIVE DIRECTOR | EXECUTIVE DIRECTOR
| OFFICE OF THE GENERAL COUNSEL | DEPUTY GENERAL COUNSEL (2)
OFFICE OF THE CHAIRMAN | OFFICE OF THE INSPECTOR GENERAL | INSPECTOR GENERAL
OFFICE OF THE GENERAL COUNSEL | OFFICE OF THE GENERAL COUNSEL REGIONAL OFFICES | REGIONAL DIRECTOR- DENVER
|  | REGIONAL DIRECTOR-BOSTON
|  | REGIONAL DIRECTOR-ATLANTA
|  | REGIONAL DIRECTOR-DALLAS
|  | REGIONAL DIRECTOR- CHICAGO ILLINOIS
|  | REGIONAL DIRECTOR- SAN FRANCISCO
|  | REGIONAL DIRECTOR-WASHINGTON, D.C.
FEDERAL LABOR RELATIONS AUTHORITY OFFICE OF INSPECTOR GENERAL | FEDERAL LABOR RELATIONS AUTHORITY OFFICE OF INSPECTOR GENERAL | INSPECTOR GENERAL
FEDERAL MARITIME COMMISSION | OFFICE OF THE MANAGING DIRECTOR | PROGRAM MANAGER
OFFICE OF THE MANAGING DIRECTOR | BUREAU OF ENFORCEMENT, INVESTIGATIONS, AND COMPLIANCE | DIRECTOR BUREAU OF ENFORCEMENT, INVESTIGATIONS, AND COMPLIANCE
| BUREAU OF TRADE ANALYSIS | INDUSTRY ECONOMIST
OFFICE OF THE MEMBERS | OFFICE OF THE INSPECTOR GENERAL | INSPECTOR GENERAL
FEDERAL MARITIME COMMISSION OFFICE OF THE INSPECTOR GENERAL | FEDERAL MARITIME COMMISSION OFFICE OF THE INSPECTOR GENERAL | INSPECTOR GENERAL
FEDERAL MEDIATION AND CONCILIATION SERVICE | FEDERAL MEDIATION AND CONCILIATION SERVICE | CHIEF OPERATING OFFICER
FEDERAL RETIREMENT THRIFT INVESTMENT BOARD | FEDERAL RETIREMENT THRIFT INVESTMENT BOARD | DIRECTOR OF PARTICIPANT SERVICES
|  | CHIEF FINANCIAL OFFICER
|  | DIRECTOR OF ENTERPRISE RISK MANAGEMENT
|  | CHIEF INFORMATION OFFICER
|  | DIRECTOR OF RESOURCE MANAGEMENT
|  | CHIEF OPERATING OFFICER
FEDERAL TRADE COMMISSION | BUREAU OF COMPETITION | DEPUTY DIRECTOR, BUREAU OF COMPETITION
| BUREAU OF CONSUMER PROTECTION | DEPUTY DIRECTOR, BUREAU OF CONSUMER PROTECTION
| BUREAU OF ECONOMICS | DEPUTY DIRECTOR FOR RESEARCH AND MANAGEMENT
| OFFICE OF EXECUTIVE DIRECTOR | CHIEF INFORMATION OFFICER
|  | DEPUTY EXECUTIVE DIRECTOR
| OFFICE OF THE GENERAL COUNSEL | PRINCIPAL DEPUTY GENERAL COUNSEL (2)
FEDERAL TRADE COMMISSION OFFICE OF THE INSPECTOR GENERAL | FEDERAL TRADE COMMISSION OFFICE OF THE INSPECTOR GENERAL | INSPECTOR GENERAL
GENERAL SERVICES ADMINISTRATION | FEDERAL ACQUISITION SERVICE | DIRECTOR, FEDERAL SYSTEMS INTEGRATION AND MANAGEMENT CENTER
|  | DEPUTY ASSISTANT COMMISSIONER FOR ACQUISITION
|  | DIRECTOR, INFORMATION TECHNOLOGY SERVICES
|  | DEPUTY ASSISTANT COMMISSIONER FOR CATEGORY MANAGEMENT
|  | ASSISTANT COMMISSIONER FOR SYSTEMS MANAGEMENT
|  | SENIOR ADVISOR FOR WORKPLACE PROGRAMS
|  | ASSISTANT COMMISSIONER FOR REGULATORY AND OVERSIGHT SYSTEMS
|  | DIRECTOR, CENTERS OF EXCELLENCE
|  | ASSISTANT COMMISSIONER FOR POLICY AND COMPLIANCE
|  | ASSISTANT COMMISSIONER FOR ASSISTED ACQUISITION SERVICES
|  | ASSISTANT COMMISSIONER FOR CUSTOMER AND STAKEHOLDER ENGAGEMENT
|  | ASSISTANT COMMISSIONER FOR TRAVEL, TRANSPORTATION AND LOGISTICS CATEGORIES
|  | ASSISTANT COMMISSIONER FOR GENERAL SUPPLIES AND SERVICES CATEGORIES
|  | DIRECTOR OF TRAVEL, EMPLOYEE RELOCATION, AND TRANSPORTATION
|  | DEPUTY ASSISTANT COMMISSIONER FOR GENERAL SUPPLIES AND SERVICES CATEGORIES
|  | DIRECTOR OF SUPPLY CHAIN MANAGEMENT
|  | DIRECTOR OF FLEET MANAGEMENT
|  | DIRECTOR, ENTERPRISE TECHNOLOGY SOLUTIONS
|  | DEPUTY ASSISTANT COMMISSIONER FOR INFORMATION TECHNOLOGY CATEGORY
|  | ASSISTANT COMMISSIONER FOR ENTERPRISE STRATEGY MANAGEMENT
|  | DIRECTOR, ACQUISITION OPERATIONS
|  | ASSISTANT COMMISSIONER FOR INFORMATION TECHNOLOGY CATEGORY
| OFFICE OF GOVERNMENTWIDE POLICY | DEPUTY ASSOCIATE ADMINISTRATOR FOR INFORMATION, INTEGRITY AND ACCESS
|  | DIRECTOR OF FEDERAL HIGH-PERFORMANCE GREEN BUILDINGS
|  | DIRECTOR OF GOVERNMENTWIDE ACQUISITION POLICY
|  | DEPUTY CHIEF ACQUISITION OFFICER AND SENIOR PROCUREMENT EXECUTIVE
|  | DEPUTY ASSOCIATE ADMINISTRATOR FOR ASSET AND TRANSPORTATION MANAGEMENT
|  | DEPUTY ASSOCIATE ADMINISTRATOR FOR REGULATION MANAGEMENT
|  | DEPUTY ASSOCIATE ADMINISTRATOR, SHARED SOLUTIONS AND PERFORMANCE IMPROVEMENT OFFICE
|  | DIRECTOR OF THE FEDERAL ACQUISITION INSTITUTE
| OFFICE OF GSA INFORMATION TECHNOLOGY | ASSOCIATE CHIEF INFORMATION OFFICER FOR CORPORATE INFORMATION TECHNOLOGY SERVICES
|  | DEPUTY ASSOCIATE CHIEF INFORMATION OFFICER
|  | ASSOCIATE CHIEF INFORMATION OFFICER FOR PUBLIC BUILDINGS INFORMATION TECHNOLOGY SERVICES
|  | CHIEF INFORMATION SECURITY OFFICER
|  | ASSOCIATE CHIEF INFORMATION OFFICER FOR ACQUISITION INFORMATION TECHNOLOGY SERVICES
|  | ASSOCIATE CHIEF INFORMATION OFFICER FOR DIGITAL INFRASTRUCTURE TECHNOLOGIES
|  | ASSOCIATE CHIEF INFORMATION OFFICER FOR ENTERPRISE PLANNING AND GOVERNANCE
| OFFICE OF HUMAN RESOURCES MANAGEMENT | CHIEF HUMAN CAPITAL OFFICER
|  | DIRECTOR, HUMAN RESOURCES SERVICES
|  | DEPUTY CHIEF HUMAN CAPITAL OFFICER
| OFFICE OF MISSION ASSURANCE | PRINCIPAL DEPUTY ASSOCIATE ADMINISTRATOR FOR MISSION ASSURANCE
|  | ASSOCIATE ADMINISTRATOR FOR MISSION ASSURANCE
| OFFICE OF THE CHIEF FINANCIAL OFFICER | DIRECTOR OF REGIONAL FINANCIAL SERVICES
|  | CHIEF FINANCIAL OFFICER
|  | DIRECTOR OF FINANCIAL MANAGEMENT
|  | DIRECTOR OF BUDGET
|  | DIRECTOR, OFFICE OF AUDIT MANAGEMENT AND ACCOUNTABILITY
|  | DIRECTOR, OFFICE OF ANALYTICS, PERFORMANCE AND IMPROVEMENT
|  | DEPUTY CHIEF FINANCIAL OFFICER
| PUBLIC BUILDINGS SERVICE | ASSISTANT COMMISSIONER FOR REAL PROPERTY UTILIZATION AND DISPOSAL
|  | ASSISTANT COMMISSIONER FOR PORTFOLIO MANAGEMENT AND CUSTOMER ENGAGEMENT
|  | ASSISTANT COMMISSIONER FOR ACQUISITION MANAGEMENT
|  | ASSISTANT COMMISSIONER FOR PROJECT DELIVERY
|  | ASSISTANT COMMISSIONER FOR LEASING
|  | ASSISTANT COMMISSIONER FOR FACILITIES MANAGEMENT AND SERVICES PROGRAMS
|  | CHIEF ARCHITECT
|  | SENIOR ADVISOR
|  | ASSISTANT COMMISSIONER, OFFICE OF STRATEGY AND ENGAGEMENT
REGIONAL ADMINISTRATORS | GREAT LAKES REGION | REGIONAL COMMISSIONER FOR PUBLIC BUILDINGS SERVICE
|  | REGIONAL COMMISSIONER FOR FEDERAL ACQUISITION SERVICE
| GREATER SOUTHWEST REGION | REGIONAL COMMISSIONER FOR PUBLIC BUILDINGS SERVICE
|  | REGIONAL COMMISSIONER FOR FEDERAL ACQUISITION SERVICE
| MID-ATLANTIC REGION | REGIONAL COMMISSIONER FOR FEDERAL ACQUISITION SERVICE
|  | REGIONAL COMMISSIONER FOR PUBLIC BUILDINGS SERVICE
| NATIONAL CAPITAL REGION | REGIONAL COMMISSIONER FOR PUBLIC BUILDINGS SERVICE
|  | REGIONAL COMMISSIONER FOR FEDERAL ACQUISITION SERVICE
|  | DIRECTOR FOR DESIGN AND CONSTRUCTION
|  | DIRECTOR OF FACILITIES MANAGEMENT AND SERVICES PROGRAMS
|  | DEPUTY DIRECTOR OF PORTFOLIO MANAGEMENT AND LEASING
|  | DIRECTOR OF PORTFOLIO MANAGEMENT AND REAL ESTATE
| NEW ENGLAND REGION | REGIONAL COMMISSIONER FOR FEDERAL ACQUISITION SERVICE
|  | REGIONAL COMMISSIONER FOR PUBLIC BUILDINGS SERVICE
| NORTHEAST AND CARIBBEAN REGION | REGIONAL COMMISSIONER FOR PUBLIC BUILDINGS SERVICE
|  | REGIONAL COMMISSIONER FOR FEDERAL ACQUISITION SERVICE
| NORTHWEST/ ARCTIC REGION | REGIONAL COMMISSIONER FOR FEDERAL ACQUISITION SERVICE
|  | REGIONAL COMMISSIONER FOR PUBLIC BUILDINGS SERVICE
| PACIFIC RIM REGION | REGIONAL COMMISSIONER FOR PUBLIC BUILDINGS SERVICE
|  | REGIONAL COMMISSIONER FOR FEDERAL ACQUISITION SERVICE
| ROCKY MOUNTAIN REGION | REGIONAL COMMISSIONER FOR FEDERAL ACQUISITION SERVICE
|  | REGIONAL COMMISSIONER FOR PUBLIC BUILDINGS SERVICE
| SOUTHEAST SUNBELT REGION | REGIONAL COMMISSIONER FOR PUBLIC BUILDINGS SERVICE
|  | REGIONAL COMMISSIONER FOR FEDERAL ACQUISITION SERVICE
| THE HEARTLAND REGION | REGIONAL COMMISSIONER FOR FEDERAL ACQUISITION SERVICE
|  | REGIONAL COMMISSIONER FOR PUBLIC BUILDINGS SERVICE
GENERAL SERVICES ADMINISTRATION OFFICE OF THE INSPECTOR GENERAL | GENERAL SERVICES ADMINISTRATION OFFICE OF THE INSPECTOR GENERAL | ASSISTANT INSPECTOR GENERAL FOR INSPECTIONS
|  | DEPUTY ASSISTANT INSPECTOR GENERAL FOR REAL PROPERTY AUDITS
|  | DEPUTY INSPECTOR GENERAL
|  | ASSISTANT INSPECTOR GENERAL FOR AUDITING
|  | DEPUTY ASSISTANT INSPECTOR GENERAL FOR ACQUISITION PROGRAMS AUDITS
|  | COUNSEL TO THE INSPECTOR GENERAL
|  | ASSISTANT INSPECTOR GENERAL FOR INVESTIGATIONS
|  | DEPUTY ASSISTANT INSPECTOR GENERAL FOR INVESTIGATIONS
|  | ASSISTANT INSPECTOR GENERAL FOR ADMINISTRATION
|  | ASSOCIATE INSPECTOR GENERAL
GULF COAST ECOSYSTEM RESTORATION COUNCIL | GULF COAST ECOSYSTEM RESTORATION COUNCIL | DEPUTY EXECUTIVE DIRECTOR AND DIRECTOR OF PROGRAMS
DEPARTMENT OF HEALTH AND HUMAN SERVICES
CENTERS FOR MEDICARE AND MEDICAID SERVICES | CENTER FOR CLINICAL STANDARDS AND QUALITY | DIRECTOR, QUALITY, SAFETY, AND OVERSIGHT GROUP
|  | DIRECTOR, INFORMATION SYSTEMS GROUP
|  | DIRECTOR, SURVEY AND OPERATIONS GROUP
|  | DEPUTY CENTER DIRECTOR
|  | DIRECTOR, IQUALITY IMPROVEMENT AND INNOVATION GROUP
|  | DEPUTY CENTER DIRECTOR
| CENTER FOR CONSUMER INFORMATION AND INSURANCE OVERSIGHT | DIRECTOR, MARKETPLACE INFORMATION TECHNOLOGY GROUP
|  | DEPUTY DIRECTOR FOR POLICY
|  | DEPUTY DIRECTOR FOR OPERATIONS
|  | DIRECTOR, PAYMENT POLICY AND FINANCIAL MANAGEMENT GROUP
|  | DIRECTOR, MARKETPLACE ELIGIBILITY AND ENROLLMENT GROUP
| CENTER FOR MEDICAID AND CHIP SERVICES | DEPUTY CENTER DIRECTOR (2)
|  | DIRECTOR, CHILDREN AND ADULTS HEALTH PROGRAMS GROUP
|  | DIRECTOR, MANAGED CARE GROUP
|  | DIRECTOR, FINANCIAL MANAGEMENT GROUP
|  | DIRECTOR, DATA AND SYSTEMS GROUP
|  | DIRECTOR, DISABLED AND ELDERLY HEALTH PROGRAMS GROUP
|  | DIRECTOR, MEDICAID AND CHIP OPERATIONS GROUP
|  | DIRECTOR, STATE DEMONSTRATIONS GROUP
| CENTER FOR MEDICARE | DIRECTOR, PERFORMANCE BASED PAYMENT POLICY GROUP
|  | DIRECTOR, COVERAGE AND ANALYSIS
|  | DIRECTOR, TECHNOLOGY, CODING AND PRICING GROUP
|  | DIRECTOR, CHRONIC CARE POLICY GROUP
|  | DIRECTOR, HOSPITAL AND AMBULATORY POLICY GROUP
|  | DEPUTY CENTER DIRECTOR, CENTER FOR MEDICARE
|  | DIRECTOR, MEDICARE DRUG AND HEALTH PLAN CONTRACT ADMINISTRATION GROUP
|  | DIRECTOR, MEDICARE CONTRACTOR MANAGEMENT GROUP
|  | DIRECTOR PROVIDER BILLING GROUP
|  | DIRECTOR, MEDICARE PARTS C AND D OVERSIGHT AND ENFORCEMENT GROUP
|  | DIRECTOR, MEDICARE DRUG BENEFIT AND C AND D DATA GROUP
|  | DIRECTOR, MEDICARE ENROLLMENT AND APPEALS GROUP
|  | DIRECTOR, MEDICARE PLAN PAYMENT GROUP
|  | DEPUTY CENTER DIRECTOR, CENTER FOR MEDICARE
| CENTER FOR MEDICARE AND MEDICAID INNOVATION | DIRECTOR, RESEARCH AND RAPID CYCLE EVALUATION GROUP
|  | DIRECTOR, PATIENT CARE MODELS GROUP
|  | DIRECTOR, POLICY AND PROGRAMS GROUP
|  | DEPUTY DIRECTOR (2)
| CENTER FOR PROGRAM INTEGRITY | DIRECTOR, PROVIDER ENROLLMENT AND OVERSIGHT GROUP
|  | DIRECTOR, INVESTIGATIONS AND FRAUD PREVENTION PARTNERSHIPS GROUP
|  | DIRECTOR, DATA ANALYTICS AND SYSTEMS GROUP
|  | DEPUTY ADMINISTRATOR AND DIRECTOR
|  | DEPUTY CENTER DIRECTOR (2)
|  | DIRECTOR, PROVIDER COMPLIANCE GROUP
| FEDERAL COORDINATED HEALTH CARE OFFICE | DIRECTOR, FEDERAL COORDINATED HEALTH CARE OFFICE
| OFFICE OF COMMUNICATIONS | DIRECTOR, WEB AND NEW MEDIA GROUP
| OFFICE OF ENTERPRISE DATA AND ANALYTICS | DIRECTOR, OFFICE OF ENTERPRISE DATA AND ANALYTICS/CHIEF DATA OFFCER
| OFFICE OF HUMAN CAPITAL | DIRECTOR, OFFICE OF HUMAN CAPITAL
| OFFICE OF PROGRAM OPERATIONS AND LOCAL ENGAGEMENT | DEPUTY DIRECTOR FOR LOCAL ENAGGEMENT AND ADMINISTRATION
|  | DEPUTY DIRECTOR FOR STRATEGY AND BUSINESS OPERATIONS
|  | DIRECTOR, OFFICE OF PROGRAM OPERATIONS AND LOCAL ENGAGEMENT
| OFFICE OF STRATEGIC OPERATIONS AND REGULATORY AFFAIRS | DIRECTOR, OFFICE OF STRATEGIC OPERATIONS AND REGULATORY AFFAIRS
| OFFICE OF THE ACTUARY | DIRECTOR, NATIONAL HEALTH STATISTICS GROUP
|  | DIRECTOR, PARTS C AND D ACTUARIAL GROUP
|  | DIRECTOR, OFFICE OF THE ACTUARY (CHIEF ACTUARY)
|  | DIRECTOR, MEDICARE AND MEDICAID COST ESTIMATES GROUP
CHIEF OPERATING OFFICER | OFFICE OF ACQUISITIONS AND GRANTS MANAGEMENT | DIRECTOR, OFFICE OF ACQUISITIONS AND GRANTS MANAGEMENT
|  | DEPUTY DIRECTOR, OFFICE OF ACQUISITION AND GRANTS MANAGEMENT
| OFFICE OF FINANCIAL MANAGEMENT | DIRECTOR, ACCOUNTING MANAGEMENT GROUP
|  | DIRECTOR, FINANCIAL SERVICES GROUP
|  | DEPUTY DIRECTOR OFFICE OF FINANCIAL MANAGEMENT
|  | DIRECTOR, FINANCIAL MANAGEMENT SYSTEMS GROUP
|  | DIRECTOR OFFICE OF FINANCIAL MANAGEMENT
|  | DIRECTOR, BUDGET AND ANALYSIS GROUP
| OFFICE OF INFORMATION TECHNOLOGY | DIRECTOR, OFFICE OF INFORMATION TECHNOLOGY/CMS CHIEF INFORMATION OFFICER
|  | DIRECTOR, INFORMATION SECURITY AND PRIVACY GROUP/CHIEF INFORMATION SECURITY OFFICER
|  | DEPUTY DIRECTOR, OFFICE OF IINFORMATION TECHNOLOGY
|  | DIRECTOR, ENTERPRISE ARCHITECTURE AND DATA GROUP
|  | DIRECTOR, INFRASTRUCTURE AND USER SERVICES GROUP
|  | DIRECTOR, ENTERPRISE SYSTEMS SOLUTIONS GROUP
|  | DIRECTOR, APPLICATIONS MANAGEMENT GROUP
|  | DEPUTY DIRECTOR, OFFICE OF INFORMATION TECHNOLOGY
| OFFICE OF SECURITY, FACILITIES AND LOGISTICS OPERATIONS | DIRECTOR, OFFICE OF SECURITY, FACILITIES AND LOGISTICS OPERATIONS
DEPARTMENT OF HEALTH AND HUMAN SERVICES | ADMINISTRATION FOR CHILDREN AND FAMILIES | SENIOR POLICY ADVISOR
|  | ASSOCIATE DEPUTY ASSISTANT SECRETARY FOR GRANTS
|  | ASSOCIATE DEPUTY ASSISTANT SECRETARY FOR ADMINISTRATION
|  | PRINCIPAL DEPUTY DIRECTOR, OFFICE OF REFUGEE RESETTLEMENT
|  | DIRECTOR, ACQUISITION SERVICES
|  | DEPUTY ASSISTANT SECRETARY FOR ADMINISTRATION
|  | ASSOCIATE DEPUTY ASSISTANT SECRETARY FOR EARLY CHILDHOOD DEVELOPMENT
| ADMINISTRATION FOR COMMUNITY LIVING | DEPUTY DIRECTOR, NATIONAL INSTITUTE FOR DISABILITY, INDEPENDENT LIVING AND REHABILITATION RESEARCH
|  | DEPUTY ADMINISTRATOR FOR MANAGEMENT AND BUDGET
|  | DEPUTY ASSISTANT SECRETARY FOR AGING
|  | DEPUTY ADMINISTRATOR FOR THE CENTER FOR INTEGRATED PROGRAMS
| AGENCY FOR HEALTHCARE RESEARCH AND QUALITY | DIRECTOR, OFFICE OF EXTRAMURAL RESEARCH, EDUCATION AND PRIORITY POPULATIONS
|  | EXECUTIVE OFFICER
| CENTERS FOR DISEASE CONTROL AND PREVENTION | DEPUTY DIRECTOR FOR MANAGEMENT
|  | DIRECTOR, HUMAN RESOURCES OFFICE
|  | DEPUTY CHIEF FINANCIAL OFFICER
|  | DEPUTY DIRECTOR FOR MANAGEMENT AND OPERATIONS
|  | PRINCIPAL DEPUTY DIRECTOR, OFFICE OF SAFETY, SECURITY, AND ASSET MANAGEMENT
|  | DEPUTY DIRECTOR, NATIONAL CENTER FOR CHRONIC DISEASE PREVENTION AND HEALTH PROMOTION
|  | PRINCIPAL DEPUTY DIRECTOR, HUMAN RESOURCES OFFICE
|  | CHIEF INFORMATION OFFICER
|  | DIRECTOR, OFFICE OF SAFETY, SECURITY AND ASSET MANAGEMENT
|  | SUPERVISORY PUBLIC HEALTH ADVISOR
|  | BUDGET DIRECTOR
|  | DIRECTOR, OFFICE OF FINANCE AND ACCOUNTING
|  | CHIEF OPERATING OFFICER
|  | DIRECTOR, OFFICE OF DIVERSITY MANAGEMENT AND EQUAL EMPLOYMENT OPPORTUNITY
|  | DIRECTOR OFFICE OF GRANTS SERVICES
|  | DEPUTY DIRECTOR FOR MANAGEMENT AND OPERATIONS
|  | DEPUTY DIRECTOR FOR MANAGEMENT AND OPERATIONS
|  | DEPUTY CHIEF INFORMATION OFFICER
|  | DIRECTOR, DIGITAL SERVICES OFFICE
|  | CHIEF INFORMATION SECURITY OFFICER
|  | CHIEF FINANCIAL OFFICER
|  | DIRECTOR, DIVISION OF GLOBAL MIGRATION AND QUARANTINE
|  | DEPUTY CHIEF OPERATING OFFICER
|  | DEPUTY DIRECTOR FOR MANAGEMENT AND OVERSEAS OPERATIONS
|  | DIRECTOR, ASSET MANAGEMENT SERVICES OFFICE
|  | DEPUTY DIRECTOR FOR MANAGEMENT AND OPERATIONS, NATIONAL CENTER FOR INJURY PREVENTION AND CONTROL
|  | DIRECTOR FOR STRATEGIC BUSINESS MANAGEMENT
|  | DIRECTOR, OFFICE OF ACQUISITION SERVICES
|  | DEPUTY DIRECTOR FOR MANAGEMENT AND OVERSEAS OPERATIONS
|  | DEPUTY DIRECTOR NATIONAL CENTER FOR ENVIRONMENTAL HEALTH/AGENCY FOR TOXIC SUBSTANCES AND DISEASE REGISTRY
|  | DEPUTY DIRECTOR FOR MANAGEMENT AND OPERATIONS
| CENTERS FOR MEDICARE AND MEDICAID SERVICES | DEPUTY DIRECTOR, OFFICE OF HUMAN CAPITAL
|  | DIRECTOR, OFFICES OF HEARINGS AND INQUIRIES
|  | DIRECTOR, OFFICE EQUAL OPPORTUNITY AND CIVIL RIGHTS/CMS CHIEF DIVERSITY OFFICER
| FOOD AND DRUG ADMINISTRATION | DEPUTY DIRECTOR, OFFICE OF PARTNERSHIPS AND OPERATIONAL POLICY
|  | DEPUTY ASSOCIATE GENERAL COUNSEL FOR LITIGATION FOOD AND DRUG DIVISION
|  | DEPUTY ASSOCIATE GENERAL COUNSEL FOR LITIGATION 2
|  | PRINCIPAL DEPUTY ASSOCIATE GENERAL COUNSEL, FOOD AND DRUG DIVISION
|  | SENIOR POLICY ADVISOR TO THE CHIEF SCIENTIST
|  | ASSOCIATE DIRECTOR FOR MANAGEMENT
|  | DIRECTOR, OFFICE OF REGULATIONS
|  | DIRECTOR OFFICE OF REGULATIONS AND POLICY
|  | DIRECTOR, OFFICE OF ACQUISITIONS AND GRANTS SERVICES
|  | DEPUTY DIRECTOR, CENTER FOR VETERINARY MEDICINE
|  | SENIOR DEPUTY ASSOCIATE GENERAL COUNSEL
|  | DEPUTY DIRECTOR, OFFICE OF LABORATORY SCIENCE AND SAFETY
|  | DEPUTY DIRECTOR FOR COMPLIANCE OPERATIONS
|  | DIRECTOR OFFICE OF HUMAN CAPITAL MANAGEMENT
|  | DIRECTOR OF STAKEHOLDER ENGAGEMENT
|  | DEPUTY CENTER DIRECTOR FOR REGULATORY POLICY AND NUTRITION ENGAGEMENT
|  | PROGRAM DIRECTOR, OFFICE OF HUMAN AND ANIMAL FOOD OPERATIONS-EAST
|  | DEPUTY DIRECTOR FOR REGULATORY AFFAIRS
|  | ASSISTANT COMMISSIONER FOR PARTNERSHIPS AND POLICY
|  | DIRECTOR, OFFICE OF COMPLIANCE
|  | DIRECTOR, OFFICE OF BUDGET
|  | DIRECTOR, OFFICE OF FACILITIES ENGINEERING AND MISSION SUPPORT SERVICES
|  | DEPUTY DIRECTOR, CENTER FOR TOBACCO PRODUCTS
|  | DIRECTOR, OFFICE OF HEALTH COMMUNICATION AND EDUCATION
|  | ASSOCIATE DIRECTOR FOR MANAGEMENT
|  | DEPUTY CHIEF FINANCIAL OFFICER/DIRECTOR, OFFICE OF FINANCIAL OPERATIONS
|  | DIRECTOR, DIVISION OF ETHICS AND INTEGRITY
|  | DIRECTOR, OFFICE OF PARTNERSHIPS
|  | ASSISTANT COMMISSIONER FOR HUMAN AND ANIMAL FOOD OPERATIONS
|  | CHIEF INFORMATION SECURITY OFFICER
|  | DIRECTOR, OFFICE OF SECURITY AND EMERGENCY MANAGEMENT
|  | PROGRAM DIRECTOR, OFFICE OF HUMAN AND ANIMAL FOOD OPERATIONS-WEST
| HEALTH RESOURCES AND SERVICES ADMINISTRATION | DIRECTOR, OFFICE OF BUDGET
|  | DEPUTY ASSOCIATE ADMINISTRATOR, OFFICE OF FEDERAL ASSISTANCE MANAGEMENT
|  | ASSOCIATE ADMINISTRATOR, BUREAU OF HEALTH WORKFORCE
|  | DIRECTOR, OFFICE OF HUMAN RESOURCES
|  | DEPUTY ASSOCIATE ADMINISTRATOR, OFFICE OF OPERATIONS
|  | DEPUTY ASSOCIATE ADMINISTRATOR, BUREAU OF PRIMARY HEALTH CARE
|  | DEPUTY ASSOCIATE ADMINISTRATOR, BUREAU OF HEALTH WORKFORCE
|  | ASSOCIATE ADMINISTRATOR, PROVIDER RELIEF BUREAU
|  | ASSOCIATE ADMINISTRATOR, MATERNAL AND CHILD HEALTH BUREAU
|  | ASSOCIATE ADMINISTRATOR, OFFICE OF FEDERAL RURAL HEALTH POLICY
|  | DEPUTY ASSOCIATE ADMINISTRATOR, HIV/AIDS BUREAU
|  | ASSOCIATE ADMINISTRATOR, OFFICE OF REGIONAL OPERATIONS
|  | DIRECTOR, OFFICE OF INFORMATION TECHNOLOGY AND CHIEF INFORMATION OFFICER
|  | ASSOCIATE ADMINISTRATOR, HIV/AIDS BUREAU
|  | DEPUTY ASSOCIATE ADMINISTRATOR AND CHIEF MEDICAL OFFICER
|  | ASSOCIATE ADMINISTRATOR, HEALTH SYSTEMS BUREAU
|  | ASSOCIATE ADMINISTRATOR FOR OPERATIONS
|  | ASSOCIATE ADMINISTRATOR FOR BUREAU OF PRIMARY HEALTH CARE
|  | ASSOCIATE ADMINISTRATOR, OFFICE OF FEDERAL ASSISTANCE MANAGEMENT
|  | DEPUTY ASSOCIATE ADMINISTRATOR, HEALTHCARE SYSTEMS BUREAU
|  | DEPUTY ASSOCIATE ADMINISTRATOR, FEDERAL OFFICE OF RURAL HEALTH POLICY
|  | DEPUTY ADMINISTRATOR, HEALTH RESOURCES AND SERVICES ADMINISTRATION
|  | DIRECTOR, OFFICE OF CIVIL RIGHTS AND DIVERSITY INCLUSION
|  | DEPUTY ASSOCIATE ADMINISTRATOR, MATERNAL AND CHILD HEALTH BUREAU
|  | DIRECTOR, OFFICE OF ACQUISITIONS MANAGEMENT AND POLICY
| INDIAN HEALTH SERVICE | DIRECTOR, ALASKA AREA
|  | DIRECTOR, NAVAJO AREA
|  | DIRECTOR, CALIFORNIA AREA
|  | DIRECTOR, BEMIDJI AREA
|  | DIRECTOR, NASHVILLE AREA
|  | DEPUTY DIRECTOR
|  | DIRECTOR, GREAT PLAINS AREA
|  | DIRECTOR, OFFICE OF ENVIRONMENTAL HEALTH AND ENGINEERING
|  | DIRECTOR, OFFICE OF URBAN INDIAN HEALTH PROGRAMS
|  | DIRECTOR, OFFICE OF CLINICAL AND PREVENTIVE SERVICES
|  | CHIEF EXECUTIVE OFFICER, PHOENIX INDIAN MEDICAL CENTER
|  | DIRECTOR, OFFICE OF FINANACE AND ACCOUNTING
|  | DEPUTY DIRECTOR FOR MANAGEMENT OPERATIONS
|  | DIRECTOR, OFFICE OF INFORMATION TECHNOLOGY
|  | DIRECTOR, BILLINGS AREA
|  | DIRECTOR, TUCSON AREA
|  | DIRECTOR, OFFICE OF TRIBAL SELF-GOVERNANCE
|  | DIRECTOR, OFFICE OF MANAGEMENT SERVICES
|  | DIRECTOR, PORTLAND AREA
|  | CHIEF COMPLIANCE OFFICER
|  | HEALTH SYSTEM ADMINISTRATOR (6)
|  | DEPUTY DIRECTOR FOR INTERGOVERNMENTAL AFFAIRS
|  | DIRECTOR, DIVERSITY MANAGEMENT AND EEO
|  | DIRECTOR, OFFICE OF DIRECT SERVICE AND CONTRACTING TRIBES
|  | CHIEF EXECUTIVE OFFICER, GALLUP INDIAN MEDICAL CENTER
|  | DIRECTOR, OFFICE OF HUMAN RESOURCES
|  | DEPUTY DIRECTOR FOR QUALITY HEALTH CARE
| NATIONAL INSTITUTES OF HEALTH | DIRECTOR, OFFICE OF STRATEGIC PLANNING AND MANAGEMENT OPERATIONS
|  | DIRECTOR, OFFICE OF HEALTH EDUCATION, COMMUNICATIONS, AND SCIENCE POLICY
|  | ASSOCIATE DIRECTOR FOR FINANCIAL MANAGEMENT AND LEGISLATION
|  | DIRECTOR, CENTER FOR INFORMATION TECHNOLOGY AND CHIEF INFORMATION OFFICER
|  | DIRECTOR OF CYBERSECURITY/CHIEF INFORMATION SECURITY OFFICER
|  | DIRECTOR, NIH ETHICS OFFICE
|  | ASSOCIATE DIRECTOR FOR MANAGEMENT (2)
|  | CHIEF INFORMATION OFFICER
|  | DEPUTY DIRECTOR, DIVISION OF PROGRAM COORDINATION, PLANNING, AND STRATEGIC INITIATIVES
|  | DIRECTOR, OFFICE OF ACQUISITION AND LEGISTICS MANAGEMENT
|  | ASSOCIATE DIRECTOR FOR BUDGET
|  | DIRECTOR, OFFICE OF HUMAN RESOURCES
|  | ELECTRONIC RESEARCH ADMINISTRATION PROGRAM MANAGER
|  | DIRECTOR, OFFICE OF MANAGEMENT ASSESSMENT
|  | ASSOCIATE DIRECTOR FOR SECURITY AND EMERGENCY RESPONSE
|  | DIRECTOR, OFFICE OF POLICY FOR EXTRAMURAL RESEARCH ADMINISTRATION
|  | DEPUTY DIRECTOR FOR MANAGEMENT
|  | DIRECTOR, OFFICE OF EQUITY, DIVERSITY, AND INCLUSION
|  | DIRECTOR, OFFICE OF FINANCIAL MANAGEMENT
|  | ASSOCIATE DIRECTOR FOR ADMINISTRATIVE MANAGEMENT
|  | DIRECTOR, OFFICE OF RESEARCH SERVICES
| OFFICE OF THE SECRETARY | ASSISTANT DEPUTY SECRETARY FOR NATIONAL SECURITY
| SUBSTANCE ABUSE AND MENTAL HEALTH SERVICES ADMINISTRATION | DIRECTOR, CENTER FOR SUBSTANCE ABUSE PREVENTION
|  | DIRECTOR, OFFICE OF RECOVERY
|  | DIRECTOR, OFFICE OF FINANCIAL RESOURCES
|  | DIRECTOR, NATIONAL MENTAL HEALTH AND SUBSTANCE USE POLICY LABORATORY
|  | EXECUTIVE OFFICER
|  | DIRECTOR, CENTER FOR SUBSTANCE ABUSE TREATMENT
FOOD AND DRUG ADMINISTRATION | CENTER FOR FOOD SAFETY AND APPLIED NUTRITION | DEPUTY DIRECTOR FOR ANIMAL-DERIVED FOODS
|  | DIRECTOR, OFFICE OF EXECUTIVE PROGRAMS
|  | DIRECTOR, OFFICE OF DIETARY SUPPLEMENT PROGRAMS
| NATIONAL CENTER FOR TOXICOLOGICAL RESEARCH | ASSOCIATE DIRECTOR FOR OPERATIONS
| OFFICE OF POLICY AND PLANNING | DIRECTOR OFFICE OF PLANNING AND EVALUATION
| OFFICE OF REGULATORY AFFAIRS | DEPUTY DIRECTOR, OFFICE OF HUMAN AND ANIMAL FOOD OPERATIONS
|  | DEPUTY DIRECTOR FOR TARGETING, ANALYSIS AND SUPPORT
NATIONAL INSTITUTES OF HEALTH | ADVANCED RESEARCH PROJECTS AGENCY FOR HEALTH | DIRECTOR, STRATEGIC RESOURCES OFFICE
|  | DIRECTOR, ACQUISITIONS AND CONTRACTING OFFICE
|  | COMPTROLLER
| CENTER FOR INFORMATION TECHNOLOGY | DIRECTOR, OFFICE OF INFORMATION TECHNOLOGY SERVICES MANAGEMENT
|  | DEPUTY DIRECTOR
| NATIONAL CANCER INSTITUTE | DEPUTY DIRECTOR FOR MANAGEMENT
| NATIONAL CENTER FOR ADVANCING TRANSLATIONAL SCIENCES | ASSOCIATE DIRECTOR FOR ADMINISTRATION
| NATIONAL EYE INSTITUTE | DEPUTY DIRECTOR FOR MANAGEMENT
| NATIONAL HUMAN GENOME RESEARCH INSTITUTE | ASSOCIATE DIRECTOR FOR MANAGEMENT
|  | DIRECTOR, OFFICE OF POPULATION GENOMICS
| NATIONAL INSTITUTE OF ARTHRITIS AND MUSCULOSKELETAL AND SKIN DISEASES | ASSOCIATE DIRECTOR FOR MANAGEMENT AND OPERATIONS
| NATIONAL INSTITUTE OF DENTAL AND CRANIOFACIAL RESEARCH | ASSOCIATE DIRECTOR FOR MANAGEMENT
| NATIONAL INSTITUTE OF DIABETES AND DIGESTIVE AND KIDNEY DISEASES | ASSOCIATE DIRECTOR FOR MANAGEMENT
| NATIONAL INSTITUTE OF MENTAL HEALTH | ASSOCIATE DIRECTOR FOR MANAGEMENT
| NATIONAL INSTITUTE ON AGING | DIRECTOR OF MANAGEMENT
| NATIONAL INSTITUTE ON ALCOHOL ABUSE AND ALCOHOLISM | ASSOCIATE DIRECTOR FOR ADMINISTRATION
| NATIONAL INSTITUTE ON DRUG ABUSE | DEPUTY DIRECTOR FOR MANAGEMENT
| NATIONAL INSTITUTES OF ALLERGY AND INFECTIOUS DISEASES | DIRECTOR, OFFICE OF MISSION INTEGRATION AND FINANCIAL MANAGEMENT
| NATIONAL INSTITUTES OF CHILD HEALTH AND HUMAN DEVELOPMENT | ASSOCIATE DIRECTOR FOR ADMINISTRATION
| NATIONAL INSTITUTES OF ENVIRONMENTAL HEALTH SCIENCES | ASSOCIATE DIRECTOR OF MANAGEMENT
| NATIONAL INSTITUTES OF GENERAL MEDICAL SCIENCES | ASSOCIATE DIRECTOR FOR MANAGEMENT
| NATIONAL INSTITUTES OF HEALTH CLINICAL CENTER | CHIEF OPERATING OFFICER
|  | CHIEF FINANCIAL OFFICER
| NATIONAL INSTITUTES ON DEAFNESS AND OTHER COMMUNICATION DISORDERS | ASSOCIATE DIRECTOR FOR ADMINISTRATION
| NATIONAL LIBRARY OF MEDICINE | ASSOCIATE DIRECTOR FOR EXTRAMURAL PROGRAMS
|  | ASSOCIATE DIRECTOR FOR ADMINISTRATIVE MANAGEMENT
|  | DIRECTOR, INFORMATION SYSTEMS
|  | ASSOCIATE DIRECTOR FOR LIBRARY OPERATIONS
|  | DEPUTY DIRECTOR, POLICY AND EXTERNAL AFFAIRS
| OFFICE OF THE DIRECTOR | DIRECTOR, OFFICE OF RESEARCH FACILITIES DEVELOPMENT AND OPERATIONS
OFFICE OF THE ASSISTANT SECRETARY FOR ADMINISTRATION | PROGRAM SUPPORT CENTER | DIRECTOR, FACILITIES AND LOGISTICS
|  | DEPUTY ASSISTANT SECRETARY, PROGRAM SUPPORT CENTER
|  | DIRECTOR, FINANCIAL MANAGEMENT PORTFOLIO
OFFICE OF THE ASSISTANT SECRETARY FOR FINANCIAL RESOURCES | OFFICE OF THE DEPUTY ASSISTANT SECRETARY FOR BUDGET | DEPUTY ASSISTANT SECRETARY, BUDGET
|  | DIRECTOR, DIVISION OF HEALTH BENEFITS AND INCOME SECURITY
|  | DIRECTOR, DIVISION OF BUDGET POLICY, EXECUTION AND REVIEW
|  | ASSOCIATE DEPUTY ASSISTANT SECRETARY, BUDGET
|  | DIRECTOR, OFFICE OF PROGRAM INTEGRITY COORDINATION
| OFFICE OF THE DEPUTY ASSISTANT SECRETARY FOR FINANCE | ASSOCIATE DEPUTY ASSISTANT SECRETARY FOR FINANCE
|  | DEPUTY ASSISTANT SECRETARY, FINANCE
OFFICE OF THE COMMISSIONER | CENTER FOR TOBACCO PRODUCTS | DEPUTY DIRECTOR FOR REGULATORY AFFAIRS
| OFFICE OF OPERATIONS | CHIEF FINANCIAL OFFICER
|  | DIRECTOR OF FISCAL SERVICES AND OPERATIONS
|  | DIRECTOR, OFFICE OF EQUAL EMPLOYMENT OPPORTUNITY
OFFICE OF THE SECRETARY | OFFICE FOR CIVIL RIGHTS | DEPUTY DIRECTOR FOR CIVIL RIGHTS
|  | PRINCIPAL DEPUTY DIRECTOR
|  | DEPUTY DIRECTOR FOR CONSCIENCE
|  | DEPUTY DIRECTOR FOR HEALTH INFORMATION PRIVACY
|  | DEPUTY DIRECTOR, PLANNING AND BUSINESS ADMINISTRATION MANAGEMENT
| OFFICE OF GLOBAL AFFAIRS | DEPUTY ASSISTANT SECRETARY FOR GLOBAL AFFAIRS
| OFFICE OF MEDICARE HEARINGS AND APPEALS | EXECUTIVE DIRECTOR, PROGRAM INTEGRITY AND ETHICS
|  | EXECUTIVE DIRECTOR, OFFICE OF MEDICARE HEARINGS AND APPEALS
| OFFICE OF THE ASSISTANT SECRETARY FOR ADMINISTRATION | EXECUTIVE DIRECTOR, OFFICE OF ENTERPRISE SERVICES
|  | EXECUTIVE DIRECTOR, HUMAN RESOURCES OPERATIONS
|  | DEPUTY ASSISTANT SECRETARY FOR EQUITY, DIVERSITY, AND INCLUSION
|  | EXECUTIVE OFFICER (2)
|  | ASSOCIATE DEPUTY ASSISTANT SECRETARY FOR HUMAN RESOURCES
|  | DEPUTY CHIEF INFORMATION OFFICER
|  | DEPUTY ASSISTANT SECRETARY FOR ACQUISITIONS
|  | EXECUTIVE DIRECTOR, FINANCIAL MANAGEMENT AND BUDGET
|  | DEPUTY ASSISTANT SECRETARY, CHIEF INFORMATION OFFICER
|  | DEPUTY ASSISTANT SECRETARY FOR HUMAN RESOURCES
|  | EXECUTIVE DIRECTOR, OFFICE OF APPLICATION AND PLATFORM SOLUTIONS
|  | EXECUTIVE DIRECTOR, NATIONAL LABOR EMPLOYEE RELATIONS OFFICE
|  | DEPUTY DIRECTOR, PROGRAM SUPPORT CENTER
|  | DEPUTY DIRECTOR FOR DRUG AND HEALTH PLAN OPERATIONS
|  | CHIEF INFORMATION SECURITY OFFICER
| OFFICE OF THE ASSISTANT SECRETARY FOR FINANCIAL RESOURCES | ASSOCIATE DEPUTY ASSISTANT SECRETARY, GRANTS
|  | DEPUTY ASSISTANT SECRETARY FOR OPERATIONS AND MANAGEMENT
|  | DEPUTY ASSISTANT SECRETARY, OFFICE OF ACQUISITIONS
|  | EXECUTIVE DIRECTOR, GRANTS QUALITY SERVICE MANAGEMENT
|  | DIRECTOR OF POLICY, OVERSIGHT, EVALUATION AND TRAINING
|  | EXECUTIVE DIRECTOR, ACQUISITION POLICY, LEGISLATION, OVERSIGHT AND WORKFORCE
|  | EXECUTIVE DIRECTOR, STRATEGIC PROGRAMS AND BUSINESS SYSTEMS
|  | DIRECTOR, NATIONAL GRANTS CENTER OF EXCELLENCE
|  | DIRECTOR, OFFICE OF SMALL AND DISADVANTAGED BUSINESS UTILIZATION
|  | DIRECTOR, OFFICE OF FINANCIAL POLICY AND REPORTING
|  | DIVISION DIRECTOR
|  | ASSOCIATE DEPUTY ASSISTANT SECRETARY, ACQUISITION
|  | DEPUTY ASSISTANT SECRETARY, OFFICE OF GRANTS
| OFFICE OF THE ASSISTANT SECRETARY FOR HEALTH | DEPUTY DIRECTOR, OFFICE OF RESEARCH INTEGRITY
|  | DEPUTY ASSISTANT SECRETARY FOR CLIMATE CHANGE AND HEALTH EQUITY
|  | DEPUTY ASSISTANT SECRETARY FOR HEALTH (REGIONAL OPERATIONS)
|  | DIRECTOR, OFFICE OF RESEARCH INTEGRITY
|  | EXECUTIVE OFFICER
|  | CHIEF INFORMATION OFFICER, EXECUTIVE DIRECTOR FOR INFORMATION TECHNOLOGY
|  | PRINCIPAL DEPUTY DIRECTOR, OFFICE OF MINORITY HEALTH
| OFFICE OF THE ASSISTANT SECRETARY FOR PLANNING AND EVALUATION | ASSOCIATE DEPUTY ASSISTANT SECRETARY FOR PLANNING AND EVALUATION (HEALTH SERVICES POLICY)
| OFFICE OF THE ASSISTANT SECRETARY FOR PREPAREDNESS AND RESPONSE | DEPUTY ASSISTANT SECRETARY, OFFICE OF OPERATIONS AND RESOURCES
|  | DEPUTY ASSISTANT SECRETARY, INDUSTRIAL BASE MANAGEMENT AND SUPPLY CHAIN
|  | DEPUTY CHIEF OPERATING OFFICER, H-CORE
|  | DEPUTY HEAD OF CONTRACTING ACTIVITY
|  | HEAD OF CONTRACTING ACTIVITY
|  | DIRECTOR, OFFICE OF SECURITY, INTEL, INFORMATION MANAGEMENT
|  | DIRECTOR OF SUPPLY, PRODUCTION, DISTRIBUTION AND ADMINISTRATION
|  | DIRECTOR, OFFICE OF RESOURCE MANAGEMENT
|  | DIRECTOR, STRATEGIC NATIONAL STOCKPILE
|  | DIRECTOR, OFFICE OF EMERGENCY MANAGEMENT AND MEDICAL OPERATIONS
| OFFICE OF THE ASSISTANT SECRETARY FOR PUBLIC AFFAIRS | EXECUTIVE OFFICER/DEPUTY AGENCY CHIEF FOIA
|  | DEPUTY AGENCY CHIEF FOIA OFFICER
| OFFICE OF THE DEPUTY SECRETARY | CHAIR, DEPARTMENTAL APPEALS BOARD
| OFFICE OF THE GENERAL COUNSEL | DEPUTY GENERAL COUNSEL (LITIGATION)
|  | ASSOC GEN COUNSEL, ETHICS DIV AND DESIGNATED AGENCY ETHICS OFFICIAL
|  | DEPUTY ASSOCIATE GENERAL COUNSEL FOR ETHICS ADVICE AND POLICY
| OFFICE OF THE NATIONAL COORDINATOR FOR HEALTH INFORMATION TECHNOLOGY | CHIEF MEDICAL OFFICER
|  | DEPUTY NATIONAL COORDINATOR FOR OPERATIONS
|  | EXECUTIVE DIRECTOR, OFFICE OF TECHNOLOGY
|  | EXECUTIVE DIRECTOR, OFFICE OF POLICY
|  | DEPUTY NATIONAL COORDINATOR
DEPARTMENT OF HEALTH AND HUMAN SERVICES OFFICE OF THE INSPECTOR GENERAL | DEPARTMENT OF HEALTH AND HUMAN SERVICES OFFICE OF THE INSPECTOR GENERAL | PRINCIPAL DEPUTY INSPECTOR GENERAL
|  | DEPUTY CHIEF OF STAFF
|  | CHIEF OF STAFF
DEPARTMENT OF HEALTH AND HUMAN SERVICES OFFICE OF THE INSPECTOR GENERAL | OFFICE OF AUDIT SERVICES | ASSISTANT INSPECTOR GENERAL FOR AUDIT SERVICES (CYBERSECURITY AND INFORMATION TECHNOLOGY AUDITS)
|  | ASSISTANT INSPECTOR GENERAL FOR AUDIT SERVICES (3)
|  | DEPUTY INSPECTOR GENERAL FOR AUDIT SERVICES
|  | ASSISTANT INSPECTOR GENERAL FOR MEDICARE AND MEDICAID SERVICE AUDITS
| OFFICE OF COUNSEL TO THE INSPECTOR GENERAL | CHIEF COUNSEL TO THE INSPECTOR GENERAL
|  | ASSISTANT INSPECTOR GENERAL FOR LEGAL AFFAIRS (2)
| OFFICE OF EVALUATION AND INSPECTIONS | ASSISTANT INSPECTOR GENERAL FOR EVALUATION AND INSPECTIONS (3)
|  | DEPUTY INSPECTOR GENERAL FOR EVALUATION AND INSPECTIONS
| OFFICE OF INVESTIGATIONS | DEPUTY INSPECTOR GENERAL FOR INVESTIGATIONS
|  | ASSISTANT INSPECTOR GENERAL FOR INVESTIGATIONS (4)
| OFFICE OF MANAGEMENT AND POLICY | ASSISTANT INSPECTOR GENERAL FOR INFORMATION TECHNOLOGY (CHIEF INFORMATION OFFICER)
|  | ASSISTANT INSPECTOR GENERAL (CHIEF DATA AND ANALYTICS OFFICER)
|  | DEPUTY INSPECTOR GENERAL FOR MANAGEMENT AND POLICY
|  | ASSISTANT INSPECTOR GENERAL FOR MANAGEMENT AND POLICY (DEPUTY CHIEF FINANCIAL OFFICER)
DEPARTMENT OF HOMELAND SECURITY | COUNTERING WEAPONS OF MASS DESTRUCTION OFFICE | DEPUTY ASSISTANT SECRETARY, INFORMATION ANALYSIS
|  | EXECUTIVE DIRECTOR FOR TECHNOLOGY AND CAPABILITY READINESS
| CYBERSECURITY AND INFRASTRUCTURE SECURITY AGENCY | REGIONAL DIRECTOR, REGION I, BOSTON, MA
|  | REGIONAL DIRECTOR, REGION 10, SEATTLE, WA
|  | EXECUTIVE DIRECTOR, JOINT CYBER COORDINATION GROUP
|  | DEPUTY ASSISTANT DIRECTOR FOR INTEGRATED OPERATIONS
|  | CHIEF INFORMATION SECURITY OFFICER
|  | EXECUTIVE DIRECTOR, CYBERSECURITY AND INFRASTRUCTURE SECURITY AGENCY
|  | SENIOR TECHNICAL DIRECTOR
|  | CHIEF, STRATEGY, POLICY, AND PLANS
|  | DEPUTY ASSISTANT DIRECTOR FOR STAKEHOLDER ENGAGEMENT
|  | ASSOCIATE DIRECTOR FOR CYBERSECURITY AND INFRASTRUCTURE SECURITY AGENCY (CISA) CENTRAL
|  | ASSOCIATE DIRECTOR FOR READINESS AND CONTINUITY
|  | CHIEF PEOPLE OFFICER
|  | CHIEF ACQUISITION EXECUTIVE
|  | ASSOCIATE DIRECTOR FOR THREAT HUNTING
|  | DEPUTY CHIEF ACQUISITION EXECUTIVE FOR PROCUREMENT
|  | REGIONAL DIRECTOR (2)
|  | ASSOCIATE DIRECTOR FOR CAPACITY BUILDING
|  | CHIEF FINANCIAL OFFICER
|  | DIRECTOR, NETWORK SECURITY DEPLOYMENT
|  | ASSISTANT DIRECTOR FOR INTEGRATED OPERATIONS
|  | DIRECTOR, OFFICE OF COMPLIANCE AND SECURITY
|  | COMPONENT CHIEF HUMAN CAPITAL OFFICER
|  | DEPUTY EXECUTIVE ASSISTANT DIRECTOR FOR INFRASTRUCTURE SECURITY
|  | DIRECTOR MISSION INTEGRATION
|  | CHIEF TECHNOLOGY OFFICER, CYBER SECURITY AND COMMUNICATIONS
|  | REGIONAL DIRECTOR, REGION 7, KANSAS CITY, MO
|  | DEPUTY ASSISTANT DIRECTOR, NATIONAL RISK MANAGEMENT CENTER
|  | ASSISTANT DIRECTOR, FUTURES IDENTITY
|  | REGIONAL DIRECTOR
|  | SENIOR ADVISOR, OFFICE OF INFRASTRUCTURE SECURITY
|  | DIRECTOR, PROTECTIVE SECURITY COORDINATION
|  | DEPUTY DIRECTOR, OFFICE OF BIOMETRIC IDENTITY MANAGEMENT
|  | EXECUTIVE ASSISTANT DIRECTOR FOR EMERGENCY COMMUNICATIONS
|  | DEPUTY EXECUTIVE ASSISTANT DIRECTOR FOR EMERGENCY COMMUNICATIONS
|  | SENIOR COUNSELOR TO THE DIRECTOR FOR CISA
|  | REGIONAL DIRECTOR (2)
|  | COMPONENT CHIEF INFORMATION OFFICER
|  | ASSOCIATE DIRECTOR FOR CHEMICAL SECURITY
|  | ASSISTANT DIRECTOR, NATIONAL RISK MANAGEMENT CENTER
|  | DEPUTY DIRECTOR FOR OPERATIONS, NATIONAL CYBERSECURITY AND COMMUNICATIONS INTEGRATION CENTER (NCCIC)
|  | ASSISTANT DIRECTOR FOR STAKEHOLDER ENGAGEMENT
|  | DIRECTOR OF MANAGEMENT
|  | REGIONAL DIRECTOR, REGION 6, DALLAS, TX
|  | REGIONAL DIRECTOR, REGION 3, PHILADELPHIA, PA
|  | DEPUTY EXECUTIVE ASSISTANT DIRECTOR FOR CYBERSECURITY
| FEDERAL EMERGENCY MANAGEMENT AGENCY | ASSISTANT ADMINISTRATOR FOR RISK MANAGEMENT
|  | DEPUTY CHIEF COUNSEL FOR GENERAL LAW
|  | DIRECTOR, GRANTS MANAGEMENT DIVISION
|  | ASSOCIATE ADMINISTRATOR, MISSION SUPPORT
|  | ASSISTANT ADMINISTRATOR FOR BUDGET
|  | ASSISTANT ADMINISTRATOR FOR FEDERAL INSURANCE
|  | DEPUTY CHIEF HUMAN CAPITAL OFFICER FOR STRATEGIC SOLUTIONS
|  | DIRECTOR, PLANNING AND EXERCISE DIVISION, OFFICE OF RESPONSE AND RECOVERY
|  | DIRECTOR, INDIVIDUAL ASSISTANCE DIVISION
|  | DIRECTOR, PUBLIC ASSISTANCE DIVISION
|  | CHIEF FINANCIAL OFFICER
|  | DIVISION DIRECTOR, HAZARD MITIGATION ASSISTANCE
|  | DEPUTY ASSOCIATE ADMINISTRATOR, FEDERAL INSURANCE AND MITIGATION ADMINISTRATION
|  | DEPUTY CHIEF INFORMATION OFFICER
|  | DEPUTY CHIEF FINANCIAL OFFICER
|  | CHIEF COMPONENT PROCUREMENT OFFICER
|  | DEPUTY ASSOCIATE ADMINISTRATOR FOR MISSION SUPPORT
|  | ASSISTANT ADMINISTRATOR FOR NATIONAL PREPAREDNESS
|  | SUPERINTENDENT, EMERGENCY MANAGEMENT INSTITUTE
|  | ASSISTANT ADMINISTRATOR FOR FINANCIAL SYSTEMS DIVISION
|  | DEPUTY ASSISTANT ADMINISTRATOR FOR MITIGATION
|  | ASSISTANT ADMINISTRATOR, FIELD OPERATIONS DIRECTORATE
|  | DEPUTY CHIEF COMPONENT PROCUREMENT OFFICER
|  | DIRECTOR, OPERATIONS DIVISION (RESPONSE AND RECOVERY)
|  | DEPUTY ASSISTANT ADMINISTRATOR FOR RESPONSE
|  | DEPUTY CHIEF INFORMATION OFFICER (DISASTER OPERATIONS), MISSION SUPPPORT DIRECTORATE
|  | DIRECTOR, NATIONAL EXERCISES AND TECHNOLOGICAL HAZARDS
|  | DEPUTY ASSOCIATE ADMINISTRATOR FOR POLICY, PROGRAM ANALYSIS AND INTERNATIONAL AFFAIRS
|  | DEPUTY DIRECTOR, EXTERNAL AFFAIRS
|  | SUPERINTENDENT, CENTER FOR DOMESTIC PREPAREDNESS
|  | DEPUTY CHIEF COUNSEL FOR OPERATIONS
|  | DEPUTY ASSISTANT ADMINISTRATOR, GRANTS PROGRAM
|  | ASSISTANT ADMINISTRATOR FOR FINANCIAL MANAGEMENT
|  | DIRECTOR, OPERATIONAL COORDINATION
|  | CHIEF ADMINISTRATIVE OFFICER
|  | DIRECTOR, EMERGENCY COMMUNICATION DIVISION
|  | ASSISTANT ADMINISTRATOR FOR MITIGATION
|  | DEPUTY ASSISTANT ADMINISTRATOR FOR FEDERAL INSURANCE
|  | ASSISTANT ADMINISTRATOR, RESILENCE BUSINESS OPERATIONS
|  | DEPUTY CHIEF ADMINISTRATIVE OFFICER
|  | DEPUTY ASSISTANT ADMINISTRATOR FOR RISK MANAGEMENT
|  | DEPUTY REGIONAL ADMINISTRATOR (REGION VI, DALLAS)
|  | DEPUTY REGIONAL ADMINISTRATOR (REGION II NEW YORK)
|  | DEPUTY REGIONAL ADMINISTRATOR (REGION III PHILADELPHIA)
|  | DEPUTY REGIONAL ADMINISTRATOR (REGION V CHICAGO)
|  | DEPUTY REGIONAL ADMINISTRATOR (REGION VII KANSAS)
|  | DEPUTY REGIONAL ADMINISTRATOR (REGION VIII DENVER)
|  | DEPUTY REGIONAL ADMINISTRATOR (REGION IX OAKLAND)
|  | DEPUTY REGIONAL ADMINISTRATOR (REGION X SEATTLE)
|  | DEPUTY REGIONAL ADMINISTRATOR (REGION 1 BOSTON)
|  | DEPUTY DIRECTOR, PUBLIC ASSISTANCE DIVISION
|  | DEPUTY ASSISTANT ADMINISTRATOR, FIELD OPERATIONS DIRECTORATE
|  | CHIEF SECURITY OFFICER
|  | CHIEF TECHNOLOGY OFFICER
|  | PRINCIPAL DEPUTY CHIEF COUNSEL
|  | DEPUTY ASSISTANT ADMINISTRATOR, NATIONAL PREPAREDNESS DIRECTORATE
|  | DEPUTY REGIONAL ADMINISTRATOR, REGION IV, ATLANTA
|  | CHIEF INFORMATION SECURITY OFFICER
|  | DEPUTY CHIEF HUMAN CAPITAL OFFICER FOR HUMAN RESOURCE OPERATIONS
|  | DIRECTOR, NATIONAL ASSESSMENT AND INTEGRATION
|  | DIRECTOR, OFFICE OF PROFESSIONAL RESPONSIBILITY
|  | DEPUTY ASSISTANT ADMINISTRATOR, GRANTS SYSTEMS AND POLICY INTEGRATION
|  | DIRECTOR, OFFICE OF EQUAL RIGHTS
|  | DEPUTY CHIEF SECURITY OFFICER
|  | ASSISTANT ADMINISTRATOR FOR FIELD LEADERSHIP
|  | DEPUTY ASSOCIATE ADMINISTRATOR FOR RESILIENCE
|  | DIRECTOR OF HERMIT'S PEAK CLAIMS OFFICE
|  | DEPUTY DIRECTOR, INDIVIDUAL ASSISTANCE DIVISION
| FEDERAL LAW ENFORCEMENT TRAINING CENTER | ASSISTANT DIRECTOR (CHIEF FINANCIAL OFFICER)
|  | ASSISTANT DIRECTOR (MISSION AND READINESS SUPPORT DIRECTORATE)
|  | ASSISTANT DIRECTOR OF TRAINING (CORE TRAINING OPERATIONS DIRECTORATE
|  | ASSISTANT DIRECTOR OF TRAINING (NATIONAL CAPITAL REGION TRAINING OPERATIONS DIRECTORATE
|  | ASSISTANT DIRECTOR OF TRAINING (TECHNICAL TRAINING OPERATIONS DIRECTORATE)
|  | ASSISTANT DIRECTOR (CHIEF INFORMATION OFFICER DIRECTORATE)
|  | CHIEF COUNSEL
|  | ASSOCIATE DIRECTOR FOR TRAINING OPERATIONS
|  | DIRECTOR, FEDERAL LAW ENFORCEMENT TRAINING CENTER
|  | DEPUTY DIRECTOR
|  | ASSISTANT DIRECTOR OF TRAINING (TRAINING MANAGEMENT OPERATIONS DIRECTORATE)
| MANAGEMENT DIRECTORATE | DIRECTOR, FINANCIAL MANAGEMENT
|  | DIRECTOR, FEDERAL PROTECTIVE SERVICE
|  | EXECUTIVE DIRECTOR, THREAT MANAGEMENT OPERATIONS
|  | EXECUTIVE DIRECTOR, OFFICE OF THE CHIEF TECHNOLOGY OFFICER
|  | DEPUTY CHIEF INFORMATION OFFICER
|  | EXECUTIVE DIRECTOR, OFFICE OF PROCUREMENT OPERATIONS
|  | ASSISTANT DIRECTOR PROTECTIVE SECURITY OFFICER OVERSIGHT
|  | DEPUTY DIRECTOR, OFFICE OF PROCUREMENT OPERATIONS
|  | DEPUTY CHIEF PROCUREMENT OFFICER
|  | PRINCIPAL DEPUTY EXECUTIVE DIRECTOR, INFORMATION TECHNOLOGY OPERATIONS
|  | EXECUTIVE DIRECTOR, CHIEF INFORMATION SECURITY OFFICER
|  | EXECUTIVE DIRECTOR, BUSINESS MANAGEMENT DIRECTORATE
|  | DEPUTY DIRECTOR, TECHNOLOGY AND INNOVATION (CHIEF TECHNOLOGY OFFICER)
|  | EXECUTIVE DIRECTOR, STRATEGIC OPERATIONS
|  | EXECUTIVE DIRECTOR, SUSTAINABILITY AND ENVIRONMENTAL PROGRAMS
|  | EXECUTIVE DIRECTOR, HUMAN RESOURCES MANAGEMENT AND SERVICES
|  | EXECUTIVE DIRECTOR, ENTERPRISE SECURITY OPERATIONS AND SUPPORT
|  | DEPUTY CHIEF INFORMATION SECURITY OFFICER—CYBERSECURITY (CIO)
|  | CHIEF PROCUREMENT OFFICER
|  | EXECUTIVE DIRECTOR, SOLUTIONS DEVELOPMENT DIRECTORATE
|  | DIRECTOR, OFFICE OF BUDGET
|  | EXECUTIVE DIRECTOR, FACILITIES AND OPERATIONAL SUPPORT
|  | DEPUTY CHIEF READINESS SUPPORT OFFICER
|  | EXECUTIVE DIRECTOR, HUMAN CAPITAL POLICY AND PROGRAMS
|  | EXECUTIVE DIRECTOR, ACQUISITION, POLICY AND OVERSIGHT
|  | CHIEF SECURITY OFFICER
|  | DEPUTY CHIEF SECURITY OFFICER
|  | DEPUTY DIRECTOR, POLICY, INTERGOVERNMENTAL PROGRAMS AND COMMUNICATIONS
|  | ASSISTANT DIRECTOR FOR FIELD OPERATIONS (EAST), FEDERAL PROTECTIVE SERVICE
|  | EXECUTIVE DIRECTOR, ACQUISITION WORKFORCE AND SYSTEMS SUPPORT
|  | EXECUTIVE DIRECTOR, HUMAN CAPITAL BUSINESS SYSTEMS
|  | DEPUTY CHIEF DATA OFFICER
|  | DEPUTY EXECUTIVE DIRECTOR, PROGRAM ACCOUNTABILITY AND RISK MANAGEMENT
|  | DEPUTY BUDGET DIRECTOR, OFFICE OF BUDGET
|  | DEPUTY EXECUTIVE DIRECTOR, SOLUTIONS DEVELOPMENT DIRECTORATE
|  | EXECUTIVE DIRECTOR, STRATEGIC PROGRAMS DIVISION
|  | PRINCIPAL DEPUTY DIRECTOR, FEDERAL PROTECTIVE SERVICE
|  | ASSISTANT DIRECTOR OF FIELD OPERATIONS (WEST), FEDERAL PROTECTIVE SERVICES
|  | ASSISTANT DIRECTOR OF FIELD OPERATIONS (CENTRAL), FEDERAL PROTECTIVE SERVICES
|  | CHIEF DATA OFFICER
|  | DIRECTOR, DEPARTMENTAL GENERAL ACCOUNTING OFFICE/INPSECTOR GENERAL LIAISON OFFICE
|  | ASSISTANT DIRECTOR, OFFICE OF TRAINING AND CAREER DEVELOPMENT, FEDERAL PROTECTIVE SERVICE
|  | EXECUTIVE DIRECTOR, PROGRAM ACCOUNTABILITY AND RISK MANAGEMENT OFFICE
|  | ASSISTANT DIRECTOR, OFFICE OF RESOURCE MANAGEMENT, FEDERAL PROTECTIVE SERVICE
|  | EXECUTIVE DIRECTOR, DIVERSITY AND INCLUSION
|  | DIRECTOR, RISK MANAGEMENT AND ASSURANCE
|  | ASSISTANT DIRECTOR FOR RESOURCE MANAGEMENT (FINANCIAL OPERATIONS)
|  | EXECUTIVE DIRECTOR, REGIONAL MISSION SUPPORT
|  | EXECUTIVE DIRECTOR, STRATEGIC SOLUTIONS OFFICE
|  | DEPUTY CHIEF INFORMATION OFFICER
|  | CHIEF, COUNTER-INTELLIGENCE AND INVESTIGATIONS
|  | EXECUTIVE DIRECTOR, ACQUISITION POLICY AND LEGISLATION BRANCH
|  | EXECUTIVE DIRECTOR, STRATEGIC WORKFORCE PLANNING AND ANALYSIS
|  | EXECUTIVE DIRECTOR, ASSETS AND LOGISTICS
|  | EXECUTIVE DIRECTOR, HEADQUARTERS SUPPORT
|  | DEPUTY CHIEF TECHNOLOGY OFFICER
| OFFICE OF INTELLIGENCE AND ANALYSIS | DIRECTOR, OFFICE OF REGIONAL INTELLIGENCE
|  | ASSOCIATE DEPUTY UNDER SECRETARY FOR INTELLIGENCE ENTERPRISE OPERATIONS
|  | DIRECTOR, CURRENT AND EMERGING THREATS CENTER
|  | DIRECTOR, BORDER SECURITY DIVISION
|  | PRINCIPAL DEPUTY UNDER SECRETARY FOR INTELLIGENCE AND ANALYSIS
|  | CHIEF OF STAFF
|  | DEPUTY UNDER SECRETARY FOR INTELLIGENCE ENTERPRISE READINESS
|  | DIRECTOR, CYBER MISSION CENTER
| OFFICE OF STRATEGY, POLICY, AND PLANS | DEPUTY ASSISTANT SECRETARY FOR CYBER
|  | DEPUTY ASSISTANT SECRETARY FOR UNITY OF EFFORT INTEGRATION
|  | PRINCIPAL DEPUTY DIRECTOR, TERRORIST SCREENING CENTER
|  | DEPUTY ASSISTANT SECRETARY FOR INTERNATIONAL AFFAIRS (WESTERN HEMISPHERE)
|  | DEPARTMENT OF HOMELAND SECURITY (DHS) ATTACHE TO CENTRAL AMERICA
|  | DEPUTY ASSISTANT SECRETARY FOR IMMIGRATION STATISTICS
|  | DHS ATTACHÉ TO MEXICO
|  | DEPUTY UNDER SECRETARY FOR INTELLIGENCE PARTNERSHIPS
|  | DEPUTY ASSISTANT SECRETARY FOR COUNTERTERRORISM AND THREAT PREVENTION POLICY
|  | DEPUTY ASSISTANT SECRETARY FOR ECONOMIC SECURITY
| OFFICE OF THE GENERAL COUNSEL | DEPUTY ASSOCIATE GENERAL COUNSEL FOR ACQUISITION AND PROCUREMENT
|  | LEGAL ADVISOR AND ALTERNATE DESIGNATED AGENCY ETHICS OFFICIAL
|  | CHIEF OF STAFF/MANAGING COUNSEL
|  | DEPUTY ASSOCIATE GENERAL COUNSEL FOR GENERAL LAW
| OFFICE OF THE SECRETARY | DHS DEPUTY MILITARY ADVISOR
|  | DEPARTMENT OF HOMELAND SECURITY (DHS) ADVISOR TO THE DEPARTMENT OF DEFENSE (D0D)
| SCIENCE AND TECHNOLOGY DIRECTORATE | SENIOR ADVISOR TO THE DEPUTY UNDER SECRETARY FOR SCIENCE AND TECHNOLOGY
|  | DIRECTOR, OPERATIONS AND REQUIREMENTS ANALYSIS
|  | DIRECTOR, TECHNOLOGY TRANSITION
|  | PRINCIPAL DIRECTOR, OFFICE OF INNOVATION AND COLLABORATION
|  | PRINCIPAL DIRECTOR, OFFICE OF ENTERPRISE SERVICES
|  | SENIOR ADVISOR, OFFICE OF SCIENCE AND ENGINEERING
|  | DIRECTOR, SYSTEMS ENGINEERING AND STANDARDS
|  | PRINCIPAL DIRECTOR, OFFICE OF SCIENCE AND ENGINEERING
|  | DIRECTOR, TEST AND EVALUATION DIVISION
|  | DIRECTOR, COMMUNITY ENGAGEMENT AND TECHNOLOGY OPPORTUNITIES
|  | DIRECTOR, OFFICE FOR STRATEGY AND POLICY
|  | DIRECTOR, TECHNOLOGY CENTERS
|  | DIRECTOR, FINANCE AND BUDGET DIVISION
| UNITED STATES CITIZENSHIP AND IMMIGRATION SERVICES | DEPUTY GENERAL COUNSEL
|  | ASSOCIATE DIRECTOR, REFUGEE, ASYLUM AND INTERNATIONAL OPERATIONS
|  | DEPUTY ASSOCIATE DIRECTOR, FRAUD DETECTION AND NATIONAL SECURITY
|  | CHIEF, ASYLUM DIVISION
|  | DISTRICT DIRECTOR, FIELD SERVICES, NEW YORK CITY, NEW YORK
|  | DEPUTY ASSOCIATE DIRECTOR, IMMIGRATION RECORDS AND IDENTITY SERVICES DIVISION
|  | DEPUTY CHIEF INFORMATION OFFICER FOR DELIVERY
|  | DEPUTY ASSOCIATE DIRECTOR, OFFICE OF FIELD OPERATIONS
|  | CHIEF, INTAKE AND DOCUMENT PRODUCTION
|  | ASSOCIATE DIRECTOR, FRAUD DETECTION AND NATIONAL SECURITY
|  | CHIEF, HUMAN CAPITAL AND TRAINING
|  | CHIEF FINANCIAL OFFICER
|  | DISTRICT DIRECTOR, FIELD SERVICES, MIAMI, FLORIDA
|  | DIRECTOR, SERVICE CENTER, LINCOLN, NEBRASKA
|  | DIRECTOR, SERVICE CENTER, LAGUNA NIGUEL, CALIFORNIA
|  | DIRECTOR, SERVICE CENTER, DALLAS, TEXAS
|  | DIRECTOR, VERMONT SERVICE CENTER, SAINT ALBANS, VERMONT
|  | CENTRAL REGIONAL DIRECTOR (DALLAS, TEXAS)
|  | WESTERN REGIONAL DIRECTOR (LAGUNA NIGUEL, CALIFORNIA)
|  | NORTHEAST REGIONAL DIRECTOR (BURLINGTON, VERMONT)
|  | ASSOCIATE DIRECTOR, OFFICE OF MANAGEMENT
|  | CHIEF, PERFORMANCE AND QUALITY
|  | CHIEF INFORMATION OFFICER
|  | CHIEF, INTERNATIONAL AND REFUGEE AFFAIRS DIVISION
|  | REGIONAL DIRECTOR, SOUTHEAST REGION
|  | CHIEF, OFFICE OF ADMINISTRATION
|  | DIRECTOR, NATIONAL BENEFITS CENTER
|  | DISTRICT DIRECTOR, FIELD SERVICES, LOS ANGELES CALIFORNIA
|  | DISTRICT DIRECTOR, FIELD SERVICES, SAN FRANCISCO CALIFORNIA
|  | DEPUTY DIRECTOR, SERVICE CENTER, LAGUNA NIGUEL, CALIFORNIA
|  | DEPUTY DIRECTOR, SERVICE CENTER, DALLAS, TEXAS
|  | CHIEF, INTERNATIONAL OPERATIONS
|  | DEPUTY DIRECTOR, NATIONAL BENEFITS CENTER
|  | DIRECTOR, NATIONAL RECORDS CENTER
|  | ASSOCIATE DIRECTOR, IMMIGRATION RECORDS AND IDENTITY SERVICES DIVISION
|  | DEPUTY ASSOCIATE DIRECTOR, REFUGEE, ASYLUM, AND INTERNATIONAL OPERATIONS
|  | ASSOCIATE DIRECTOR, SERVICE CENTER OPERATIONS
|  | CHIEF, OFFICE OF SECURITY AND INTEGRITY
|  | DISTRICT DIRECTOR, FIELD SERVICES, TAMPA, FLORIDA
|  | DISTRICT DIRECTOR, FIELD SERVICES, NEWARK, NEW JERSEY
|  | DISTRICT DIRECTOR, FIELD SERVICES, ATLANTA, GEORGIA
|  | DEPUTY DIRECTOR, SERVICE CENTER, SAINT ALBANS, VERMONT
|  | DEPUTY DIRECTOR, SERVICE CENTER, LINCOLN, NEBRASKA
|  | ASSOCIATE DIRECTOR, FIELD OPERATIONS
|  | CHIEF, VERIFICATION DIVISION
|  | DISTRICT DIRECTOR, FIELD SERVICES, BOSTON, MASSACHUSETTS
|  | DISTRICT DIRECTOR, FIELD SERVICES, CHICAGO, ILLINOIS
|  | DEPUTY ASSOCIATE DIRECTOR, EXTERNAL AFFAIRS DIRECTORATE
|  | DEPUTY ASSOCIATE DIRECTOR, OFFICE OF MANAGEMENT
|  | DISTRICT DIRECTOR, FIELD SERVICES (CLEVELAND, OH)
|  | CHIEF, IDENTITY AND INFORMATION MANAGEMENT DIVISION
|  | COMPONENT ACQUISITION EXECUTIVE
|  | DISTRICTR DIRECTOR, FIELD OPERATIONS (SEATTLE, WA)
|  | DISTRICT DIRECTOR, FIELD SERVICES (SAN ANTONIO, TX)
|  | DISTRICT DIRECTOR, FIELD SERVICES (SAN DIEGO, CA)
|  | DISTRICT DIRECTOR, FIELD SERVICES (KANSAS CITY, MO)
|  | CHIEF REGULATORY OFFICER
|  | CHIEF BUDGET OFFICER
|  | DEPUTY CHIEF, OFFICE OF SECURITY AND INTEGRITY
|  | DISTRICT DIRECTOR, ASYLUM DIVISION (DISTRICT 1)
|  | DISTRICT DIRECTOR, ASYLUM DIVISION (DISTRICT 2)
|  | DISTRICT DIRECTOR, ASYLUM DIVISION (DISTRICT 3)
|  | DISTRICT DIRECTOR, ASYLUM DIVISION (DISTRICT 4)
|  | DISTRICT DIRECTOR, INTERNATIONAL AND REFUGEE AFFAIRS DIVISION
|  | DEPUTY CHIEF, ASYLUM DIVISION
|  | DEPUTY CHIEF, INTERNATIONAL AND REFUGEE AFFAIRS DIVISION
|  | SENIOR COUNSELOR TO THE DIRECTOR (HUMANITARIAN PROGRAMS)
|  | SENIOR COUNSELOR TO THE DIRECTOR (OPERATIONAL EFFICIENCY)
|  | SENIOR COUNSELOR TO THE DIRECTOR (OPERATIONAL EFFICIENCY)
|  | CHIEF STRATEGY OFFICER/CHIEF EVALUATION OFFICER
|  | SENIOR COUNSELOR TO THE DIRECTOR AT USCIS
|  | CHIEF, OFFICE OF CONTRACTING
|  | DEPUTY CHIEF INFORMATION OFFICE FOR OPERATIONS
|  | DISTRICT DIRECTOR, WASHINGTON, DC
|  | DEPUTY DIRECTOR, POTOMAC SERVICE CENTER
|  | DIRECTOR, POTOMAC SERVICE CENTER
|  | DISTRICT DIRECTOR, FIELD SERVICES, DALLAS, TEXAS
|  | CHIEF DATA OFFICER
|  | DEPUTY CHIEF FINANCIAL OFFICER
|  | DEPUTY ASSOCIATE DIRECTOR, SERVICE CENTER OPERATIONS
|  | DEPUTY CHIEF COUNSEL FOR FIELD MANAGEMENT
| UNITED STATES CUSTOMS AND BORDER PROTECTION | EXECUTIVE DIRECTOR, AUTOMATED COMMERCIAL ENVIRONMENT (ACE) BUSINESS OFFICE
|  | ASSISTANT COMMISSIONER, INTELLIGENCE
|  | CHIEF PATROL AGENT (DETROIT)
|  | CHIEF PATROL AGENT (BIG BEND)
|  | ASSISTANT COMMISSIONER, INTERNATIONAL AFFAIRS
|  | DIRECTOR, NATIONAL TARGETING CENTER (PASSENGER)
|  | DIRECTOR, JOINT TASK FORCE (JTF)—WEST, SAN ANTONIO, TX
|  | EXECUTIVE DIRECTOR, SOFTWARE DEVELOPMENT (BORDER ENFORCEMENT AND MANAGEMENT SYSTEMS)
|  | EXECUTIVE ASSISTANT COMMISSIONER, OPERATIONS SUPPORT
|  | EXECUTIVE DIRECTOR, PRIVACY AND DIVERSITY
|  | PORT DIRECTOR, BUFFALO
|  | PORT DIRECTOR, CALEXICO, CA
|  | PORT DIRECTOR, NOGALES, AZ
|  | DIRECTOR, FIELD OPERATIONS (BALTIMORE)
|  | CHIEF, UNITED STATES BORDER PATROL ACADEMY
|  | DIRECTOR, LEADERSHIP DEVELOPMENT CENTER
|  | DIRECTOR, NATIONAL TARGETING CENTER (CARGO)
|  | DIRECTOR, COUNTER NETWORK
|  | EXECUTIVE DIRECTOR, PROGRAMMING
|  | EXECUTIVE DIRECTOR, INVESTIGATIVE OPERATIONS
|  | EXECUTIVE DIRECTOR, INTELLIGENCE OPERATIONS
|  | ASSOCIATE CHIEF COUNSEL (TUCSON)
|  | EXECUTIVE DIRECTOR, FIELD OPERATIONS ACADEMY
|  | EXECUTIVE DIRECTOR, MISSION SUPPORT
|  | PORTFOLIO ACQUISITION EXECUTIVE
|  | SENIOR POLICY ADVISOR
|  | DEPUTY CHIEF, STRATEGIC PLANNING AND ANALYSIS
|  | DIRECTOR, NATIONAL VETTING CENTER
|  | PORT DIRECTOR, DETROIT
|  | EXECUTIVE DIRECTOR, LAW ENFORCEMENT SAFETY AND COMPLIANCE
|  | EXECUTIVE DIRECTOR, OPERATIONS
|  | DEPUTY EXECUTIVE DIRECTOR, OPEATIONS
|  | DEPUTY CHIEF PATROL AGENT (LAREDO)
|  | EXECUTIVE DIRECTOR, SECURITY OPERATIONS
|  | EXECUTIVE DIRECTOR, ENTERPRISE INFRASTRUCTURE AND OPERATIONS
|  | CHIEF PATROL AGENT, BUFFALO
|  | SENIOR ADVISOR FOR INFORMATION AND TECHNOLOGY
|  | SENIOR ADVISOR FOR INTELLIGENCE
|  | CHIEF MANAGEMENT AND GOVERNANCE OFFICER
|  | DEPUTY ASSISTANT COMMISSIONER, SOFTWARE APPLICATIONS AND SERVICES
|  | DEPUTY ASSISTANT COMMISSIONER, INFRASTRUCTURE AND SUPPORT SERVICES
|  | EXECUTIVE DIRECTOR, INTERGOVERNMENTAL PUBLIC LIAISON
|  | PORT DIRECTOR (OTAY MESA)
|  | CHIEF PATROL AGENT, GRAND FORKS
|  | CHIEF PATROL AGENT, BLAINE
|  | CHIEF PATROL AGENT, MIAMI
|  | EXECUTIVE DIRECTOR, INTELLIGENCE ENTERPRISE
|  | DEPUTY EXECUTIVE ASSISTANT COMMISSIONER, ENTERPRISE SERVICES
|  | EXECUTIVE DIRECTOR, ACQUISITION GOVERNANCE AND OVERSIGHT
|  | DIRECTOR, FIELD OPERATIONS (PRECLEARANCE)
|  | DEPUTY CHIEF PATROL AGENT, TUCSON
|  | PORT DIRECTOR, SAN YSIDRO
|  | DEPUTY ASSISTANT COMMISSIONER, ACQUISITION
|  | DEPUTY ASSISTANT COMMISSIONER, INTERNATIONAL AFFAIRS
|  | DIRECTOR OF OPERATIONS, NORTHERN REGION, WDC, (CBP) AMO
|  | EXECUTIVE DIRECTOR, AIR AND MARINE OPERATIONS CENTER
|  | DIRECTOR OF OPERATIONS, SOUTHEASTERN REGION
|  | EXECUTIVE DIRECTOR, OPERATIONS, SOUTHWEST REGION
|  | EXECUTIVE DIRECTOR, PROGRAM MANAGEMENT OFFICE
|  | DEPUTY CHIEF PATROL AGENT, SAN DIEGO
|  | CHIEF PATROL AGENT, EL CENTRO, CALIFORNIA
|  | EXECUTIVE DIRECTOR, TALENT MANAGEMENT
|  | EXECUTIVE DIRECTOR, TRAINING, SAFETY AND STANDARDS
|  | EXECUTIVE DIRECTOR, NATIONAL AIR SECURITY OPERATIONS, AIR AND MARINE
|  | EXECUTIVE DIRECTOR, PASSENGER SYSTEMS PROGRAM OFFICE
|  | EXECUTIVE DIRECTOR, ENTERPRISE DATA MANAGEMENT AND ENGINEERING
|  | DEPUTY ASSISTANT COMMISSIONER, PROFESSIONAL RESPONSIBILITY
|  | DEPUTY CHIEF, LAW ENFORCEMENT OPERATIONS, OFFICE OF BORDER PATROL
|  | EXECUTIVE DIRECTOR, MISSION SUPPORT, AIR AND MARINE
|  | EXECUTIVE DIRECTOR, TRADE POLICY AND PROGRAMS
|  | EXECUTIVE ASSISTANT COMMISSIONER, ENTERPRISE SERVICES
|  | EXECUTIVE DIRECTOR OF OPERATIONS, AIR AND MARINE OPERATIONS
|  | DEPUTY ASSISTANT COMMISSIONER, INTELLIGENCE
|  | EXECUTIVE DIRECTOR, STRATEGIC PLANNING AND ANALYSIS
|  | PORT DIRECTOR, LAREDO
|  | EXECUTIVE DIRECTOR, FINANCIAL OPERATIONS
|  | EXECUTIVE DIRECTOR, TRADE REMEDY LAW ENFORCEMENT
|  | DEPUTY EXECUTIVE DIRECTOR, LAW ENFORCEMENT OPERATIONAL PROGRAMS, OFFICE OF BORDER PATROL
|  | EXECUTIVE DIRECTOR, CARGO SYSTEMS
|  | EXECUTIVE DIRECTOR, FIELD SUPPORT
|  | EXECUTIVE DIRECTOR, TARGETING AND ANALYSIS SYSTEMS
|  | EXECUTIVE DIRECTOR, MISSION SUPPORT
|  | CHIEF, LAW ENFORCEMENT OPERATIONS, OFFICE OF BORDER PATROL
|  | EXECUTIVE DIRECTOR, ENTERPRISE NETWORKS AND TECHNOLOGY SUPPORT
|  | DIRECTOR, FIELD OPERATIONS (ATLANTA)
|  | EXECUTIVE DIRECTOR, CARGO AND CONVEYANCE SECURITY
|  | EXECUTIVE DIRECTOR, PLANNING, ANALYSIS AND REQUIREMENTS EVALUATION (PARE)
|  | EXECUTIVE ASSISTANT COMMISSIONER, AIR AND MARINE
|  | CHIEF PATROL AGENT (DEL RIO)
|  | EXECUTIVE DIRECTOR, ADMISSIBILITY AND PASSENGER PROGRAMS
|  | CHIEF PATROL AGENT, YUMA, ARIZONA
|  | EXECUTIVE DIRECTOR, REGLUATIONS AND RULINGS
|  | ASSISTANT COMMISSIONER, FINANCE, CHIEF FINANCIAL OFFICER
|  | EXECUTIVE DIRECTOR, BUDGET
|  | ASSISTANT COMMISSIONER, INFORMATION AND TECHNOLOGY
|  | DEPUTY CHIEF (DEPUTY EXECUTIVE ASSISTANT COMMISSIONER), BORDER PATROL
|  | EXECUTIVE DIRECTOR, OPERATIONS
|  | DIRECTOR, FIELD OPERATIONS (SEATTLE)
|  | DIRECTOR, FIELD OPERATIONS (DETROIT)
|  | DIRECTOR, FIELD OPERATIONS (BUFFALO)
|  | ASSISTANT COMMISSIONER, LABORATORIES AND SCIENTIFIC SERVICES
|  | EXECUTIVE ASSISTANT COMMISSIONER, FIELD OPERATIONS
|  | DEPUTY EXECUTIVE ASSISTANT COMMISSIONER, FIELD OPERATIONS
|  | DEPUTY ASSISTANT COMMISSIONER, OFFICE OF TRAINING AND DEVELOPMENT
|  | DIRECTOR, FIELD OPERATIONS (NEW YORK)
|  | CHIEF ACCOUNTABILITY OFFICER
|  | PORT DIRECTOR, NEWARK
|  | PORT DIRECTOR, MIAMI INTERNATIONAL AIRPORT
|  | DIRECTOR, FIELD OPERATIONS (MIAMI)
|  | EXECUTIVE ASSISTANT COMMISSIONER, TRADE
|  | EXECUTIVE DIRECTOR, REGULATORY AUDIT AND AGENCY ADVISORY SERVICES
|  | ASSISTANT COMMISSIONER, HUMAN RESOURCES MANAGEMENT
|  | DEPUTY ASSISTANT COMMISSIONER, HUMAN RESOURCES MANAGEMENT
|  | EXECUTIVE DIRECTOR, HUMAN RESOURCES POLICY AND PROGRAMS
|  | ASSISTANT COMMISSIONER, FACILITIES AND ASSET MANAGMENT, CHIEF READINESS SUPPORT OFFICER
|  | ASSISTANT COMMISSIONER, TRAINING AND DEVELOPMENT
|  | DEPUTY COMMISSIONER
|  | EXECUTIVE DIRECTOR, INTELLIGENCE AND ANALYSIS
|  | PORT DIRECTOR, JFK INTERNATIONAL AIRPORT
|  | EXECUTIVE DIRECTOR, PLANNING, PROGRAM ANALYSIS AND EVALUATION
|  | DEPUTY CHIEF COUNSEL
|  | ASSISTANT COMMISSIONER, ACQUISITION, CHIEF ACQUISITION OFFICER
|  | DEPUTY CHIEF PATROL AGENT, RIO GRANDE VALLEY
|  | DEPUTY CHIEF PATROL AGENT, EL PASO
|  | CHIEF PATROL AGENT, RIO GRANDE VALLEY
|  | PORT DIRECTOR (EL PASO)
|  | DEPUTY ASSISTANT COMMISSIONER, INFORMATION AND TECHNOLOGY
|  | DEPUTY ASSISTANT COMMISSIONER, FACILITIES AND ASSET MANAGEMENT
|  | CHIEF PATROL AGENT (TUCSON)
|  | PORT DIRECTOR, LOS ANGELES/LONG BEACH SEAPORT
|  | EXECUTIVE DIRECTOR, PROCUREMENT
|  | DEPUTY EXECUTIVE ASSISTANT COMMISSIONER, OPERATIONS SUPPORT
|  | EXECUTIVE DIRECTOR, MISSION SUPPORT
|  | EXECUTIVE DIRECTOR, AGRICULTURE PROGRAMS AND TRADE LIAISON
|  | PORT DIRECTOR, LOS ANGELES INTERNATIONAL AIRPORT
|  | EXECUTIVE DIRECTOR, PLANNING, PROGRAM ANALYSIS, AND EVALUATION
|  | EXECUTIVE DIRECTOR, CYBERSECURITY OPERATIONS AND POLICY
|  | DEPUTY ASSISTANT COMMISSIONER, FINANCE
|  | ASSOCIATE CHIEF COUNSEL FOR ETHICS, LABOR, AND EMPLOYMENT
|  | ASSOCIATE CHIEF COUNSEL—SOUTHEAST
|  | ASSOCIATE CHIEF COUNSEL—NEW YORK
|  | ASSOCIATE CHIEF COUNSEL, CHICAGO
|  | ASSOCIATE CHIEF COUNSEL—HOUSTON
|  | ASSOCIATE CHIEF COUNSEL—LOS ANGELES
|  | CHIEF (EXECUTIVE ASSISTANT COMMISSIONER), UNITED STATES BORDER PATROL
|  | CHIEF PATROL AGENT, LAREDO
|  | DIRECTOR, FIELD OPERATIONS (SAN FRANCISCO)
|  | CHIEF PATROL AGENT (EL PASO)
|  | CHIEF PATROL AGENT, (SAN DIEGO)
|  | DIRECTOR, FIELD OPERATIONS (CHICAGO)
|  | DIRECTOR, FIELD OPERATIONS (LOS ANGELES)
|  | DIRECTOR, FIELD OPERATIONS (HOUSTON)
|  | DIRECTOR, FIELD OPERATIONS (LAREDO)
|  | DIRECTOR, FIELD OPERATIONS (SAN DIEGO)
|  | DEPUTY EXECUTIVE ASSISTANT COMMISSIONER, AIR AND MARINE
|  | DEPUTY EXECUTIVE DIRECTOR, PROGRAM MANAGEMENT
|  | DIRECTOR, FIELD OPERATIONS (EL PASO)
|  | ASSOCIATE CHIEF COUNSEL—ENFORCEMENT
|  | ASSOCIATE CHIEF COUNSEL—TRADE AND FINANCE
|  | DIRECTOR, FIELD OPERATIONS (SAN JUAN)
|  | ASSISTANT COMMISSIONER, PROFESSIONAL RESPONSIBILITY
|  | DEPUTY EXECUTIVE ASSISTANT COMMISSIONER, TRADE
|  | DIRECTOR, FIELD OPERATIONS (BOSTON)
|  | DIRECTOR, FIELD OPERATIONS (TUCSON)
|  | PORT DIRECTOR, SAN FRANCISCO
|  | EXECUTIVE DIRECTOR, NATIONAL TARGETING CENTER
| UNITED STATES IMMIGRATION AND CUSTOMS ENFORCEMENT | SPECIAL AGENT IN CHARGE (MIAMI)
|  | ASSISTANT DIRECTOR, NATIONAL SECURITY
|  | SPECIAL AGENT IN CHARGE, NEW YORK
|  | DEPUTY EXECUTIVE ASSOCIATE DIRECTOR, HOMELAND SECURITY INVESTIGATIONS
|  | SPECIAL AGENT IN CHARGE, HOUSTON
|  | SPECIAL AGENT IN CHARGE, LOS ANGELES
|  | SPECIAL AGENT IN CHARGE, NEW ORLEANS
|  | SPECIAL AGENT IN CHARGE, SAN ANTONIO
|  | SPECIAL AGENT IN CHARGE, SAN DIEGO
|  | ASSISTANT DIRECTOR, INTELLIGENCE, HOMELAND SECURITY INVESTIGATIONS
|  | SPECIAL AGENT IN CHARGE, SEATTLE
|  | DEPUTY ASSISTANT DIRECTOR, FINANCIAL AND FRAUD
|  | ASSISTANT DIRECTOR, INTERNATIONAL OPERATIONS
|  | ASSOCIATE DIRECTOR, OPERATIONS
|  | SPECIAL AGENT IN CHARGE, CHICAGO
|  | SPECIAL AGENT IN CHARGE, DALLAS
|  | SPECIAL AGENT IN CHARGE, SAN FRANCISCO
|  | FIELD OFFICE DIRECTOR, OFFICE OF ENFORCEMENT AND REMOVAL, SAN FRANCISCO, CA
|  | SPECIAL AGENT IN CHARGE, BALTIMORE
|  | DEPUTY PRINCIPAL LEGAL ADVISOR FOR ENFORCEMENT AND LITIGATION
|  | EXECUTIVE ASSOCIATE DIRECTOR, ENFORCEMENT AND REMOVAL OPERATIONS
|  | ASSISTANT DIRECTOR, ADMINISTRATIVE OPERATIONS
|  | DEPUTY ASSISTANT DIRECTOR, ADMINISTRATIVE OPERATIONS
|  | SPECIAL AGENT IN CHARGE (SAC), NASHVILLE, TN
|  | FIELD OFFICE DIRECTOR, OFFICE OF ENFORCEMENT AND REMOVAL OPERATIONS, PHILADELPHIA, PENNSYLVANIA
|  | FIELD OFFICE DIRECTOR, OFFICE OF ENFORCEMENT AND REMOVAL, DALLAS, TEXAS
|  | EXECUTIVE ASSOCIATE DIRECTOR, HOMELAND SECURITY INVESTIGATIONS
|  | EXECUTIVE DEPUTY PRINCIPAL LEGAL ADVISOR
|  | DEPUTY EXECUTIVE ASSOCIATE DIRECTOR, MANAGEMENT AND ADMINISTRATION
|  | DEPUTY ASSISTANT SECRETARY FOR IMMIGRATION AND CUSTOMS ENFORCEMENT
|  | SPECIAL AGENT IN CHARGE, LAS VEGAS, NV
|  | ASSISTANT DIRECTOR, DIVERSITY AND CIVIL RIGHTS
|  | DEPUTY CHIEF HUMAN CAPITAL OFFICER FOR STRATEGY AND SERVICES
|  | CHIEF HUMAN CAPITAL OFFICER
|  | CHIEF INFORMATION OFFICER
|  | DEPUTY DIRECTOR, INTERNATIONAL CRIMINAL POLICE ORGANIZATION (INTERPOL)
|  | DEPUTY ASSISTANT DIRECTOR, INVESTIGATIVE SERVICES
|  | BUDGET DIRECTOR
|  | SPECIAL AGENT IN CHARGE, EL PASO
|  | SPECIAL AGENT IN CHARGE, PHOENIX
|  | DEPUTY ASSISTANT DIRECTOR, FIELD OPERATIONS (INTERNATIONAL), ERO
|  | FIELD OFFICE DIRECTOR, OFFICE OF ENFORCEMENT AND REMOVAL, ST. PAUL, MN
|  | FIELD OFFICE DIRECTOR, OFFICE OF ENFORCEMENT AND REMOVAL, SEATTLE, ERO
|  | DEPUTY ASSISTANT DIRECTOR, INTERNATIONAL OPERATIONS
|  | SPECIAL AGENT IN CHARGE, WASHINGTON, DC
|  | SPECIAL AGENT IN CHARGE, ATLANTA
|  | ASSISTANT DIRECTOR, REPATRIATION DIVISION, OFFICE OF ENFORCEMENT AND REMOVAL OPERATIONS
|  | COMPTROLLER
|  | ASSISTANT DIRECTOR, ENFORCEMENT DIVISION, OFFICE OF ENFORCEMENT AND REMOVAL OPERATIONS
|  | HEAD OF CONTRACTING ACTIVITY
|  | EXECUTIVE ASSOCIATE DIRECTOR, MANAGEMENT AND ADMINISTRATION
|  | CHIEF FINANCIAL OFFICER
|  | ASSISTANT DIRECTOR, INFORMATION GOVERNANCE AND PRIVACY
|  | ASSISTANT DIRECTOR, ENFORCEMENT AND REMOVAL OPERATIONS, FIELD OPERATIONS
|  | DEPUTY CHIEF FINANCIAL OFFICER
|  | ASSISTANT DIRECTOR, CUSTODY OPERATIONS DIVISION, OFFICE OF ENFORCEMENT AND REMOVAL OPERATIONS
|  | ASSISTANT DIRECTOR, UNITED STATES IMMIGRATION AND CUSTOMS ENFORCEMENT SERVICES HEALTH CORPS
|  | FIELD OFFICE DIRECTOR, OFFICE OF ENFORCEMENT AND REMOVAL OPERATIONS, SAN DIEGO, CALIFORNIA
|  | FIELD OFFICE DIRECTOR, OFFICE OF ENFORCEMENT AND REMOVAL OPERATIONS, SAN ANTONIO, TEXAS
|  | ASSISTANT DIRECTOR, OPERATIONS SUPPORT, OFFICE OF ENFORCEMENT AND REMOVAL OPERATIONS
|  | ASSISTANT DIRECTOR, OFFICE OF LEADERSHIP AND CAREER DEVELOPMENT
|  | DEPUTY ASSOCIATE DIRECTOR, OPERATIONS
|  | ASSISTANT DIRECTOR, OPERATION INVESTIGATIONS
|  | DEPUTY EXECUTIVE ASSOCIATE DIRECTOR, ENFORCEMENT AND REMOVAL OPERATIONS
|  | DEPUTY ASSISTANT DIRECTOR, CYBER
|  | CHIEF COUNSEL, NEW YORK
|  | DEPUTY PRINCIPAL LEGAL ADVISOR FOR FIELD OPERATIONS
|  | DEPUTY PRINCIPAL LEGAL ADVISOR FOR GENERAL AND ADMINISTRATIVE LAW
|  | ASSISTANT DIRECTOR, OFFICE OF INVESTIGATIONS (DOMESTIC OPERATIONS)
|  | DEPUTY ASSISTANT DIRECTOR, FIELD OPERATIONS (DOMESTIC OPERATIONS—WEST), OFFICE OF ENFORCEMENT AND REMOVAL OPERATIONS
|  | DEPUTY ASSISTANT DIRECTOR, TARGETING OPERATIONS DIVISION, ENFORCEMENT AND REMOVAL OPERATIONS
|  | DEPUTY CHIEF HUMAN CAPITAL OFFICER FOR OPERATIONS
|  | SPECIAL AGENT IN CHARGE, DETROIT
|  | DEPUTY CHIEF INFORMATION OFFICER
|  | ASSISTANT DIRECTOR, CYBER AND OPERATIONAL TECHNOLOGY
|  | FIELD OFFICE DIRECTOR, OFFICE OF ENFORCEMENT AND REMOVAL, ALTANTA, GEORGIA
|  | FIELD OFFICE DIRECTOR, OFFICE OF ENFORCEMENT AND REMOVAL, CHICAGO, ILLINOIS
|  | FIELD OFFICE DIRECTOR, OFFICE OF ENFORCEMENT AND REMOVAL, HOUSTON, TEXAS
|  | SPECIAL AGENT IN CHARGE, DENVER
|  | ASSISTANT DIRECTOR, GLOBAL TRADE
|  | FIELD OFFICE DIRECTOR, OFFICE OF ENFORCEMENT AND REMOVAL, EL PASO, TEXAS
|  | ASSISTANT DIRECTOR, SECURITY DIVISION
|  | DEPUTY ASSISTANT DIRECTOR, FIELD OPERATIONS (DOMESTIC OPERATIONS—EAST)
|  | DEPUTY ASSISTANT DIRECTOR NATIONAL SECURITY PROGRAMS
|  | DEPUTY ASSISTANT DIRECTOR, PUBLIC SAFETY AND BORDER SECURITY
|  | DEPUTY ASSISTANT DIRECTOR, INTELLIGENCE, HOMELAND SECURITY INVESTIGATIONS
|  | SENIOR ADVISOR, GLOBAL TRADE
|  | SENIOR BUDGET ADVISOR
|  | DEPUTY ASSISTANT DIRECTOR, DOMESTIC OPERATIONS
|  | DEPUTY ASSISTANT DIRECTOR, OFFICE OF REGULATORY AFFAIRS AND POLICY (2)
|  | ASSISTANT DIRECTOR, STRATEGIC PLANNING AND REQUIREMENTS
|  | DEPUTY ASSISTANT DIRECTOR, OPERATIONAL TECHNOLOGY DIVISION
|  | ASSISTANT DIRECTOR, NON-DETAINED MANAGEMENT DIVISION
|  | CHIEF INFORMATION SECURITY OFFICER
|  | DEPUTY ASSISTANT DIRECTOR, JOINT TASK FORCE-EAST
|  | FIELD OFFICE DIRECTOR, WASHINGTON, DC
|  | DEPUTY HEAD OF CONTRACTING ACTIVITY
|  | SPECIAL AGENT IN CHARGE, KANSAS CITY
|  | CHIEF COUNSEL, NEW ORLEANS
|  | DEPUTY ASST. DIRECTOR, OVERSIGHT, COMPLIANCE AND ACQUISITION DIVISION
|  | ASSOCIATE DEPUTY PRINCIPAL LEGAL ADVISOR
|  | FIELD OFFICE DIRECTOR, ENFORCEMENT AND REMOVAL OPERATIONS, HARLINGEN, TX
|  | SPECIAL AGENT IN CHARGE, HSI, CHARLOTTE, NC
|  | ASSISTANT DIRECTOR, CENTER FOR COUNTERING HUMAN TRAFFICKING
|  | ASSISTANT DIRECTOR, LAW ENFORCEMENT SYSTEMS AND ANALYSIS (LESA), ERO
|  | FIELD OFFICE DIRECTOR, OFFICE OF ENFORCEMENT AND REMOVAL, BUFFALO, NY
|  | FIELD OFFICE DIRECTOR, OFFICE OF ENFORCEMENT AND REMOVAL, BOSTON, MA
|  | FIELD OFFICE DIRECTOR, OFFICE OF ENFORCEMENT AND REMOVAL, DENVER, CO
|  | CHIEF COUNSEL, CHICAGO
|  | CHIEF COUNSEL, SAN ANTONIO
|  | CHIEF COUNSEL, PHOENIX
|  | CHIEF, FACILITIES AND ASSET ADMINISTRATION
|  | ASSISTANT DIRECTOR OFFICE OF INVESTMENT AND PROGRAM ACCOUNTABILITY
|  | SPECIAL AGENT IN CHARGE, HONOLULU, HI
|  | DEPUTY ASSISTANT DIRECTOR, COUNTER-PROLIFERATION
|  | SPECIAL AGENT IN CHARGE, SAN JUAN, PUERTO RICO
|  | FIELD OFFICE DIRECTOR, OFFICE OF ENFORCEMENT AND REMOVAL OPERATIONS, PHOENIX, ARIZONA
|  | FIELD OFFICE DIRECTOR, OERO, LOS ANGELES, CALIFORNIA
|  | FIELD OFFICE DIRECTOR, OFFICE OF ERO, NEW YORK
|  | SPECIAL AGENT IN CHARGE, SAINT PAUL, MINNESOTA
|  | SPECIAL AGENT IN CHARGE, TAMPA, FLORIDA
|  | SPECIAL AGENT IN CHARGE, NEWARK, NEW JERSEY
|  | SPECIAL AGENT IN CHARGE, BOSTON, MASSACHUSETTS
|  | SPECIAL AGENT IN CHARGE, PHILADELPHIA, PENNSYLVANIA
|  | SPECIAL AGENT IN CHARGE, BUFFALO, NEW YORK
|  | FIELD OFFICE DIRECTOR, OFFICE OF ENFORCEMENT AND REMOVAL OPERATIONS, MIAMI, FLORIDA
|  | FIELD OFFICE DIRECTOR, OFFICE OF ENFORCEMENT AND REMOVAL, NEW ORLEANS, LOUISIANA
|  | DEPUTY ASSISTANT DIRECTOR, STUDENT AND EXCHANGE VISITOR PROGRAM
|  | ASSISTANT DIRECTOR, COUNTERING—TRANSNATIONAL ORGANIZED CRIME
|  | CHIEF COUNSEL, MIAMI
|  | CHIEF COUNSEL FOR LOS ANGELES
|  | ASSISTANT DIRECTOR, INSPECTIONS AND DETENTION OVERSIGHT DIVISION
|  | DEPUTY ASSISTANT DIRECTOR, DOMESTIC OPERATIONS
| UNITED STATES COAST GUARD | DIRECTOR, INCIDENT MANAGEMENT AND PREPAREDNESS POLICY
|  | DEPUTY ASSISTANT COMMANDANT FOR CAPABILITY
|  | DIRECTOR OF FINANCIAL OPERATIONS/COMPTROLLER
|  | ASSISTANT COMMANDANT FOR RESOURCES AND CHIEF FINANCIAL OFFICER
|  | DEPUTY FOR MISSION SUPPORT—MATERIEL READINESS
|  | DIRECTOR, ASSISTANT COMMANDANT FOR HUMAN RESOURCES
|  | DEPUTY DIRECTOR OF ACQUISITION PROGRAMS
|  | DEPUTY ASSISTANT COMMANDANT FOR HUMAN RESOURCES
|  | DIRECTOR, NATIONAL POLLUTION FUNDS CENTER
|  | HEAD OF CONTRACTING ACTIVITY
|  | DEPUTY ASSISTANT COMMANDANT FOR ACQUISITION/DIRECTOR OF ACQUISITION SERVICES
|  | DIRECTOR, MARINE TRANSPORTATION SYSTEM MANAGEMENT
|  | DIRECTOR, COAST GUARD INVESTIGATIVE SERVICE
|  | ASSISTANT JUDGE ADVOCATE GENERAL FOR ACQUISITION AND LITIGATION
|  | DEPUTY ASSISTANT COMMANDANT FOR RESOURCES AND DEPUTY CHIEF FINANCIAL OFFICER
|  | DEPUTY ASSISTANT COMMANDANT FOR INTELLIGENCE
|  | DEPUTY ASSISTANT COMMANDANT FOR COMMAND, CONTROL, COMMUNICATIONS, COMPUTERS AND INFORMATION TECHNOLOGY/DEPUTY CHIEF INFORMATION OFFICER
| UNITED STATES SECRET SERVICE | DEPUTY DIRECTOR, UNITED STATES SECRET SERVICE
|  | TALENT DEVELOPMENT EXECUTIVE
|  | ASSISTANT DIRECTOR, INVESTIGATIONS
|  | ASSISTANT DIRECTOR, PROTECTIVE OPERATIONS
|  | CHIEF TECHNOLOGY OFFICER, TECHNICAL DEVELOPMENT AND MISSION SUPPORT
|  | ASSISTANT DIRECTOR, PROFESSIONAL RESPONSIBILTY
|  | DEPUTY ASSISTANT DIRECTOR, OFFICE OF PROTECTIVE OPERATIONS
|  | SPECIAL AGENT IN CHARGE—PRESIDENTIAL PROTECTIVE DIVISION
|  | SPECIAL AGENT IN CHARGE—NEW YORK
|  | CHIEF HUMAN CAPITAL OFFICER
|  | CHIEF, NATIONAL THREAT ASSESSMENT CENTER
|  | CHIEF INFORMATION OFFICER
|  | DEPUTY SPECIAL AGENT IN CHARGE—VICE PRESIDENTIAL PROTECTIVE DIVISION
|  | SPECIAL AGENT IN CHARGE—ATLANTA FIELD OFFICE
|  | SPECIAL AGENT IN CHARGE—HONOLULU FIELD OFFICE
|  | DEPUTY ASSISTANT DIRECTOR, OFFICE OF INVESTIGATIONS
|  | CHIEF COUNSEL
|  | SPECIAL AGENT IN CHARGE—SAN FRANCISCO FIELD OFFICE
|  | SPECIAL AGENT IN CHARGE—DALLAS FIELD OFFICE
|  | CHIEF SECUIRTY OFFICER
|  | SPECIAL AGENT IN CHARGE (DIGNITARY PROTECTIVE DIVISION)
|  | DEPUTY CHIEF STRATEGY OFFICER, STRATEGIC PLANNING AND POLICY
|  | DEPUTY SPECIAL AGENT IN CHARGE—PRESIDENTIAL PROTECTIVE DIVISION
|  | CHIEF STRATEGY OFFICER, STRATEGIC PLANNING AND POLICY
|  | DEPUTY ASSISTANT DIRECTOR, OFFICE OF INVESTIGATIONS
|  | SPECIAL AGENT IN CHARGE—VICE PRESIDENTIAL PROTECTIVE DIVISION
|  | SPECIAL AGENT IN CHARGE—TECHNICAL SECURITY DIVISION
|  | SPECIAL AGENT IN CHARGE—PHILADELPHIA FIELD OFFICE
|  | SPECIAL AGENT IN CHARGE—HOUSTON FIELD OFFICE
|  | DEPUTY ASSISTANT DIRECTOR, TRAINING
|  | DEPUTY ASSISTANT DIRECTOR, TECHNICAL DEVELOPMENT AND MISSION SUPPORT
|  | DEPUTY SPECIAL AGENT IN CHARGE (PRESIDENTIAL PROTECTIVE DIVISION)
|  | SPECIAL AGENT IN CHARGE—WASHINGTON FIELD OFFICE
|  | DEPUTY CHIEF FINANCIAL OFFICER
|  | DEPUTY CHIEF, PROFESSIONAL RESPONSIBILITY
|  | SPECIAL AGENT IN CHARGE—LOS ANGELES FIELD OFFICE
|  | DEPUTY ASSISTANT DIRECTOR—OFFICE OF INVESTIGATIONS
|  | SPECIAL AGENT IN CHARGE, CHICAGO FIELD OFFICE
|  | DEPUTY ASSISTANT DIRECTOR, PROTECTIVE OPERATIONS
|  | DEPUTY ASSISTANT DIRECTOR, OFFICE OF INVESTIGATIONS
|  | CHIEF FINANCIAL OFFICER
|  | DIRECTOR, UNITED STATES SECRET SERVICE
|  | DEPUTY ASSISTANT DIRECTOR, INTEGRITY
|  | SPECIAL AGENT IN CHARGE, SPECIAL OPERATIONS DIVISION
|  | DEPUTY ASSISTANT DIRECTOR, OFFICE OF INTERGOVERNMENTAL AND LEGISLATIVE AFFAIRS
|  | SPECIAL AGENT IN CHARGE—CRIMINAL INVESTIGATIVE DIVISION
|  | SPECIAL AGENT IN CHARGE (ROWLEY TRAINING CENTER)
|  | SPECIAL AGENT IN CHARGE—ROME
|  | EQUITY AND EMPLOYEE SUPPORT SERVICES EXECUTIVE
|  | SPECIAL AGENT IN CHARGE, PROTECTIVE INTELLIGENCE AND ASSESSMENT DIVISION
|  | ASSISTANT DIRECTOR—OFFICE OF INTERGOVERNMENTAL AND LEGISLATIVE AFFAIRS
|  | COMPONENT ACQUISITION EXECUTIVE
|  | CHIEF OF STAFF
|  | DEPUTY ASSISTANT DIRECTOR, ENTERPRISE READINESS
|  | DEPUTY CHIEF HUMAN CAPITAL OFFICER
|  | SENIOR ADVISOR (4)
|  | DEPUTY CHIEF INFORMATION OFFICER
|  | SENIOR ADVISOR, INTERGOVERNMENTAL AND LEGISLATIVE AFFAIRS
|  | ASSISTANT DIRECTOR, TRAINING
|  | CHIEF OPERATING OFFICER
|  | DEPUTY ASSISTANT DIRECTOR, OFFICE OF PROTECTIVE OPERATIONS
|  | CHIEF OF COMMUNICATIONS
|  | DEPUTY CHIEF, PROTECTIVE OPERATIONS
|  | DEPUTY CHIEF COUNSEL/PRINCIPAL ETHICS OFFICIAL
|  | SPECIAL AGENT IN CHARGE—MIAMI FIELD OFFICE
|  | SPECIAL AGENT IN CHARGE, PARIS FIELD OFFICE
|  | DEPUTY ASSISTANT DIRECTOR, HUMAN RESOURCES
|  | DEPUTY ASSISTANT DIRECTOR, STRATEGIC INTELLIGENCE AND INFORMATION
|  | ASSISTANT DIRECTOR, OFFICE OF STRATEGIC INTELLIGENCE AND INFORMATION
MANAGEMENT DIRECTORATE | MANAGEMENT DIRECTORATE | COMPONENT ACQUISITION EXECUTIVE, PROGRAM ACCOUNTABILITY AND RISK MANAGEMENT
|  | DEPUTY DIRECTOR OF OPERATIONS
|  | ASSISTANT DIRECTOR, HUMAN CAPITAL OPERATIONS
OFFICE OF THE SECRETARY | COUNTERING WEAPONS OF MASS DESTRUCTION OFFICE | ASSISTANT DIRECTOR, OPERATIONS SUPPORT DIRECTORATE
|  | DEPUTY ASSISTANT SECRETARY FOR STRATEGY, POLICY, AND PLANS
|  | CHIEF OF STAFF
|  | DIRECTOR OF ACQUISITION
|  | ASSOCIATE DEPUTY ASSISTANT SECRETARY FOR SYSTEMS SUPPORT
|  | CHIEF FINANCIAL MANAGER
| OFFICE FOR CIVIL RIGHTS AND CIVIL LIBERTIES | DEPUTY CIVIL RIGHTS AND CIVIL LIBERTIES OFFICER, PROGRAMS AND COMPLIANCE
|  | DIRECTOR CIVIL RIGHTS AND CIVIL LIBERTIES PROGRAMS BRANCH
|  | DEPUTY CIVIL RIGHTS AND CIVIL LIBERTIES OFFICER, EQUAL EMPLOYMENT OPPORTUNITY AND DIVERSITY DIRECTOR
|  | DIRECTOR, COMPLIANCE BRANCH
| OFFICE OF HEALTH SECURITY | DIRECTOR, WORKFORCE HEALTH AND MEDICAL SUPPORT/DEPUTY CHIEF MEDICAL OFFICER
|  | DEPUTY ASSISTANT SECRETARY FOR HEALTH SECURITY
| OFFICE OF PARTNERSHIP AND ENGAGEMENT | EXECUTIVE DIRECTOR, SOCIAL IMPACT (2)
| OFFICE OF THE SECRETARY | DEPUTY EXECUTIVE SECRETARY
DEPARTMENT OF HOMELAND SECURITY OFFICE OF INSPECTOR GENERAL | DEPARTMENT OF HOMELAND SECURITY OFFICE OF INSPECTOR GENERAL | DEPUTY INSPECTOR GENERAL FOR MANAGEMENT
|  | DEPUTY INSPECTOR GENERAL FOR AUDITS
|  | COUNSEL TO THE INSPECTOR GENERAL
|  | DEPUTY INSPECTOR GENERAL FOR INVESTIGATIONS
|  | ASSISTANT INSPECTOR GENERAL FOR INFORMATION TECHNOLOGY AUDITS
|  | DEPUTY INSPECTOR GENERAL FOR INSPECTIONS AND EVALUATIONS
|  | DEPUTY COUNSEL
|  | ASSISTANT INSPECTOR GENERAL FOR AUDITS (DISASTER AND INFRASTRUCTURE)
|  | ASSISTANT INSPECTOR GENERAL FOR AUDITS (FACETS)
|  | PRINCIPAL DEPUTY INSPECTOR GENERAL
|  | ASSISTANT INSPECTOR GENERAL FOR INSPECTIONS AND EVALUATIONS
|  | ASSISTANT INSPECTOR GENERAL FOR AUDITS (LAW ENFORCEMENT AND TERRORISM)
|  | ASSISTANT INSPECTOR GENERAL FOR INVESTIGATIONS (FIELD)
|  | ASSISTANT INSPECTOR GENERAL FOR INTEGRITY
|  | ASSISTANT INSPECTOR GENERAL FOR INNOVATION
|  | DEPUTY INSPECTOR GENERAL FOR INNOVATION
|  | CHIEF OF STAFF
|  | DEPUTY INSPECTOR GENERAL FOR INTEGRITY
|  | ASSISTANT INSPECTOR GENERAL FOR INVESTIGATIONS (HEADQUARTERS)
|  | ASSISTANT INSPECTOR GENERAL FOR MANAGEMENT
|  | DEPUTY INSPECTOR GENERAL FOR THE IMMEDIATE OFFICE
|  | DEPUTY INSPECTOR GENERAL FOR EXTERNAL AFFAIRS
DEPARTMENT OF HOUSING AND URBAN DEVELOPMENT
OFFICE OF THE SECRETARY | GOVERNMENT NATIONAL MORTGAGE ASSOCIATION | SENIOR VICE PRESIDENT OF THE OFFICE OF SECURITIES OPERATIONS
|  | SENIOR VICE PRESIDENT AND CHIEF FINANCIAL OFFICER
|  | SENIOR VICE PRESIDENT, OFFICE OF ENTERPRISE DATA AND TECHNOLOGY SOLUTIONS
|  | SENIOR VICE PRESIDENT OFFICE OF CAPITAL MARKETS
|  | SENIOR VICE PRESIDENT AND CHIEF RISK OFFICER
|  | SENIOR VICE PRESIDENT FOR MORTGAGE-BACKED SECURITIES
| OFFICE OF COMMUNITY PLANNING AND DEVELOPMENT | DEPUTY ASSISTANT SECRETARY FOR SPECIAL NEEDS PROGRAMS
|  | DEPUTY ASSISTANT SECRETARY FOR OPERATIONS
|  | DEPUTY ASSISTANT SECRETARY FOR GRANT PROGRAMS
|  | DIRECTOR OF STRATEGIC PLANNING AND MANAGEMENT OF HUMAN CAPITAL
| OFFICE OF DEPARTMENTAL EQUAL EMPLOYMENT OPPORTUNITY | DIRECTOR, OFFICE OF DEPARTMENTAL EQUAL EMPLOYMENT OPPORTUNITY
| OFFICE OF FAIR HOUSING AND EQUAL OPPORTUNITY | ASSOCIATE DEPUTY ASSISITANT SECRETARY FOR OPERATIONS AND MANAGEMENT
|  | ASSOCIATE DEPUTY ASSISTANT SECRETARY FOR ENFORCEMENT COMPLIANCE
|  | EXECUTIVE DIRECTOR FOR FIELD OPERATIONS
| OFFICE OF FIELD POLICY AND MANAGEMENT | DIRECTOR
| OFFICE OF HOUSING | DIRECTOR, PROGRAM SYSTEMS MANAGEMENT OFFICE
|  | DEPUTY ASSISTANT SECRETARY FOR FINANCE AND BUDGET
|  | DEPUTY ASSISTANT SECRETARY FOR OPERATIONS
|  | DEPUTY ASSISTANT SECRETARY FOR HEALTHCARE PROGRAMS
|  | DEPUTY ASSISTANT SECRETARY FOR MULITFAMILY HOUSING
|  | HOUSING FEDERAL HOUSING ADMINISTRATION-COMPTROLLER
|  | FEDERAL HOUSING ADMINISTRATION COMPTROLLER
| OFFICE OF POLICY DEVELOPMENT AND RESEARCH | DEPUTY ASSISTANT SECRETARY FOR POLICY DEVELOPMENT AND RESEARCH
| OFFICE OF PUBLIC AFFAIRS | GENERAL DEPUTY ASSISTANT SECRETARY FOR PUBLIC AFFAIRS
| OFFICE OF PUBLIC AND INDIAN HOUSING | ASSOCIATE DEPUTY ASSISTANT SECRETARY FOR THE REAL ESTATE ASSESSMENT CENTER
|  | DEPUTY ASSISTANT SECRETARY FOR POLICY PROGRAM AND LEGISLATIVE INITIATIVES
|  | DEPUTY ASSISTANT SECERTARY FOR NATIVE AMERICAN PROGRAMS
|  | DEPUTY ASSISTANT SECRETARY FOR THE REAL ESTATE ASSESSMENT CENTER
|  | DIRECTOR FOR BUDGET AND FINANCIAL MANAGEMENT
|  | DEPUTY ASSISTANT SECRETARY FOR PUBLIC HOUSING INVESTMENTS
| OFFICE OF THE ADMINISTRATION | CHIEF DISASTER AND NATIONAL SECURITY OFFICER
|  | CHIEF PRIVACY OFFICER AND CHIEF FOIA OFFICER
| OFFICE OF THE CHIEF FINANCIAL OFFICER | DEPUTY CHIEF FINANCIAL OFFICER
|  | CHIEF RISK OFFICER
|  | DIRECTOR, PERFORMANCE MANAGEMENT AND CUSTOMER EXPERIENCE
|  | ASSISTANT CHIEF FINANCIAL OFFICER FOR SYSTEMS
|  | ASSISTANT CHIEF FINANCIAL OFFICER FOR BUDGET
|  | ASSISTANT CHIEF FINANCIAL OFFICER FOR ACCOUNTING
|  | ASSISTANT CHIEF FINANCIAL OFFICER FOR FINANCIAL MANAGEMENT
| OFFICE OF THE CHIEF HUMAN CAPITAL OFFICER | DIRECTOR, HUMAN CAPITAL SERVICES
|  | CHIEF LEARNING OFFICER
|  | CHIEF HUMAN CAPITAL OFFICER
| OFFICE OF THE CHIEF INFORMATION OFFICER | CHIEF INFORMATION SECURITY OFFICER (2)
|  | DEPUTY CHIEF INFORMATION OFFICER FOR INFRASTRUCTURE AND OPERATIONS
|  | PRINCIPAL DEPUTY CHIEF INFORMATION OFFICER (2)
|  | CHIEF DIGITAL SERVICES OFFICER
|  | CHIEF TECHNOLOGY OFFICER
|  | DEPUTY CHIEF INFORMATION SECURITY OFFICER
|  | DEPUTY CHIEF INFORMATION OFFICER FOR BUSINESS AND INFORMATION TECHNOLOGY RESOURCE MANAGEMENT OFFICER
|  | DEPUTY CHIEF INFORMATION OFFICER—OFFICE OF CUSTOMER RELATIONSHIP AND PERFORMANCE MANAGEMENT
| OFFICE OF THE GENERAL COUNSEL | ASSOCIATE GENERAL COUNSEL FOR PROGRAM ENFORCEMENT
|  | DIRECTOR, DEPARTMENTAL ENFORCEMENT CENTER
DEPARTMENT OF HOUSING AND URBAN DEVELOPMENT OFFICE OF THE INSPECTOR GENERAL | DEPARTMENT OF HOUSING AND URBAN DEVELOPMENT OFFICE OF THE INSPECTOR GENERAL | CHIEF STRATEGY OFFICER
|  | COUNSEL TO THE INSPECTOR GENERAL
|  | ASSISTANT INSPECTOR GENERAL FOR INVESTIGATION
|  | ASSISTANT INSPECTOR GENERAL FOR AUDIT
|  | DEPUTY INSPECTOR GENERAL
|  | CHIEF OF STAFF
|  | DEPUTY ASSISTANT INSPECTOR GENERAL FOR INVESTIGATION (HEADQUARTERS OPERATIONS)
|  | ASSISTANT INSPECTOR GENERAL FOR OFFICE OF EVALUATION (OE)
|  | CHIEF INFORMATION OFFICER
|  | DEPUTY ASSISTANT INSPECTOR GENERAL FOR AUDIT (FIELD OPERATIONS)
|  | DEPUTY ASSISTANT INSPECTOR GENERAL FOR AUDIT (FIELD OPERATIONS)
|  | SENIOR ADVISOR FOR EXTERNAL AFFAIRS
|  | DEPUTY ASSISTANT INSPECTOR GENERAL FOR INVESTIGATIONS-FIELD OPERATIONS
|  | DEPUTY ASSISTANT INSPECTOR GENERAL FOR AUDIT—FINANCIAL MANAGEMENT, IT, AND OPERATIONS
|  | ASSISTANT INSPECTOR GENERAL FOR—OFFICE OF SPECIAL INQUIRY
DEPARTMENT OF THE INTERIOR ASSISTANT SECRETARY—FISH AND WILDLIFE AND PARKS | NATIONAL PARK SERVICE | CHIEF, UNITED STATES PARK POLICE
|  | ASSOCIATE DIRECTOR, INTERPRETATION AND EDUCATION
|  | COMPTROLLER
|  | CHIEF FINANCIAL OFFICER
| UNITED STATES FISH AND WILDLIFE SERVICE | CHIEF, OFFICE OF LAW ENFORCEMENT
ASSISTANT SECRETARY—LAND AND MINERALS MANAGEMENT | BUREAU OF LAND MANAGEMENT | DIRECTOR, LAW ENFORCEMENT AND SECURITY
| BUREAU OF OCEAN ENERGY MANAGEMENT | STRATEGIC RESOURCES CHIEF
| BUREAU OF SAFETY AND ENVIRONMENTAL ENFORCEMENT | PROGRAM DIRECTOR, RENEWABLE ENERGY AND REGULATORY COMPLIANCE
ASSISTANT SECRETARY—POLICY, MANAGEMENT AND BUDGET | OFFICE OF HEARINGS AND APPEALS | DIRECTOR, OFFICE OF HEARINGS AND APPEALS
| OFFICE OF NATURAL RESOURCES REVENUE MANAGEMENT | DEPUTY DIRECTOR, OFFICE OF NATURAL RESOURCES REVENUE MANAGEMENT
|  | PROGRAM DIRECTOR FOR COORDINATION, ENFORCEMENT, VALUATION AND APPEALS
|  | PROGRAM DIRECTOR FOR AUDIT AND COMPLIANCE MANAGEMENT
|  | PROGRAM DIRECTOR FOR REVENUE, REPORTING AND COMPLIANCE MANAGEMENT
ASSISTANT SECRETARY—WATER AND SCIENCE | BUREAU OF RECLAMATION | DIRECTOR, MISSION SUPPORT ORGANIZATION
|  | DIRECTOR, DAM SAFETY AND INFRASTRUCTURE
| UNITED STATES GEOLOGICAL SURVEY | DEPUTY DIRECTOR
|  | DEPUTY DIRECTOR FOR OPERATIONS
|  | DEPUTY DIRECTOR FOR ADMINISTRATION AND POLICY
|  | ASSOCIATE DIRECTOR FOR LAND RESOURCES
|  | ASSOCIATE DIRECTOR FOR WATER
|  | ASSOCIATE DIRECTOR FOR NATURAL HAZARDS
|  | ASSOCIATE DIRECTOR FOR CORE SCIENCE SYSTEMS
|  | ASSOCIATE DIRECTOR FOR ECOSYSTEMS
|  | ASSOCIATE DIRECTOR FOR ENERGY AND MINERALS
|  | DIRECTOR, NATIONAL GEOSPATIAL DIRECTORATE
|  | ASSOCIATE DIRECTOR FOR ADMINISTRATION
|  | ASSOCIATE DIRECTOR FOR BUDGET, PLANNING, AND INTEGRATION
|  | ASSOCIATE DIRECTOR FOR COMMUNICATIONS AND PUBLISHING
BUREAU OF LAND MANAGEMENT | FIELD OFFICES—BLM | DIRECTOR, NATIONAL OPERATIONS CENTER
DEPARTMENT OF THE INTERIOR | ASSISTANT SECRETARY—INDIAN AFFAIRS | DIRECTOR OF HUMAN CAPITAL MANAGEMENT
| ASSISTANT SECRETARY—POLICY, MANAGEMENT AND BUDGET | CHIEF, BUDGET ADMINISTRATION AND DEPARTMENTAL MANAGEMENT
|  | CHIEF DIVERSITY OFFICER/DIRECTOR, OFFICE OF CIVIL RIGHTS
|  | DIRECTOR, OFFICE OF GRANTS MANAGEMENT
|  | DEPUTY DIRECTOR, OFFICE OF CIVIL RIGHTS/DEPUTY CHIEF DIVERSITY OFFICER
|  | CHIEF DIVISION OF BUDGET AND PROGRAM REVIEW
|  | DEPUTY ASSISTANT SECRETARY—BUDGET, FINANCE, GRANTS AND ACQUISITION
|  | DIRECTOR, OFFICE OF FINANCIAL MANAGEMENT AND DEPUTY CHIEF FINANCIAL OFFICER
|  | DEPUTY CHIEF HUMAN CAPITAL OFFICER/DIRECTOR, OFFICE OF HUMAN CAPITAL
|  | DEPUTY ASSISTANT SECRETARY—PUBLIC SAFETY, RESOURCE PROTECTION AND EMERGENCY SERVICES
|  | DEPUTY DIRECTOR, OFFICE OF FINANCIAL MANAGEMENT
|  | DIRECTOR, OFFICE OF LAW ENFORCEMENT AND SECURITY
|  | DIRECTOR, OFFICE OF EMERGENCY MANAGEMENT
|  | DEPUTY ASSISTANT SECRETARY—HUMAN CAPITAL AND DIVERSITY/CHIEF HUMAN CAPITAL OFFICER
| OFFICE OF THE SOLICITOR | DESIGNATED AGENCY ETHICS OFFICIAL
|  | DEPUTY CHIEF FOIA OFFICER
|  | ASSOCIATE SOLICITOR FOR ADMINISTRATION
NATIONAL PARK SERVICE | FIELD OFFICES—NPS | PARK MANAGER, GRAND CANYON NATIONAL PARK
|  | PARK MANAGER, YELLOWSTONE NATIONAL PARK
OFFICE OF SURFACE MINING | FIELD OFFICES—OSM | REGIONAL DIRECTOR, DOI UNIFIED REGION 1
|  | REGIONAL DIRECTOR, DOI UNIFIED REGION 3
UNITED STATES GEOLOGICAL SURVEY | FIELD OFFICES—USGS | REGIONAL DIRECTOR—DOI UNIFIED REGION 9
|  | REGIONAL DIRECTOR—DOI UNIFIED REGIONS 3 AND 5
|  | REGIONAL DIRECTOR—DOI UNIFIED REGIONS 8 AND 10
|  | REGIONAL DIRECTOR—DOI UNIFIED REGION 11
|  | REGIONAL DIRECTOR—DOI UNIFIED REGION 1
|  | REGIONAL DIRECTOR—DOI UNIFIED REGIONS 4 AND 6
|  | REGIONAL DIRECTOR—DOI UNIFIED REGION 7
DEPARTMENT OF THE INTERIOR OFFICE OF THE INSPECTOR GENERAL | OFFICE OF THE INSPECTOR GENERAL | DEPUTY INSPECTOR GENERAL
|  | CHIEF OF STAFF
OFFICE OF THE INSPECTOR GENERAL | OFFICE OF AUDITS, INSPECTIONS, AND EVALUATIONS | DEPUTY ASSISTANT INSPECTOR GENERAL FOR INSPECTIONS AND EVALUATIONS
|  | ASSISTANT INSPECTOR GENERAL FOR AUDITS, INSPECTIONS, AND EVALUATIONS
|  | DEPUTY ASSISTANT INSPECTOR GENERAL FOR AUDITS
| OFFICE OF GENERAL COUNSEL | GENERAL COUNSEL
| OFFICE OF INVESTIGATIONS | ASSISTANT INSPECTOR GENERAL FOR INVESTIGATIONS
|  | DEPUTY ASSISTANT INSPECTOR GENERAL
| OFFICE OF MANAGEMENT | ASSISTANT INSPECTOR GENERAL FOR MANAGEMENT
DEPARTMENT OF JUSTICE | EXECUTIVE OFFICE FOR ORGANIZED CRIME DRUG ENFORCEMENT TASK FORCES | DIRECTOR, ORGANIZED CRIME DRUG ENFORCEMENT TASK FORCES
| OFFICE OF THE ATTORNEY GENERAL | SENIOR ADVISOR FOR LAW ENFORCEMENT RELATIONS
| OFFICE OF THE DEPUTY ATTORNEY GENERAL | CHIEF AND COUNSELOR TO THE DAG, PROFESSIONAL MISCONDUCT REVIEW UNIT
| OFFICE OF TRIBAL JUSTICE | DIRECTOR
OFFICE OF THE ASSOCIATE ATTORNEY GENERAL | ANTITRUST DIVISION | DIRECTOR, ECONOMIC ENFORCEMENT
|  | EXECUTIVE OFFICER
|  | CHIEF, TELECOMMUNICATIONS AND MEDIA SECTION
| CIVIL DIVISION | CHIEF, ENFORCEMENT UNIT, OIL-DCS
|  | DEPUTY DIRECTOR
|  | CHIEF INFORMATION OFFICER
|  | DIRECTOR, BUDGET STAFF
|  | DEPUTY DIRECTOR, CONSTITUTIONAL AND SPECIALIZED TORT LITIGATION
|  | SPECIAL COUNSEL TO THE AAG
|  | DEPUTY DIRECTOR (OPERATIONS), OFFICE OF IMMIGRATION LITIGATION, DISTRICT COURT SECTION
|  | DEPUTY DIRECTOR, COMMERCIAL LITIGATION, FRAUD SECTION
|  | DEPUTY DIRECTOR CONSUMER PROTECTION BRANCH
|  | DEPUTY DIRECTOR, OFFICE OF IMMIGRATION LITIGATION, APPELLATE SECTION
|  | DEPUTY BRANCH DIRECTOR, FEDERAL PROGRAMS
|  | DEPUTY DIRECTOR, COMMERCIAL LITIGATION BRANCH
|  | DEPUTY DIRECTOR, OFFICE OF IMMIGRATION LITIGATION, APPELLATE SECTION
|  | DEPUTY DIRECTOR, APPELLATE STAFF
|  | DEPUTY BRANCH DIRECTOR
|  | DIRECTOR, OFFICE OF MANAGEMENT PROGRAMS
|  | DEPUTY DIRECTOR, COMMERCIAL LITIGATION BRANCH
|  | DEPUTY BRANCH DIRECTOR, FEDERAL PROGRAMS
|  | DEPUTY DIRECTOR, COMMERCIAL LITIGATION BRANCH (INTELLECTUAL PROPERTY)
|  | APPELLATE LITIGATION COUNSEL
|  | DIRECTOR, CONSUMER PROTECTION BRANCH
|  | DEPUTY BRANCH DIRECTOR, FEDERAL PROGRAMS
|  | DEPUTY DIRECTOR, COMMERCIAL LITIGATION BRANCH
|  | SPECIAL LITIGATION COUNSEL, AVIATION AND ADMIRALTY SECTION
|  | DIRECTOR, CONSUMER LITIGATION BRANCH, FOREIGN LITIGATION SECTION
|  | DEPUTY DIRECTOR APPELLATE BRANCH
| CIVIL RIGHTS DIVISION | CHIEF FEDERAL COORDINATION AND COMPLIANCE SECTION
|  | CHIEF, EMPLOYMENT LITIGATION SECTION
|  | CHIEF APPELLATE SECTION
|  | CHIEF CRIMINAL SECTION
|  | CHIEF, HOUSING AND CIVIL ENFORCEMENT SECTION
|  | CHIEF, VOTING SECTION
|  | CHIEF, EDUCATIONAL OPPORTUNITIES SECTION
|  | CHIEF-SPECIAL LITIGATION SECTION
|  | DEPUTY SPECIAL COUNSEL FOR IMMIGRATION-RELATED UNFAIR EMPLOYMENT PRACTICES
|  | EXECUTIVE OFFICER
|  | CHIEF, DISABILITY RIGHTS SECTION
|  | DEPUTY ASSISTANT ATTORNEY GENERAL (2)
|  | COUNSEL TO THE ASSISTANT ATTORNEY GENERAL
|  | CHIEF, POLICY STRATEGY SECTION
|  | PRINCIPAL DEPUTY CHIEF, CRIMINAL SECTION
|  | PRINCIPAL DEPUTY CHIEF, VOTING SECTION
|  | PRINCIPAL DEPUTY CHIEF, DISABILITY RIGHTS SECTION
|  | PRINCIPAL DEPUTY CHIEF, SPECIAL LITIGATION SECTION
|  | PRINCIPAL DEPUTY CHIEF, EMPLOYMENT LITIGATION SECTION
|  | PRINCIPAL DEPUTY CHIEF, HOUSING AND CIVIL ENFORCEMENT SECTION
|  | PRINCIPAL DEPUTY CHIEF (EDUCATIONAL OPPORTUNITIES SECTION)
|  | CHIEF COUNSEL
| ENVIRONMENT AND NATURAL RESOURCES DIVISION | DIRECTOR, OEJ
|  | DEPUTY CHIEF, ENVIRONMENTAL CRIMES SECTION
|  | DEPUTY CHIEF, APPELLATE SECTION
|  | CHIEF, INDIAN RESOURCES SECTION
|  | CHIEF, ENVIRONMENTAL DEFENSE SECTION
|  | DEPUTY CHIEF ENVIRONMENTAL ENFORCEMENT SECTION
|  | CHIEF, WILDLIFE AND MARINE RESOURCES SECTION
|  | CHIEF, NATURAL RESOURCES SECTION
|  | CHIEF, LAND ACQUISITION SECTION
|  | CHIEF-APPELLATE SECTION
|  | CHIEF ENVIRONMENTAL CRIMES SECTION
|  | CHIEF ENVIRONMENTAL ENFORCEMENT SECTION
|  | EXECUTIVE OFFICER
|  | SENIOR LITIGATION COUSEL
|  | DEPUTY CHIEF, NATURAL RESOURCES SECTION
|  | DEPUTY SECTION CHIEF, NATURAL RESOURCES SECTION
|  | DEPUTY CHIEF, ENVIRONMENTAL DEFENSE SECTION
|  | DEPUTY CHIEF, ENVIRONMENTAL ENFORCEMENT SECTION (2)
| OFFICE OF JUSTICE PROGRAMS | DIRECTOR, OFFICE OF ADMINISTRATION
|  | CHIEF FINANCIAL OFFICER
|  | DEPUTY CHIEF FINANCIAL OFFICER
|  | DIRECTOR, OFFICE OF AUDIT, ASSESSMENT AND MANAGEMENT
|  | DEPUTY DIRECTOR, OFFICE FOR VICTIMS OF CRIME
|  | DIRECTOR OF COMMUNICATIONS
| TAX DIVISION | CHIEF, CRIMINAL ENFORCEMENT SECTION, WESTERN REGION
|  | CHIEF OFFICE OF REVIEW
|  | CHIEF CIVIL TRIAL SECTION SOUTHWESTERN REGION
|  | EXECUTIVE OFFICER
|  | CHIEF CIVIL TRIAL SECTION EASTERN REGION
|  | CHIEF, APPELLATE SECTION
|  | CHIEF, COURT OF FEDERAL CLAIMS SECTION
|  | CHIEF, CIVIL TRIAL SECTION, CENTRAL REGION
|  | CHIEF CIVIL TRIAL SECTION NORTHERN
|  | CHIEF CIVIL TRIAL SECTION (SOUTHERN REGION)
|  | CHIEF CIVIL TRIAL SECTION, WESTERN REGION
|  | SPECIAL LITIGATION COUNSEL
|  | SENIOR LITIGATION COUNSEL
|  | DEPUTY ASSISTANT ATTORNEY GENERAL
|  | CHIEF, CRIMINAL ENFORCEMENT SECTION, SOUTH REGION
|  | CHIEF, CRIMINAL ENFORCEMENT SECTION, NORTH REGION
|  | CHIEF, CRIMINAL APPEALS AND TAX ENFORCEMENT POLICY SECTION
|  | DEPUTY CHIEF, APPELLATE SECTION
OFFICE OF THE DEPUTY ATTORNEY GENERAL | BUREAU OF ALCOHOL, TOBACCO, FIREARMS AND EXPLOSIVES | SPECIAL AGENT IN CHARGE, NEWARK
|  | SPECIAL AGENT IN CHARGE, DENVER
|  | DEPUTY ASSISTANT DIRECTOR, OFFICE OF PUBLIC AND GOVERNMENTAL AFFAIRS
|  | SPECIAL AGENT IN CHARGE, SAINT PAUL
|  | SPECIAL AGENT IN CHARGE, ATLANTA
|  | SPECIAL AGENT IN CHARGE, BOSTON
|  | SPECIAL AGENT IN CHARGE, CHICAGO
|  | SPECIAL AGENT IN CHARGE, KANSAS CITY
|  | SPECIAL AGENT IN CHARGE, PHILADELPHIA
|  | SPECIAL AGENT IN CHARGE, PHOENIX
|  | SPECIAL AGENT IN CHARGE, SAN FRANCISCO
|  | SPECIAL AGENT IN CHARGE, MIAMI
|  | SPECIAL AGENT IN CHARGE, CHARLOTTE
|  | SPECIAL AGENT IN CHARGE, DETROIT
|  | SPECIAL AGENT IN CHARGE, LOUISVILLE
|  | SPECIAL AGENT IN CHARGE, SEATTLE
|  | SPECIAL AGENT IN CHARGE, TAMPA
|  | SPECIAL AGENT IN CHARGE, COLUMBUS
|  | SPECIAL AGENT IN CHARGE, NEW ORLEANS
|  | SPECIAL AGENT IN CHARGE, BALTIMORE
|  | ASSISTANT DIRECTOR, OFFICE OF STRATEGIC INTELLIGENCE AND INFORMATION
|  | DEPUTY ASSISTANT DIRECTOR, OFFICE OF STRATEGIC INTELLIGENCE AND INFORMATION
|  | ASSISTANT DIRECTOR, OFFICE OF PUBLIC AND GOVERNMENTAL AFFAIRS
|  | DEPUTY ASSISTANT DIRECTOR, OFFICE OF PROFESSIONAL RESPONSIBILITY AND SECURITY OPERATIONS
|  | DEPUTY ASSISTANT DIRECTOR, FIELD OPERATIONS-EAST
|  | DEPUTY ASSISTANT DIRECTOR, INDUSTRY OPERATIONS
|  | SPECIAL AGENT IN CHARGE, NASHVILLE
|  | SPECIAL AGENT IN CHARGE, DALLAS
|  | SPECIAL AGENT IN CHARGE, HOUSTON
|  | DEPUTY DIRECTOR
|  | ASSISTANT DIRECTOR, FIELD OPERATIONS
|  | DEPUTY ASSISTANT DIRECTOR, FIELD OPERATIONS-CENTRAL
|  | ASSISTANT DIRECTOR, ENFORCEMENT PROGRAMS AND SERVICES
|  | DEPUTY ASSISTANT DIRECTOR, ENFORCEMENT PROGRAMS AND SERVICES
|  | DEPUTY ASSISTANT DIRECTOR, HUMAN RESOURCES AND PROFESSIONAL DEVELOPMENT
|  | ASSISTANT DIRECTOR, HUMAN RESOURCES AND PROFESSIONAL DEVELOPMENT
|  | ASSISTANT DIRECTOR, OFFICE OF PROFESSIONAL RESPONSIBILITY AND SECURITY OPERATIONS
|  | DEPUTY ASSISTANT DIRECTOR, MANAGEMENT AND CHIEF FINANCIAL OFFICER
|  | ASSISTANT DIRECTOR, MANAGEMENT AND CHIEF FINANCIAL OFFICER
|  | DEPUTY ASSISTANT DIRECTOR FOR INFORMATION TECHNOLOGY AND DEPUTY CHIEF INFORMATION OFFICER
|  | ASSISTANT DIRECTOR, SCIENCE AND TECHNOLOGY
|  | DEPUTY ASSISTANT DIRECTOR, FORENSIC SERVICES
|  | DEPUTY ASSISTANT DIRECTOR, FIELD OPERATIONS—WEST
|  | SPECIAL AGENT IN CHARGE, LOS ANGELES
|  | SPECIAL AGENT IN CHARGE, NEW YORK
|  | SPECIAL AGENT IN CHARGE, WASHINGTON DC
|  | SPECIAL ASSISTANT TO THE DIRECTOR
|  | EXECUTIVE ASSISTANT TO THE DIRECTOR
|  | DEPUTY ASSISTANT DIRECTOR HUMAN RESOURCES
|  | SPECIAL AGENT IN CHARGE, NATIONAL CENTER FOR EXPLOSIVES TRAINING AND RESEARCH
|  | DEPUTY DIRECTOR, TERRORIST EXPLOSIVE DEVICE ANALYTICAL CENTER
|  | DEPUTY ASSISTANT DIRECTOR, FIELD OPERATIONS (PROGRAMS)
|  | CHIEF, SPECIAL OPERATIONS DIVISION
| CRIMINAL DIVISION | DEPUTY CHIEF, NARCOTIC AND DANGEROUS DRUG SECTION
|  | DIRECTOR, OFFICE OF OVERSEAS PROSECUTORIAL DEVELOPMENT, ASSISTANCE, AND TRAINING
|  | SENIOR COUNSEL FOR CYBERCRIME
|  | DEPUTY CHIEF, COMPUTER CRIME AND INTELLECTUAL PROPERTY SECTION
|  | CHIEF, COMPUTER CRIME AND INTELLECTUAL PROPERTY SECTION
|  | CHIEF, HUMAN RIGHTS AND SPECIAL PROSECUTIONS SECTION
|  | CHIEF, CAPITAL CASE SECTION
|  | DEPUTY CHIEF, ASSET FORFEITURE AND MONEY LAUNDERING SECTION
|  | CHIEF NARCOTIC AND DANGEROUS DRUG SECTION
|  | CHIEF FRAUD SECTION
|  | CHIEF PUBLIC INTEGRITY SECTION
|  | DEPUTY DIRECTOR, OFFICE OF INTERNATIONAL AFFAIRS
|  | DIRECTOR, OFFICE OF ENFORCEMENT OPERATIONS
|  | CHIEF, ORGANIZED CRIME AND GANG SECTION
|  | CHIEF, APPELLATE SECTION
|  | CHIEF, CHILD EXPLOITATION AND OBSCENITY SECTION
|  | DEPUTY CHIEF FOR ORGANIZED CRIME AND GANG SECTION
|  | EXECUTIVE OFFICER
|  | DEPUTY CHIEF, APPELLATE SECTION
|  | DEPUTY DIRECTOR, OFFICE OF INTERNATIONAL AFFAIRS
|  | DEPUTY CHIEF PUBLIC INTEGRITY SECTION
|  | CHIEF, ASSET FORFEITURE AND MONEY LAUNDERING SECTION
|  | DIRECTOR, OFFICE OF INTERNATIONAL AFFAIRS
|  | DEPUTY, CHIEF FRAUD SECTION
|  | DIRECTOR, INTERNATIONAL CRIMINAL INVESTIGATIVE TRAINING ASSISTANCE PROGRAM
|  | DEPUTY ASSISTANT ATTORNEY GENERAL
|  | DEPUTY DIRECTOR, OFFICE OF ENFORCEMENT OPERATIONS
|  | DEPUTY CHIEF, CHILD EXPLOITATION AND OBSCENITY SECTION
|  | DEPUTY CHIEF, HUMAN RIGHTS AND SPECIAL PROSECUTIONS
|  | DEPUTY DIRECTOR, OPDAT
| EXECUTIVE OFFICE FOR IMMIGRATION REVIEW | REGIONAL DEPUTY CHIEF IMMIGRATION JUDGE (2)
|  | DEPUTY CHIEF APPELLATE IMMIGRATION JUDGE
|  | DEPUTY CHIEF IMMIGRATION JUDGE
|  | ASSISTANT DIRECTOR FOR ADMINISTRATION
|  | CHIEF ADMINISTRATIVE HEARING OFFICER
|  | GENERAL COUNSEL
|  | CHIEF IMMIGRATION JUDGE
|  | CHAIRMAN, BOARD OF IMIGRATION APPEALS
|  | ASSISTANT DIRECTOR FOR POLICY
|  | VICE CHAIRMAN, BOARD OF IMMIGRATION APPEALS
| EXECUTIVE OFFICE FOR UNITED STATES ATTORNEYS | CHIEF, INFORMATION OFFICER
|  | COUNSEL, LEGAL PROGRAMS AND POLICY
|  | GENERAL COUNSEL
|  | DEPUTY DIRECTOR
|  | ASSOCIATE DIRECTOR, OFFICE OF LEGAL EDUCATION
|  | CHIEF FINANCIAL OFFICER
|  | CHIEF HUMAN RESOURCES OFFICER
| FEDERAL BUREAU OF PRISONS | SENIOR ADVISOR
|  | WARDEN, FEDERAL CORRECTIONAL INSTITUTION, SAN DIEGO, CALIFORNIA
|  | WARDEN, FEDERAL CORRECTIONAL INSTITUTION, CHICAGO, ILLINOIS
|  | WARDEN, FEDERAL DETENTION CENTER, PHILADELPHIA, PA
|  | PROGRAM MANAGEMENT OFFICER
|  | CORRECTIONAL PROGRAM OFFICER (2)
|  | CHIEF EDUCATION ADMINISTRATOR
|  | ASSISTANT DIRECTOR, INFORMATION, POLICY AND PUBLIC AFFAIRS
|  | SENIOR DEPUTY GENERAL COUNSEL, OGC
|  | SENIOR DEPUTY ASSISTANT DIRECTOR, INDUSTRIES, EDUCATION, AND VOCATIONAL TRAINING DIVISION
|  | ASSISTANT DIRECTOR, HEALTH SERVICES DIVISION
|  | SENIOR DEPUTY ASSISTANT DIRECTOR, ADMINISTRATION DIVISION
|  | ASSISTANT DIRECTOR, REENTRY SERVICES DIVISION
|  | WARDEN FCI FORT WORTH, TEXAS
|  | SENIOR DEPUTY ASSISTANT DIRECTOR, PROGRAM REVIEW DIVISION
|  | SENIOR DEPUTY GENERAL COUNSEL, OFFICE OF THE GENERAL COUNSEL
|  | WARDEN FCI, THOMSON, ILLINOIS
|  | CHIEF, OFFICE OF PUBLIC AFFAIRS
|  | ASSISTANT DIRECTOR FOR ADMINISTRATION
|  | WARDEN, UNITED STATES PENITENTIARY, LEAVENWORTH, KANSAS
|  | WARDEN, UNITED STATES PENITENTIARY, LEWISBURG, PENNSYLVANIA
|  | WARDEN, FEDERAL CORRECTIONAL COMPLEX, LOMPOC, CALIFORNIA
|  | ASSISTANT DIRECTOR, OFFICE OF GENERAL COUNSEL
|  | REGIONAL DIRECTOR, NORTHEAST REGION
|  | REGIONAL DIRECTOR, SOUTHEAST REGION
|  | REGIONAL DIRECTOR, NORTH CENTRAL REGION
|  | REGIONAL DIRECTOR, WESTERN REGION
|  | REGIONAL DIRECTOR, SOUTH CENTRAL REGION
|  | WARDEN, UNITED STATES PENITENTIARY, ATLANTA, GEORGIA
|  | ASSISTANT DIRECTOR CORRECTIONAL PROGRAMS DIVISION
|  | WARDEN, UNITED STATES MEDICAL CENTER FEDERAL PRISONERS, SPRINGFIELD, MISSOURI
|  | WARDEN, FEDERAL MEDICAL CENTER, LEXINGTON, KENTUCKY
|  | WARDEN, UNITED STATES PENITENTIARY, MARION ILLINOIS
|  | SUPERVISORY INDUSTRIAL SPECIALIST (CEO)FEDERAL PRISON INDUSTRIES
|  | WARDEN FEDERAL CORRECTIONAL COMPLEX, TERRE HAUTE, INDIANA
|  | WARDEN FEDERAL CORRECTIONAL COMPLEX, BUTNER, NORTH CAROLINA
|  | WARDEN, FEDERAL CORRECTIONAL INSTITUTION, FORT DIX, NEW JERSEY
|  | WARDEN, FEDERAL CORRECTIONAL COMPLEX, FLORENCE, COLORADO
|  | WARDEN, UNITED STATES PENITENTIARY-HIGH, FLORENCE, COLORADO
|  | WARDEN, FEDERAL CORRECTIONAL COMPLEX, OAKDALE, LOUISIANA
|  | WARDEN, FEDERAL MEDICAL CENTER, CARSWELL, TEXAS
|  | WARDEN, FEDERAL CORRECTIONAL COMPLEX, ALLENWOOD, PENNSYLVANIA
|  | WARDEN, FEDERAL TRANSFER CENTER, OKLAHOMA CITY, OKLAHOMA
|  | SENIOR DEPUTY ASSISTANT DIRECTOR, HUMAN RESOURCES MANAGEMENT DIVISION
|  | WARDEN, FEDERAL DETENTION CENTER, MIAMI, FLORIDA
|  | WARDEN, FEDERAL CORRECTIONAL INSTITUTION, FAIRTON, NEW JERSEY
|  | ASSISTANT DIRECTOR, PROGRAM REVIEW DIVISION
|  | WARDEN, FEDERAL CORRECTIONAL INSTITUTION, EDGEFIELD, SOUTH CAROLINA
|  | WARDEN, FEDERAL MEDICAL CENTER, DEVENS, MASSACHUSETTS
|  | WARDEN, METROPOLITAN DETENTION CENTER, LOS ANGELES, CALIFORNIA
|  | WARDEN, FEDERAL CORRECTIONAL INSTITUTION, TALLADEGA, ALABAMA
|  | DEPUTY DIRECTOR
|  | ASSISTANT DIRECTOR HUMAN RESOURCES MANAGEMENT DIVISION
|  | WARDEN, FEDERAL CORRECTIONAL INSTITUTION, MARIANNA, FLORIDA
|  | SENIOR DEPUTY ASSISTANT DIRECTOR, CORRECTIONAL PROGRAMS DIVISION
|  | WARDEN, FEDERAL CORRECTIONAL INSTITUTION, PHOENIX, ARIZONA
|  | WARDEN, FEDERAL MEDICAL CENTER, ROCHESTER, MINNESOTA
|  | REGIONAL DIRECTOR MIDDLE ATLANTIC REGION
|  | WARDEN, FCI, MENDOTA, CA
|  | WARDEN, FEDERAL CORRECTIONAL INSTITUTION, BENNETTSVILLE, SOUTH CAROLINA
|  | WARDEN, FEDERAL CORRECTIONAL INSTITUTION, MEMPHIS, TENNESSEE
|  | WARDEN, FEDERAL CORRECTIONAL INSTITUTION, CUMBERLAND, MARYLAND
|  | WARDEN, FEDERAL CORRECTIONAL INSTITUTION, GREENVILLE, ILLINIOIS
|  | WARDEN, FEDERAL CORRECTIONAL INSTITUTION, MCKEAN, PENNSYLVANIA
|  | WARDEN, FEDERAL CORRECTIONAL INSTITUTION, SCHUYLKILL, PENNSYLVANIA
|  | WARDEN, FEDERAL CORRECTIONAL INSTITUTION, THREE RIVERS, TEXAS
|  | WARDEN, METROPOLITAN DETENTION CENTER, GUAYNABO, PUERTO RICO
|  | WARDEN, FEDERAL CORRECTIONAL INSTITUTION, SHERIDAN, OREGON
|  | WARDEN, FEDERAL CORRECTIONAL INSTITUTION, GILMER, WEST VIRGINIA
|  | COMPLEX WARDEN, UNITED STATES PENITENTIARY, TUCSON, ARIZONA
|  | SENIOR COUNSEL, OFFICE OF GENERAL COUNSEL
|  | COMPLEX WARDEN, FEDERAL CORRECTION COMPLEX, PETERSBURG, VIRGINIA
|  | WARDEN, UNITED STATES PENITENTIARY, BIG SANDY, KENTUCKY
|  | COMPLEX WARDEN, FEDERAL CORRECTIONAL COMPLEX, VICTORVILLE, CALIFORNIA
|  | WARDEN, UNITED STATES PENITENTIARY, MCCREARY, KENTUCKY
|  | WARDEN, UNITED STATES PENITENTIARY, CANAAN, PENNSYLVANIA
|  | COMPLEX WARDEN, FEDERAL CORRECTIONAL COMPLEX, YAZOO CITY, MISSISSIPPI
|  | WARDEN, UNITED STATES PENITENTIARY, HAZELTON, WEST VIRIGINA
|  | SENIOR DEPUTY ASSISTANT DIRECTOR RE-ENTRY SERVICES DIVISION
|  | WARDEN, FEDERAL CORRECTIONAL COMPLEX, FORREST CITY, ARKANSAS
|  | WARDEN, UNITED STATES PENITENTIARY COLEMAN-I, COLEMAN, FLORIDA
|  | WARDEN, METROPOLITAN DETENTION CENTER, BROOKLYN, NEW YORK
|  | SENIOR DEPUTY ASSISTANT DIRECTOR ADMINISTRATION DIVISION
|  | SENIOR DEPUTY ASSISTANT DIRECTOR, INFORMATION, POLICY, AND PUBLIC AFFAIRS DIVISION
|  | WARDEN, UNITED STATES PENITENTIARY, POLLOCK, LOUISIANA
|  | WARDEN, FEDERAL CORRECTIONAL INSTITUTION, JESUP, GEORGIA
|  | WARDEN, FEDERAL CORRECTIONAL INSTITUTION, OTISVILLE, NEW YORK
|  | WARDEN, METROPOLITAN CORRECTIONAL CENTER, NEW YORK, NEW YORK
|  | WARDEN, FEDERAL CORRECTIONAL COMPLEX, COLEMAN, FLORIDA
|  | WARDEN, UNITED STATES PENITENTIARY, LEE, VIRGINIA
|  | WARDEN, UNITED STATES PENITENTIARY, ATWATER, CALIFORNIA
|  | WARDEN, FEDERAL CORRECTIONAL COMPLEX, BEAUMONT, TEXAS
| JUSTICE MANAGEMENT DIVISION | DEPUTY DIRECTOR, BUDGET STAFF, OPERATIONS AND FUNDS CONTROL
|  | DIRECTOR, DEPARTMENTAL ETHICS OFFICE
|  | DEPUTY DIRECTOR, BUDGET STAFF, PROGRAMS AND PERFORMANCE
|  | DEPUTY DIRECTOR, SERVICE DELIVERY STAFF
|  | DEPUTY DIRECTOR, HUMAN RESOURCES
|  | DEPUTY DIRECTOR, AUDITING, FINANCE STAFF
|  | DIRECTOR, SECURITY AND EMERGENCY PLANNING STAFF
|  | DEPUTY DIRECTOR, CUSTOMER AND BUSINESS SOLUTIONS SERVICE DELIVERY STAFF
|  | DIRECTOR FINANCE STAFF
|  | DEPUTY ASSISTANT ATTORNEY GENERAL (CONTROLLER)
|  | DEPUTY ASSISTANT ATTORNEY GENERAL FOR HUMAN RESOURCES AND ADMINISTRATION
|  | DIRECTOR LIBRARY STAFF
|  | DIRECTOR JUSTICE SECURITY OPERATIONS CENTER
|  | ASSISTANT ATTORNEY GENERAL FOR ADMINISTRATION
|  | DEPUTY ASSISTANT ATTORNEY GENERAL, POLICY, MANAGEMENT, AND PLANNING
|  | DIRECTOR, HUMAN RESOURCES
|  | DIRECTOR, APPROPRIATION LIAISON OFFICE
|  | DIRECTOR, OFFICE OF ATTORNEY RECRUITMENT AND MANAGEMENT
|  | DIRECTOR, ASSET FORFEITURE MANAGEMENT STAFF
|  | DIRECTOR, FACILITIES AND ADMINISTRATIVE SERVICES STAFF
|  | DIRECTOR RM AND E-DISCOVERY
|  | DIRECTOR, BUDGET STAFF
|  | DIRECTOR, DEBT COLLECTION MANAGEMENT STAFF
|  | DEPUTY ASSISTANT ATTORNEY GENERAL/CHIEF INFORMATION OFFICER
|  | GENERAL COUNSEL
|  | DIRECTOR, EQUAL EMPLOYMENT OPPORTUNITY STAFF
|  | DIRECTOR PROCUREMENT SERVICES STAFF
|  | DIRECTOR, SERVICE DELIVERY STAFF
|  | DIRECTOR, SERVICE ENGINEERING STAFF
|  | DEPUTY DIRECTOR, CYBERSECURITY STAFF/DEPUTY CHIEF INFORMATION SECURITY OFFICER
|  | SENIOR ADVISOR
|  | DIRECTOR, CYBERSECURITY SERVICES STAFF
|  | DEPUTY CHIEF INFORMATION OFFICER
|  | CHIEF TECHNOLOGY OFFICER
|  | DEPUTY DIRECTOR, SERVICE DELIVERY STAFF
|  | DEPUTY DIRECTOR, POLICY AND PLANNING STAFF
|  | DIRECTOR, POLICY AND PLANNING STAFF (2)
|  | DEPUTY SENIOR PROCUREMENT EXECUTIVE
|  | DEPUTY DIRECTOR, SECURITY AND EMERGENCY PLANNING STAFF
|  | SENIOR COUNSELOR, OFFICE OF THE DEPUTY ASSISTANT ATTORNEY GENERAL FOR POLICY, MANAGEMENT AND PLANNING JUSTICE MANAGEMENT DIVISION
| NATIONAL SECURITY DIVISION | SPECIAL COUNSEL FOR NATIONAL SECURITY
|  | EXECUTIVE OFFICER
|  | DEPUTY ASSISTANT ATTORNEY GENERAL, FISA OPERATIONS AND INTELLIGENCE OVERSIGHT
|  | CHIEF, OPERATIONS SECTION
|  | CHIEF, OVERSIGHT SECTION
|  | CHIEF, APPELLATE UNIT
|  | DIRECTOR, FOIA AND DECLASSIFICATION PROGRAM
|  | CHIEF, FOREIGN INVESTMENT REVIEW STAFF
|  | DIRECTOR OF RISK MANAGEMENT AND SENIOR COUNSEL
| OFFICE OF LEGAL COUNSEL | SPECIAL COUNSEL (2)
| OFFICE OF PROFESSIONAL RESPONSIBILITY | COUNSEL ON PROFESSIONAL RESPONSIBILITY
|  | DEPUTY COUNSEL ON PROFESSIONAL RESPONSIBILITY
| OFFICE OF PUBLIC AFFAIRS | DEPUTY DIRECTOR, OFFICE OF PUBLIC AFFAIRS
| PROFESSIONAL RESPONSIBILITY ADVISORY OFFICE | DIRECTOR, PROFESSIONAL RESPONSPONSIBILITY ADVSIORY OFFICE
| UNITED STATES MARSHALS SERVICE | ASSISTANT DIRECTOR, JPATS
|  | ASSOCIATE DIRECTOR, OPERATIONS
|  | ASSOCIATE DIRECTOR, ADMINISTRATION
|  | ASSISTANT DIRECTOR, TACTICAL OPERATIONS
|  | ASSISTANT DIRECTOR FOR PRISONER OPERATIONS
|  | ASSISTANT DIRECTOR, INFORMATION TECHNOLOGY
|  | ASSISTANT DIRECTOR FINANCIAL SERVICES
|  | ASSISTANT DIRECTOR, INVESTIGATIVE OPERATIONS
|  | ATTORNEY ADVISOR
|  | DEPUTY DIRECTOR
|  | ASSISTANT DIRECTOR, HUMAN RESOURCES
|  | CHIEF FINANCIAL OFFICER, FINANCIAL SERVICES
|  | ASSISTANT DIRECTOR, WITNESS SECURITY
|  | ASSISTANT DIRECTOR, MANAGEMENT SUPPORT
|  | ASSISTANT DIRECTOR, ASSET FORFEITURE
|  | ASSISTANT DIRECTOR, TRAINING
|  | PROGRAM EXECUTIVE, BODY WORN CAMERA
|  | ASSISTANT DIRECTOR, OFFICE OF PROFESSIONAL RESPONSIBILITY
|  | ASSISTANT DIRECTOR JUDICIAL SECURITY
|  | PROCUREMENT EXECUTIVE, FINANCIAL SERVICES
DEPARTMENT OF JUSTICE OFFICE OF THE INSPECTOR GENERAL | AUDIT DIVISION | ASSISTANT INSPECTOR GENERAL, AUDIT DIVISION
|  | DEPUTY ASSISTANT INSPECTOR GENERAL, AUDIT DIVISION
|  | DEPUTY ASSISTANT INSPECTOR GENERAL FOR DATA ANALYTICS
| EVALUATION AND INSPECTIONS DIVISION | DEPUTY ASSISTANT INSPECTOR GENERAL, EVALUATION AND INSPECTIONS DIVISION
|  | ASSISTANT INSPECTOR GENERAL, EVALUATION AND INSPECTIONS DIVISION
| FRONT OFFICE | DEPUTY INSPECTOR GENERAL
|  | GENERAL COUNSEL
| INFORMATION TECHNOLOGY DIVISION | ASSISTANT INSPECTOR GENERAL, INFORMATION TECHNOLOGY DIVISION
| INVESTIGATIONS DIVISION | DEPUTY ASSISTANT INSPECTOR GENERAL, INVESTIGATIONS DIVISION
|  | ASSISTANT INSPECTOR GENERAL, INVESTIGATIONS DIVISION
| MANAGEMENT AND PLANNING DIVISION | ASSISTANT INSPECTOR GENERAL, MANAGEMENT AND PLANNING DIVISION
|  | DEPUTY ASSISTANT INSPECTOR GENERAL, MANAGEMENT AND PLANNING
| OVERSIGHT AND REVIEW DIVISION | DEPUTY ASSISTANT INSPECTOR GENERAL, OVERSIGHT AND REVIEW DIVISION
|  | ASSISTANT INSPECTOR GENERAL, OVERSIGHT AND REVIEW DIVISION
DEPARTMENT OF LABOR | BUREAU OF LABOR STATISTICS | ASSISTANT COMMISSIONER FOR PRICES AND LIVING CODITIONS
|  | ASSISTANT COMMISSIONER FOR REGIONAL OPERATIONS (6)
|  | ASSISTANT COMMISSIONER FOR OCCUPATIONAL STATISTICS AND EMPLOYMENT PROJECTIONS
|  | ASSISTANT COMMISSIONER FOR CONSUMER PRICES AND PRICES INDEXES
|  | ASSISTANT COMMISSIONER FOR INDUSTRIAL PRICES AND PRICE INDEXES
|  | ASSISTANT COMMISSIONER FOR INDUSTRY EMPLOYMENT STATISTICS
|  | ASSISTANT COMMISSIONER FOR INTERNATIONAL PRICES
|  | ASSOCIATE COMMISSIONER FOR PUBLICATIONS AND SPECIAL STUDIES
|  | ASSOCIATE COMMISSIONER FOR EMPLOYMENT AND UNEMPLOYMENT STATISTICS
|  | ASSOCIATE COMMISSIONER PRODUCTIVITY AND TECHNOLOGY
|  | ASSOCIATE COMMISSIONER FOR ADMINISTRATION
|  | ASSOCIATE COMMISSIONER FOR SURVEY METHODS RESEARCH
|  | DIRECTOR OF SURVEY PROCESSING
|  | DIRECTOR OF TECHNOLOGY AND COMPUTING SERVICES
|  | ASSISTANT COMMISSIONER FOR CURRENT EMPLOYMENT ANALYSIS
|  | ASSISTANT COMMISSIONER FOR COMPENSATION LEVELS AND TRENDS
|  | ASSISTANT COMMISSIONER FOR SAFETY, HEALTH AND WORKING CONDITIONS
|  | ASSOCIATE COMMISSIONER FOR COMPENSATION AND WORKING CONDITIONS
|  | ASSOCIATE COMMISSIONER FOR TECHNOLOGY AND SURVEY PROCESSING
|  | ASSOCIATE COMMISSIONER FOR FIELD OPERATIONS
| EMPLOYEE BENEFITS SECURITY ADMINISTRATION | DEPUTY ASSISTANT SECRETARY FOR PROGRAM OPERATIONS
|  | DIRECTOR OF EXEMPTION DETERMINATIONS
|  | DIRECTOR OF REGULATIONS AND INTERPRETATIONS
|  | REGIONAL DIRECTOR—BOSTON
|  | REGIONAL DIRECTOR—ATLANTA
|  | REGIONAL DIRECTOR—KANSAS CITY
|  | REGIONAL DIRECTOR—SAN FRANCISCO
|  | DIRECTOR OF ENFORCEMENT
|  | CHIEF ACCOUNTANT
|  | DIRECTOR, OFFICE OF OUTREACH EDUCATION AND ASSISTANCE
|  | DIRECTOR OF HEALTH PLAN STANDARDS COMPLIANCE AND ASSISTANCE
|  | REGIONAL DIRECTOR—CHICAGO
|  | REGIONAL DIRECTOR (2)
|  | REGIONAL DIRECTOR—PHILADELPHIA
|  | DIRECTOR, OFFICE OF FIELD ADMINISTRATION
|  | REGIONAL DIRECTOR NEW YORK
| EMPLOYMENT AND TRAINING ADMINISTRATION | DEPUTY ADMINISTRATOR, OFFICE OF JOB CORPORATION
|  | DEPUTY ADMINISTRATOR, OFFICE OF UNEMPLOYMENT INSURANCE
|  | COMPTROLLER
|  | DEPUTY ASSISTANT SECRETARY (OPERATIONS AND MANAGEMENT)
|  | DEPUTY ADMINISTRATOR JOB CORP
|  | ADMINISTRATOR, OFFICE OF TRADE ADJUSTMENT ASSISTANCE
|  | ADMINISTRATOR, OFFICE OF GRANTS MANAGEMENT
|  | ADMINISTRATOR, OFFICE OF POLICY DEVELOPMENT AND RESEARCH
|  | ADMINISTRATOR, APPRENTICESHIP AND TRAINING, EMPLOYEE AND LABOR SERVICES
|  | ADMINISTRATOR, OFFICE OF FOREIGN LABOR CERTIFICATION
|  | ADMINISTRATOR, OFFICE OF UNEMPLOYMENT INSURANCE
|  | REGIONAL ADMINISTRATOR ATLANTA
|  | ADMINISTRATOR, OFFICE OF JOB CORPS
|  | REGIONAL ADMINISTRATOR PHILADELPHIA
|  | REGIONAL ADMINISTRATOR (2)
|  | REGIONAL ADMINISTRATOR, DALLAS/SAN FRANCISCO
| MINE SAFETY AND HEALTH ADMINISTRATION | DEPUTY ASSISTANT SECRETARY
|  | DIRECTOR OF PROGRAM EVALUATION AND INFORMATION RESOURCES
|  | DIRECTOR, OFFICE OF ASSESSMENTS, ACCOUNTABILITY, SPECIAL ENFORCEMENT, AND INVESTIGATIONS
|  | DIRECTOR OF TECHNICAL SUPPORT
|  | DIRECTOR, OFFICE OF STANDARDS REGULATIONS AND VARIANCES
|  | DIRECTOR OF ADMINISTRATION AND MANAGEMENT
|  | DEPUTY ADMINISTRATOR, MINE SAFETY HEALTH ENFORCEMENT
|  | REGIONAL ADMININSTRATOR
| OCCUPATIONAL SAFETY AND HEALTH ADMINISTRATION | DIRECTOR, ADMINISTRATIVE PROGRAMS
|  | DIRECTOR OF CONSTRUCTION
| OFFICE OF DISABILITY EMPLOYMENT POLICY | DEPUTY ASSISTANT SECRETARY
| OFFICE OF FEDERAL CONTRACT COMPLIANCE PROGRAMS | REGIONAL DIRECTOR FOR OFFICE OF FEDERAL CONTRACT COMPLIANCE PROGRAMS (6)
|  | DIRECTOR, DIVISION OF POLICY, PLANNING AND PROGRAM DEVELOPMENT
|  | DIRECTOR, MANAGEMENT AND ADMINISTRATIVE PROGRAMS
| OFFICE OF LABOR-MANAGEMENT STANDARDS | DIRECTOR, OFFICE OF PROGRAM OPERATIONS
|  | DIRECTOR, OFFICE OF FIELD OPERATIONS
|  | REGIONAL DIRECTOR, NEW ORLEANS
|  | REGIONAL DIRECTOR, NORTHEASTERN REGION
|  | REGIONAL DIRECTOR, MILWAUKEE
|  | REGIONAL DIRECTOR, SAINT LOUIS, MO
|  | DIRECTOR OFFICE OF FIELD OPERATIONS
|  | DEPUTY DIRECTOR, OFFICE OF LABOR MANAGEMENT STANDARDS
| OFFICE OF THE ASSISTANT SECRETARY FOR ADMINISTRATION AND MANAGEMENT | SENIOR PROCUREMENT EXECUTIVE
|  | DIRECTOR, CYBER SECURITY AND CHIEF INFORMATION SECURITY OFFICER
|  | DEPUTY CHIEF INFORMATION OFFICER
|  | DIRECTOR, DIRECTORATE OF INFORMATION TECHNOLOGY OPERATIONS AND SERVICES (2)
|  | DIRECTOR, OFFICE OF STRATEGIC OPERATIONS
|  | DIRECTOR, DIRECTORATE OF DIGITAL TRANSFORMATION
|  | DEPUTY CHIEF HUMAN CAPITAL OFFICER
|  | SENIOR DIRECTOR OF JOB CORPS ACQUISITION SERVICES
|  | HEAD OF CONTRACTING ACTIVITY
|  | DIRECTOR, APPLICATION DEVELOPMENT, ENFORCEMENT, BENEFITS AND PAYMENTS
|  | DIRECTOR, BUSINESS APPLICATION SERVICES
|  | CHIEF TECHNOLOGY OFFICER
|  | DIRECTOR OF CASE MANAGEMENT
|  | DIRECTOR, GRANTS MANAGEMENT
|  | DEPUTY ASSISTANT SECRETARY FOR BUDGET
|  | DIRECTOR DEPARTMENTAL BUDGET CENTER
|  | DIRECTOR OF CIVIL RIGHTS
|  | DIRECTOR BUSINESS OPERATIONS CENTER
|  | CHIEF HUMAN CAPITAL OFFICER
|  | DEPUTY DIRECTOR OF HUMAN RESOURCES
|  | DEPUTY ASSISTANT SECRETARY FOR OPERATIONS
|  | DIRECTOR, PERFORMANCE MANAGEMENT CENTER
| OFFICE OF THE ASSISTANT SECRETARY FOR POLICY | DIRECTOR, OFFICE OF REGULATORY AND PROGRAMMATIC POLICY
|  | DEPUTY ASSISTANT SECRETARY FOR POLICY
| OFFICE OF THE CHIEF FINANCIAL OFFICER | DEPUTY CHIEF FINANCIAL OFFICER
|  | ASSOCIATE DEPUTY CHIEF FINANCIAL OFFICER FOR FINANCIAL SYSTEMS
| OFFICE OF THE SOLICITOR | DEPUTY SOLICITOR (NATIONAL OPERATIONS)
|  | ASSOCIATE SOLICITOR, MANAGEMENT AND ADMINISTRATIVE LEGAL SERVICES DIVISION
|  | ASSOCIATE SOLICITOR FOR CIVIL RIGHTS AND LABOR MANAGEMENT
|  | ASSOCIATE SOLICITOR FOR BLACK LUNG AND LONGSHORE LEGAL SERVICES
|  | DEPUTY SOLICITOR (REGIONAL OPERATIONS)
|  | REGIONAL SOLICITOR—SAN FRANCISCO
|  | REGIONAL SOLICITOR—BOSTON
|  | REGIONAL SOLICITOR—NEW YORK
|  | REGIONAL SOLICITOR—PHILADELPHIA
|  | REGIONAL SOLICITOR—DALLAS
|  | REGIONAL SOLICITOR—ATLANTA
|  | ASSOCIATE SOLICITOR FOR FAIR LABOR STANDARDS
|  | ASSOCIATE SOLICITOR FOR FEDERAL EMPLOYEES' AND ENERGY WORKERS' COMPENSATION
|  | ASSOCIATE SOLICITOR FOR OCCUPATIONAL SAFETY AND HEALTH
|  | ASSOCIATE SOLICITOR FOR MINE SAFETY AND HEALTH
|  | REGIONAL SOLICITOR—CHICAGO
|  | ASSOCIATE SOLICITOR FOR PLAN BENEFITS SECURITY
| OFFICE OF WORKERS COMPENSATION PROGRAMS | DIRECTOR FOR FEDERAL EMPLOYEES' COMPENSATION
|  | DEPUTY DIRECTOR FOR OFFICE OF WORKERS' COMPENSATION PROGRAMS
|  | DIRECTOR OF COAL MINE WORKERS COMPENSATION
|  | DIRECTOR, ENERGY EMPLOYEES' OCCUPATIONAL ILLNESS COMPENATION
|  | COMPTROLLER
|  | DEPUTY DIRECTOR, POLICY AND NATIONAL OPERATIONS
|  | DEPUTY DIRECTOR, CLAIMS ADMINISTRATION, POLICY, HEARINGS, AND TECHNICAL ASSISTANCE
|  | DEPUTY DIRECTOR, PROGRAM AND SYSTEMS INTEGRITY
|  | NATIONAL ADMINISTRATION OF FIELD OPERATIONS, DIVISION OF FEDERAL EMPLOYEES' COMPENSATION
|  | NATIONAL ADM OF FIELD OP, DIVISION OF ENERGY EMPLOYEE OCC ILLNESS COMP
|  | REGIONAL DIRECTOR—DALLAS
|  | REGIONAL DIRECTOR (NORTHEAST REGION)
|  | REGIONAL DIRECTOR
|  | ADMINISTRATIVE OFFICER
| VETERANS EMPLOYMENT AND TRAINING SERVICE | DEPUTY ASSISTANT SECRETARY FOR OPERATIONS AND MANAGEMENT
|  | DIRECTOR, OFFICE OF FIELD OPERATIONS
|  | DIRECTOR OF NATIONAL PROGRAMS
| WAGE AND HOUR DIVISION | ASSOCIATE ADMINISTRATOR, REGIONAL ENFORCEMENT AND SUPPORT
|  | ASSOCIATE ADMINISTRATOR FOR ENTERPRISE DATA AND ANALYTICS
|  | ASSOCIATE ADMINISTRATOR FOR ADMINISTRATIVE OPERATIONS
| WOMEN'S BUREAU | DEPUTY DIRECTOR, WOMEN'S BUREAU
DEPARTMENT OF LABOR OFFICE OF INSPECTOR GENERAL | DEPARTMENT OF LABOR OFFICE OF INSPECTOR GENERAL | DEPUTY INSPECTOR GENERAL
|  | DEPUTY ASSISTANT INSPECTOR GENERAL FOR AUDIT
|  | DEPUTY ASSISTANT INSPECTOR GENERAL FOR INVESTIGATIONS—LABOR RACKETEERING AND FRAUD
|  | ASSISTANT INSPECTOR GENERAL FOR MANAGEMENT AND POLICY
|  | ASSISTANT INSPECTOR GENERAL FOR AUDIT
|  | ASSISTANT INSPECTOR GENERAL FOR INVESTIGATIONS—LABOR RACKETEERING AND FRAUD
|  | COUNSEL TO THE INSPECTOR GENERAL
|  | CHIEF PERFORMANCE AND RISK MANAGEMENT OFFICER
|  | DEPUTY ASSISTANT INSPECTOR GENERAL FOR MANAGEMENT AND POLICY
|  | DEPUTY ASSISTANT INSPECTOR GENERAL FOR AUDIT
|  | CHIEF TECHNOLOGY OFFICER
MERIT SYSTEMS PROTECTION BOARD | DALLAS REGIONAL OFFICE | REGIONAL DIRECTOR, DALLAS
OFFICE OF REGIONAL OPERATIONS | ATLANTA REGIONAL OFFICE | REGIONAL DIRECTOR, ATLANTA
| CENTRAL REGION, CHICAGO REGIONAL OFFICE | REGIONAL DIRECTOR, CHICAGO
| NORTHEAST REGION, PHILADELPHIA REGIONAL OFFICE | REGIONAL DIRECTOR, PHILADELPHIA
| WASHINGTON, DC REGION, WASHINGTON REGIONAL OFFICE | REGIONAL DIRECTOR, WASHINGTON, D.C.
| WESTERN REGION, OAKLAND REGIONAL OFFICE | REGIONAL DIRECTOR, OAKLAND
OFFICE OF THE BOARD, CHAIRMAN | OFFICE OF FINANCIAL AND ADMINISTRATIVE MANAGEMENT | DIRECTOR, FINANCIAL AND ADMINISTRATIVE MANAGEMENT
| OFFICE OF INFORMATION RESOURCES MANAGEMENT | DIRECTOR, INFORMATION RESOURCES MANAGEMENT
| OFFICE OF POLICY AND EVALUATION | DIRECTOR, OFFICE OF POLICY AND EVALUATION
| OFFICE OF REGIONAL OPERATIONS | DIRECTOR, OFFICE OF REGIONAL OPERATIONS
| OFFICE OF THE CLERK OF THE BOARD | CLERK OF THE BOARD
NATIONAL AERONAUTICS AND SPACE ADMINISTRATION | NATIONAL AERONAUTICS AND SPACE ADMINISTRATION | DIRECTOR, HUMAN RESOURCES
|  | DIRECTOR, SPACEPORT INTEGRATION AND SERVICES
|  | DIRECTOR, COMMUNICATION AND PUBLIC ENGAGEMENT
|  | DIRECTOR, EXPLORATION RESEARCH AND TECHNOLOGY PROGRAMS
|  | GROUND SYSTEMS INTEGRATION MANAGER, EXPLORATION GROUND SYSTEMS PROGRAM
AERONAUTICS RESEARCH MISSION DIRECTORATE | AMES RESEARCH CENTER | DIRECTOR OF SAFETY AND MISSION ASSURANCE
|  | DEPUTY DIRECTOR, AERONAUTICS
|  | DEPUTY CENTER DIRECTOR, ARC
|  | DIRECTOR OF AERONAUTICS
|  | CHIEF FINANCIAL OFFICER
|  | DIRECTOR OF CENTER OPERATIONS
|  | DIRECTOR, EXPLORATION TECHNOLOGY
|  | DIRECTOR OF SCIENCE
|  | CHIEF INFORMATION OFFICER
|  | DEPUTY DIRECTOR, EXPLORATION TECHNOLOGY
|  | ASSOCIATE DIRECTOR FOR RESEARCH AND TECHNOLOGY
|  | DIRECTOR, PROGRAMS AND PROJECTS
|  | DEPUTY DIRECTOR, SCIENCE
|  | DIRECTOR OF ENGINEERING
|  | DIRECTOR, HUMAN RESOURCES
|  | DEPUTY DIRECTOR, ENGINEERING
|  | CENTER ASSOCIATE DIRECTOR
| GLENN RESEARCH CENTER | CENTER ASSOCIATE DIRECTOR
|  | DEPUTY DIRECTOR, SPACE FLIGHT SYSTEMS
|  | DIRECTOR OF CENTER OPERATIONS
|  | CHIEF INFORMATION OFFICER
|  | CHIEF FINANCIAL OFFICER
|  | DEPUTY DIRECTOR OF FACILTIES, TEST AND MANUFACTURING DIRECTORATE
|  | CHIEF, CHIEF ENGINEER OFFICE
|  | DIRECTOR, OFFICE OF TECHNOLOGY INCUBATION AND INNOVATION
|  | MANAGER, NEIL A ARMSTRONG TEST FACILITY
|  | DIRECTOR, OFFICE OF PROCUREMENT
|  | DIRECTOR, SPACE FLIGHT SYSTEMS DIRECTORATE
|  | DEPUTY CHIEF, POWER DIVISION
|  | CHIEF, POWER DIVISION
|  | DIRECTOR, RESEARCH AND ENGINEERING DIRECTORATE
|  | CHIEF, MATERIALS AND STRUCTURES DIVISION
|  | CHIEF, PROPULSION DIVISION
|  | DEPUTY CHIEF, PROPULSION DIVISION
|  | DIRECTOR, FACILITIES, TEST AND MANUFACTURING DIRECTORATE
|  | DIRECTOR, SAFETY AND MISSION ASSURANCE DIRECTORATE
|  | CHIEF, SYSTEMS ENGINEERING AND ARCHITECTURE DIVISION
|  | DIRECTOR, AERONAUTICS DIRECTORATE
|  | CHIEF, COMMUNICATIONS AND INTELLIGENT SYSTEMS DIVISION
|  | DEPUTY DIRECTOR, RESEARCH AND ENGINEERING DIRECTORATE
|  | MANAGER, EUROPEAN SERVICE MODULE INTEGRATION OFFICE
|  | DIRECTOR, HUMAN RESOURCES
|  | MANAGER, POWER AND PROPULSION ELEMENT PROJECT OFFICE
|  | DEPUTY DIRECTOR, NASA SAFETY CENTER
| LANGLEY RESEARCH CENTER | DIRECTOR, SAFETY AND MISSION ASSURANCE OFFICE
|  | CHIEF FINANCIAL OFFICER
|  | DEPUTY DIRECTOR, LANGLEY RESEARCH CENTER
|  | DEPUTY DIRECTOR, NATIONAL AERONAUTICS AND SPACE ADMINISTRATION ENGINEERING AND SAFETY CENTER
|  | DIRECTOR, NATIONAL AERONAUTICS AND SPACE ADMINISTRATION ENGINEERING AND SAFETY CENTER
|  | MANAGER, INTEGRATION OFFICE, NASA ENGINEERING AND SAFETY CENTER
|  | DIRECTOR, ENGINEERING DIRECTORATE
|  | DEPUTY DIRECTOR, ENGINEERING DIRECTORATE
|  | DIRECTOR, RESEARCH DIRECTORATE
|  | DEPUTY DIRECTOR, RESEARCH DIRECTORATE
|  | DIRECTOR, CENTER OPERATIONS DIRECTORATE
|  | DIRECTOR, AERONAUTICS RESEARCH DIRECTORATE
|  | DIRECTOR, SCIENCE DIRECTORATE
|  | DIRECTOR, SYSTEMS ANALYSIS AND ADVANCED CONCEPTS DIRECTORATE
|  | DIRECTOR, RESEARCH SERVICES DIRECTORATE
|  | CHIEF INFORMATION OFFICER
|  | DEPUTY DIRECTOR FOR INTELLIGENT FLIGHT SYSTEMS
|  | ASSOCIATE DIRECTOR, LANGLEY RESEARCH CENTER
|  | DEPUTY DIRECTOR FOR TECHNICAL CAPABILITIES
|  | DIRECTOR, SPACE TECHNOLOGY AND EXPLORATION DIRECTORATE
|  | DIRECTOR, EARTH SYSTEM SCIENCE PATHFINDER PROGRAM OFFICE
|  | DEPUTY DIRECTOR FOR SAFETY
|  | ASSOCIATE DIRECTOR, TECHNICAL
|  | DEPUTY DIRECTOR FOR STRUCTURES AND MATERIALS
|  | SENIOR ADVISOR, ON-ORBIT SERVICING, ASSEMBLY, AND MANUFACTURING
|  | MANAGER, QUESST MISSION
|  | DEPUTY DIRECTOR FOR PROJECTS, ENGINEERING DIRECTORATE
|  | DIRECTOR, RESEARCH SERVICES DIRECTORATE
|  | DIRECTOR, OFFICE OF STRATEGIC ANALYSIS, COMMUNICATIONS, AND BUSINESS DEVELOPMENT
|  | DEPUTY DIRECTOR FOR AEROSCIENCES
GODDARD SPACE FLIGHT CENTER | SCIENCES AND EXPLORATION | DEPUTY DIRECTOR, SCIENCES AND EXPLORATION
KENNEDY SPACE CENTER | LAUNCH SERVICES PROGRAM | MANAGER, LAUNCH SERVICES PROGRAM
| SAFETY AND MISSION ASSURANCE | DIRECTOR, SAFETY AND MISSION ASSURANCE
MARSHALL SPACE FLIGHT CENTER | SPACE LAUNCH SYSTEM PROGRAM OFFICE | SPECIAL ASSISTANT FOR LIQUID PROPULSION SYSTEMS
MISSION SUPPORT DIRECTORATE | NASA SHARED SERVICES CENTER | EXECUTIVE DIRECTOR OF NASA SHARED SERVICES CENTER
|  | DIRECTOR, SERVICE DELIVERY DIRECTORATE
|  | DIRECTOR, SUPPORT OPERATIONS DIRECTORATE
| OFFICE OF CHIEF HEALTH AND MEDICAL OFFICER | DEPUTY CHIEF HEALTH AND MEDICAL OFFICER
|  | DIRECTOR, HEALTH OPERATIONS AND OVERSIGHT
|  | CHIEF HEALTH AND MEDICAL OFFICER
| OFFICE OF HEADQUARTERS OPERATIONS | DIRECTOR, HUMAN RESOURCE MANGEMENT DIVISION
|  | DIRECTOR, HEADQUARTERS INFORMATION AND COMMUNICATION DIVISION
| OFFICE OF HUMAN CAPITAL MANAGEMENT | DEPUTY ASSISTANT ADMINISTRATOR FOR HUMAN CAPITAL MANAGEMENT
|  | DIRECTOR, TALENT STRATEGY AND ENGAGEMENT DIVISION
|  | ASSISTANT ADMINISTRATOR FOR HUMAN CAPITAL MANAGEMENT
|  | DIRECTOR, TALENT ACQUISITION AND DEVELOPMENT PROGRAM OFFICE
|  | DIRECTOR, BUSINESS OPERATIONS DIVISION
|  | DIRECTOR, EXECUTIVE RESOURCES
| OFFICE OF PROCUREMENT | DIRECTOR, CONTRACT MANAGEMENT DIVISION
|  | DIRECTOR, INFORMATION TECHNOLOGY PROCUREMENT OFFICE
|  | DEPUTY ASSISTANT ADMINISTRATION FOR OFFICE OF PROCUREMENT
|  | DIRECTOR, PROGRAM OPERATIONS DIVISION
|  | ASSISTANT ADMININSTRATOR FOR PROCUREMENT
|  | DIRECTOR, OFFICE OF PROCUREMENT (2)
| OFFICE OF PROTECTIVE SERVICES | SENIOR ADVISOR (TRANSFORMATION)
|  | ASSISTANT ADMINISTRATOR FOR PROTECTIVE SERVICES
|  | DIRECTOR OF COUNTERINTELLIGENCE/COUNTERTERRORISM FOR PROTECTIVE SERVICES
|  | DEPUTY ASSISTANT ADMINISTRATOR FOR PROTECTIVE SERVICES
| OFFICE OF STRATEGIC INFRASTRUCTURE | DEPUTY ASSISTANT ADMINISTRATOR FOR STRATEGIC INFRASTRUCTURE
|  | DIRECTOR, SPACE ENVIRONMENTS TESTING MANAGEMENT OFFICE (SETMO)
|  | DIRECTOR, FACILITIES AND REAL ESTATE
|  | SENIOR ADVISOR (TRANSFORMATION)
|  | DIRECTOR, LOGISTICS MANAGEMENT DIVISION
|  | ASSISTANT ADMINISTRATOR FOR INFRASTRUCTURE AND ADMININSTRATION
|  | DIRECTOR ENVIRONMENTAL MANAGEMENT DIVISION
NATIONAL AERONAUTICS AND SPACE ADMINISTRATION | OFFICE OF SAFETY AND MISSION ASSURANCE | DIRECTOR, MISSIONS AND PROGRAMS ASSESSMENT DIVISION
|  | DIRECTOR, MISSION ASSURANCE STANDARDS AND CAPABILITIES DIVISION
|  | CHIEF SAFETY AND MISSION ASSURANCE OFFICER
|  | DEPUTY CHIEF SAFETY AND MISSION ASSURANCE OFFICER
|  | DIRECTOR, INSTITUTIONAL SAFETY MANAGEMENT DIVISION
|  | DIRECTOR, NASA SAFETY CENTER
|  | DIRECTOR, INDEPENDENT VERIFICATION AND VALIDATION PROGRAM
| OFFICE OF THE ADMINISTRATOR | ASSOCIATE ADMINSTRATOR
|  | DEPUTY ASSOCIATE ADMINISTRATOR FOR TECHNOLOGY, POLICY, AND STRATEGY
|  | DEPUTY ASSOCIATE ADMINISTRATOR FOR BUSINESS OPERATIONS
|  | CHIEF RESILIENCE OFFICE
|  | CHIEF PROGRAM MANAGEMENT OFFICER
|  | ASSOCIATE CHIEF INFORMATION OFFICER, ENTERPRISE BUSINESS MANAGEMENT OFFICE
|  | DIRECTOR, APPLICATIONS AND PLATFORMS SERVICES
|  | SPECIAL ASSISTANT FOR ACQUISITION AND PARTNERSHIP STRATEGY
|  | DIRECTOR OF SPACE ARCHITECTURES
|  | DEPUTY DIGITAL TRANSFORMATION OFFICER AND CHIEF DATA OFFICER
|  | DIGITAL TRANSFORMATION OFFICER
|  | SENIOR ADVISOR TO THE ASSOCIATE ADMINISTRATOR
|  | DIRECTOR FIELD OPERATIONS DIVISION
| STENNIS SPACE CENTER | DEPUTY DIRECTOR, STENNIS SPACE CENTER
|  | DIRECTOR, ENGINEERING AND SCIENCE DIRECTORATE
|  | ASSOCIATE DIRECTOR
|  | DIRECTOR, CENTER OPERATIONS DIRECTORATE
|  | DIRECTOR, OFFICE OF SAFETY AND MISSION ASSURANCE
|  | DEPUTY DIRECTOR, ENGINEERING AND TEST DIRECTORATE
OFFICE OF EARTH SCIENCE | GODDARD SPACE FLIGHT CENTER | DIRECTOR OF ENGINEERING AND TECHNOLOGY
|  | DEPUTY DIRECTOR OF ENGINEERING AND TECHNOLOGY
|  | CHIEF, MECHANICAL SYSTEMS DIVISION
|  | CHIEF, SOFTWARE ENGINEERING DIVISION
|  | DEPUTY DIRECTOR FOR PLANNING AND BUSINESS MANAGEMENT
|  | DIRECTOR OFFICE OF PROCUREMENT
|  | DEPUTY DIRECTOR
|  | DEPUTY DIRECTOR OF FLIGHT PROJECTS
|  | DIRECTOR OF WALLOPS FLIGHT FACILITY
|  | DIRECTOR, EARTH SCIENCES DIVISION
|  | CHIEF, GODDARD INSTITUTE FOR SPACE STUDIES
|  | DIRECTOR OF FLIGHT PROJECTS
|  | DIRECTOR, ASTROPHYSICS SCIENCE DIVISION
|  | DIRECTOR OF THE OFFICE OF HUMAN CAPITAL MANAGEMENT
|  | DEPUTY DIRECTOR OF SAFETY AND MISSION ASSURANCE
|  | DIRECTOR OF SCIENCES AND EXPLORATION
|  | DIRECTOR OF SAFETY AND MISSION ASSURANCE
|  | DIRECTOR OF MANAGEMENT OPERATIONS
|  | CHIEF FINANCIAL OFFICER
|  | DIRECTOR, SOLAR SYSTEM EXPLORATION DIVISION
|  | CHIEF, INSTRUMENT SYSTEMS AND TECHNOLOGY DIVISION
|  | CHIEF, ELECTRICAL ENGINEERING DIVISION
|  | CENTER ASSOCIATE DIRECTOR
|  | ASSOCIATE DIRECTOR FOR EXPLORERS AND HELIOPHYSICS PROJECTS DIVISION
|  | CHIEF, MISSION ENGINEERING AND SYSTEMS ANALYSIS DIVISION
|  | DEPUTY DIRECTOR FLIGHT PROJECTS FOR PLANNING AND BUSINESS MANAGEMENT
|  | DEPUTY DIRECTOR FOR TECHNOLOGY AND RESEARCH INVESTMENTS
|  | DEPUTY DIRECTOR FOR INSTITUTIONS, PROGRAMS, AND BUSINESS MANAGEMENT
|  | DIRECTOR, HELIOPHYSICS SCIENCE DIVISION
|  | DEPUTY CHIEF FINANCIAL OFFICER
|  | ASSOCIATE DIRECTOR FOR EARTH SCIENCE PROJECTS DIVISION
|  | ASSOCIATE DIRECTOR FOR EXPLORATION AND SPACE COMMUNICATIONS PROJECTS DIVISION
|  | ASSOCIATE DIRECTOR OF FLIGHT PROJECTS FOR THE INSTRUMENT AND SPECIAL PROJECTS DIVISION
|  | DEPUTY DIRECTOR FOR TECHNICAL MANAGEMENT
|  | SPECIAL ASSISTANT FOR PROJECT MANAGEMENT TRAINING
|  | DEPUTY DIRECTOR WALLOPS FLIGHT FACILITY
|  | CHIEF INFORMATION OFFICER AND DIRECTOR OF INFORMATION TECHNOLOGY AND COMMUNICATIONS DIRECTORATE
|  | SPECIAL ASSISTANT TO THE DIRECTOR
|  | DIRECTOR, OFFICE OF PROCUREMENT
|  | ASSISTANT DIRECTOR FOR SPACE TECHNOLOGY AND EXPLORATION
OFFICE OF PUBLIC AFFAIRS | OFFICE OF LEGISLATIVE AND INTERGOVERNMENTAL AFFAIRS | DEPUTY ASSOCIATE ADMINISTRATOR FOR LEGISLATIVE AND INTERGOVERNMENTAL AFFAIRS
OFFICE OF SMALL BUSINESS PROGRAMS | JOHNSON SPACE CENTER | DIRECTOR, SAFETY AND MISSION ASSURANCE
|  | MANAGER, WHITE SANDS TEST FACILITY
|  | CHIEF, SOFTWARE, ROBOTICS AND SIMULATION DIVISION
|  | DEPUTY DIRECTOR, ENGINEERING
|  | CHIEF, AIRCRAFT OPERATIONS DIVISION
|  | DIRECTOR, HUMAN HEALTH AND PERFORMANCE
|  | DIRECTOR, CENTER OPERATIONS
|  | DIRECTOR, ENGINEERING
|  | DIRECTOR, OFFICE OF PROCUREMENT
|  | DIRECTOR OF HUMAN RESOURCES
|  | CHIEF, AEROSCIENCE AND FLIGHT MECHANICS DIVISION
|  | CENTER ASSOCIATE DIRECTOR
|  | MANAGER, VEHICLE OFFICE
|  | DEPUTY DIRECTOR, SAFETY AND MISSION ASSURANCE
|  | MANAGER, EXTRA VEHICULAR ACTIVITY MANAGEMENT OFFICE
|  | MANAGER, PROGRAM PLANNING AND CONTROL OFFICE, INTERNATIONAL SPACE STATION
|  | DEPUTY DIRECTOR, HUMAN HEALTH AND PEFORMANCE
|  | MANAGER, INTERNATIONAL SPACE STATION RESEARCH INTEGRATION OFFICE
|  | CHIEF INFORMATION OFFICER
|  | CHIEF, FLIGHT DIRECTOR OFFICE
|  | DIRECTOR, EXTERNAL RELATIONS
|  | MANAGER, INTERNATIONAL SPACE STATION PROGRAM
|  | DEPUTY DIRECTOR, JOHNSON SPACE CENTER
|  | MANAGER, AVIONICS AND SOFTWARE OFFICE
|  | DEPUTY MANAGER, INTERNATIONAL SPACE STATION PROGRAM
|  | MANAGER, SAFETY AND MISSION ASSURANCE/PROGRAM RISK OFFICE, ISSP
|  | MANAGER, INTERNATIONAL SPACE STATION TRANSPORTATION INTEGRATION
|  | CHIEF, PROPULSION AND POWER DIVISION
|  | DIRECTOR, FLIGHT OPERATIONS
|  | DIRECTOR, EXPLORATION INTEGRATION AND SCIENCE
|  | MANAGER, EXTERNAL INTEGRATION OFFICE
|  | MANAGER, CREW AND SERVICE MODULE OFFICE
|  | DEPUTY MANAGER, FLIGHT DEVELOPMENT AND OPERATIONS, COMMERCIAL CREW PROGRAM
|  | MANAGER, ORION PROGRAM
|  | MANAGER, VEHICLE INTEGRATION OFFICE
|  | DEPUTY MANAGER, ORION PROGRAM
|  | MANAGER, OPERATIONS INTEGRATION, COMMERCIAL CREW PROGRAM
|  | CHIEF, MISSION SYSTEMS DIVISION
|  | DEPUTY CHIEF FINANCIAL OFFICER
|  | CHIEF, ASTROMATERIALS RESEARCH AND EXPLORATION SCIENCE (ARES)
|  | MANAGER, PROGRAM OPERATIONS INTEGRATION, INTERNATIONAL SPACE STATION PROGRAM
|  | CHIEF FINANCIAL OFFICER
|  | DEPUTY MANAGER, GATEWAY PROGRAM
|  | MANAGER, VEHICLE SYSTEMS INTEGRATION
|  | PRODUCTION MANAGER, GATEWAY PROGRAM
|  | MANAGER, SYSTEMS ENGINEERING AND INTEGRATION OFFICE, GATEWAY
|  | CHIEF, STRUCTURAL ENGINEERING DIVISION
|  | GATEWAY HABITATION AND LOGISTICS OUTPOST PROJECT MANAGER
|  | ASSOCIATE CENTER DIRECTOR FOR VISION AND STRATEGY
|  | CHIEF, CREW AND THERMAL SYSTEMS DIVISION
|  | MANAGER, EXTRAVEHICULAR ACTIVITY AND HUMAN SURFACE MOBILITY PROGRAM
|  | DEPUTY MANAGER, EXTRAVEHICULAR ACTIVITY AND HUMAN SURFACE MOBILITY PROGRAM
| KENNEDY SPACE CENTER | DIRECTOR, CENTER ENGAGEMENT AND BUSINESS INTEGRATION SERVICES
|  | MANAGER, ORION PRODUCTION OPERATIONS
|  | MANAGER, DEEP SPACE LOGISTICS OFFICE
|  | PRINCIPAL ADVISOR FOR SPACE TRANSPORTATION
|  | ASSOCIATE DIRECTOR, MANAGEMENT
|  | CHIEF, COMMERCIAL SYSTEMS DIVISION, ENGINEERING
|  | CHIEF, EXPLORATION SYSTEMS AND OPERATIONS DIVISION, ENGINEERING
|  | ASSOCIATE MANAGER, TECHNICAL, EXPLORATION GROUND SYSTEMS PROGRAM
|  | DEPUTY DIRECTOR, SPACEPORT INTEGRATION AND SERVICES
|  | DEPUTY MANAGER, GROUND DEVELOPMENT AND OPERATIONS, COMMERCIAL CREW PROGRAM
|  | CHIEF, LABORATORIES AND TEST FACILITIES DIVISION, ENGINEERING
|  | CHIEF, TECHNICAL PERFORMANCE AND INTEGRATION DIVISION, ENGINEERING
|  | DEPUTY DIRECTOR, SAFETY AND MISSION ASSURANCE
|  | DIRECTOR, ENGINEERING
|  | ASSOCIATE DIRECTOR, ENGINEERING
|  | MANAGER, EXPLORATION GROUND SYSTEMS PROGRAM
|  | DEPUTY MANAGER, EXPLORATION GROUND SYSTEMS PROGRAM
|  | DEPUTY DIRECTOR, ENGINEERING
|  | MANAGER, COMMERCIAL CREW PROGRAM
|  | DEPUTY MANAGER, LAUNCH SERVICES PROGRAM
|  | CHIEF FINANCIAL OFFICER
|  | DIRECTOR, PROCUREMENT
|  | DEPUTY DIRECTOR, JOHN F. KENNEDY SPACE CENTER
|  | ASSOCIATE DIRECTOR, TECHNICAL, JOHN F KENNEDY SPACE CENTER
| MARSHALL SPACE FLIGHT CENTER | ASSOCIATE CENTER DIRECTOR
|  | DIRECTOR, SAFETY AND MISSION ASSURANCE DIRECTORATE
|  | MANAGER, SPACECRAFT/PAYLOAD INTEGRATION AND EVOLUTION OFFICE, SPACE LAUNCH SYSTEM PROGRAM OFFICE
|  | DIRECTOR, ENGINEERING DIRECTORATE
|  | DEPUTY DIRECTOR, OFFICE OF CENTER OPERATIONS
|  | CHIEF INFORMATION OFFICER
|  | DIRECTOR, OFFICE OF HUMAN RESOURCES
|  | DIRECTOR, TEST LABORATORY, ENGINEERING DIRECTORATE
|  | DIRECTOR, SPACECRAFT AND VEHICLE SYSTEMS DEPT, ENGINEERING DIRECTORATE
|  | DEPUTY DIRECTOR, SPACECRAFT AND VEHICLE SYSTEMS DEPARTMENT, ENGINEERING DIRECTORATE
|  | DEPUTY DIRECTOR, ENGINEERING DIRECTORATE
|  | DEPUTY DIRECTOR, SPACE SYSTEMS DEPT, ENGINEERING DIRECTORATE
|  | DIRECTOR, SPACE SYSTEMS DEPT, ENGINEERING DIRECTORATE
|  | DIRECTOR, MATERIALS AND PROCESSES LAB, ENGINEERING DIRECTORATE
|  | DIRECTOR, PROPULSION SYSTEMS DEPARTMENT, ENGINEERING DIRECTORATE
|  | DEPUTY DIRECTOR, PROPULSION SYSTEMS DEPT, ENGINEERING DIRECTORATE
|  | DEPUTY DIRECTOR, SAFETY AND MISSION ASSURANCE DIRECTORATE
|  | DEPUTY CENTER DIRECTOR
|  | ASSOCIATE CENTER DIRECTOR, TECHNICAL
|  | DIRECTOR, OFFICE OF STRATEGIC ANALYSIS AND COMMUNICATIONS
|  | DIRECTOR, OFFICE OF CENTER OPERATIONS
|  | ASSOCIATE DIRECTOR FOR OPERATIONS, ENGINEERING DIRECTORATE
|  | DEPUTY MANAGER, OFFICE OF THE CHIEF ENGINEER, ENGINEERING DIRECTORATE
|  | DIRECTOR, MICHOUD ASSEMBLY FACILITY
|  | MANAGER, SYSTEMS ENGINEERING AND INTEGRATION OFFICE, SPACE LAUNCH SYSTEM PROGRAM OFFICE
|  | MANAGER, HUMAN EXPLORATION DEVELOPMENT AND OPERATIONS OFFICE
|  | DEPUTY MANAGER, HUMAN EXPLORATION DEVELOPMENT AND OPERATIONS OFFICE
|  | MANAGER, SCIENCE AND TECHNOLOGY OFFICE
|  | DEPUTY MANAGER, SCIENCE AND TECHNOLOGY OFFICE
|  | ASSOCIATE MANAGER, SCIENCE AND TECHNOLOGY OFFICE
|  | MANAGER, SPACE LAUNCH SYSTEM PROGRAM OFFICE
|  | DEPUTY MANAGER, SPACE LAUNCH SYSTEM PROGRAM OFFICE
|  | MANAGER, ENGINES OFFICE, SPACE LAUNCH SYSTEM PROGRAM OFFICE
|  | MANAGER, STAGES OFFICE, SPACE LAUNCH SYSTEM PROGRAM OFFICE
|  | MANAGER, BOOSTERS OFFICE, SPACE LAUNCH SYSTEM PROGRAM OFFICE
|  | CHIEF ENGINEER, OFFICE OF THE CHIEF ENGINEER, ENGINEERING DIRECTORATE
|  | MANAGER, PROGRAM PLANNING AND CONTROL OFFICE, SPACE LAUNCH SYSTEM PROGRAM OFFICE
|  | ASSOCIATE PROGRAM MANAGER, SPACE LAUNCH SYSTEM PROGRAM OFFICE
|  | INTERNATIONAL SPACE STATION COST ACCOUNT MANAGER
|  | ASSOCIATE CHIEF INFORMATION OFFICER, APPLICATIONS DIVISION
|  | DEPUTY MANAGER, HUMAN LANDING SYSTEM PROGRAM OFFICE
|  | PROGRAM MANAGER, HUMAN LANDING SYSTEM
|  | CHIEF FINANCIAL OFFICER
|  | MANAGER, PLANETARY MISSIONS PROGRAM OFFICE
|  | MANAGER, BLOCK1B/EXPLORATION UPPER STAGE DEVELOPMENT OFFICE
|  | MANAGER, SYSTEMS ENGINEERING AND INTEGRATION OFFICE
|  | DEPUTY CHIEF INFORMATION OFFICER FOR OPERATIONS
|  | SPECIAL ASSISTANT TO THE CENTER DIRECTOR
OFFICE OF THE ADMINISTRATOR | AERONAUTICS RESEARCH MISSION DIRECTORATE | DIRECTOR OF TRANSFORMATIVE AERONAUTICS CONCEPTS PROGRAM OFFICE
|  | DIRECTOR OF AIRSPACE OPERATIONS AND SAFETY PROGRAM OFFICE
|  | DIRECTOR OF ADVANCED AIR VEHICLES PROGRAM OFFICE
|  | DIRECTOR, AEROSCIENCES EVALUATION AND TEST CAPABILITIES PORTFOLIO
|  | DEPUTY ASSOCIATE ADMINISTRATOR FOR PROGRAMS
|  | DEPUTY ASSOCIATE ADMINISTRATOR FOR POLICY
|  | DEPUTY ASSOCIATE ADMINISTRATOR
|  | DIRECTOR FOR INTEGRATED AVIATION SYSTEMS PROGRAM
|  | DIRECTOR, PORTFOLIO ANALYSIS AND MANAGEMENT OFFICE
| EXPLORATION SYSTEMS DEVELOPMENT MISSION DIRECTORATE | DIRECTOR, TECHNICAL INTEGRATION OFFICE
|  | MANAGER, SYSTEMS ENGINEERING AND INTEGRATION, ARTEMIS CAMPAIGN DEVELOPMENT
|  | ASSISTANT DEPUTY ASSOCIATE ADMINISTRATOR FOR COMMON EXPLORATION SYSTEMS DEVELOPMENT
|  | DEPUTY ASSOCIATE ADMINISTRATOR, ARTEMIS CAMPAIGN DEVELOPMENT
| MISSION SUPPORT DIRECTORATE | DIRECTOR, RESOURCES AND PERFORMANCE MANAGEMENT OFFICE
|  | DEPUTY ASSOCIATE ADMINISTRATOR, MISSION SUPPORT TRANSFORMATION OFFICE
|  | SENIOR ADVISOR FOR HUMAN CAPITAL TRANSFORMATION
|  | DEPUTY ASSISTANT ADMINISTRATOR FOR BUSINESS MANAGEMENT
|  | DIRECTOR, MISSION SUPPORT OPERATIONS OFFICE
|  | DIRECTOR, AVIATION CAPABILITY MANAGEMENT OFFICE
|  | DIRECTOR, ANALYSIS DIVISION
|  | PROGRAM EXECUTIVE FOR MISSION SUPPORT FUTURE ARCHITECTURE PROGRAM
|  | DEPUTY ASSOCIATE ADMINISTRATOR FOR MISSION SUPPORT
| NASA MANAGEMENT OFFICE | DEPUTY DIRECTOR, NASA OFFICE OF JPL MANAGEMENT AND OVERSIGHT
| OFFICE OF COMMUNICATIONS | DEPUTY ASSOCIATE ADMINISTRATOR FOR COMMUNICATIONS
|  | DIRECTOR, PUBLIC ENGAGEMENT AND MULTIMEDIA
|  | DEPUTY ASSOCIATE ADMINISTRATOR FOR MEDIA OPERATIONS AND TECHNOLOGY
|  | DIRECTOR OF ENGAGEMENT
|  | DIRECTOR OF HISTORY AND INFORMATION SERVICES
|  | DIRECTOR OF NEWS, MEDIA, AND INTERNAL COMMUNICATIONS
| OFFICE OF STEM ENGAGEMENT | DEPUTY ASSOCIATE ADMINISTRATOR FOR STEM ENGAGEMENT PROGRAM
|  | DEPUTY ASSOCIATE ADMINISTRATOR FOR STRATEGY AND INTEGRATION
| OFFICE OF THE CHIEF ENGINEER | DEPUTY CHIEF ENGINEER
|  | CHIEF ENGINEER, HUMAN EXPLORE DEVELOPMENT AND OPERATIONS
|  | CHIEF ENGINEER
|  | DEPUTY FOR MANAGEMENT
| OFFICE OF THE CHIEF FINANCIAL OFFICER | DIRECTOR, STRATEGIC INVESTMENT DIVISION
|  | DIRECTOR, QUALITY ASSURANCE
|  | DIRECTOR, FINANCIAL MANAGEMENT DIVISION
|  | DIRECTOR, BUDGET DIVISION
|  | DEPUTY CHIEF FINANCIAL OFFICER (APPROPRIATIONS)
|  | ASSOCIATE DEPUTY CHIEF FINANCIAL OFFICER (FINANCE)
|  | DEPUTY CHIEF FINANCIAL OFFICER (STRATEGY AND PERFORMANCE)
|  | DEPUTY CHIEF FINANCIAL OFFICER
|  | DEPUTY CHIEF FINANCIAL OFFICER (FINANCE)
|  | DIRECTOR, STRATEGIC INVESTMENTS DIVISION
| OFFICE OF THE CHIEF INFORMATION OFFICER | SENIOR ADVISOR FOR TRANSFORMATION
|  | DIRECTOR, NETWORK AND TELECOMMUNICATION SERVICE
|  | ASSOCIATE CHIEF INFORMATION OFFICER FOR CAPTIAL PLANNING AND GOVERNANCE
|  | ASSOCIATE CHIEF INFORMATION OFFICER FOR ENTERPRISE SERVICE AND INTEGRATION DIVISION
|  | DEPUTY CHIEF INFORMATION OFFICER FOR STRATEGY
|  | DEPUTY CHIEF INFORMATION OFFICER FOR INFORMATION TECHNOLOGY SECURITY
| OFFICE OF THE CHIEF SCIENTIST | CHIEF SCIENTIST
|  | DEPUTY CHIEF SCIENTIST
| OFFICE OF THE CHIEF TECHNOLOGIST | CHIEF TECHNOLOGIST
| SCIENCE MISSION DIRECTORATE | DIRECTOR, ASTROPHYSICS DIVISION
|  | DIRECTOR, EARTH SCIENCE DIVISION
|  | DIRECTOR, JOINT AGENCY SATELLITE DIVISION
|  | DIRECTOR, NASA OFFICE OF JPL MANAGEMENT AND OVERSIGHT
|  | DEPUTY DIRECTOR, JOINT AGENCY SATELLITE DIVISION
|  | DIRECTOR, SCIENCE ENGAGEMENT AND PARTNERSHIPS
|  | ASSOCIATE DIRECTOR OF FLIGHT PROJECTS FOR JAMES WEBB SPACE TELESCOPE (JWST)
|  | ASSOCIATE DIRECTOR FOR FLIGHT PROGRAMS
|  | DIRECTOR, MARS SAMPLE RETURN PROGRAM
|  | PROGRAM DIRECTOR FOR FLIGHT PROGRAMS, ASTROPHYSICS DIVISION
|  | DEPUTY DIRECTOR, PLANETARY SCIENCE DIVISION
|  | ASSISTANT DEPUTY ASSOCIATE ADMINISTRATOR FOR MANAGEMENT
|  | DEPUTY DIRECTOR, EARTH SCIENCE DIVISION
|  | ASSOCIATE DIRECTOR FOR FLIGHT PROGRAMS, ASTROPHYSICS DIVISION
|  | SENIOR ADVISOR, SCIENCE MISSION DIRECTORATE
|  | ASSOCIATE DIRECTOR FOR RESEARCH, ASTROPHYSICS DIVISION
|  | ASSOCIATE DIRECTOR FOR FLIGHT PROGRAMS, HELIOPHYSICS DIVISION
|  | DEPUTY ASSOCIATE ADMINISTRATOR FOR EXPLORATION
|  | DEPUTY ASSOCIATE ADMINISTRATOR FOR MANAGEMENT
|  | DEPUTY ASSOCIATE ADMINISTRATOR, SCIENCE MISSION DIRECTORATE
|  | DEPUTY ASSOCIATE ADMINISTRATOR FOR PROGRAMS
|  | PROGRAM DIRECTOR RESEARCH AND ANALYSIS PROGRAM
|  | DEPUTY DIRECTOR, ASTROPHYSICS DIVISION
|  | DIRECTOR, HELIOPHYSICS DIVISION
|  | DIRECTOR, PLANETARY SCIENCE DIVISION
|  | PROGRAM DIRECTOR FOR FLIGHT PROGRAMS, PLANETARY SCIENCE
|  | DEPUTY, DIRECTOR, HELIOPHYISCS DIVISION
|  | DEPUTY ASSOCIATE ADMINISTRATOR FOR RESEARCH
|  | DIRECTOR, RESOURCES MANAGEMENT DIVISION
| SPACE OPERATIONS MISSION DIRECTORATE | DEPUTY ASSOCIATE ADMINISTRATOR FOR SPACE COMMUNICATIONS AND NAVIGATION
|  | MANAGER, ROCKET PROPULSION TEST PROGRAM OFFICE
|  | DIRECTOR, INTERNATIONAL SPACE STATION
|  | SPECIAL ASSISTANT TO THE DAA, SYSTEMS ENGINEERING AND INTEGRATION
|  | SENIOR ADVISOR TO THE HUMAN EXPLORATION AND OPERATIONS MISSION DIRECTORATE
|  | DEPUTY ASSOCIATE ADMINISTRATOR, EXPLORATION SYSTEMS DEVELOPMENT
|  | ASSISTANT DEPUTY ASSOCIATE ADMINISTRATOR, ADVANCED EXPLORATION SYSTEMS
|  | DEPUTY DIRECTOR, STRATEGIC INTEGRATION AND MANAGEMENT
|  | DEPUTY ASSOCIATE ADMINISTRATOR FOR EXPLORATION OPERATIONS DIVISION
|  | DEPUTY ASSOCIATE ADMINISTRATOR, SPACE OPERATIONS
|  | DEPUTY ASSOCIATE ADMINISTRATOR, EXPLORATION SYSTEMS DEVELOPMENT
|  | DAA, MANAGEMENT FOR ESDMD AND SOMD
|  | GATEWAY PROGRAM MANAGER
|  | CESD SAFETY AND MISSION ASSURANCE MANAGER
|  | ASSISTANT DEPUTY ASSOCIATE ADMINISTRATOR FOR EXPLORATION SYSTEMS DEVELOPMENT
|  | DIRECTOR, RESOURCES MANAGEMENT OFFICE
|  | DIRECTOR, HUMAN SPACEFLIGHT CAPABILITIES DIVISION
|  | DIRECTOR, NETWORK SERVICES
|  | DIRECTOR, LAUNCH SERVICES OFFICE
|  | DIRECTOR, HUMAN RESEARCH PROGRAM
|  | DIRECTOR, COMMERCIAL SPACEFLIGHT DEVELOPMENT DIVISION
|  | DIRECTOR, BIOLOGICAL AND PHYSICAL SCIENCES DIVISION
|  | DIRECTOR, STRATEGIC INTEGRATION AND MANAGEMENT DIVISION
OFFICE OF THE DEPUTY ADMINISTRATOR | ARMSTRONG FLIGHT RESEARCH CENTER (AFRC) | DEPUTY CENTER DIRECTOR, AFRC
|  | CENTER ASSOCIATE DIRECTOR FOR MISSION SUPPORT
|  | DIRECTOR FOR RESEARCH AND ENGINEERING
|  | DIRECTOR FOR FLIGHT OPERATIONS
|  | DIRECTOR FOR SAFETY AND MISSION ASSURANCE
|  | DIRECTOR FOR PROGRAMS
|  | DIRECTOR, MISSION OPERATIONS
|  | CHIEF FINANCIAL OFFICER
|  | ASSOCIATE DIRECTOR OF STRATEGY
| OFFICE INTERNATIONAL AND INTERAGENCY RELATIONS | DEPUTY DIRECTOR, EXPORT CONTROL AND INTERAGENCY LIAISON DIVISION
|  | DIRECTOR, SCIENCE DIVISION
|  | DIRECTOR, AERONAUTICS AND CROSS AGENCY SUPPORT DIVISION
|  | DIRECTOR, HUMAN EXPLORATION AND OPERATIONS DIVISION
|  | DEPUTY ASSOCIATE ADMINISTRATOR FOR INTERNATIONAL AND INTERAGENCY RELATIONS
|  | DIRECTOR, EXPORT CONTROL AND INTERAGENCY LIAISON DIVISION
|  | DIRECTOR, ADVISORY COMMITTEE MANAGEMENT DIVISION
| OFFICE OF DIVERSITY AND EQUAL OPPORTUNITY | DIRECTOR, DIVERSITY AND DATA/ANALYTICS DIVISION AND FIELD OPERATIONS
|  | DIRECTOR, EQUAL OPPORTUNITY PROGRAMS DIVISION AND FIELD OPERATIONS
|  | DEPUTY ASSOCIATE ADMINISTRATOR FOR DIVERSITY AND EQUAL OPPORTUNITY
| SPACE TECHNOLOGY MISSION DIRECTORATE | DIRECTOR, STRATEGIC PLANNING AND INTEGRATION
|  | TECHNOLOGY MATURATION PROGRAM DIRECTOR
|  | EARLY STAGE INNOVATIONS AND PARTNERSHIPS DIRECTOR
|  | TECHNOLOGY DEMONSTRATIONS PROGRAM DIRECTOR
|  | DIRECTOR, RESOURCE MANAGEMENT OFFICE
|  | DEPUTY ASSOCIATE ADMINISTRATOR FOR PROGRAMS
|  | DEPUTY ASSOCIATE ADMINISTRATOR FOR MANAGEMENT
|  | DEPUTY ASSOCIATE ADMINISTRATOR (STMD)
SCIENCE MISSION DIRECTORATE | JAMES WEBB SPACE TELESCOPE PROGRAM OFFICE | DIRECTOR, JAMES WEBB SPACE TELESCOPE PROGRAM
|  | SENIOR SCIENCE ADVISOR
NATIONAL AERONAUTICS AND SPACE ADMINISTRATION OFFICE OF THE INSPECTOR GENERAL | NATIONAL AERONAUTICS AND SPACE ADMINISTRATION OFFICE OF THE INSPECTOR GENERAL | DEPUTY INSPECTOR GENERAL
|  | ASSISTANT INSPECTOR GENERAL FOR INVESTIGATIONS
|  | ASSISTANT INSPECTOR GENERAL FOR AUDITING
|  | ASSISTANT INSPECTOR GENERAL FOR MANAGEMENT AND PLANNING
|  | COUNSEL TO THE INSPECTOR GENERAL
NATIONAL ARCHIVES AND RECORDS ADMINISTRATION
ARCHIVIST OF UNITED STATES AND DEPUTY ARCHIVIST OF THE UNITED STATES | CONGRESSIONAL AFFAIRS STAFF | DIRECTOR, CONGRESSIONAL AFFAIRS
| GENERAL COUNSEL | GENERAL COUNSEL
| OFFICE OF INNOVATION | CHIEF INNOVATION OFFICER
| OFFICE OF THE CHIEF OF MANAGEMENT AND ADMINISTRATION | CHIEF OF MANAGEMENT AND ADMINISTRATION
| OFFICE OF THE CHIEF OF STAFF | CHIEF OF STAFF
| OFFICE OF THE CHIEF OPERATING OFFICER | CHIEF OPERATING OFFICER
LEGISLATIVE ARCHIVES, PRESIDENTIAL LIBRARIES AND MUSEUM SERVICES | OFFICE OF PRESIDENTIAL LIBRARIES | DIRECTOR, OFFICE OF PRESIDENTIAL LIBRARIES
NATIONAL ARCHIVES AND RECORDS ADMINISTRATION | ARCHIVIST OF UNITED STATES AND DEPUTY ARCHIVIST OF THE UNITED STATES | CHIEF EQUITY OFFICER
|  | DEPUTY ARCHIVIST OF THE UNITED STATES
OFFICE OF THE CHIEF OF MANAGEMENT AND ADMINISTRATION | BUSINESS SUPPORT SERVICES | BUSINESS SUPPORT SERVICES EXECUTIVE
| INFORMATION SERVICES | CHIEF TECHNOLOGY OFFICER
|  | DEPUTY CHIEF INFORMATION OFFICER
|  | INFORMATION SERVICES EXECUTIVE/CHIEF INFORMATION OFFICER
| OFFICE OF HUMAN CAPITAL | CHIEF HUMAN CAPITAL OFFICER
| OFFICE OF THE CHIEF ACQUISITION OFFICER | CHIEF ACQUISITION OFFICER
| OFFICE OF THE CHIEF FINANCIAL OFFICER | CHIEF FINANCIAL OFFICER
OFFICE OF THE CHIEF OPERATING OFFICER | AGENCY SERVICES | CHIEF RECORDS OFFICER
|  | AGENCY SERVICES EXECUTIVE
|  | DIRECTOR, NATIONAL PERSONNEL RECORDS CENTER
|  | DIRECTOR, INFORMATION SECURITY OVERSIGHT OFFICE
|  | DIRECTOR, RECORDS CENTER PROGRAMS
|  | DIRECTOR, NATIONAL DECLASSIFICATION CENTER
|  | DIRECTOR, OFFICE OF GOVERNMENT INFORMATION SERVICES
| LEGISLATIVE ARCHIVES, PRESIDENTIAL LIBRARIES AND MUSEUM SERVICES | LEGISLATIVE ARCHIVES, PRESIDENTIAL LIBRARIES AND MUSEUM SERVICES EXECUTIVE
| OFFICE OF THE FEDERAL REGISTER | DIRECTOR OF THE FEDERAL REGISTER
| RESEARCH SERVICES | RESEARCH SERVICES EXECUTIVE
|  | DEPUTY EXECUTIVE FOR ARCHIVAL OPERATIONS
NATIONAL ARCHIVES AND RECORDS ADMINISTRATION OFFICE OF THE INSPECTOR GENERAL | NATIONAL ARCHIVES AND RECORDS ADMINISTRATION OFFICE OF THE INSPECTOR GENERAL | INSPECTOR GENERAL
|  | ASSISTANT INSPECTOR GENERAL FOR AUDITING
|  | ASSISTANT INSPECTOR GENERAL FOR INVESTIGATIONS
NATIONAL CAPITAL PLANNING COMMISSION | NATIONAL CAPITAL PLANNING COMMISSION STAFF | EXECUTIVE DIRECTOR
NATIONAL ENDOWMENT FOR THE ARTS | NATIONAL ENDOWMENT FOR THE ARTS | DIRECTOR , RESEARCH AND ANALYSIS
|  | DEPUTY CHAIRMAN FOR MANAGEMENT AND BUDGET
|  | CHIEF INFORMATION OFFICER
NATIONAL ENDOWMENT FOR THE ARTS OFFICE OF THE INSPECTOR GENERAL | NATIONAL ENDOWMENT FOR THE ARTS OFFICE OF THE INSPECTOR GENERAL | INSPECTOR GENERAL
NATIONAL ENDOWMENT FOR THE HUMANITIES | NATIONAL ENDOWMENT FOR THE HUMANITIES | ASSISTANT CHAIRMAN FOR PLANNING AND OPERATIONS
NATIONAL LABOR RELATIONS BOARD | NATIONAL LABOR RELATIONS BOARD | DEPUTY ASSOCIATE GENERAL COUNSEL, DIVISION OF ENFORCEMENT LITIGATION
DIVISION OF OPERATIONS MANAGEMENT | REGIONAL OFFICES | REGIONAL DIRECTOR, REGION 27, DENVER, COLORADO
|  | REGIONAL DIRECTOR REGION 2, NEW YORK
|  | REGIONAL DIRECTOR, REGION 3, BUFFALO, NEW YORK
|  | REGIONAL DIRECTOR, REGION 4, PHILADELPHIA, PENNSYLVANIA
|  | REGIONAL DIRECTOR, REGION 5, BALTIMORE, MARYLAND
|  | REGIONAL DIRECTOR, REGION 6, PITTSBURGH, PENNSYLVANIA
|  | REGIONAL DIRECTOR, REGION 7, DETROIT, MICHIGAN
|  | REGIONAL DIRECTOR, REGION 8, CLEVELAND, OHIO
|  | REGIONAL DIRECTOR, REGION 9, CINCINNATI, OHIO
|  | REGIONAL DIRECTOR, REGION 10, ATLANTA, GEORGIA
|  | REGIONAL DIRECTOR, REGION 11, WINSTON SALEM, NORTH CAROLINA
|  | REGIONAL DIRECTOR, REGION 13, CHICAGO, ILLINOIS
|  | REGIONAL DIRECTOR, REGION 14, SAINT LOUIS, MISSOURI
|  | REGIONAL DIRECTOR, REGION 15, NEW ORLEANS, LOUISIANA
|  | REGIONAL DIRECTOR, REGION 16, FORT WORTH, TEXAS
|  | REGIONAL DIRECTOR, REGION 17, KANSAS CITY, KANSAS
|  | REGIONAL DIRECTOR, REGION 18, MINNEAPOLIS, MINNESOTA
|  | REGIONAL DIRECTOR, REGION 19, SEATTLE, WASHINGTON
|  | REGIONAL DIRECTOR, REGION 20, SAN FRANCISCO, CALIFORNIA
|  | REGIONAL DIRECTOR, REGION 21, LOS ANGELES, CALIFORNIA
|  | REGIONAL DIRECTOR, REGION 22, NEWARK, NEW JERSEY
|  | REGIONAL DIRECTOR, REGION 24, HATO REY, PUERTO RICO
|  | REGIONAL DIRECTOR, REGION 25, INDIANAPOLIS, INDIANA
|  | REGIONAL DIRECTOR, REGION 26, MEMPHIS, TENNESSEE
|  | REGIONAL DIRECTOR, REGION 1, BOSTON, MASSACHUSETTS
|  | REGIONAL DIRECTOR, REGION 28, PHOENIX, ARIZONA
|  | REGIONAL DIRECTOR, REGION 29, BROOKLYN, NEW YORK
|  | REGIONAL DIRECTOR, REGION 30, MILWAUKEE, WISCONSIN
|  | REGIONAL DIRECTOR, REGION 32, OAKLAND, CALFORNIA
|  | REGIONAL DIRECTOR, REGION 31, LOS ANGELES, CALIFORNIA
NATIONAL LABOR RELATIONS BOARD | OFFICE OF THE BOARD MEMBERS | CHIEF INFORMATION OFFICER
|  | DEPUTY CHIEF COUNSEL
|  | INSPECTOR GENERAL
|  | REGIONAL DIRECTOR, REGION 12, TAMPA, FLORIDA
|  | EXECUTIVE SECRETARY
|  | DEPUTY EXECUTIVE SECRETARY
| OFFICE OF THE GENERAL COUNSEL | ASSOCIATE GENERAL COUNSEL (DAEO)
OFFICE OF THE GENERAL COUNSEL | DIVISION OF ADMINISTRATION | DIRECTOR, DIVISION OF ADMINISTRATION
|  | DIRECTOR OF ADMINISTRATION
| DIVISION OF ADVICE | DEPUTY ASSOCIATE GENERAL COUNSEL, DIVISION OF ADVICE
|  | ASSOCIATE GENERAL COUNSEL, DIVISION OF LEGAL COUNSEL
| DIVISION OF ENFORCEMENT LITIGATION | DIRECTOR, OFFICE OF APPEALS
|  | DEPUTY ASSOCIATE GENERAL COUNSEL, APPELLATE COURT BRANCH
| DIVISION OF OPERATIONS MANAGEMENT | ASSISTANT TO GENERAL COUNSEL (2)
|  | ASSISTANT GENERAL COUNSEL (2)
|  | DEPUTY ASSOCIATE GENERAL COUNSEL, DIVISION OF OPERATIONS-MANAGEMENT
|  | ASSOCIATE GENERAL COUNSEL, DIVISION OF OPERATION-MANAGEMENT
DEPARTMENT OF TREASURY OFFICE OF THE SPECIAL INSPECTOR GENERAL FOR PANDEMIC RECOVERY | DEPARTMENT OF TREASURY OFFICE OF THE SPECIAL INSPECTOR GENERAL FOR PANDEMIC RECOVERY | ASSISTANT INSPECTOR GENERAL FOR INVESTIGATIONS
NATIONAL SCIENCE FOUNDATION
DIRECTORATE FOR ENGINEERING | DIVISION OF ENGINEERING EDUCATION AND CENTERS | DEPUTY DIVISION DIRECTOR
DIRECTORATE FOR GEOSCIENCES | DIVISION OF ATMOSPHERIC AND GEOSPACE SCIENCES | SECTION HEAD NCAR/FACILITIES SECTION
| DIVISION OF EARTH SCIENCES | SECTION HEAD, INTEGRATED ACTIVITIES SECTION
| DIVISION OF OCEAN SCIENCES | SECTION HEAD, INTERGRATIVE PROGRAMS SECTION
| OFFICE OF POLAR PROGRAMS | HEAD, SECTION FOR ANTARCTIC INFRASTRUCTURE AND LOGISTIC
DIRECTORATE FOR MATHEMATICAL AND PHYSICAL SCIENCES | DIVISION OF ASTRONOMICAL SCIENCES | DEPUTY DIVISION DIRECTOR
DIRECTORATE FOR SOCIAL, BEHAVIORAL AND ECONOMIC SCIENCES | NATIONAL CENTER FOR SCIENCE AND ENGINEERING STATISTICS | DIVISION DIRECTOR
|  | CHIEF STATISTICIAN
NATIONAL SCIENCE FOUNDATION | DIRECTORATE FOR BIOLOGICAL SCIENCES | DEPUTY ASSISTANT DIRECTOR
| DIRECTORATE FOR COMPUTER AND INFORMATION SCIENCE AND ENGINEERING | DEPUTY ASSISTANT DIRECTOR
| DIRECTORATE FOR GEOSCIENCES | DEPUTY ASSISTANT DIRECTOR
| DIRECTORATE FOR MATHEMATICAL AND PHYSICAL SCIENCES | DEPUTY ASSISTANT DIRECTOR
| DIRECTORATE FOR SOCIAL, BEHAVIORAL AND ECONOMIC SCIENCES | DEPUTY ASSISTANT DIRECTOR
| DIRECTORATE FOR TECHNOLOGY, INNOVATION, AND PARTNERSHIPS | DEPUTY ASSISTANT DIRECTOR
| OFFICE OF BUDGET, FINANCE AND AWARD MANAGEMENT | CHIEF FINANCIAL OFFICER AND HEAD, OFFICE OF BUDGET, FINANCE AND AWARD MANAGEMENT
|  | DEPUTY OFFICE HEAD
| OFFICE OF INFORMATION AND RESOURCE MANAGEMENT | DEPUTY OFFICE HEAD
|  | HEAD, OFFICE OF INFORMATION AND RESOURCE MANAGEMENT AND CHIEF HUMAN CAPITAL OFFICER
OFFICE OF BUDGET, FINANCE AND AWARD MANAGEMENT | BUDGET DIVISION | DEPUTY DIRECTOR
|  | DIVISION DIRECTOR
| DIVISION OF ACQUISITION AND COOPERATIVE SUPPORT | DIVISION DIRECTOR
|  | DEPUTY DIVISION DIRECTOR
| DIVISION OF FINANCIAL MANAGEMENT | DEPUTY CHIEF FINANCIAL OFFICER AND DIVISION DIRECTOR
|  | CONTROLLER AND DEPUTY DIVISION DIRECTOR
| DIVISION OF GRANTS AND AGREEMENTS | DIVISION DIRECTOR
|  | DEPUTY DIVISION DIRECTOR
| DIVISION OF INSTITUTIONAL AND AWARD SUPPORT | DEPUTY DIVISION DIRECTOR
|  | DIVISION DIRECTOR
OFFICE OF INFORMATION AND RESOURCE MANAGEMENT | DIVISION OF ADMINISTRATIVE SERVICES | DIVISION DIRECTOR
|  | DEPUTY DIVISION DIRECTOR
| DIVISION OF HUMAN RESOURCE MANAGEMENT | DEPUTY DIVISION DIRECTOR
|  | DIVISION DIRECTOR
| DIVISION OF INFORMATION SYSTEMS | DEPUTY DIVISION DIRECTOR
OFFICE OF THE DIRECTOR | OFFICE OF EQUITY AND CIVIL RIGHTS | OFFICE HEAD
|  | DEPUTY OFFICE HEAD
| OFFICE OF INTEGRATIVE ACTIVITIES | CHIEF EVALUATION OFFICER AND SECTION HEAD FOR EVALUATION AND ASSESSMENT CAPABILITY (EAC)
| OFFICE OF THE GENERAL COUNSEL | DEPUTY GENERAL COUNSEL
|  | DESIGNATED AGENCY ETHICS OFFICIAL
NATIONAL SCIENCE FOUNDATION OFFICE OF THE INSPECTOR GENERAL | NATIONAL SCIENCE FOUNDATION OFFICE OF THE INSPECTOR GENERAL | ASSISTANT INSPECTOR GENERAL FOR AUDIT
|  | ASSISTANT INSPECTOR GENERAL FOR INVESTIGATIONS
|  | ASSISTANT INSPECTOR GENERAL FOR MANAGEMENT/CIO OF OFFICE OF THE INSPECTOR GENERAL
|  | INSPECTOR GENERAL
|  | DEPUTY INSPECTOR GENERAL AND COUNSEL TO THE INSPECTOR GENERAL
NATIONAL TRANSPORTATION SAFETY BOARD
OFFICE OF BOARD MEMBERS | OFFICE OF CHIEF FINANCIAL OFFICER | CHIEF FINANCIAL OFFICER
| OFFICE OF SAFETY RECOMMENDATIONS AND COMMUNICATIONS | DEPUTY DIRECTOR, OFFICE OF SAFETY RECOMMENDATIONS AND COMMUNICATIONS
| OFFICE OF THE MANAGING DIRECTOR | DEPUTY MANAGING DIRECTOR (2)
|  | SENIOR ADVISOR FOR POLICY AND STRATEGIC INITIATIVES
|  | PRINCIPAL DEPUTY MANAGING DIRECTOR FOR MANAGEMENT AND OPERATIONS
|  | DEPUTY MANAGING DIRECTOR FOR INVESTIGATIONS
OFFICE OF THE MANAGING DIRECTOR | OFFICE OF ADMINISTRATION | DIRECTOR, OFFICE OF ADMINISTRATION
| OFFICE OF AVIATION SAFETY | DIRECTOR OFFICE OF AVIATION SAFETY
|  | DEPUTY DIRECTOR, OFFICE OF AVIATION SAFETY
|  | DEPUTY DIRECTOR, REGIONAL OPERATIONS
| OFFICE OF CHIEF INFORMATION OFFICER | CHIEF INFORMATION OFFICER
| OFFICE OF HIGHWAY SAFETY | DIRECTOR, OFFICE OF HIGHWAY SAFETY
| OFFICE OF MARINE SAFETY | DIRECTOR, OFFICE OF MARINE SAFETY
| OFFICE OF RAILROAD, PIPELINE AND HAZARDOUS MATERIALS INVESTIGATIONS | DEPUTY DIRECTOR, OFFICE OF RAILROAD, PIPELINE AND HAZARDOUS MATERIALS INVESTIGATIONS
|  | DIRECTOR, OFFICE OF RAILROAD, PIPELINE AND HAZARDOUS MATERIALS INVESTIGATIONS
| OFFICE OF RESEARCH AND ENGINEERING | DIRECTOR OFFICE OF RESEARCH AND ENGINEERING
|  | DEPUTY DIRECTOR OFFICE OF RESEARCH AND ENGINEERING
NUCLEAR REGULATORY COMMISSION | OFFICE OF ADMINISTRATION | DIRECTOR, ACQUISITION MANAGEMENT DIVISION
|  | DIRECTOR, DIVISION OF FACILITIES AND SECURITY
|  | DEPUTY DIRECTOR, OFFICE OF ADMINISTRATION
| OFFICE OF COMMISSION APPELLATE ADJUDICATION | DIRECTOR, OFFICE OF COMMISSION APPELLATE ADJUDICATION
| OFFICE OF NUCLEAR MATERIAL SAFETY AND SAFEGUARDS | DIRECTOR, DIVISION OF RULEMAKING, ENVIRONMENTAL, AND FINANCIAL SUPPORT
|  | DEPUTY DIRECTOR, DIVISION OF RULEMAKING, ENVIRONMENTAL, AND FINANCIAL SUPPORT
|  | DEPUTY DIRECTOR, DIVISION OF FUEL MANAGEMENT
|  | DEPUTY DIRECTOR, DIVISION OF RULEMAKING, ENVIRONMENTAL, AND FINANCIAL SUPPORT
|  | DEPUTY DIRECTOR, DIVISION OF FUEL MANAGEMENT
|  | DIRECTOR, DIVISION OF MATERIALS SAFETY, STATE, TRIBAL, AND RULEMAKING PROGRAMS
|  | DEPUTY DIRECTOR, DIVISION OF MATERIALS SAFETY, STATE, TRIBAL, AND RULEMAKING PROGRAMS
|  | DIRECTOR, DIVISION OF DECOMMISSIONING, URANIUM RECOVERY, AND WASTE PROGRAMS
|  | DEPUTY DIRECTOR, DIVISION OF DECOMMISSIONING, URANIUM RECOVERY, AND WASTE PROGRAMS
| OFFICE OF NUCLEAR REACTOR REGULATION | DIRECTOR, DIVISION OF ENGINEERING AND EXTERNAL HAZARDS
|  | DIRECTOR, DIVISION OF RISK ASSESSMENT
|  | DIRECTOR, DIVISION OF NEW AND RENEWED LICENSE
|  | DEPUTY OFFICE DIRECTOR FOR NEW REACTORS
|  | DIRECTOR, DIVISION OF OPERATING REACTOR LICENSING
|  | DEPUTY DIRECTOR, DIVISION OF OPERATING REACTOR LICENSING (2)
|  | DIRECTOR, DIVISION OF REACTOR OVERSIGHT
|  | DIRECTOR, DIVISION OF SAFETY SYSTEMS
|  | DEPUTY DIRECTOR, DIVISION OF SAFETY SYSTEMS
|  | DEPUTY DIRECTOR, DIVISION OF ENGINEERING AND EXTERNAL HAZARDS
|  | DEPUTY OFFICE DIRECTOR FOR ENGINEERING
|  | DEPUTY DIRECTOR, DIVISION OF REACTOR OVERSIGHT
|  | DEPUTY DIRECTOR, DIVISION OF RISK ASSESSMENT
|  | DEPUTY OFFICE DIRECTOR FOR REACTOR SAFETY PROGRAMS AND MISSION SUPPORT
|  | DEPUTY DIRECTOR, DIVISION OF ADVANCED REACTORS AND NON-POWER PRODUCTION AND UTILIZATION FACILITIES (2)
|  | DIRECTOR, DIVISION OF ADVANCED REACTORS AND NON-POWER PRODUCTION AND UTILIZATION FACILITIES
|  | DEPUTY DIRECTOR, DIVISION OF NEW AND RENEWED LICENSES
|  | DIRECTOR, VOGTLE 3 AND 4 PROJECT OFFICE
| OFFICE OF NUCLEAR REGULATORY RESEARCH | DEPUTY DIRECTOR, DIVISION OF ENGINEERING
|  | DIRECTOR, DIVISION OF ENGINEERING
|  | DIRECTOR, DIVISION OF SYSTEMS ANALYSIS
|  | DEPUTY DIRECTOR, DIVISION OF SYSTEMS ANALYSIS
|  | DIRECTOR, DIVISION OF RISK ANALYSIS
|  | DEPUTY DIRECTOR, DIVISION OF RISK ANALYSIS
| OFFICE OF NUCLEAR SECURITY AND INCIDENT RESPONSE | DEPUTY DIRECTOR, DIVISION OF SECURITY OPERATIONS
|  | DEPUTY DIRECTOR, OFFICE OF NUCLEAR SECURITY AND INCIDENT RESPONSE
|  | DIRECTOR, DIVISION OF PREPAREDNESS AND RESPONSE
|  | DEPUTY DIRECTOR, DIVISION OF PREPAREDNESS AND RESPONSE
|  | DIRECTOR, DIVISION OF SECURITY OPERATIONS
|  | DEPUTY DIRECTOR, DIVISION OF PHYSICAL AND CYBER SECURITY POLICY
|  | DIRECTOR, DIVISION OF PHYSICAL AND CYBER SECURITY POLICY
| OFFICE OF SMALL BUSINESS AND CIVIL RIGHTS | DIRECTOR, OFFICE OF SMALL BUSINESS AND CIVIL RIGHTS
| OFFICE OF THE CHIEF FINANCIAL OFFICER | COMPTROLLER
|  | DEPUTY CHIEF FINANICAL OFFICER
|  | BUDGET DIRECTOR
| OFFICE OF THE CHIEF INFORMATION OFFICER | DIRECTOR, GOVERNANCE AND ENTERPRISE MANAGEMENT SERVICES DIVISION
|  | DIRECTOR, INFORMATION TECHNOLOGY SERVICES DEVELOPMENT AND OPERATIONS DIVISION
| REGION I | DEPUTY REGIONAL ADMINISTRATOR
|  | DIRECTOR, DIVISION OF NUCLEAR MATERIALS SAFETY
|  | DEPUTY DIRECTOR, DIVISION OF REACTOR SAFETY
|  | DIRECTOR DIVISION OF REACTOR SAFETY
|  | DIRECTOR, DIVISION OF OPERATING REACTOR SAFETY
|  | DEPUTY DIRECTOR, DIVISION OF OPERATING REACTOR SAFETY
|  | DIRECTOR, DIVISION OF RADIOLOGICAL SAFETY AND SECURITY
|  | DIRECTOR, DIVISION OF RADIOLOGICAL SAFETY AND SECURITY
|  | DEPUTY DIRECTOR, DIVISION OF RADIOLOGICAL SAFETY AND SECURITY
| REGION II | DEPUTY REGIONAL ADMINISTRATOR
|  | DIRECTOR, DIVISION OF CONSTRUCTION OVERSIGHT
|  | DEPUTY DIRECTOR, DIVISION OF REACTOR SAFETY
|  | DIRECTOR, DIVISION OF REACTOR SAFETY
|  | DEPUTY DIRECTOR, DIVISION OF REACTOR PROJECTS
|  | DIRECTOR, DIVISION OF REACTOR PROJECTS
| REGION III | DEPUTY REGIONAL ADMINISTRATOR
|  | DIRECTOR, DIVISION OF OPERATING REACTOR SAFETY
|  | DIRECTOR, DIVISION OF RADIOLOGICAL SAFETY AND SECURITY
|  | DEPUTY DIRECTOR, DIVISION OF OPERATING REACTOR SAFETY
|  | DEPUTY DIRECTOR, DIVISION OF REACTOR SAFETY
|  | DIRECTOR, DIVISION OF NUCLEAR MATERIALS SAFETY
|  | DEPUTY DIRECTOR, DIVISION OF RADIOLOGICAL SAFETY AND SECURITY
| REGION IV | DIRECTOR, DIVISION OF NUCLEAR MATERIALS SAFETY
|  | DIRECTOR, DIVISION OF OPERATING REACTOR SAFETY
|  | DEPUTY DIRECTOR, DIVISION OF OPERATING REACTOR SAFETY
|  | DIRECTOR, DIVISION OF RADIOLOGICAL SAFETY AND SECURITY
|  | DEPUTY DIRECTOR, DIVISION OF RADIOLOGICAL SAFETY AND SECURITY
|  | DEPUTY DIRECTOR, DIVISION OF REACTOR SAFETY
|  | DIRECTOR, DIVISION OF REACTOR SAFETY
|  | DIRECTOR DIVISION OF REACTOR PROJECTS
|  | ASSISTANT TO THE REGIONAL ADMINISTRATOR
|  | DEPUTY REGIONAL ADMINISTRATOR
|  | DEPUTY DIRECTOR, DIVISION OF REACTOR PROJECTS
NUCLEAR REGULATORY COMMISSION OFFICE OF THE INSPECTOR GENERAL | NUCLEAR REGULATORY COMMISSION OFFICE OF THE INSPECTOR GENERAL | DEPUTY INSPECTOR GENERAL
| ASSISTANT INSPECTOR GENERAL FOR AUDITS | ASSISTANT INSPECTOR GENERAL FOR AUDITS
| ASSISTANT INSPECTOR GENERAL FOR INVESTIGATIONS | ASSISTANT INSPECTOR GENERAL FOR INVESTIGATIONS
OCCUPATIONAL SAFETY AND HEALTH REVIEW COMMISSION | OFFICE OF THE EXECUTIVE DIRECTOR | EXECUTIVE DIRECTOR
OFFICE OF GOVERNMENT ETHICS | OFFICE OF GOVERNMENT ETHICS | DEPUTY DIRECTOR FOR COMPLIANCE
|  | DEPUTY GENERAL COUNSEL
|  | CHIEF OF STAFF AND PROGRAM COUNSEL
OFFICE OF MANAGEMENT AND BUDGET
GENERAL GOVERNMENT PROGRAMS | HOUSING, TREASURY AND COMMERCE DIVISION | CHIEF, HOUSING BRANCH
|  | CHIEF, COMMERCE BRANCH
|  | DEPUTY ASSOCIATE DIRECTOR FOR HOUSING, TREASURY AND COMMERCE
|  | CHIEF, TREASURY BRANCH
| TRANSPORTATION, HOMELAND, JUSTICE AND SERVICES DIVISION | CHIEF TRANSPORTATION BRANCH
|  | CHIEF, TRANSPORTATION/GENERAL SERVICES ADMINISTRATION BRANCH
|  | DEPUTY ASSOCIATE DIRECTOR, TRANSPORTATION, HOMELAND, JUSTICE AND SERVICES
|  | CHIEF, JUSTICE BRANCH
|  | CHIEF, HOMELAND SECURITY BRANCH
HUMAN RESOURCE PROGRAMS | HEALTH DIVISION | DEPUTY ASSOCIATE DIRECTOR FOR HEALTH
|  | CHIEF, MEDICAID BRANCH (2)
|  | CHIEF, HEALTH AND HUMAN SERVICES BRANCH
|  | CHIEF, PUBLIC HEALTH BRANCH
|  | CHIEF, HEALTH INSURANCE AND DATA ANALYSIS BRANCH
NATIONAL SECURITY PROGRAMS | INTERNATIONAL AFFAIRS DIVISION | DEPUTY ASSOCIATE DIRECTOR FOR INTERNATIONAL AFFAIRS
|  | CHIEF, ECONOMIC AFFAIRS BRANCH
|  | CHIEF, STATE/UNITED STATES INFORMATION AGENCY BRANCH
| NATIONAL SECURITY DIVISION | CHIEF, INTELLIGENCE PROGRAMS BRANCH
|  | CHIEF, FORCE STRUCTURE AND INVESTMENT BRANCH
|  | DEPUTY ASSOCIATE DIRECTOR FOR NATIONAL SECURITY
|  | CHIEF, VETERANS AFFAIRS AND DEFENSE HEALTH BRANCH
|  | CHIEF, DEFENSE OPERATIONS, PERSONNEL, AND SUPPORT
NATURAL RESOURCE PROGRAMS | ENERGY, SCIENCE AND WATER DIVISION | CHIEF, ENERGY BRANCH
|  | CHIEF SCIENCE AND SPACE PROGRAMS BRANCH
|  | CHIEF, WATER AND POWER BRANCH
|  | DEPUTY ASSOCIATE DIRECTOR FOR ENERGY, SCIENCE, AND WATER DIVISION
| NATURAL RESOURCES DIVISION | DEPUTY ASSOCIATE DIRECTOR FOR NATURAL RESOURCES
|  | CHIEF, AGRICULTURE BRANCH
|  | CHIEF INTERIOR BRANCH
|  | CHIEF, ENVIRONMENT BRANCH
OFFICE OF INFORMATION AND REGULATORY AFFAIRS | OFFICE OF E-GOVERNMENT AND INFORMATION TECHNOLOGY | DEPUTY FEDERAL CHIEF INFORMATION OFFICER
OFFICE OF MANAGEMENT AND BUDGET | OFFICE OF THE DIRECTOR | EXECUTIVE SECRETARY
|  | SENIOR ADVISOR (2)
|  | SENIOR ADVISOR TO THE DIRECTOR
| STAFF OFFICES | ASSISTANT DIRECTOR FOR MANAGEMENT AND OPERATIONS
|  | DEPUTY ASSISTANT DIRECTOR FOR MANAGEMENT
|  | DEPUTY ASSOCIATE DIRECTOR FOR ECONOMIC POLICY
OFFICE OF THE DIRECTOR | BUDGET REVIEW | CHIEF, BUDGET SYSTEMS BRANCH
|  | ASSISTANT DIRECTOR FOR BUDGET REVIEW
|  | CHIEF, BUDGET CONCEPTS BRANCH
|  | DEPUTY CHIEF BUDGET ANALYSIS BRANCH
|  | CHIEF BUDGET ANALYSIS BRANCH
|  | DEPUTY ASSISTANT DIRECTOR FOR BUDGET REVIEW
|  | CHIEF, BUDGET REVIEW BRANCH
|  | DEPUTY CHIEF, BUDGET REVIEW BRANCH
| EDUCATION, INCOME MAINTENANCE AND LABOR PROGRAMS | DEPUTY ASSOCIATE DIRECTOR FOR EDUCATION, INCOME MAINTAINENCE AND LABOR
|  | CHIEF, LABOR BRANCH
|  | CHIEF, INCOME MAINTENANCE BRANCH
|  | CHIEF, EDUCATION BRANCH
| GENERAL COUNSEL | ATTORNEY-ADVISOR
| LEGISLATIVE REFERENCE DIVISION | CHIEF, HEALTH, EDUCATION, VETERANS, AND SOCIAL PROGRAMS BRANCH
|  | CHIEF, RESOURCES-DEFENSE-INTERNATIONAL BRANCH
|  | CHIEF, ECONOMICS, SCIENCE AND GOVERNMENT BRANCH
|  | ASSISTANT DIRECTOR LEGISLATIVE REFERENCE
| OFFICE OF FEDERAL FINANCIAL MANAGEMENT | DEPUTY CONTROLLER
|  | CHIEF, MANAGEMENT CONTROLS AND ASSISTANCE BRANCH
|  | CHIEF, FINANCIAL INTEGRITY AND RISK MANAGEMENT BRANCH
| OFFICE OF FEDERAL PROCUREMENT POLICY | ASSOCIATE ADMINISTRATOR
|  | DEPUTY ADMINISTRATOR FOR FEDERAL PROCUREMENT POLICY
| OFFICE OF INFORMATION AND REGULATORY AFFAIRS | CHIEF, INFORMATION POLICY BRANCH
|  | CHIEF STATISTICAL AND SCIENCE POLICY BRANCH
|  | CHIEF, NATURAL RESOURCES AND ENVIRONMENT BRANCH
|  | CHIEF, FOOD, HEALTH AND LABOR BRANCH
|  | CHIEF, PRIVACY BRANCH
|  | DEPUTY ADMINISTRATOR, OFFICE OF INFORMATION AND REGULATORY AFFAIRS
|  | CHIEF, TRANSPORTATION AND SECURITY BRANCH
OFFICE OF NATIONAL DRUG CONTROL POLICY | OFFICE OF INTELLIGENCE | ASSISTANT DIRECTOR FOR INTELLIGENCE
| OFFICE OF OPERATIONS | ASSISTANT DIRECTOR FOR THE OFFICE OF OPERATIONS
| OFFICE OF PERFORMANCE AND BUDGET | ASSISTANT DIRECTOR FOR OFFICE OF PERFORMANCE AND BUDGET
OFFICE OF PERSONNEL MANAGEMENT | FACILITIES, SECURITY AND EMERGENCY MANAGEMENT | DIRECTOR, FACILITIES, SECURITY AND EMERGENCY MANAGEMENT
| HEALTHCARE AND INSURANCE | DEPUTY ASSOCIATE DIRECTOR, ACTUARY
|  | DEPUTY ASSOCIATE DIRECTOR, POSTAL SERVICE INSURANCE OPERATIONS
|  | DEPUTY ASSOCIATE DIRECTOR, FEDERAL EMPLOYEE INSURANCE OPERATIONS
| MERIT SYSTEM ACCOUNTABILITY AND COMPLIANCE | PRINCIPAL DEPUTY ASSOCIATE DIRECTOR
| OFFICE OF PROCUREMENT OPERATIONS | DEPUTY DIRECTOR, OFFICE OF PROCUREMENT OPERATIONS
|  | DIRECTOR, OFFICE OF PROCUREMENT OPERATIONS
| OFFICE OF THE CHIEF INFORMATION OFFICER | CHIEF INFORMATION SECURITY OFFICER
| OFFICE OF THE CHIEF FINANCIAL OFFICER | DEPUTY CHIEF FINANCIAL OFFICER
|  | CHIEF FINANCIAL OFFICER
|  | ASSOCIATE CHIEF FINANCIAL OFFICER, FINANCIAL SERVICES
| OFFICE OF THE DIRECTOR | EXECUTIVE DIRECTOR, OFFICE OF THE EXECUTIVE SECRETARIAT AND PRIVACY AND INFORMATION MANAGEMENT
| RETIREMENT SERVICES | PRINCIPAL DEPUTY ASSOCIATE DIRECTOR RETIREMENT SERVICES
|  | DEPUTY ASSOCIATE DIRECTOR, OPERATIONS
|  | ASSOCIATE DIRECTOR OF RETIREMENT SERVICES
|  | DEPUTY ASSOCIATE DIRECTOR, OPERATIONS
OFFICE OF THE DIRECTOR | HUMAN CAPITAL DATA MANAGEMENT AND MODERNIZATION | DEPUTY DIRECTOR, HUMAN CAPITAL DATA MANAGEMENT AND MODERNIZATION AND CHIEF DATA OFFICER
OFFICE OF PERSONNEL MANAGEMENT OFFICE OF THE INSPECTOR GENERAL
OFFICE OF MANAGEMENT | OFFICE OF MANAGEMENT | ASSISTANT INSPECTOR GENERAL FOR MANAGEMENT
|  | DEPUTY ASSISTANT INSPECTOR GENERAL CHIEF INFORMATION OFFICER
|  | DEPUTY ASSISTANT INSPECTOR GENERAL FOR MANAGEMENT
OFFICE OF AUDITS | OFFICE OF AUDITS | DEPUTY ASSISTANT INSPECTOR GENERAL FOR AUDITS (2)
|  | ASSISTANT INSPECTOR GENERAL FOR AUDITS
OFFICE OF INVESTIGATIONS | OFFICE OF INVESTIGATIONS | ASSISTANT INSPECTOR GENERAL FOR INVESTIGATIONS
|  | DEPUTY ASSISTANT INSPECTOR GENERAL FOR INVESTIGATIONS
OFFICE OF LEGISLATIVE AND LEGAL AFFAIRS | OFFICE OF LEGISLATIVE AND LEGAL AFFAIRS | DEPUTY ASSISTANT INSPECTOR GENERAL FOR LEGAL AND LEGISLATIVE AFFAIRS
|  | ASSISTANT INSPECTOR GENERAL FOR LEGISLATIVE AND LEGAL AFFAIRS
OFFICE OF THE INSPECTOR GENERAL | OFFICE OF EVALUATIONS | ASSISTANT INSPECTOR GENERAL FOR EVALUATIONS
| OFFICE OF THE INSPECTOR GENERAL | DEPUTY INSPECTOR GENERAL
OFFICE OF SCIENCE AND TECHNOLOGY POLICY | OFFICE OF SCIENCE AND TECHNOLOGY POLICY | DEPUTY GENERAL COUNSEL AND CHIEF OPERATING OFFICER
OFFICE OF SPECIAL COUNSEL | HEADQUARTERS, OFFICE OF SPECIAL COUNSEL | CHIEF FINANCIAL OFFICER AND DIRECTOR OF ADMINISTRATIVE SERVICES
|  | DIRECTOR, OFFICE OF PLANNING AND ANALYSIS
|  | SENIOR ASSOCIATE SPECIAL COUNSEL FOR INVESTIGATION AND PROSECUTION
|  | ASSOCIATE SPECIAL COUNSEL FOR INVESTIGATION AND PROSECUTION (3)
|  | ASSOCIATE SPECIAL COUNSEL FOR LEGAL COUNSEL AND POLICY
|  | ASSOCIATE SPECIAL COUNSEL (GENERAL LAW)
|  | ASSOCIATE SPECIAL COUNSEL FOR GENERAL LAW DIVISION
|  | CHIEF OPERATING OFFICER
|  | ASSOCIATE SPECIAL COUNSEL FOR INVESTIGATION AND PROSECUTION (HEADQUARTERS)
|  | DIRECTOR OF MANAGEMENT AND BUDGET
| OFFICE OF SPECIAL COUNSEL | ASSOCIATE SPECIAL COUNSEL FOR INVESTIGATION AND PROSECUTION (FIELD OFFICES)
SURFACE TRANSPORTATION BOARD | SURFACE TRANSPORTATION BOARD | MANAGING DIRECTOR
|  | DIRECTOR OF PUBLIC ASST GOVERNMENT AFFAIRS AND COMPLIANCE
|  | DIRECTOR, OFFICE OF ECONOMICS
|  | GENERAL COUNSEL
|  | DIRECTOR, OFFICE OF PROCEEDINGS
|  | DIRECTOR OFFICE OF ENVIRONMENTAL ANALYSIS
OFFICE OF THE UNITED STATES TRADE REPRESENTATIVE | INDUSTRY, MARKET ACCESS AND TELECOMMUNICATIONS | ASSISTANT UNITED STATES TRADE REPRESENTATIVE FOR INDUSTRY, MARKET ACCESS AND TELECOMMUNICATIONS
| INNOVATION AND INTELLECTUAL PROPERTY | ASSISTANT US TRADE REPRESENTATIVE FOR INTELLECTUAL PROPERTY AND INNOVATION
| LABOR | ASSISTANT US TRADE REPRESENTATIVE FOR LABOR AFFAIRS
|  | ASSISTANT UNITED STATES TRADE REPRESENTATIVE FOR LABOR
| MONITORING AND ENFORCEMENT | DIRECTOR OF INTERAGENCY CENTER FOR TRADE IMPLEMENTATION, MONITORING, AND ENFORCEMENT
RAILROAD RETIREMENT BOARD | BOARD STAFF | DIRECTOR OF FISCAL OPERATIONS
|  | CHIEF OF TECHNOLOGY SERVICE
|  | CHIEF ACTUARY
|  | DIRECTOR OF FIELD SERVICE
|  | DIRECTOR OF ADMINISTRATION
|  | DEPUTY GENERAL COUNSEL
|  | GENERAL COUNSEL
|  | DIRECTOR OF PROGRAMS
|  | CHIEF INFORMATION OFFICER
|  | DIRECTOR OF OPERATIONS
|  | CHIEF FINANCIAL OFFICER
RAILROAD RETIREMENT BOARD OFFICE OF THE INSPECTOR GENERAL
OFFICE OF INSPECTOR GENERAL | OFFICE OF INSPECTOR GENERAL | ASSISTANT TO THE INSPECTOR GENERAL FOR AUDIT
|  | GENERAL COUNSEL—DEPUTY INSPECTOR GENERAL
|  | ASSISTANT TO THE INSPECTOR GENERAL FOR INVESTIGATIONS
SELECTIVE SERVICE SYSTEM | SELECTIVE SERVICE SYSTEM | ASSOCIATE DIRECTOR FOR OPERATIONS
| OFFICE OF THE DIRECTOR | ASSOCIATE DIRECTOR FOR OPERATIONS
|  | SENIOR ADVISOR TO THE DIRECTOR
SMALL BUSINESS ADMINISTRATION
OFFICE OF THE ADMINISTRATOR | OFFICE OF ENTREPRENEURIAL DEVELOPMENT | DEPUTY ASSOCIATE ADMINISTRATOR FOR ENTREPRENEURIAL DEVELOPMENT
| OFFICE OF EXECUTIVE MANAGEMENT, INSTILLATION, AND SUPPORT SERVICES | EXECUTIVE DIRECTOR
| OFFICE OF GOVERNMENT CONTRACTING AND BUSINESS DEVELOPMENT | DIRECTOR FOR POLICY PLANNING AND LIAISON
|  | DEPUTY ASSOCIATE ADMINISTRATOR FOR GOVERNMENT CONTRACTING AND BUSINESS DEVELOPMENT
|  | DIRECTOR OF HUBZONE EMPOWERMENT PROGRAM
| OFFICE OF HEARINGS AND APPEALS | ASSISTANT ADMINISTRATOR FOR HEARINGS AND APPEALS
| OFFICE OF HUMAN RESOURCES SOLUTIONS | CHIEF HUMAN CAPITAL OFFICER
|  | DEPUTY CHIEF HUMAN CAPITAL OFFICER
| OFFICE OF INTERNATIONAL TRADE | DEPUTY ASSOCIATE ADMINISTRATOR FOR INTERNATIONAL TRADE
| OFFICE OF INVESTMENT AND INNOVATION | DEPUTY ASSOCIATE ADMINISTRATOR FOR INVESTMENT AND INNOVATION
| OFFICE OF PERFORMANCE, PLANNING, AND THE CHIEF FINANCIAL OFFICER | DIRECTOR AND CHIEF ACQUISITION OFFICER
|  | DIRECTOR OF FINANCIAL, ACQUISITION, AND MANAGEMENT
|  | ASSOCIATE ADMINISTRATOR FOR PERFORMANCE, PLANNING AND CHIEF FINANCIAL OFFICER
|  | DEPUTY CHIEF FINANCIAL OFFICER
| OFFICE OF THE CHIEF INFORMATION OFFICER | CHIEF INFORMATION SECURITY OFFICER
|  | CHIEF INFORMATION OFFICER
|  | DEPUTY CHIEF INFORMATION OFFICER
| OFFICE OF THE GENERAL COUNSEL | ASSOCIATE GENERAL COUNSEL LITIGATION
|  | ASSOCIATE GENERAL COUNSEL FOR PROCUREMENT LAW
|  | ASSOCIATE GENERAL COUNSEL FOR FINANCIAL LAW AND LENDER OVERSIGHT
|  | ASSOCIATE GENERAL COUNSEL FOR GENERAL LAW
SMALL BUSINESS ADMINISTRATION OFFICE OF THE INSPECTOR GENERAL | SMALL BUSINESS ADMINISTRATION OFFICE OF THE INSPECTOR GENERAL | ASSISTANT INSPECTOR GENERAL FOR AUDITS
|  | ASSISTANT INSPECTOR GENERAL FOR INVESTIGATIONS
|  | COUNSEL TO THE INSPECTOR GENERAL
|  | DEPUTY INSPECTOR GENERAL
|  | ASSISTANT INSPECTOR GENERAL FOR MANAGEMENT AND OPERATIONS
|  | ASSISTANT INSPECTOR GENERAL FOR TECHNOLOGY SOLUTIONS
|  | SENIOR ADVISOR TO THE INSPECTOR GENERAL
SOCIAL SECURITY ADMINISTRATION
OFFICE OF ANALYTICS, REVIEW, AND OVERSIGHT | OFFICE OF APPELLATE OPERATIONS | DEPUTY EXECUTIVE DIRECTOR, OFFICE OF APPELLATE OPERATIONS
|  | EXECUTIVE DIRECTOR, OFFICE OF APPELLATE OPERATIONS
| OFFICE OF PROGRAM INTEGRITY | ASSOCIATE COMMISSIONER FOR PROGRAM INTEGRITY
OFFICE OF BUDGET, FINANCE, AND MANAGEMENT | OFFICE OF ACQUISITION AND GRANTS | DEPUTY ASSOCIATE COMMISSIONER FOR ACQUISITION AND GRANTS
|  | ASSOCIATE COMMISSIONER FOR ACQUISITION AND GRANTS
| OFFICE OF BUDGET | ASSOCIATE COMMISSIONER FOR BUDGET
|  | DEPUTY ASSOCIATE COMMISSIONER FOR BUDGET
| OFFICE OF FINANCIAL POLICY AND OPERATIONS | ASSOCIATE COMMISSIONER, OFFICE OF FINANCE POLICY AND OPERATIONS
|  | DEPUTY ASSOCIATE COMMISSIONER FINANCIAL POLICY AND OPERATIONS
| OFFICE OF SECURITY AND EMERGENCY PREPAREDNESS | ASSOCIATE COMMISSIONER FOR SECURITY AND EMERGENCY PREPAREDNESS
OFFICE OF HUMAN RESOURCES | OFFICE OF LABOR-MANAGEMENT AND EMPLOYEE RELATIONS | DEPUTY ASSOCIATE COMMISSIONER FOR LABOR-MANAGEMENT AND EMPLOYEE RELATIONS
|  | ASSOCIATE COMMISSIONER FOR LABOR-MANAGEMENT AND EMPLOYEE RELATIONS
| OFFICE OF PERSONNEL | ASSOCIATE COMMISSIONER FOR PERSONNEL
|  | DEPUTY ASSOCIATE COMMISSIONER FOR PERSONNEL
OFFICE OF OPERATIONS | OFFICE OF DISABILITY DETERMINATIONS | ASSOCIATE COMMISSIONER FOR DISABILITY DETERMINATIONS
|  | DEPUTY ASSOCIATE COMMISSIONER FOR DISABILITY DETERMINATIONS
OFFICE OF SYSTEMS | OFFICE OF INFORMATION SECURITY | ASSOCIATE COMMISSIONER FOR INFORMATION SECURITY
| OFFICE OF INFORMATION TECHNOLOGY FINANCIAL MANAGEMENT AND SUPPORT | DEPUTY ASSOCIATE COMMISSIONER FOR INFORMATION TECHNOLOGY FINANCIAL MANAGEMENT AND SUPPORT
|  | ASSOCIATE COMMISSIONER FOR INFORMATION TECHNOLOGY FINANCIAL MANAGEMENT AND SUPPORT
| OFFICE OF SYSTEMS OPERATIONS AND HARDWARE ENGINEERING | ASSOCIATE COMMISSIONER FOR SYSTEMS OPERATIONS AND HARDWARE ENGINEERING
|  | DEPUTY ASSOCIATE COMMISSIONER FOR SYSTEMS OPERATIONS AND HARDWARE ENGINEERING (OPERATIONS)
|  | DEPUTY ASSOCIATE COMMISSIONER FOR SYSTEMS OPERATIONS AND HARDWARE ENGINEERING (INFRASTRUCTURE)
|  | DEPUTY ASSOCIATE COMMISSIONER FOR SYSTEMS OPERATIONS AND HARDWARE ENGINEERING (END USER)
OFFICE OF THE GENERAL COUNSEL | OFFICE OF GENERAL LAW | ASSOCIATE GENERAL COUNSEL FOR GENERAL LAW (OFFICE 1)
|  | ASSOCIATE GENERAL COUNSEL FOR GENERAL LAW (OFFICE 2)
|  | ASSOCIATE GENERAL COUNSEL FOR GENERAL LAW (OFFICE 3)
|  | ASSOCIATE GENERAL COUNSEL FOR GENERAL LAW (OFFICE 4)
| OFFICE OF PRIVACY AND DISCLOSURE | EXECUTIVE DIRECTOR FOR PRIVACY AND DISCLOSURE
| OFFICE OF PROGRAM LAW | ASSOCIATE GENERAL COUNSEL FOR PROGRAM LAW
|  | DEPUTY ASSOCIATE COMMISSIONER FOR PROGRAM LAW
| OFFICE OF PROGRAM LITIGATION | ASSOCIATE GENERAL COUNSEL FOR PROGRAM LITIGATION (OFFICE 1)
|  | ASSOCIATE GENERAL COUNSEL FOR PROGRAM LITIGATION (OFFICE 2)
|  | ASSOCIATE GENERAL COUNSEL FOR PROGRAM LITIGATION (OFFICE 3)
|  | ASSOCIATE GENERAL COUNSEL FOR PROGRAM LITIGATION (OFFICE 4)
|  | ASSOCIATE GENERAL COUNSEL FOR PROGRAM LITIGATION (OFFICE 5)
|  | ASSOCIATE GENERAL COUNSEL FOR PROGRAM LITIGATION (OFFICE 6)
|  | ASSOCIATE GENERAL COUNSEL FOR PROGRAM LITIGATION (OFFICE 7)
SOCIAL SECURITY ADMINISTRATION | OFFICE OF ANALYTICS, REVIEW, AND OVERSIGHT | ASSISTANT DEPUTY COMMISSIONER FOR ANALYTICS, REVIEW, AND OVERSIGHT
|  | DEPUTY COMMISSIONER FOR ANALYTICS, REVIEW, AND OVERSIGHT
| OFFICE OF BUDGET, FINANCE, AND MANAGEMENT | ASSISTANT DEPUTY COMMISSIONER FOR BUDGET, FINANCE, AND MANAGEMENT
| OFFICE OF CIVIL RIGHTS AND EQUAL OPPORTUNITY | EEO DIRECTOR
|  | DEPUTY EEO DIRECTOR
| OFFICE OF HEARINGS OPERATIONS | ASSISTANT DEPUTY COMMISSIONER FOR HEARINGS OPERATIONS (MISSION SUPPORT)
|  | ASSISTANT DEPUTY COMMISISONER FOR HEARINGS OPERATIONS (MISSION OPERATIONS)
|  | DEPUTY COMMISSIONER FOR HEARINGS OPERATIONS
| OFFICE OF THE CHIEF ACTUARY | DEPUTY CHIEF ACTUARY
|  | CHIEF ACTUARY
| OFFICE OF THE GENERAL COUNSEL | GENERAL COUNSEL
|  | DEPUTY GENERAL COUNSEL (PROGRAM LAW)
|  | DEPUTY GENERAL COUNSEL (GENERAL LAW)
SOCIAL SECURITY ADMINISTRATION OFFICE OF THE INSPECTOR GENERAL | IMMEDIATE OFFICE OF THE INSPECTOR GENERAL | ASSISTANT INSPECTOR GENERAL FOR WORKFORCE PERFORMANCE AND DEVELOPMENT
|  | CHIEF OPERATING OFFICER
|  | DEPUTY INSPECTOR GENERAL
|  | SENIOR ADVISOR TO THE INSPECTOR GENERAL
| OFFICE OF AUDIT | DEPUTY ASSISTANT INSPECTOR GENERAL FOR AUDIT (FINANCIAL AND INFORMATION TECHNOLOGY SYSTEMS AND OPERATIONS AUDITS)
|  | ASSISTANT INSPECTOR GENERAL FOR AUDIT
|  | DEPUTY ASSISTANT INSPECTOR GENERAL FOR AUDIT (PROGRAM AUDITS AND EVALUATIONS
| OFFICE OF COUNSEL TO THE INSPECTOR GENERAL | CHIEF COUNSEL
| OFFICE OF INFORMATION TECHNOLOGY | ASSISTANT INSPECTOR GENERAL FOR INFORMATION TECHNOLOGY (CHIEF INFORMATION OFFICER)
|  | DEPUTY ASSISTANT INSPECTOR GENERAL FOR INFORMATION TECHNOLOGY
| OFFICE OF INVESTIGATIONS | DEPUTY ASSISTANT INSPECTOR GENERAL FOR INVESTIGATIONS (HEADQUARTERS OPERATIONS)
|  | DEPUTY ASSISTANT INSPECTOR GENERAL FOR INVESTIGATIONS (COOPERATIVE DISABILITY INVESTIGATIONS OPERATIONS)
|  | CHIEF INVESTIGATIVE COUNSEL
|  | DEPUTY ASSISTANT INSPECTOR GENERAL FOR INVESTIGATIONS (FIELD OPERATIONS)
|  | COUNSEL FOR INVESTIGATIONS AND ENFORCEMENT
|  | ASSISTANT INSPECTOR GENERAL FOR INVESTIGATIONS
| OFFICE OF RESOURCE MANAGEMENT | DEPUTY ASSISTANT INSPECTOR GENERAL FOR RESOURCE MANAGEMENT
|  | ASSISTANT INSPECTOR GENERAL ORM
| OFFICE OF THE CHIEF STRATEGY OFFICER | CHIEF STRATEGY OFFICER
|  | SPECIAL ADVISOR TO THE CHIEF STRATEGY OFFICER
DEPARTMENT OF STATE
OFFICE OF THE DEPUTY SECRETARY | OFFICE OF UNITED STATES FOREIGN ASSISTANCE | MANAGING DIRECTOR (2)
OFFICE OF THE SECRETARY | BUREAU OF INTELLIGENCE AND RESEARCH | OFFICE DIRECTOR
| OFFICE OF GLOBAL WOMENS ISSUES | SPECIAL ENVOY FOR AFGHANISTAN WOMEN, INCLUSION, AND MINORITIES
| OFFICE OF THE LEGAL ADVISER | DEPUTY ASSISTANT LEGAL ADVISER
| OFFICE OF THE UNITED STATES GLOBAL AIDS COORDINATOR | DEPUTY COORDINATOR
| OFFICE OF THE UNDER SECRETARY FOR MANAGEMENT | DEPUTY DIRECTOR
|  | OMBUDSMAN
|  | ASSOCIATE DEAN
| OFFICE OF THE UNDER SECRETARY FOR PUBLIC DIPLOMACY AND PUBLIC AFFAIRS | DIRECTOR, OFFICE OF POLICY PLANNING AND RESOURCES
|  | DEPUTY COORDINATOR FOR POLICY, PLANS, AND OPERATIONS
|  | PRINCIPAL DEPUTY COORDINATOR
OFFICE OF THE UNDER SECRETARY FOR ARMS CONTROL AND INTERNATIONAL SECURITY AFFAIRS | BUREAU OF ARMS CONTROL, VERIFICATION, AND COMPLIANCE | SENIOR ADVISOR (2)
|  | DIRECTOR, OFFICE OF STRATEGIC NEGOTIATIONS AND IMPLEMENTAITON
| BUREAU OF INTERNATIONAL SECURITY AND NONPROLIFERATION | OFFICE DIRECTOR (3)
|  | DEPUTY ASSISTANT SECRETARY
| BUREAU OF POLITICAL-MILITARY AFFAIRS | DEPUTY ASSISTANT SECRETARY
|  | OFFICE DIRECTOR
OFFICE OF THE UNDER SECRETARY FOR CIVILIAN SECURITY, DEMOCRACY, AND HUMAN RIGHTS | BUREAU OF DEMOCRACY, HUMAN RIGHTS AND LABOR | DEPUTY ASSISTANT SECRETARY
| BUREAU OF OCEANS AND INTERNATIONAL ENVIRONMENTAL AND SCIENTIFIC AFFAIRS | DEPUTY ASSISTANT SECRETARY
OFFICE OF THE UNDER SECRETARY FOR MANAGEMENT | BUREAU OF ADMINISTRATION | PROCUREMENT EXECUTIVE MANAGING DIRECTOR
|  | PROCUREMENT EXECUTIVE
| BUREAU OF GLOBAL TALENT MANAGEMENT | HUMAN RESOURCES OFFICER
|  | OFFICE DIRECTOR
| BUREAU OF INFORMATION RESOURCES MANAGEMENT | ENTERPRISE CHIEF INFORMATION SECURITY OFFICER
| BUREAU OF OVERSEAS BUILDINGS OPERATIONS | COMPTROLLER
| BUREAU OF THE COMPTROLLER AND GLOBAL FINANCIAL SERVICES | DIRECTOR
DEPARTMENT OF STATE OFFICE OF THE INSPECTOR GENERAL | DEPARTMENT OF STATE OFFICE OF THE INSPECTOR GENERAL | CHIEF OF STAFF
|  | DEPUTY ASSISTANT INSPECTOR GENERAL FOR EVALUATIONS AND SPECIAL PROJECTS
DEPARTMENT OF STATE OFFICE OF THE INSPECTOR GENERAL | OFFICE OF INSPECTOR GENERAL | ASSISTANT INSPECTOR GENERAL FOR INVESTIGATIONS
|  | GENERAL COUNSEL TO THE INSPECTOR GENERAL
|  | ASSISTANT INSPECTOR GENERAL FOR AUDITS
|  | DEPUTY ASSISTANT INSPECTOR GENERAL FOR AUDITS
|  | DEPUTY ASSISTANT INSPECTOR GENERAL FOR INVESTIGATIONS
|  | DEPUTY ASSISTANT INSPECTOR GENERAL FOR MIDDLE EAST REGIONAL OFFICE
|  | DEPUTY INSPECTOR GENERAL
|  | DEPUTY ASSISTANT INSPECTOR GENERAL FOR INSPECTIONS (2)
|  | ASSISTANT INSPECTOR GENERAL FOR MANAGEMENT
|  | DEPUTY ASSISTANT INSPECTOR GENERAL FOR MANAGEMENT
|  | ASSISTANT INSPECTOR GENERAL FOR EVALUATIONS AND SPECIAL PROJECTS
|  | DEPUTY GENERAL COUNSEL
|  | ASSISTANT INSPECTOR GENERAL FOR INSPECTIONS
TRADE AND DEVELOPMENT AGENCY | TRADE AND DEVELOPMENT AGENCY | DIRECTOR OF MANAGEMENT OPERATIONS
OFFICE OF THE DIRECTOR | OFFICE OF THE GENERAL COUNSEL | GENERAL COUNSEL
| OFFICE OF THE DIRECTOR | DEPUTY DIRECTOR
DEPARTMENT OF TRANSPORTATION
ASSISTANT SECRETARY FOR ADMINISTRATION | OFFICE OF THE SENIOR PROCUREMENT EXECUTIVE | SENIOR PROCUREMENT EXECUTIVE
ASSISTANT SECRETARY FOR BUDGET AND PROGRAMS | OFFICE OF BUDGET AND PROGRAM PERFORMANCE | DIRECTOR OFFICE OF BUDGET AND PROGRAM PERFORMANCE
ASSISTANT SECRETARY FOR TRANSPORTATION POLICY | OFFICE OF SAFETY, ENERGY AND ENVIRONMENT | DIRECTOR, OFFICE OF POLICY
ASSOCIATE ADMINISTRATOR FOR ENFORCEMENT AND PROGRAM DELIVERY | OFFICE OF ENFORCEMENT AND COMPLIANCE | DIRECTOR, OFFICE OF ENFORCEMENT AND COMPLIANCE
ASSOCIATE ADMINISTRATOR FOR POLICY AND PROGRAM DEVELOPMENT | OFFICE OF BUS AND TRUCK STANDARDS AND OPERATIONS | DIRECTOR, OFFICE OF CARRIER, DRIVER AND VEHICLE SAFETY STANDARDS
ASSOCIATE ADMINISTRATOR FOR RESEARCH AND REGISTRATION | OFFICE OF LICENSING AND SAFETY INFORMATION | DIRECTOR, OFFICE FOR LICENSING AND SAFETY INFORMATION
DEPARTMENT OF TRANSPORTATION | FEDERAL HIGHWAY ADMINISTRATION | ASSOCIATE ADMINISTRATOR FOR TRANSPORTATION WORKFORCE DEVELOPMENT AND TECHNOLOGY DEPLOYMENT
|  | DIRECTOR, OFFICE OF INNOVATION MANAGEMENT, EDUCATION AND PARTNERSHIPS
| FEDERAL MOTOR CARRIER SAFETY ADMINISTRATION | EXECUTIVE DIRECTOR AND CHIEF SAFETY OFFICER
FEDERAL HIGHWAY ADMINISTRATION | ASSOCIATE ADMINISTRATOR FOR PLANNING, ENVIRONMENT AND REALTY | DIRECTOR, OFFICE OF REAL ESTATE SERVICES
| ASSOCIATE ADMINISTRATOR FOR SAFETY | ASSOCIATE ADMINISTRATOR FOR SAFETY
| IMMEDIATE OFFICE OF THE ADMINISTRATOR | CHIEF INNOVATION OFFICER
|  | EXECUTIVE DIRECTOR
FEDERAL MOTOR CARRIER SAFETY ADMINISTRATION | ASSOCIATE ADMINISTRATOR FOR FIELD OPERATIONS | REGIONAL FIELD ADMINISTRATOR, SOUTHERN REGION
|  | REGIONAL FIELD ADMINISTRATOR, MIDWEST REGION
| IMMEDIATE OFFICE OF THE ADMINISTRATOR | ASSISTANT ADMINISTRATOR/CHIEF SAFETY OFFICER
|  | CHIEF FINANCIAL OFFICER
|  | SENIOR ADVISOR
FEDERAL RAILROAD ADMINISTRATION | ASSOCIATE ADMINISTRATOR FOR RAILROAD SAFETY | ASSOCIATE ADMINISTRATOR FOR RAILROAD SAFETY/CHIEF SAFETY OFFICER
| IMMEDIATE OFFICE OF THE ADMINISTRATOR | EXECUTIVE DIRECTOR
| OFFICE OF THE CHIEF FINANCIAL OFFICER | CHIEF FINANCIAL OFFICER
IMMEDIATE OFFICE OF THE ADMINISTRATOR | OFFICE OF THE CHIEF FINANCIAL OFFICER | CHIEF FINANCIAL OFFICER
|  | DIRECTOR, OFFICE OF ACQUISITION AND GRANTS MANAGEMENT
|  | DEPUTY CHIEF FINANCIAL OFFICER AND CHIEF BUDGET OFFICER
MARITIME ADMINISTRATION | ASSOCIATE ADMINISTRATOR FOR ENVIRONMENT AND COMPLIANCE | DEPUTY ASSOCIATE ADMINISTRATOR FOR ENVIRONMENT AND COMPLIANCE
|  | ASSOCIATE ADMINISTRATOR FOR ENVIRONMENT AND COMPLIANCE
| ASSOCIATE ADMINISTRATOR FOR STRATEGIC SEALIFT | DEPUTY ASSOCIATE ADMINISTRATOR FOR FEDERAL SEALIFT
|  | DEPUTY ASSOCIATE ADMINISTRATOR FOR MARITIME EDUCATION AND TRAINING
| IMMEDIATE OFFICE OF THE ADMINISTRATOR | EXECUTIVE SECRETARY, COMMITTEE ON MARINE TRANSPORTATION SYSTEMS
|  | EXECUTIVE DIRECTOR
| OFFICE OF THE CHIEF COUNSEL | DEPUTY CHIEF COUNSEL
NATIONAL HIGHWAY TRAFFIC SAFETY ADMINISTRATION | ASSOCIATE ADMINISTRATOR FOR ENFORCEMENT | ASSOCIATE ADMINISTRATOR FOR ENFORCEMENT
|  | DIRECTOR, OFFICE OF DEFECTS INVESTIGATION
|  | DIRECTOR, OFFICE OF VEHICLE SAFETY COMPLIANCE
| ASSOCIATE ADMINISTRATOR FOR REGIONAL OPERATIONS AND PROGRAM DELIVERY | ASSOCIATE ADMINISTRATOR FOR REGIONAL OPERATIONS AND PROGRAM DELIVERY
| IMMEDIATE OFFICE OF THE ADMINISTRATOR | EXECUTIVE DIRECTOR
| OFFICE OF THE CHIEF COUNSEL | DEPUTY CHIEF COUNSEL
OFFICE OF THE SECRETARY | ASSISTANT SECRETARY FOR ADMINISTRATION | DEPUTY ASSISTANT SECRETARY FOR ADMINISTRATION
| ASSISTANT SECRETARY FOR BUDGET AND PROGRAMS | DEPUTY ASSISTANT SECRETARY FOR BUDGET AND PROGRAMS
|  | DEPUTY CHIEF FINANCIAL OFFICER
|  | OFFICE OF THE SECRETARY CHIEF FINANCIAL OFFICER
| NATIONAL SURFACE TRANSPORTATION INNOVATIVE FINANCE BUREAU (BUILD AMERICA BUREAU) | EXECUTIVE DIRECTOR, NATIONAL SURFACE TRANSPORTATION INNOVATIVE FINANCE BUREAU (BUILD AMERICA BUREAU)
| OFFICE OF INTELLIGENCE, SECURITY AND EMERGENCY RESPONSE | DIRECTOR, OFFICE OF INTELLIGENCE, SECURITY AND EMERGENCY RESPONSE
|  | DEPUTY DIRECTOR
| OFFICE OF THE CHIEF INFORMATION OFFICER | CHIEF TECHNOLOGY OFFICER
|  | DEPUTY CHIEF INFORMATION OFFICER
|  | CHIEF INFORMATION SECURITY OFFICER
| OFFICE OF THE UNDER SECRETARY OF TRANSPORTATION FOR POLICY | EXECUTIVE DIRECTOR FOR THE OFFICE OF THE UNDER SECRETARY OF TRANSPORTATION FOR POLICY
PIPELINE AND HAZARDOUS MATERIALS SAFETY ADMINISTRATION | IMMEDIATE OFFICE OF THE ADMINISTRATOR | EXECUTIVE DIRECTOR
| OFFICE OF CHIEF SAFETY OFFICER | ASSISTANT ADMINISTRATOR AND CHIEF SAFETY OFFICER
| OFFICE OF HAZARDOUS MATERIALS SAFETY | ASSOCIATE ADMINISTRATOR FOR HAZARDOUS MATERIALS SAFETY
| OFFICE OF PIPELINE SAFETY | ASSOCIATE ADMINISTRATOR FOR PIPELINE SAFETY
|  | DEPUTY ASSOCIATE ADMINISTRATOR FOR FIELD OPERATIONS
|  | DEPUTY ASSOCIATE ADMINISTRATOR FOR POLICY AND PROGRAMS
| OFFICE OF THE CHIEF FINANCIAL OFFICER | CHIEF FINANCIAL OFFICER
SURFACE TRANSPORTATION BOARD | OFFICE OF PUBLIC ASSISTANCE, GOVERNMENTAL AFFAIRS AND COMPLIANCE | DIRECTOR OF PUBLIC ASSISTANCE, GOVERNMENTAL AFFIARS AND COMPLIANCE
DEPARTMENT OF TRANSPORTATION OFFICE OF THE INSPECTOR GENERAL
OFFICE OF INSPECTOR GENERAL IMMEDIATE OFFICE | OFFICE OF ASSISTANT INSPECTOR GENERAL FOR ADMINISTRATION AND MANAGEMENT | ASSISTANT INSPECTOR GENERAL FOR ADMINISTRATION AND MANAGEMENT
| OFFICE OF ASSISTANT INSPECTOR GENERAL FOR STRATEGIC COMMUNICATIONS AND PROGRAMS | ASSISTANT INSPECTOR GENERAL FOR STRATEGIC COMMUNICATIONS AND PROGRAMS
| OFFICE OF CHIEF COUNSEL | CHIEF COUNSEL
| OFFICE OF DEPUTY INSPECTOR GENERAL | DEPUTY INSPECTOR GENERAL
| OFFICE OF PRINCIPAL ASSISTANT INSPECTOR GENERAL FOR AUDITING AND EVALUATION | PRINCIPAL ASSISTANT INSPECTOR GENERAL FOR AUDITING AND EVALUATION
| OFFICE OF PRINCIPAL ASSISTANT INSPECTOR GENERAL FOR INVESTIGATIONS | PRINCIPAL ASSISTANT INSPECTOR GENERAL FOR INVESTIGATIONS
OFFICE OF PRINCIPAL ASSISTANT INSPECTOR GENERAL FOR AUDITING AND EVALUATION | OFFICE OF ASSISTANT INSPECTOR GENERAL FOR ACQUISITION AND PROCUREMENT AUDITS | ASSISTANT INSPECTOR GENERAL FOR ACQUISTION AND PROCUREMENT AUDITS
| OFFICE OF ASSISTANT INSPECTOR GENERAL FOR AUDIT OPERATIONS AND SPECIAL REVIEWS | ASSISTANT INSPECTOR GENERAL FOR AUDIT OPERATIONS AND SPECIAL REVIEWS
| OFFICE OF ASSISTANT INSPECTOR GENERAL FOR AVIATION AUDITS | ASSISTANT INSPECTOR GENERAL FOR AVIATION AUDITS
| OFFICE OF ASSISTANT INSPECTOR GENERAL FOR FINANCIAL AUDITS | ASSISTANT INSPECTOR GENERAL FOR FINANCIAL AUDITS
| OFFICE OF ASSISTANT INSPECTOR GENERAL FOR INFORMATION TECHNOLOGY AUDITS | ASSISTANT INSPECTOR GENERAL FOR INFORMATION TECHNOLOGY AUDITS
| OFFICE OF ASSISTANT INSPECTOR GENERAL FOR SURFACE TRANSPORTATION AUDITS | ASSISTANT INSPECTOR GENERAL FOR SURFACE TRANSPORTATION AUDITS
OFFICE OF PRINCIPAL ASSISTANT INSPECTOR GENERAL FOR INVESTIGATIONS | OFFICE OF DEPUTY ASSISTANT INSPECTOR GENERAL FOR INVESTIGATIONS | DEPUTY ASSISTANT INSPECTOR GENERAL FOR INVESTIGATIONS
DEPARTMENT OF THE TREASURY
ASSISTANT SECRETARY (TAX POLICY) | ALCOHOL AND TOBACCO TAX AND TRADE BUREAU | ASSISTANT ADMINISTRATOR, EXTERNAL AFFAIRS/CHIEF OF STAFF
|  | ASSISTANT ADMINISTRATOR INFORMATION RESOURCES/CHIEF INFORMATION OFFICER
|  | ASSISTANT ADMINISTRATOR, HEADQUARTER OPERATIONS
|  | ASSISTANT ADMINISTRATOR, MANAGEMENT/CHIEF FINANCIAL OFFICER
|  | ASSISTANT ADMINISTRATOR, FIELD OPERATIONS
|  | ADMINISTRATOR, ALCOHOL AND TOBACCO TAX AND TRADE BUREAU
|  | DEPUTY ADMINISTRATOR, ALCOHOL AND TOBACCO TAX AND TRADE BUREAU
|  | ASSISTANT ADMINISTRATOR, PERMITTING AND TAXATION
DEPARTMENT OF THE TREASURY | ASSISTANT SECRETARY (TAX POLICY) | DIRECTOR, ECONOMIC MODELING AND COMPUTER APPLICATIONS
|  | DEPUTY CHIEF FINANCIAL OFFICER
| ASSISTANT SECRETARY FOR MANAGEMENT | DIRECTOR, OFFICE OF PROCUREMENT
|  | CHIEF DIVERSITY AND INCLUSION OFFICER
| GENERAL COUNSEL | CHIEF COUNSEL, FINANCIAL CRIMES ENFORCEMENT NETWORK
| INTERNAL REVENUE SERVICE | CHIEF RISK OFFICER AND SENIOR ADVISOR
|  | DIRECTOR, ADVANCE PRICING AND MUTUAL AGREEMENT
|  | CHIEF, APPEALS
|  | DEPUTY DIRECTOR, FACILITIES MANAGEMENT AND SECURITY SERVICES
|  | EXECUTIVE DIRECTOR, OFFICE OF EQUITY, DIVERSITY, AND INCLUSION
|  | EXECUTIVE DIRECTOR, CASE ADVOCACY INTAKE AND TECHNICAL SUPPORT
|  | DIRECTOR, SUBMISSION PROCESSING
|  | DIRECTOR, INTERNAL MANAGEMENT
|  | DIRECTOR, CORPORATE DATA
|  | DIRECTOR, ENTERPRISE SYSTEMS TESTING
|  | PROGRAM MANAGER
|  | DIRECTOR, WHISTLEBLOWER OFFICE
|  | SPECIAL AGENT IN CHARGE
|  | DIRECTOR, EXAMINATION MIDWEST AREA
|  | DIRECTOR, APPEALS POLICY AND VALUATION
|  | DIRECTOR, BUSINESS SYSTEMS PLANNING
|  | ASSOCIATE CHIEF INFORMATION OFFICER, STRATEGY AND PLANNING
|  | DEPUTY CHIEF OF STAFF
|  | ASSOCIATE CHIEF INFORMATION OFFICER FOR ENTERPRISE OPERATIONS
|  | DEPUTY DIVISION COUNSEL #2 (OPERATIONS)/SMALL BUSINESS AND SELF EMPLOYED
|  | DIRECTOR, COLLECTION POLICY
|  | DEPUTY DIRECTOR, SUBMISSION PROCESSING
|  | SPECIAL AGENT IN CHARGE—CRIMINAL INVESTIGATION
|  | DIRECTOR, FIELD OPERATIONS EAST
|  | DEPUTY CHIEF INFORMATION OFFICER FOR OPERATIONS
|  | ASSOCIATE CHIEF INFORMATION OFFICER, CYBERSECURITY
|  | DIRECTOR, PASS THROUGH ENTITIES
|  | DEPUTY COMMISSIONER (DOMESTIC), LARGE BUSINESS AND INTERNATIONAL
|  | DIRECTOR, OFFICE OF PRIVACY, INFORMATION PROTECTION AND DATA SECURITY
|  | DIRECTOR, REPORTING COMPLIANCE
|  | DEPUTY ASSOCIATE CHIEF INFORMATION OFFICER, ENTERPRISE OPERATIONS
|  | DEPUTY COMMISSIONER, SMALL BUSINESS/SELF-EMPLOYED
|  | PROJECT DIRECTOR
|  | DIRECTOR, EXAMINATION HEADQUARTERS
|  | DIRECTOR, JOINT OPERATIONS CENTER
|  | DIRECTOR, EMPLOYEE PLANS, RULINGS, AND AGREEMENTS
|  | DEPUTY CHIEF HUMAN CAPITAL OFFICER, INTERNAL REVENUE SERVICE
|  | DIRECTOR, COLLECTION—FIELD
|  | DIRECTOR, COLLECTION—ATLANTA
|  | DIRECTOR, COLLECTION—ANDOVER
|  | DIRECTOR, EXAMINATION AREA
|  | DIRECTOR, EXAMINATION—OGDEN
|  | DIRECTOR, EXAMINATION SOUTHWEST AREA
|  | SUBMISSION PROCESSING FIELD DIRECTOR
|  | PROJECT DIRECTOR, ENTERPRISE PROGRAM MANAGEMENT
|  | ACCOUNTS MANAGEMENT FIELD DIRECTOR
|  | DIRECTOR, EXAMINATION—GULF STATES
|  | DIRECTOR, RESEARCH AND ORGANIZATIONAL
|  | DIRECTOR, ENTERPRISE TECHNOLOGY IMPLEMENTATION
|  | AREA DIRECTOR, FIELD ASSISTANCE—ATLANTA
|  | DEPUTY CHIEF FINANCIAL OFFICER
|  | DIRECTOR OF FIELD OPERATIONS
|  | CHIEF, COMMUNICATIONS AND LIAISON
|  | SPECIAL AGENT IN CHARGE
|  | COMMISSIONER, SMALL BUSINESS AND SELF EMPLOYED
|  | COMMISSIONER, LARGE AND MID-SIZED BUSINESS DIVISION
|  | CHIEF INFORMATION OFFICER
|  | CHIEF HUMAN CAPITAL OFFICER, INTERNAL REVENUE SERVICE
|  | CHIEF FINANCIAL OFFICER, INTERNAL REVENUE SERVICE
|  | CHIEF, CRIMINAL INVESTIGATION
|  | DIRECTOR, STAKEHOLDER, PARTNERSHIP, EDUCATION AND COMMUNICATIONS
|  | DIRECTOR, SERVER SUPPORT AND SERVICES
|  | DIRECTOR, STATISTICS OF INCOME
|  | DIRECTOR, INTERNET DEVELOPMENT SERVICES
|  | ASSOCIATE CHIEF FINANCIAL OFFICER FOR INTERNAL FINANCIAL MANAGEMENT—NATIONAL HEADQUARTERS
|  | DIRECTOR, IDENTITY THEFT VICTIM ASSISTANCE
|  | DIRECTOR, PROCUREMENT
|  | DIRECTOR, ENTERPRISE CASE MANAGEMENT
|  | DIRECTOR, DATA SOLUTIONS
|  | DIRECTOR, ACCOUNTS MANAGEMENT, WAGE AND INVESTMENT
|  | DEPUTY CHIEF, CRIMINAL INVESTIGATION
|  | DIRECTOR, BUSINESS SYSTEMS PLANNING—LARGE AND MID-SIZE BUSINESS
|  | INDUSTRY DIRECTOR—FINANCIAL SERVICES—LARGE AND MID SIZE BUSINESS
|  | DEPUTY CHIEF, APPEALS
|  | DEPUTY DIRECTOR, ENTERPRISE COMPUTING CENTER
|  | DEPUTY DIVISION COMMISSIONER, TAX EXEMPT AND GOVERNMENT ENTITIES
|  | COMMISSIONER, TAX EXEMPT AND GOVERNMENT ENTITIES DIVISION
|  | DIRECTOR, EMPLOYEE PLANS
|  | DIRECTOR, EXEMPT ORGANIZATIONS
|  | ACCOUNTS MANAGEMENT FIELD DIRECTOR—ANDOVER
|  | DIRECTOR, OPERATIONS SUPPORT
|  | COMMISSIONER, WAGE AND INVESTMENT
|  | DIRECTOR, CUSTOMER ASSISTANCE, RELATIONSHIPS AND EDUCATION
|  | DIRECTOR, FIELD ASSISTANCE—WAGE AND INVESTMENT
|  | DIRECTOR, CUSTOMER ACCOUNT SERVICES—WAGE AND INVESTMENT
|  | DIRECTOR, RESEARCH, APPLIED ANALYTICS AND STATISTICS
|  | PROJECT DIRECTOR
|  | DEPUTY NATIONAL TAXPAYER ADVOCATE
|  | DEPUTY DIRECTOR, RETURN INTEGRITY AND CORRESPONDENCE SERVICES
|  | DIRECTOR, TECHNOLOGY SOLUTIONS
|  | DIRECTOR, SOLUTION ENGINEERING
|  | DIRECTOR, INFRASTRUCTURE SERVICES
|  | DIRECTOR, UNIFIED COMMUNICATIONS
|  | ACIO, AFFORDABLE CARE ACT PMO
|  | DIRECTOR, ENTERPRISE NETWORKS OPERATIONS
|  | DIRECTOR, ONLINE SERVICES
|  | DEPUTY COMMISSIONER, WAGE AND INVESTMENTS
|  | ASSOCIATE CHIEF INFORMATION OFFICER, ENTERPRISE INFORMATION TECHNOLOGY PROGRAM MANAGEMENT
|  | SENIOR DIRECTOR FOR OPERATIONS, AFFORDABLE CARE ACT
|  | DEPUTY CHIEF PROCUREMENT OFFICER
|  | DIRECTOR, CROSS BORDER ACTIVITIES
|  | DIRECTOR, DEMAND MANAGEMENT AND PROJECT GOVERNANCE
|  | DIRECTOR, REFUNDABLE CREDITS POLICY AND PROGRAM MANAGEMENT
|  | DIRECTOR, OFFICE OF PROFESSIONAL RESPONSIBILITY
|  | DIRECTOR, COLLECTION—HEADQUARTERS
|  | DIRECTOR, COLLECTION—CAMPUS
|  | DIRECTOR, STRATEGY AND FINANCE
|  | DIRECTOR, MICROSOFT INITIATIVES PROGRAM
|  | NATIONAL DIRECTOR LEGISLATIVE AFFAIRS
|  | CHIEF, AGENCY-WIDE SHARED SERVICES
|  | DIRECTOR, COLLECTION—QUALITY AND TECHNICAL SUPPORT
|  | DIRECTOR, COLLECTION
|  | DIRECTOR, SERVICEWIDE OPERATIONS
|  | DIRECTOR, COLLECTION APPEALS
|  | DIRECTOR, ENTERPRISE ACTIVITIES
|  | DIRECTOR, COLLECTION—CENTRAL
|  | DIRECTOR, EXAMINATION—CENTRAL
|  | PROJECT DIRECTOR (2)
|  | DIRECTOR, MODERNIZATION, DEVELOPMENT AND DELIVERY
|  | ASSOCIATE CHIEF INFORMATION OFFICER FOR USER AND NETWORK SERVICES
|  | ASSOCIATE CHIEF INFORMATION OFFICER FOR APPLICATIONS DEVELOPMENT
|  | DIRECTOR, COLLECTION AREA—GULF STATE
|  | SPECIAL ASSISTANT
|  | ASSISTANT DEPUTY COMMISSIONER FOR SERVICES AND ENFORCEMENT
|  | DEPUTY ASSOCIATE CHIEF INFORMATION OFFICER FOR APPLICATIONS DEVELOPMENT
|  | DIRECTOR, KNOWLEDGE DEVELOPMENT AND APPLICATION
|  | FIELD DIRECTOR, SUBMISSION PROCESSING-FRESNO
|  | DIRECTOR, REFUNDABLE CREDITS EXAMINATION OPERATIONS
|  | DEPUTY CHIEF INFORMATION OFFICER FOR STRATEGY/MODERNIZATION
|  | DIRECTOR, FACILITIES MANAGEMENT AND SEC SERVICES
|  | DIRECTOR, EXAMINATION—CAMPUS
|  | DIRECTOR, E-FILE SERVICES
|  | DIRECTOR, SPECIALIZED EXAMINATION PROGRAMS AND REFERRALS
|  | SUBMISSION PROCESSING FIELD DIRECTOR
|  | DIRECTOR, OPERATIONS SUPPORT
|  | DEPUTY DIRECTOR, SUBMISSION PROCESSING
|  | DIRECTOR, AFFORDABLE CARE ACT
|  | DIRECTOR, CAMPUS COLLECTION FRESNO
|  | IRS IDENTITY ASSURANCE EXECUTIVE
|  | DIRECTOR, MAINFRAME SUPPORT AND SERVICES
|  | SPECIAL ASSISTANT TO THE CHIEF, APPEALS
|  | DIRECTOR, EXAMINATION—SPECIALITY TAX
|  | DEPUTY ASSOCIATE CHIEF FINANCIAL OFFICER FOR FINANCIAL MANAGEMENT
|  | DEPUTY DIRECTOR, SUBMISSION PROCESSING
|  | DIRECTOR, NETWORK ENGINEERING
|  | DIRECTOR, REFUND CRIMES
|  | AREA DIRECTOR, STAKEHOLDER PARTNERSHIP, EDUCATION, AND COMMUNICATION
|  | DIRECTOR, EXAMINATION FIELD
|  | DIRECTOR, FIELD OPERATIONS, RETAILERS, FOOD, TRANSPORTATION AND HEALTHCARE—EAST
|  | DEPUTY COMMISSIONER, OPERATIONS SUPPORT
|  | DIRECTOR, OPERATIONS SERVICE SUPPORT
|  | DEPUTY DIRECTOR, STRATEGY AND FINANCE
|  | DIRECTOR, RETURN PREPARER OFFICE
|  | DIRECTOR, EXAMINATION AREA MIDWEST
|  | AREA DIRECTOR, FIELD ASSISTANCE
|  | DIRECTOR, EXAMINATION AREA
|  | DIRECTOR, CUSTOMER SERVICE
|  | DIRECTOR, FINANCIAL MANAGEMENT SERVICES
|  | DIRECTOR OF FIELD OPERATIONS, HEAVY MANUFACTURING AND PHARMACEUTICALS, SOUTHEAST
|  | DIRECTOR, FIELD OPERATIONS, ENGINEERING
|  | EXECUTIVE DIRECTOR, BUSINESS MODERNIZATION
|  | DIRECTOR, COLLECTION STRATEGY AND ORGANIZATION
|  | DIRECTOR, CAMPUS OPERATIONS
|  | DIRECTOR, IMPLEMENTATION AND TESTING
|  | DIRECTOR, BUSINESS PLANNING AND RISK MANAGEMENT
|  | DIRECTOR, SERVICE DELIVERY MANAGEMENT
|  | COMPLIANCE SERVICES FIELD DIRECTOR
|  | COUNSELOR TO THE COMMISSIONER OF IRS
|  | ASSISTANT DEPUTY COMMISSIONER COMPLIANCE INTEGRATION
|  | DIRECTOR, PRIVACY AND INFORMATION PROTECTION
|  | DIRECTOR, STRATEGY, RESEARCH AND PROGRAM PLANNING
|  | DIRECTOR, DATA DELIVERY SERVICES
|  | DIRECTOR, COMPLIANCE STRATEGY AND POLICY
|  | DIRECTOR, STRATEGIC SUPPLIER MANAGEMENT
|  | DIRECTOR, RETURN INTEGRITY AND COMPLIANCE SERVICES
|  | DIRECTOR, CYBERSECURITY POLICY AND PROGRAMS
|  | DIRECTOR, FIELD OPERATIONS, RETAIL FOOD, PHARMACEUTICALS, AND HEALTHCARE—WEST
|  | DIRECTOR, CONTACT CENTER SUPPORT DIVISION
|  | EXECUTIVE DIRECTOR, INVESTIGATIVE AND ENFORCEMENT OPERATIONS
|  | DIRECTOR, EXAMINATION AREA—NORTH ATLANTIC
|  | DIRECTOR, ADVANCED PRICING AND MUTUAL AGREEMENT
|  | DIRECTOR, CUSTOMER SERVICE AND STAKEHOLDERS
|  | DIRECTOR, TAX FORMS AND PUBLICATIONS
|  | ASSISTANT DEPUTY COMMISSIONER GOVERNMENT ENTITIES AND SHARED SERVICES
|  | DIRECTOR, CASE AND OPERATIONS SUPPORT
|  | DEPUTY DIRECTOR, RETURN PREPARER OFFICE
|  | ACCOUNTS MANAGEMENT FIELD DIRECTOR
|  | DIRECTOR, FILING AND PREMIUM TAX CREDIT
|  | ASSISTANT DEPUTY COMMISSIONER (INTERNATIONAL)
|  | DIRECTOR, EMERGING PROGRAMS AND INITIATIVES
|  | DIRECTOR, FIELD OPERATIONS, NATURAL RESOURCES AND CONSTRUCTION—WEST
|  | DIRECTOR, CAMPUS COMPLIANCE OPERATIONS
|  | DIRECTOR, PRODUCT MANAGEMENT
|  | DIRECTOR, INTERNATIONAL OPERATIONS
|  | DIRECTOR FIELD OPERATIONS, FOREIGN PAYMENTS PRACTICE
|  | AREA DIRECTOR, FIELD ASSISTANCE
|  | DIRECTOR FIELD OPERATIONS (SOUTH CENTRAL), WESTERN COMPLIANCE
|  | DIRECTOR FIELD OPERATIONS (WEST), WESTERN COMPLIANCE
|  | DEPUTY DIRECTOR, PASS-THROUGH EXAM STRATEGY AND PROMOTER PROGRAMS
|  | DIRECTOR OF FIELD OPERATIONS, GLOBAL HIGH WEALTH AND HIGH-INCOME COMPLIANCE STRATEGY
|  | DIRECTOR, TALENT ACQUISITION
|  | SPECIAL AGENT IN CHARGE (3)
|  | DIRECTOR, IT TECHNOLOGICAL DIRECTOR, STRATEGIC PLANNING AND TECHNOLOGY DIRECTION
|  | DEPUTY CHIEF, FACILITIES MANAGEMENT AND SECURITY SERVICES
|  | DEPUTY CHIEF TAXPAYER EXPERIENCE OFFICER
|  | DIRECTOR, ADVANCE PRICING AND MUTUAL AGREEMENT
|  | DIRECTOR CAMPUS EXAMINATION (2)
|  | DIRECTOR, OFFICE OF COMMUNICATIONS
|  | PROJECT DIRECTOR, AMERICAN RESCUE PLAN
|  | DIRECTOR, OFFICE OF INFORMATION TECHNOLOGY ACQUISITION
|  | CHIEF OF STAFF (OFFICE OF THE COMMISSIONER)
|  | DIRECTOR PRODUCT MANAGEMENT
|  | NATIONAL DIRECTOR, LEGISLATIVE AFFAIRS
|  | DIRECTOR, FINANCIAL INSTITUTIONS AND PRODUCTS
|  | DIRECTOR FIELD OPERATIONS (NORTH ATLANTIC) NORTHEASTERN COMPLIANCE
|  | DIRECTOR EXEMPT ORGANIZATIONS EXAMINATIONS
|  | DIRECTOR, EMPLOYEE PLANS RULINGS AND AGREEMENTS
|  | DIRECTOR, WORKLIFE, BENEFITS AND PERFORMANCE
|  | DIRECTOR, EXAMINATION SOUTHWEST AREA
|  | DIRECTOR, OPERATIONS POLICY AND SUPPORT
|  | SPECIAL AGENT IN CHARGE, CRIMINAL INVESTIGATION
|  | PROJECT DIRECTOR (2)
|  | SENIOR ADVISOR AND TECHNOLOGY ADVISOR
|  | DIRECTOR, COLLECTION—SPECIAL
|  | DIRECTOR, DATA MANAGEMENT SERVICES AND SUPPORT
|  | DIRECTOR, SECURITY OPERATIONS AND STANDARDS
|  | DEPUTY ASSOCIATE CHIEF INFORMATION OFFICER FOR CYBERSECURITY
|  | DIRECTOR, DATA MANAGEMENT DIVISION
|  | PROJECT DIRECTOR FOR DEPUTY COMMISSIONER SERVICES AND ENFORCEMENT
|  | DIRECTOR, COLLECTION SOUTHWEST
|  | DIRECTOR, ENTERPRISE ARCHITECTURE
|  | CHIEF OF STAFF
|  | DIRECTOR, MEDIA AND PUBLICATIONS (WASHINGTON, DC)
|  | FIELD DIRECTOR, SUBMISSION PROCESSING—OGDEN
|  | DIRECTOR, HUMAN RESOURCES
|  | DIRECTOR OF FIELD OPERATIONS-WESTERN AREA, CRIMINAL INVESTIGATION
|  | SPECIAL AGENT IN CHARGE, CRIMINAL INVESTIGATION
| SECRETARY OF THE TREASURY | DEPUTY CHIEF COMPLIANCE OFFICER
|  | DEPUTY CHIEF FINANCIAL OFFICER
|  | DIRECTOR, OFFICE OF SMALL AND DISADVANTAGED BUSINESS UTILIZATION
| UNITED STATES MINT | ASSOCIATE DIRECTOR, ENVIRONMENT, SAFETY AND HEALTH
|  | CHIEF ADMINISTRATIVE OFFICER
|  | DIRECTOR, OFFICE OF COIN STUDIES
|  | ASSOCIATE DIRECTOR FOR SALES AND MARKETING
|  | ASSOCIATE DIRECTOR FOR FINANCIAL MANAGEMENT/CHIEF FINANCIAL OFFICER
|  | ASSOCIATE DIRECTOR FOR MANUFACTURING
|  | PLANT MANAGER, PHILADELPHIA
|  | ASSOCIATE DIRECTOR FOR INFORMATION TECHNOLOGY (CHIEF INFORMATION OFFICER)
FISCAL ASSISTANT SECRETARY | BUREAU OF THE FISCAL SERVICE | DEPUTY ASSISTANT COMMISSIONER (DEBT MANAGEMENT SERVICES)
|  | DIRECTOR, REGIONAL FINANCIAL CENTER (PHILADELPHIA)
|  | DIRECTOR, REGIONAL FINANCIAL CENTER (KANSAS CITY)
|  | ASSISTANT COMMISSIONER (PUBLIC DEBT ACCOUNTING)
|  | DEPUTY ASSISTANT COMMISSIONER FOR INFRASTRUCTURE AND OPERATIONS (OFFICE OF INFORMATION AND SECURITY SERVICES)
|  | DEPUTY ASSISTANT COMMISSIONER, PAYMENT MANAGEMENT
|  | ASSISTANT COMMISSIONER, PAYMENT MANAGEMENT
|  | DEPUTY ASSISTANT COMMISSIONER FOR PROGRAM SOLUTIONS AND SUPPORT (TREASURY SECURITIES SERVICES)
|  | ASSISTANT COMMISSIONER (OFFICE OF MANAGEMENT SERVICES)
|  | DEPUTY CHIEF INFORMATION OFFICER
|  | ASSISTANT COMMISSIONER, FEDERAL FINANCE
|  | DIRECTOR, REGIONAL FINANCIAL CENTER (SAN FRANCISCO)
|  | EXECUTIVE DIRECTOR, GOVERNMENT SECURITIES REGULATIONS
|  | ASSISTANT COMMISSIONER, DEBT MANAGEMENT SERVICES
|  | DIRECTOR, REVENUE COLLECTION GROUP
|  | ASSISTANT COMMISSIONER, MANAGEMENT (CHIEF FINANCIAL OFFICER)
|  | ASSISTANT COMMISSIONER (SHARED SERVICES)
|  | DEPUTY ASSISTANT COMMISSIONER (RETAIL SECURITIES SERVICES)
|  | EXECUTIVE DIRECTOR (KANSAS CITY)
|  | DEPUTY ASSISTANT COMMISSIONER (ACCOUNTING SUPPORT AND OUTREACH)
|  | ASSISTANT COMMISSIONER (RETAIL SECURITIES SERVICES)
|  | DEPUTY ASSISTANT COMMISSIONER (WHOLESALE SECURITIES SERVICES)
|  | DEPUTY ASSISTANT COMMISSIONER (DATA TRANSPARENCY)
|  | SENIOR ADVISOR (SERVICES AND PROGRAMS)
|  | ASSISTANT COMMISSIONER, WHOLESALE SECURITIES SERVICES
|  | DEPUTY ASSISTANT COMMISSIONER, COMPLIANCE AND REPORTING GROUP
|  | DEPUTY ASSISTANT COMMISSIONER (SHARED SERVICES)
|  | ASSISTANT COMMISSIONER, INFORMATION AND SECURITY SERVICES (CHIEF INFORMATION OFFICER)
|  | DEPUTY ASSISTANT COMMISSIONER (MANAGEMENT)
|  | EXECUTIVE DIRECTOR (DO NOT PAY BUSINESS CENTER STAFF)
|  | DIRECTOR, DEBT MANAGEMENT SERVICES OPERATIONS, EAST
|  | DEPUTY ASSISTANT COMMISSIONER FOR SECURITIES MANAGEMENT (TREASURY SECURITIES SERVICES)
|  | DIRECTOR, DEBT MANAGEMENT SERVICES OPERATIONS, WEST
|  | DEPUTY COMMISSIONER, ACCOUNTING AND SHARED SERVICES
|  | DEPUTY COMMISSIONER, FINANCE AND ADMINISTRATION
|  | DEPUTY COMMISSIONER, FINANCIAL SERVICES AND OPERATIONS
|  | COMMISSIONER, BUREAU OF THE FISCAL SERVICE
|  | DEPUTY ASSISTANT COMMISSIONER (FISCAL ACCOUNTING OPERATIONS)
|  | DEPUTY ASSISTANT COMMISSIONER FOR INFORMATION SERVICES
INTERNAL REVENUE SERVICE | INTERNAL REVENUE SERVICE CHIEF COUNSEL | SPECIAL COUNSEL TO THE NATIONAL TAXPAYER ADVOCATE
|  | DEPUTY ASSOCIATE CHIEF COUNSEL (INTERNATIONAL TECHNICAL)
|  | DEPUTY CHIEF COUNSEL (OPERATIONS)
|  | DEPUTY CHIEF COUNSEL (TECHNICAL)
|  | ASSOCIATE CHIEF COUNSEL (GENERAL LEGAL SERVICES)
|  | DEPUTY DIVISION COUNSEL/DEPUTY ASSOCIATE CHIEF COUNSEL
|  | DEPUTY DIVISION COUNSEL AND DEPUTY ASSOCIATE CHIEF COUNSEL (TAX EXEMPT AND GOVERNMENT ENTITIES)
|  | DEPUTY ASSOCIATE CHIEF COUNSEL (FINANCE AND MANAGEMENT)
|  | AREA COUNSEL (LARGE AND MID SIZE BUSINESS)(AREA 2)(HEAVY MANUFACTURING, CONSTRUCTION AND TRANSPORTATION)
|  | AREA COUNSEL (LARGE AND MID SIZE BUSINESS)(AREA 4)(NATURAL RESOURCES)
|  | AREA COUNSEL (LARGE BUSINESS AND INTERNATIONAL)
|  | DEPUTY DIVISION COUNSEL (SMALL BUSINESS AND SELF EMPLOYED)
|  | AREA COUNSEL (SMALL BUSINESS AND SELF EMPLOYED)—PHILADELPHIA
|  | AREA COUNSEL (SMALL BUSINESS AND SELF EMPLOYED)—JACKSONVILLE
|  | AREA COUNSEL (SMALL BUSINESS AND SELF EMPLOYED)—CHICAGO
|  | AREA COUNSEL (SMALL BUSINESS AND SELF EMPLOYED)
|  | AREA COUNSEL (SMALL BUSINESS AND SELF EMPLOYED)—DENVER
|  | AREA COUNSEL (SMALL BUSINESS AND SELF EMPLOYED)—LOS ANGELES
|  | DIVISION COUNSEL (SMALL BUSINESS AND SELF EMPLOYED)
|  | AREA COUNSEL, LARGE AND MID SIZE BUSINESS (AREA 3) (FOOD, MASS RETAILERS, AND PHARMACEUTICALS)
|  | DIVISION COUNSEL/ASSOCIATE CHIEF COUNSEL (CRIMINAL TAX)
|  | AREA COUNSEL (LARGE BUSINESS AND INTERNATIONAL)(AREA 1)
|  | AREA COUNSEL (SMALL BUSINESS AND SELF EMPLOYED) (AREA 7)
|  | DEPUTY ASSOCIATE CHIEF COUNSEL #2 (INCOME TAX AND ACCOUNTING)
|  | ASSOCIATE CHIEF COUNSEL (CORPORATE)
|  | DEPUTY DIVISION COUNSEL (LARGE AND MID-SIZE BUSINESS)
|  | DEPUTY ASSOCIATE CHIEF COUNSEL (PROCEDURE AND ADMINISTRATION)
|  | ASSOCIATE CHIEF COUNSEL (INCOME TAX AND ACCOUNTING)
|  | DEPUTY DIVISION COUNSEL/DEPUTY ASSISTANT CHIEF COUNSEL (CRIMINAL TAX)
|  | ASSOCIATE CHIEF COUNSEL (PROCEDURE AND ADMINISTRATION)
|  | DEPUTY ASSOCIATE CHIEF COUNSEL (INTERNATIONAL FIELD SERVICE AND LITIGATION)
|  | AREA COUNSEL, SMALL BUSINESS AND SELF EMPLOYED, AREA 9
|  | DEPUTY ASSOCIATE CHIEF COUNSEL (FINANCIAL INSTITUTIONS AND PRODUCTS)
|  | DIVISION COUNSEL (WAGE AND INVESTMENT)
|  | DEPUTY DIVISION COUNSEL/DEPUTY ASSOCIATE CHIEF COUNSEL (TAX EXEMPT AND GOVERNMENT ENTITIES)
|  | DEPUTY ASSOCIATE CHIEF COUNSEL (GENERAL LEGAL SERVICES) (LABOR AND PERSONNEL LAW)
|  | SPECIAL COUNSEL TO THE CHIEF COUNSEL
|  | DEPUTY ASSOCIATE CHIEF COUNSEL (FINANCIAL INSTITUTIONS AND PRODUCTS)
|  | ASSOCIATE CHIEF COUNSEL (FINANCE AND MANAGEMENT)
|  | HEALTHCARE COUNSEL (OFFICE OF HEALTHCARE)
|  | DEPUTY TO THE SPECIAL COUNSEL TO THE CHIEF COUNSEL
|  | DIVISION COUNSEL (TAX EXEMPT AND GOVERNMENT ENTITIES) DC
|  | ASSOCIATE CHIEF COUNSEL (TAX EXEMPT AND GOVERNMENT ENTITIES)
|  | DEPUTY ASSOCIATE CHIEF COUNSEL (PROCEDURE AND ADMINISTRATION)
|  | ASSOCIATE CHIEF COUNSEL (PASSTHROUGHS AND SPECIAL INDUSTRIES)
|  | DEPUTY ASSOCIATE CHIEF COUNSEL (PROCEDURE AND ADMINISTRATION)
|  | DEPUTY ASSOCIATE CHIEF COUNSEL, (PASSTHROUGHS AND SPECIAL INDUSTRIES)
|  | DIVISION COUNSEL, LARGE BUSINESS AND INTERNATIONAL
|  | DEPUTY ASSOCIATE CHIEF COUNSEL, OPERATIONS AND INTERNATIONAL PROGRAMS
|  | DEPUTY ASSOCIATE CHIEF COUNSEL (CORPORATE)
|  | ASSOCIATE CHIEF COUNSEL, (INTERNATIONAL)
|  | DEPUTY ASSOCIATE CHIEF COUNSEL (GENERAL LEGAL SERVICES)
|  | DEPUTY DIVISION COUNSEL, INTERNATIONAL (LARGE BUSINESS AND INTERNATIONAL)
|  | AREA COUNSEL, SMALL BUSINESS AND SELF EMPLOYED (AREA 1)
|  | ASSOCIATE CHIEF COUNSEL (FINANCIAL INSTITUTIONS AND PRODUCTS)
|  | DIVISION COUNSEL/ASSOCIATE CHIEF COUNSEL (NATIONAL TAXPAYER ADVOCATE PROGRAM)
|  | DEPUTY ASSOCIATE CHIEF COUNSEL (INFORMATION TECHNOLOGY)
|  | DEPUTY ASSOCIATE CHIEF COUNSEL, CONTROVERSY AND LITIGATION (INTERNATIONAL)
|  | ASSOCIATE CHIEF COUNSEL (INCOME TAX AND ACCOUNTING)
|  | DEPUTY ASSOCIATE CHIEF COUNSEL (INTERNATIONAL PROGRAMS AND OPERATIONS)
|  | DEPUTY ASSOCIATE CHIEF COUNSEL (EEE/EOET)
|  | DEPUTY ASSOCIATE CHIEF COUNSEL (EMPLOYEE BENEFITS)
|  | AREA COUNSEL—AREA 3—LARGE BUSINESS AND INTERNATIONAL
|  | AREA COUNSEL (LARGE BUSINESS AND INTERNATIONAL) AREA 1
|  | DEPUTY ASSOCIATE CHIEF COUNSEL, LITIGATION (INTERNATIONAL)
|  | DEPUTY DIVISION COUNSEL (OPERATIONS), SMALL BUSINESS/SELF EMPLOYED DIVISION
|  | NATIONAL STRATEGIC LITIGATION COUNSEL, DIVISION COUNSEL (LARGE BUSINESS AND INTERNATIONAL)
UNDER SECRETARY FOR DOMESTIC FINANCE | ASSISTANT SECRETARY FOR FINANCIAL INSTITUTIONS | DIRECTOR, FEDERAL INSURANCE OFFICE
|  | DEPUTY DIRECTOR, FEDERAL INSURANCE OFFICE
| FISCAL ASSISTANT SECRETARY | DEPUTY ASSISTANT SECRETARY FOR FISCAL OPERATIONS AND POLICY
|  | DEPUTY ASSISTANT SECRETARY, OFFICE OF ACCOUNTING POLICY AND FINANCIAL TRANSPARENCY
|  | FISCAL ASSISTANT SECRETARY
UNDER SECRETARY FOR TERRORISM AND FINANCIAL INTELLIGENCE | ASSISTANT SECRETARY FOR INTELLIGENCE AND ANALYSIS | DEPUTY ASSISTANT SECRETARY FOR SECURITY AND COUNTERINTELLIGENCE
| ASSISTANT SECRETARY FOR TERRORIST FINANCING | DIRECTOR, EXECUTIVE OFFICE FOR ASSET FORFEITURE
| FINANCIAL CRIMES ENFORCEMENT NETWORK | ASSOCIATE DIRECTOR, INTELLIGENCE DIVISION
|  | ASSOCIATE DIRECTOR, ENFORCEMENT DIVISION
|  | ASSOCIATE DIRECTOR, POLICY DIVISION
|  | DIRECTOR, FINANCIAL CRIMES ENFORCEMENT NETWORK
|  | ASSOCIATE DIRECTOR, TECHNOLOGY SOLUTIONS AND SERVICES DIVISION/CHIEF INFORMATION OFFICER
|  | ASSOCIATE DIRECTOR, MANAGEMENT PROGRAMS DIVISION
|  | ASSOCIATE DIRECTOR, LIAISON DIVISION
|  | DEPUTY DIRECTOR
DEPARTMENT OF THE TREASURY OFFICE OF THE INSPECTOR GENERAL | OFFICE OF AUDIT | DEPUTY ASSISTANT INSPECTOR GENERAL FOR AUDIT (FINANCIAL MANAGEMENT)
|  | DEPUTY ASSISTANT INSPECTOR GENERAL FOR AUDIT (PROGRAM AUDITS)
|  | DEPUTY ASSISTANT INSPECTOR GENERAL FOR AUDIT (FINANCIAL SECTOR AUDITS)
|  | ASSISTANT INSPECTOR GENERAL FOR AUDIT
|  | DEPUTY ASSISTANT INSPECTOR GENERAL FOR AUDIT (FINANCE MANAGEMENT AND TRANSPARENCY AUDIT)
|  | ASSISTANT INSPECTOR GENERAL FOR AUDIT
| OFFICE OF COUNSEL | COUNSEL TO THE INSPECTOR GENERAL
| OFFICE OF INVESTIGATIONS | DEPUTY ASSISTANT INSPECTOR GENERAL FOR INVESTIGATIONS
| OFFICE OF MANAGEMENT | ASSISTANT INSPECTOR GENERAL FOR MANAGEMENT
DEPARTMENT OF THE TREASURY SPECIAL INSPECTOR GENERAL FOR THE TROUBLED ASSET RELIEF PROGRAM | DEPARTMENT OF THE TREASURY SPECIAL INSPECTOR GENERAL FOR THE TROUBLED ASSET RELIEF PROGRAM | ASSISTANT DEPUTY SPECIAL INSPECTOR GENERAL FOR INVESTIGATIONS
|  | GENERAL COUNSEL FOR SIGTARP
|  | DEPUTY SPECIAL INSPECTOR GENERAL AUDIT
|  | DEPUTY SPECIAL INSPECTOR GENERAL, INVESTIGATIONS
DEPARTMENT OF THE TREASURY TAX ADMINISTRATION OFFICE OF THE INSPECTOR GENERAL | DEPARTMENT OF THE TREASURY TAX ADMINISTRATION OFFICE OF THE INSPECTOR GENERAL | ASSISTANT INSPECTOR GENERAL FOR INVESTIGATIONS
|  | ASSISTANT INSPECTOR GENERAL FOR AUDIT, COMPLIANCE AND ENFORCEMENT OPERATIONS
|  | CHIEF INFORMATION OFFICER
|  | ASSISTANT INSPECTOR GENERAL FOR INVESTIGATIONS, INVESTIGATIVE OPERATIONS
|  | CHIEF COUNSEL
|  | DEPUTY INSPECTOR GENERAL FOR MISSION SUPPORT AND CHIEF FINANCIAL OFFICER
|  | DEPUTY INSPECTOR GENERAL FOR INSPECTIONS AND EVALUATIONS
|  | DEPUTY INSPECTOR GENERAL FOR AUDIT
|  | ASSISTANT INSPECTOR GENERAL FOR AUDIT, MANAGEMENT SERVICES AND EXEMPT ORGANIZATIONS
|  | ASSISTANT INSPECTOR GENERAL FOR AUDIT, SECURITY AND INFORMATION TECHNOLOGY SERVICES
|  | ASSISTANT INSPECTOR GENERAL FOR AUDIT, MANAGEMENT, PLANNING AND WORKFORCE DEVELOPMENT
|  | ASSISTANT INSPECTOR GENERAL FOR AUDIT, RETURNS PROCESSING AND ACCOUNTING SERVICES
|  | DEPUTY INSPECTOR GENERAL FOR INVESTIGATIONS
|  | DEPUTY ASSISTANT INSPECTOR GENERAL FOR INVESTIGATIONS, THREAT, AGENT SAFETY AND SENSITIVE INVESTIGATIONS DIRECTORATE
|  | ASSISTANT INSPECTOR GENERAL FOR INVESTIGATIONS, INVESTIGATIVE OPERATIONS
|  | ASSISTANT INSPECTOR GENERAL FOR INVESTIGATIONS—INVESTIGATIVE OPERATIONS
|  | DEPUTY CHIEF COUNSEL
|  | ASSISTANT INSPECTOR GENERAL FOR INVESTIGATIONS—OPERATIONAL SUPPORT
UNITED STATES AGENCY FOR INTERNATIONAL DEVELOPMENT
OFFICE OF THE ADMINISTRATOR | BUREAU FOR MANAGEMENT | CHIEF FINANCIAL OFFICER
|  | DEPUTY CHIEF FINANCIAL OFFICER
|  | CHIEF INFORMATION OFFICER
|  | DEPUTY DIRECTOR, ACCOUNTABILITY, COMPLIANCE, TRANSPARENCY AND SYSTEM SUPPORT
|  | DIRECTOR, OFFICE OF MANAGEMENT POLICY, BUDGET AND PERFORMANCE
|  | DIRECTOR, OFFICE OF ACQUISITION AND ASSISTANCE
|  | CHIEF TECHNOLOGY OFFICER
| OFFICE OF BUDGET AND RESOURCE MANAGEMENT | DIRECTOR, BUDGET AND RESOURCE MANAGEMENT
| OFFICE OF HUMAN CAPITAL AND TALENT MANAGEMENT | CHIEF HUMAN CAPITAL OFFICER
|  | DEPUTY CHIEF HUMAN CAPITAL OFFICER
| OFFICE OF SECURITY | DEPUTY DIRECTOR, OFFICE OF SECURITY
|  | DIRECTOR, OFFICE OF SECURITY
| OFFICE OF SMALL AND DISADVANTAGED BUSINESS UTILIZATION | DIRECTOR, OFFICE OF SMALL AND DISADVANTAGED BUSINESS UTILIZATION
| OFFICE OF THE GENERAL COUNSEL | ASSISTANT GENERAL COUNSEL, ETHICS AND ADMINISTRATION
|  | CHIEF INNOVATION COUNSEL
|  | ASSISTANT GENERAL COUNSEL FOR GH
|  | DEPUTY GENERAL COUNSEL
UNITED STATES AGENCY FOR INTERNATIONAL DEVELOPMENT OFFICE OF THE INSPECTOR GENERAL | UNITED STATES AGENCY FOR INTERNATIONAL DEVELOPMENT OFFICE OF THE INSPECTOR GENERAL | DEPUTY ASSISTANT INSPECTOR GENERAL FOR AUDIT
|  | COUNSELOR TO THE INSPECTOR GENERAL
|  | ASSISTANT INSPECTOR GENERAL FOR MANAGEMENT
|  | DEPUTY ASSISTANT INSPECTOR GENERAL FOR AUDIT
|  | ASSISTANT INSPECTOR GENERAL FOR INVESTIGATIONS
|  | DEPUTY ASSISTANT INSPECTOR GENERAL FOR INVESTIGATIONS
|  | ASSISTANT INSPECTOR GENERAL FOR AUDIT
|  | DEPUTY ASSISTANT INSPECTOR GENERAL FOR MANAGEMENT
|  | DEPUTY INSPECTOR GENERAL
|  | ASSISTANT INSPECTOR GENERAL FOR STRATEGIC COMMUNICATIONS AND PROGRAMS
UNITED STATES INTERNATIONAL TRADE COMMISSION
OFFICE OF OPERATIONS | OFFICE OF ECONOMICS | DIRECTOR OFFICE OF ECONOMICS
| OFFICE OF INDUSTRIES | DIRECTOR OFFICE OF INDUSTRIES
| OFFICE OF INVESTIGATIONS | DIRECTOR, OFFICE OF INVESTIGATIONS
| OFFICE OF TARIFF AFFAIRS AND TRADE AGREEMENTS | DIRECTOR, OFFICE TARIFF AFFAIRS AND TRADE AGREEMENTS
| OFFICE OF UNFAIR IMPORT INVESTIGATIONS | DIRECTOR, OFFICE OF UNFAIR IMPORT INVESTIGATIONS
UNITED STATES INTERNATIONAL TRADE COMMISSION | OFFICE OF ADMINISTRATIVE SERVICES | CHIEF ADMINISTRATIVE OFFICER
| OFFICE OF OPERATIONS | DIRECTOR OFFICE OF OPERATIONS
| OFFICE OF THE CHAIRMAN | CHIEF OF STAFF
| OFFICE OF THE CHIEF FINANCIAL OFFICER | CHIEF FINANCIAL OFFICER
| OFFICE OF THE CHIEF INFORMATION OFFICER | CHIEF INFORMATION OFFICER
| OFFICE OF THE GENERAL COUNSEL | GENERAL COUNSEL
| OFFICE OF THE INSPECTOR GENERAL | INSPECTOR GENERAL
DEPARTMENT OF VETERANS AFFAIRS | BOARD OF VETERANS' APPEALS | VICE CHAIRMAN
|  | CHIEF COUNSEL, BOARD OF VETERANS APPEALS
|  | DEPUTY VICE CHAIRMAN, BOARD OF VETERANS APPEALS
|  | DEPUTY VICE CHAIRMAN (3)
| NATIONAL CEMETERY ADMINISTRATION | DEPUTY UNDER SECRETARY FOR FINANCE AND PLANNING
| OFFICE OF ACQUISITION, LOGISITICS AND CONSTRUCTION | ASSOCIATE EXECUTIVE DIRECTOR, NATIONAL HEALTHCARE ACQUISITION
|  | ASSOCIATE EXECUTIVE DIRECTOR, ACQUISITION PROGRAM SUPPORT
|  | EXECUTIVE DIRECTOR, OFFICE OF ACQUISITION AND LOGISTICS
|  | ASSOCIATE EXECUTIVE DIRECTOR, RESOURCE MANAGEMENT
|  | ASSOCIATE EXECUTIVE DIRECTOR, FACILITIES PLANNING
|  | ASSOCIATE EXECUTIVE DIRECTOR, OFFICE OF DESIGN AND CONSTRUCTION
|  | ASSOCIATE EXECUTIVE DIRECTOR, PROCUREMENT POLICY, SYSTEMS AND OVERSIGHT
|  | EXECUTIVE DIRECTOR, CONSTRUCTION AND FACILITIES MANAGEMENT
|  | ASSOCIATE EXECUTIVE DIRECTOR, TECHNOLOGY ACQUISITION CENTER
|  | ASSOCIATE EXECUTIVE DIRECTOR, FACILITIES ACQUISITIONS
|  | ASSOCIATE EXECUTIVE DIRECTOR, STRATEGIC ACQUISITION CENTER
|  | ASSOCIATE EXECUTIVE DIRECTOR, PROGRAMS AND PLANS
| OFFICE OF THE ASSISTANT SECRETARY FOR ACCOUNTABILITY AND WHISTLEBLOWER PROTECTION | EXECUTIVE DIRECTOR, COMPLIANCE AND OVERSIGHT
|  | EXECUTIVE DIRECTOR, INVESTIGATIONS
|  | DEPUTY ASSISTANT SECRETARY, ACCOUNTABILITY AND WHISTLEBLOWER PROTECTION
| OFFICE OF THE ASSISTANT SECRETARY FOR HUMAN RESOURCES AND ADMINISTRATION/OPERATIONS, SECURITY, AND PREPAREDNESS | CHIEF SECURITY OFFICER
|  | EXECUTIVE DIRECTOR, LABOR MANAGEMENT RELATIONS
| OFFICE OF THE ASSISTANT SECRETARY FOR INFORMATION AND TECHNOLOGY | EXECUTIVE DIRECTOR, INFRASTRUCTURE OPERATIONS
|  | EXECUTIVE DIRECTOR, INFORMATION SECURITY OPERATIONS
|  | CHIEF FINANCIAL OFFICER, INFORMATION TECHNOLOGY BUDGET AND FINANCE
|  | DEPUTY CHIEF INFORMATION OFFICER, QUALITY, PERFORMANCE, AND RISK/CHIEF RISK OFFICER
|  | DEPUTY ASSISTANT SECRETARY, CHIEF INFORMATION SECURITY OFFICER
|  | EXECUTIVE DIRECTOR, FIELD SECURITY SERVICE
|  | EXECUTIVE DIRECTOR, ACQUISITION STRATEGY AND CATEGORY MANAGEMENT
|  | EXECUTIVE DIRECTOR, INFORMATION SECURITY POLICY AND STRATEGY
|  | DEPUTY CHIEF INFORMATION OFFICER STRATEGIC SOURCING
| OFFICE OF THE ASSISTANT SECRETARY FOR MANAGEMENT | DEPUTY ASSISTANT SECRETARY FINANCIAL MANAGEMENT BUSINESS TRANSFORMATION, OFFICE OF FINANCE
|  | ASSOCIATE DEPUTY ASSISTANT SECRETARY, FINANCIAL MANAGEMENT BUSINESS TRANSFORMATION SERVICE SYSTEMS
|  | ASSOCIATE DEPUTY ASSISTANT SECRETARY, FINANCIAL MANAGEMENT BUSINESS TRANSFORMATION OPERATIONS
|  | ASSOCIATE DEPUTY ASSISTANT SECRETARY FOR FINANCE, OFFICE OF FINANCE
|  | EXECUTIVE DIRECTOR, DEBT MANAGEMENT CENTER
|  | ASSOCIATE DEPUTY ASSISTANT SECRETARY, BUDGET OPERATIONS
|  | ASSOCIATE DEPUTY ASSISTANT SECRETARY, PROGRAM BUDGETS
|  | DEPUTY EXECUTIVE DIRECTOR ASSET ENTERPRISE MANAGEMENT
|  | ADAS FOR FINANCIAL PROCESS IMPROVEMENT AND AUDIT READINESS, OFFICE OF FINANCE
|  | EXECUTIVE DIRECTOR, OFFICE OF BUSINESS OVERSIGHT
|  | ASSOCIATE DEPUTY ASSISTANT SECRETARY FOR FINANCIAL POLICY, OFFICE OF FINANCE
|  | EXECUTIVE DIRECTOR, FINANCIAL SERVICES CENTER, OFFICE OF FINANCE
|  | EXECUTIVE DIRECTOR, ASSET ENTERPRISE MANAGEMENT
|  | DEPUTY ASSISTANT SECRETARY FOR FINANCE, OFFICE OF FINANCE
|  | DEPUTY ASSISTANT SECRETARY FOR BUDGET
|  | PRINCIPAL DEPUTY ASSISTANT SECRETARY FOR MANAGEMENT
|  | ASSOCIATE DEPUTY ASSISTANT SECRETARY FOR FINANCIAL BUSINESS OPERATIONS, OFFICE OF FINANCE
|  | EXECUTIVE DIRECTOR, OFFICE OF ACQUISITION OPERATIONS
| OFFICE OF THE GENERAL COUNSEL | CHIEF COUNSEL ETHICS LAW GROUP
|  | DEPUTY GENERAL COUNSEL GENERAL LAW
|  | PRINCIPAL DEPUTY GENERAL COUNSEL
|  | CHIEF COUNSEL, INFORMATION AND ADMINISTRATIVE LAW GROUP
|  | DEPUTY GENERAL COUNSEL, GENERAL LAW
|  | CHIEF COUNSEL, BENEFITS LAW GROUP
|  | CHIEF COUNSEL, SOUTHEAST DISTRICT-NORTH
|  | CHIEF COUNSEL, DISTRICT CONTRACTING
|  | CHIEF COUNSEL, LOAN GUARANTY
|  | CHIEF COUNSEL, TORTS AND ADMINISTRATIVE LAW
|  | SENIOR COUNSEL TO THE GENERAL COUNSEL
|  | ASSISTANT CHIEF COUNSEL, COURT OF APPEALS FOR VETERANS CLAIMS LITIGATION GROUP
|  | CHIEF COUNSEL COURT OF APPEALS FOR VETERANS CLAIMS LITIGATION GROUP
|  | CHIEF COUNSEL COLLECTIONS NATIONAL PRACTICE GROUP
|  | CHIEF COUNSEL, PERSONNEL LAW GROUP
|  | CHIEF COUNSEL (2)
|  | CHIEF COUNSEL MIDWEST DISTRICT EAST
|  | CHIEF COUNSEL MIDWEST DISTRICT WEST
|  | CHIEF COUNSEL NORTH ATLANTIC DISTRICT SOUTH
|  | CHIEF COUNSEL PACIFIC DISTRICT SOUTH
|  | CHIEF COUNSEL CONTINENTAL DISTRICT-WEST
|  | DEPUTY GENERAL COUNSEL, LEGAL OPERATIONS
|  | CHIEF COUNSEL REAL PROPERTY LAW GROUP
|  | DEPUTY GENERAL COUNSEL VETERANS PROGRAMS
|  | EXECUTIVE DIRECTOR, MANAGEMENT PLANNING AND ANALYSIS
|  | CHIEF COUNSEL HEALTH LAW GROUP
|  | CHIEF COUNSEL, PROCUREMENT LAW GROUP
| OFFICE OF THE SECRETARY AND DEPUTY | EXECUTIVE DIRECTOR, OFFICE OF SMALL AND DISADVANTAGED BUSINESS UTILIZATION
|  | DIRECTOR OFFICE OF EMPLOYMENT DISCRIMINATION COMPLAINT ADJUDICATION
|  | DEPUTY EXECUTIVE DIRECTOR, OFFICE OF SMALL AND DISADVANTAGED BUSINESS UTLIZATION
|  | DEPUTY EXECUTIVE DIRECTOR, ACCOUNTABILITY AND WHISTLEBLOWER PROTECTION
| VETERANS BENEFITS ADMINISTRATION | CHIEF FINANCIAL OFFICER
|  | DEPUTY CHIEF FINANCIAL OFFICER
|  | DEPUTY EXECUTIVE DIRECTOR FOR POLICY AND PROCEDURES
|  | EXECUTIVE DIRECTOR, LOAN GUARANTY SERVICE
|  | EXECUTIVE DIRECTOR, PERFORMANCE ANALYSIS AND INTEGRITY
|  | DEPUTY EXECUTIVE DIRECTOR FOR OPERATIONS
| VETERANS HEALTH ADMINISTRATION | EXECUTIVE DIRECTOR SERVICE AREA (CENTRAL)
|  | EXECUTIVE DIRECTOR, SERVICE AREA (WEST)
|  | ASSOCIATE CHIEF FINANCIAL OFFICER FINANCE OPERATIONS AND SUPPORT
|  | EXECUTIVE DIRECTOR, SERVICE AREA (EAST)
|  | CHIEF OPERATING OFFICER VETERANS CANTEEN SERVICE
|  | DEPUTY CHIEF FINANCIAL OFFICER VETERANS HEALTH ADMINISTRATION
|  | DEPUTY CHIEF PROCUREMENT OFFICER, VETERANS HEALTH ADMINISTRATION
|  | ASSOCIATE CHIEF FINANCIAL OFFICER FOR MANAGERIAL COST ACCOUNTING
|  | ASSOCIATE CHIEF FINANCIAL OFFICER FINANCIAL MANAGEMENT AND ACCOUNTING
|  | EXECUTIVE DIRECTOR VETERANS CANTEEN SERVICE
|  | CHIEF FINANCIAL OFFICER VETERANS HEALTH ADMINISTRATION
OFFICE OF THE ASSISTANT SECRETARY FOR HUMAN RESOURCES AND ADMINISTRATION/OPERATIONS, SECURITY, AND PREPAREDNESS | OFFICE OF CORPORATE SENIOR EXECUTIVE MANAGEMENT | EXECUTIVE DIRECTOR
| OFFICE OF EMERGENCY MANAGEMENT | EXECUTIVE DIRECTOR EMERGENCY MANAGEMENT AND RESILIENCE
| OFFICE OF OPERATIONS, SECURITY AND PREPAREDNESS | EXECUTIVE DIRECTOR FOR SECURITY AND LAW ENFORCEMENT
|  | CHIEF OF POLICE
|  | EXECUTIVE DIRECTOR, IDENTITY, CREDENTIAL AND ACCESS MANAGEMENT
| OFFICE OF RESOLUTION MANAGEMENT | DEPUTY ASSISTANT SECRETARY FOR RESOLUTION MANAGEMENT
|  | ASSOCIATE DEPUTY ASSISTANT SECRETARY FOR RESOLUTION MANAGEMENT
OFFICE OF THE ASSISTANT SECRETARY FOR MANAGEMENT | OFFICE OF FINANCE | ASSOCIATE DEPUTY ASSISTANT SECRETARY, FINANCIAL REPORTING
|  | EXECUTIVE DIRECTOR, OFFICE OF ACTUARY SERVICES
DEPARTMENT OF VETERANS AFFAIRS OFFICE OF THE INSPECTOR GENERAL | IMMEDIATE OFFICE OF THE INSPECTOR GENERAL | PRINCIPAL DEPUTY COUNSELOR TO THE INSPECTOR GENERAL
|  | CHIEF RESEARCH AND ANALYTICS OFFICER
|  | DEPUTY INSPECTOR GENERAL
|  | COUNSELOR TO THE INSPECTOR GENERAL
| OFFICE OF THE ASSISTANT INSPECTOR GENERAL FOR AUDITS AND EVALUATIONS | ASSISTANT INSPECTOR GENERAL FOR AUDITS AND EVALUATIONS
|  | DEPUTY ASSISTANT INSPECTOR GENERAL FOR AUDITS AND EVALUATIONS (FIELD OPERATIONS)
|  | DEPUTY ASSISTANT INSPECTOR GENERAL FOR AUDITS AND EVALUATIONS (HEADQUARTERS MANAGEMENT AND INSPECTIONS)
|  | DEPUTY ASSISTANT INSPECTOR GENERAL FOR AUDITS AND EVALUATIONS
|  | DEPUTY ASSISTANT INSPECTOR GENERAL FOR AUDITS AND EVALUATIONS (FIELD OPERATIONS)
| OFFICE OF THE ASSISTANT INSPECTOR GENERAL FOR HEALTHCARE INSPECTIONS | PRINCIPLE DEPUTY ASSISTANT INSPECTOR GENERAL FOR HEALTHCARE INSPECTIONS
|  | DEPUTY ASSISTANT INSPECTOR GENERAL FOR HEALTHCARE INSPECTIONS
|  | ASSISTANT INSPECTOR GENERAL FOR HEALTHCARE INSPECTIONS
|  | DEPUTY ASSISTANT INSPECTOR GENERAL FOR HEALTHCARE INSPECTIONS
| OFFICE OF THE ASSISTANT INSPECTOR GENERAL FOR INVESTIGATIONS | ASSISTANT INSPECTOR GENERAL FOR INVESTIGATIONS
|  | DEPUTY ASSISTANT INSPECTOR GENERAL FOR INVESTIGATIONS (FIELD OPERATIONS)
|  | DEPUTY ASSISTANT INSPECTOR GENERAL FOR INVESTIGATIONS (HEADQUARTERS OPERATIONS)
|  | DEPUTY ASSISTANT INSPECTOR GENERAL FOR INVESTIGATIONS (FIELD OPERATIONS)
|  | DEPUTY ASSISTANT INSPECTOR GENERAL FOR INVESTIGATIONS
| OFFICE OF THE ASSISTANT INSPECTOR GENERAL FOR MANAGEMENT AND ADMINISTRATION | DEPUTY ASSISTANT INSPECTOR GENERAL FOR MANAGEMENT AND ADMINISTRATION-CHEIF TECHNOLOGY OFFICER
|  | ASSISTANT INSPECTOR GENERAL FOR MANAGEMENT AND ADMINISTRATION
|  | DEPUTY ASSISTANT INSPECTOR GENERAL FOR MANAGEMENT AND ADMINISTRATION
| OFFICE OF THE ASSISTANT INSPECTOR GENERAL FOR SPECIAL REVIEWS | ASSISTANT INSPECTOR GENERAL FOR SPECIAL REVIEWS
|  | DEPUTY ASSISTANT INSPECTOR GENERAL FOR SPECIAL REVIEWS

Authority: 5 U.S.C. 3132.

U.S. Office of Personnel Management.

Kiran A. Ahuja,

Director.

[FR Doc. 2024-09203 Filed 5-21-24; 8:45 am]

BILLING CODE 6325-39-P